GENERAL SERVICES ADMINISTRATION

Federal Supply Service

Household Goods Tender of Service

AGENCY: Federal Supply Service, GSA.

ACTION: Notice of issuance of the GSA Household Goods Tender of Service for comment.

SUMMARY: The General Services Administration (GSA), in compliance with 41 U.S.C. 418b, is publishing the GSA Household Goods Tender of Service (HTOS) for comments. The HTOS combines the Domestic Tender of Service (DTOS), effective January 2, 1996 and the International Tender of Service (ITOS), effective October 1, 1995, into a single document. It establishes a uniform basis for purchasing transportation, accessorial services, and storage-in-transit for personal effects, unaccompanied baggage, and privately owned vehicles of Federal civilian employees relocated in the interest of the Government. Agreement to abide by the provisions of the HTOS is a prerequisite for any carrier or household goods forwarder that wishes to participate in GSA's Centralized Household Goods Traffic Management Program (CHAMP). GSA's Federal customer agencies benefit from the HTOS which leverages the Government's buying power to provide agencies standardized cost effective household goods transportation services. All submitted comments will be considered prior to issuance of the HTOS. Publication of the HTOS in the Federal Register will effectively cancel the DTOS, the ITOS and their respective supplements.

DATES: Please submit your comments by February 19, 2002.

ADDRESSES: Mail comments to the General Services Administration, Travel and Transportation Management Division (FBL), Washington, DC 20406, Attn: Gorman Purdy.

FOR FURTHER INFORMATION CONTACT: Mr. Gorman Purdy, Transportation Programs Branch by phone at 703-305-7999 or by e-mail at gorman.purdy@gsa.gov.

Dated: December 6, 2001.
Tauna T. Delmonico,
Director, Travel and Transportation Management Division.

Table of Contents

Section and Contents

1 General

2 Participation

3 Offers of Service

4 Statement of Work

4A Move Management Services (MMS)

5 Time of Performance

6 Inspection

7 Payment of Charges

8 Responsibilities and Authorities

9 Reporting Requirements

10 Participant Liability

11 Miscellaneous Agreement Provisions

12 Transit Times

13 Intentionally Left Blank

14 Geographic Coverage

15 Forms

16 Definitions and Explanation of Terms

17 Accessorial Rates, Rules and Charges

Explanation of Acronyms Used Throughout This HTOS

Acronyms and Explanation

BL Bill of Lading

CFR Code of Federal Regulations

CHAMP Centralized Household Goods Traffic Management Program

CONUS Points in the United States

CSI Customer Satisifaction Index

DA Dispatch Agent

DOD Department of Defense

DOS Department of State

DOT Department of Transportation

DPM Direct Procrement Method

DRN Document Reference Number

EC Electronic Commerce

FAR Federal Acquisition Regulations

FMC Federal Maritime Commission

FMR Federal Management Regulations

FTR Federal Travel Regulation

GBL Government Bill of Lading

GRT Government Rate Tender

GSA General Services Administration

GSO General Services Officer

HHG Household Goods

HTOS Household Goods Tender of Service

IFF Industrial Funding Fee

I-FTP File Transfer Protocal

ITGBL International Governmnet Bill of Lading

ITMS Interagency Transportation Management System

MMS Move Management Serivce

MOU Memorandum of Understanding

MTMC Military Traffic Management Command

NADA National Autombile Dealers Association

NTS Non-Temporary Storage

OCONUS Points Outside the United States

OFAC Common Financial & Administration Control

OT Overtime

OTO One Time Only

P/D Pickup/Delivery

PMO Program Management Office

POC Principal Operating Comany

Principal Operating Comany

POD Port of Debarkation

POE Port of Embarkation

POF Privately Owner Firearms

POV Privately Owned Vehicles

RDD Required Delivery Date

RFO Request For Offers

RTO Responsible Transportation Officer

SA Service Area

SAP Service Area Pairs

SCAC Standard Carrier Alpha Code

SFR Single Factor Rate

SIT Storage in Transit

SPIES Service Perfromance Index & Evaluation System

TIN Tax Identification Number

TPA Trading Partner Agreement

UB Unaccompanied Air Baggage

USC United States Code

W/H Warehouse Handling

Section 1—General

1-1. Scope of the Tender of Service (HTOS) [old 1-1]

1-1.1. General. [old D1-1]

This HTOS is for the transportation, accessorial services, and storage-in-transit of the personal effects and property of employees of civilian, non-Department of Defense, Departments and agencies of the United States Government when relocating pursuant to permanent change of station orders between or within the continental United States and trust territories, or possessions of the U.S., or between or within the continental United States and foreign countries. (as specified in Section 14.)

1-1.2. Services To Be Furnished

1-1.2.1. General [old D1-1]

Services to be furnished are premove surveys; packing at origin residence; the use of packing containers; materials including protective pads from origin to destination; loading; movement or transportation of property from origin to destination; unpacking at destination; removal and placement of each article in the residence, warehouse, or other building; servicing and unservicing of appliances including when a third party is required to perform the service; and storage-in-transit and delivery to the residence.

1-1.2.2. Unaccompanied Air Baggage [old I1.1.1]

Services as may be required in the preparation, movement, and delivery of unaccompanied air baggage.

1-1.2.3. Privately Owned Vehicles [old I1.1.1]

Services as may be required in the preparation, movement, and delivery of privately owned vehicles.

1-1.3. DoD Tender of Service Application [old I1.1.1]

This HTOS and its associated terms, conditions, and rules are separate and distinct from the DOD (MTMC) GBL and ITGBL Tender of Service and its terms, conditions, and rules.

1-1.4. Description of Freight [old D1-1]

1-1.4.1. Freight Included

The property to be moved under this HTOS consists of personal effects and property defined as household effects (HHE) used or to be used in a dwelling when part of the equipment or supply of such dwelling includes, but is not limited to, household furnishings, equipment and appliances, furniture, clothing, books, and privately owned vehicles.

1-1.4.2. Freight Excluded [old D1-1]

Excluded from the scope of this HTOS are shipments that can be more advantageously or economically moved via parcel post or small package carrier; shipments of unusual value, explosives and other dangerous articles, commodities in bulk, commodities injurious or contaminating to other freight, property which by its inherent nature is liable to impregnate, contaminate or otherwise cause damage to other property or equipment, and shipments that the Government may elect to move in Government vehicles. Also excluded are airplanes, mobile homes, camper trailers, boats, birds, pets, livestock, cordwood, building materials, and items which cannot be taken from or delivered to the premises without damage to the items or the premises. Also excluded are packing crating services performed pursuant to a Direct Procurement Method (DPM) contract awarded by a federal civilian agency.

1-2. Acceptance of the Tender of Service (HTOS) [old D1-2]

The acceptance of the General Services Administration (GSA) Tender of Service (HTOS) is a prerequisite for a Participant which wishes to be considered for transportation of personal property routed by civilian executive agencies of the U.S. Government via the Domestic Government Bill of Lading (GBL) method or International Through Government Bill of Lading (ITGBL) method. The conditions of this HTOS are in addition to or in lieu of, as the case may be, all service provisions of any applicable tender or tariff under which a shipment may be routed, except where these conditions may be in conflict with applicable Federal, State, and local laws and regulations, including for international shipments. The acceptance of the GSA HTOS by a Participant shall be accomplished as specified in Section 2.

1-3. Application [old D1-3]

1-3.1. Routed Pursuant to Cost Comparisons [old D1-3]

The terms and conditions of this HTOS apply to firms participating in the GSA Centralized Household Goods Traffic Management Program-Domestic and/or International and servicing household goods shipments routed pursuant to domestic or international cost comparisons issued by GSA.

1-3.2. Routed Pursuant to Contracts [old D1-3]

The terms and conditions of this HTOS apply to firms participating in the GSA Centralized Household Goods Traffic Management Program and servicing household goods shipments routed pursuant to any contract awarded to a participating carrier or to a broker by GSA or a Federal civilian, non-DOD, agency.

1-3.3. Use of Term Participant [old I1.3]

The term Participant shall be used throughout this HTOS when referring to a firm approved to participate in the CHAMP and in order not to prejudice the attribution of any right or responsibility. To the extent that any specific right or responsibility pertains solely to a carrier, that responsibility shall not be attributed to or expected of an agent. To the extent that any specific right or responsibility pertains solely to an agent, that responsibility shall not be attributed to or expected of a carrier. To the extent that any right or responsibility may be considered as mutually shared by both carrier and agent during the performance of a specific move, that responsibility shall be attributed to and expected of both the carrier and the agent it uses. In the event that the terms carrier or agent appear within this HTOS, they shall be understood to mean Participant unless it is clear from the context that carrier or agent is appropriate, as the case may be.

1-3.4. Mileage Determination

Highway mileage determination for services performed in this HTOS will be as follows: (1) Shipments between any two locations within the contiguous United States (i.e., the 48 States, the District of Columbia and Alaska) apply the mileages based on 5-digit ZIP Codes, provided by ALK Technologies, Inc. Version 15, as amended. Note: For shipments to, from or within Canada, Rand McNally mileage is used. (2) Shipments performed outside the contiguous United States, apply the applicable mileage guide, book, or other method used in that particular country to determine mileages.

1-4. Revising HTOS Provisions and Method of Canceling Original or Revised Pages [old D1-4]

This Tender of Service (TOS) will be revised by the General Services Administration, Centralized Household Goods Traffic Management Program Office (6FBX) (hereinafter referred to as PMO), 1500 East Bannister Road, Kansas City, Missouri, 64131 through publication of the changes on the World Wide Web Page (http://www.kc.gsa.gov/fsstt), or the reissuance of the document on an “as needed” basis. HTOS updates will also be included on the Interagency Traffic Management System (ITMS) CD.

1-4.1. Page Revisions [old D1-4]

This TOS will be revised through issuing page revisions. When there are page revisions, cancellation of prior pages will be effected by means of this rule. Pages will be inserted in the document in numerical sequence. (for example: “FIRST REVISED PAGE 10” will have the effect of canceling “ORIGINAL PAGE 10”, “SECOND REVISED PAGE 10” will have the effect of canceling “FIRST REVISED PAGE 10”. Pages should be inserted in the following order, as page 10 would be followed by pages 10-A, 10-B, 10-C, 11, and 12.) Except where a specific cancellation is shown on a revised page, a revised page cancels any and all uncancelled revised or original pages, or uncancelled portions thereof, which bears the same page number. TEXT THAT IS CHANGED ON THE REVISED PAGES WILL BE HIGHLIGHTED.

1-4.2. Reissuing Document [old D1-4]

Reissues of this document will be identified by a number in numerical sequence, before the word “Edition”. (For example, the first reissue of this TOS would be designated as the HOUSEHOLD GOODS TENDER OF SERVICE, NOVEMBER 1, 1998 EDITION, the next would be HOUSEHOLD GOODS TENDER OF SERVICE, NOVEMBER 1, 1999 EDITION, etc.). Each reissue will cancel the previous issue. When this HTOS is reissued ONLY TEXT THAT HAS BEEN CHANGED FROM THE PREVIOUS ISSUE OF THE TOS WILL BE HIGHLIGHTED.

1-4.3. Effective Date of Revisions

Unless otherwise specified on the Web document, the effective date shall be the date of publication on the WWW.

1-4.4. Issuance of Versions Other Than the WWW Version

1-4.4.1. By the PMO

The issuance of versions of the HTOS, changes thereto, or reissues thereof, on paper or electronically, shall be at the sole discretion of the PMO.

1-4.4.2. By Parties Other Than the PMO

Unless specifically endorsed by the PMO in writing as part of the publication, versions of the HTOS issued by parties other than the PMO, including reprints of the WWW pages, copies of floppy disks, or any other form of publication, are null and void.

Section 2—Participation

2-1. General [old D2-1]

2-1.1. Transportation Services

Participation in the GSA Centralized Household Goods Traffic Management Program, Domestic and International, is open to any carrier, freight forwarder, holding authority (certificates, licenses, or permits, as appropriate) from the U.S. Department of Transportation (successor to the Interstate Commerce Commission), Federal Maritime Commission (FMC), and/or State regulatory authority.

2-2. Application To Participate

2-2.1. Application For Approval

2-2.1.1. General [old D2-2.]

Except as specified in 2-2.1.3 and 2-2.1.4, below, and subject to the restrictions set out in 2-3, below, any firm desiring to participate in the program must request approval during the open approval window.

2-2.1.2. Definitions [old I2-2.1.2]

For the purposes of this section, the following definitions apply.

2-2.1.2.1. Transportation Services

Transportation services include line haul transportation, carrier services, accessorial services, and storage-in-transit (SIT) of the personal effects and property of employees of civilian, non-Department of Defense, Departments and agencies of the United States Government when relocating pursuant to permanent change of station orders between or within the continental United States and offshore states, trust territories, or possessions of the U.S, or between or within the continental United States and foreign countries. (as specified in Section 14)

2-2.1.2.2. Carrier [old I2-2.1.2.1]

A person authorized by the appropriate regulatory body (U.S. Department of Transportation (successor to the Interstate Commerce Commission), Federal Maritime Commissions, State authority, or other authority of cognizant jurisdiction) to engage in for-hire transportation of household goods and personal effects as defined in Section 1 of this HTOS.

2-2.1.2.3. Carrier Services [old I2-2.1.2.2]

For domestic and international household goods shipments, as appropriate, carrier services include, but are not limited to, providing origin agents for the performance of premove surveys, packing, the stuffing of containers and liftvans, line-haul transportation from origin to port of debarkation, providing debarkation port agent and broker services, providing ocean transportation, providing embarkation port agent and broker services, customs clearance, inland transportation to destination, and providing destination agents for the performance of storage-in-transit, delivery, unpacking, placement of property, and removal of debris, containers, and liftvans.

2-2.1.2.4. Agent [old I2-2.1.2.3]

A person under contract to a carrier for the provision of accessorial and terminal services.

2-2.1.2.5. Agent Services [old I2-2.1.2.4]

For domestic and international household goods moves, as appropriate, agent services include, but are not limited to, providing premove surveys, packing, crating, stuffing containers and liftvans, local transportation within the origin or destination locality, storage-in-transit (SIT), delivery, unpacking, placement of property, and removal of debris, containers, and liftvans. An agent's provision of line-haul transportation services under the terms of the firm-agent contract and under the operating authority of the firm is not part of agent services.

2-2.1.3. Carriers [old I2-2.1.3]

Any carrier, hereinafter referred to as a firm, except in those instances where an agent is clearly intended or otherwise indicated as “carrier,” desiring to participate in the program must apply for approval. Approval to participate in any domestic program is not qualifying for participation in any international program.

2-2.1.4. Agents [old I2-2.1.4]

Based on the requirements of the shipping Federal agency, a firm desiring to provide agent services for a carrier may require that Federal agency's approval.

2-2.1.5. Instructions for Application Submission and Evaluation [old I2-2.1.4.1]

Each Federal agency requiring agent approval is responsible for the establishment of approval application submission requirements, approval standards, and approval processing and issuance.

2-2.2. Requests To Participate [old D2-2.]

Requests to participate must be sent to: General Services Administration, Federal Supply Service Bureau, Transportation Management Branch (6FBX), 1500 East Bannister Road, Room 1076, Kansas City, MO 64131-3088, Telephone: (816) 823-3646, Fax No. (816) 823-3656; (hereafter referred to as Program Management Office or PMO).

2-3. Restriction on Application for Approval [old 2-3]

2-3.1. Previous CHAMP Participants [old I2-3.1]

Applications for approval from previous Participants in CHAMP, whether terminated by GSA or voluntarily withdrawn, are subject to the following restrictions.

2-3.1.1. Terminated Firm [old I2-3.1.1]

Subject to the provisions of 2-4, below, a firm terminated by GSA may reapply in the approval cycle after the first anniversary of the firm's termination from the program.

2-3.1.2. Withdrawn Firm [old I2-3.1.2]

Subject to the provisions of 2-4, below, a firm that has voluntarily withdrawn from the program may reapply in the next approval cycle following the firm's withdrawal from the program.

2-4. Application [old 2-4]

2-4.1. General [old D2-3. & I2-4.1]

When submitting an application for approval, a firm must submit an application in its own name for approval as a Participant. A firm that on its own behalf or on behalf of an agent (a) falsifies, conceals, or covers up by any trick, scheme, or device a material fact; (b) makes any false, fictitious or fraudulent statements or representations; or (c) makes or uses any false writing or document knowing the same to contain any false, fictitious or fraudulent statement or entry on any part of the application or on any document furnished pursuant to this HTOS is punishable by fines, imprisonment, or both (U.S. Code, Title 18, Section 1001). In order to be considered for approval, the following requirements must be met by either the firm or the designated agent, as specified.

2-4.2. Agreement To Abide by the HTOS [old D2-3. & I2-4.2]

2-4.2.1. Firm [old D2-3 & I2-4.2.1]

The applicant must agree to abide by the terms and conditions of the CHAMP HTOS. If applicant is applying for both Domestic & International Programs, only one Agreement To Abide By The HTOS must be completed and signed.

2-4.2.2. Agent [old I2-4.2.2]

The applicant firm must certify that each agent it will use has agreed to abide by the terms and conditions of the CHAMP HTOS.

2-4.3. Operating Authority [old I2-4.3]

2-4.3.1. Firm [old I2-4.3.1]

The applicant firm must hold all necessary operating authorities, permits, and business licenses issued in its name, from appropriate regulatory bodies, for the transportation of personal property and will provide copies of each authority, permit, or business license to the PMO upon demand, or that it is exempt from such regulatory certification by operation of law or order of an appropriate regulatory body and, in addition to tariff and legal requirements, agrees to the provisions of this HTOS. The firm must also meet any applicable ownership requirement established by law for the type of carriage of goods in which it engages.

2-4.3.2. Agent [old 2-4.3.2]

2-4.3.2.1. Business Licenses [old I2-4.3.2.1]

The applicant firm must certify that each agent it will use holds all necessary operating authorities, permits, business licenses, issued in its name, from appropriate regulatory bodies, for the provision of agent services as defined in this section and will provide copies of each authority, permit, or business license, to the PMO upon demand, or that it is exempt from such regulatory certification by operation of law or order of an appropriate regulatory body and, in addition to tariff and legal requirements, agrees to the provisions of this HTOS. The agent must also meet any applicable ownership requirement established by law for the type of services in which it engages.

2-4.3.2.2. Carrier-Agent Agreement [old I2-4.3.2.2]

The applicant carrier must certify that each agent it will use to provide agent services is at the time of application or will be at the time of use party to a valid written agency agreement between itself and the applicant carrier. The agreement must, at a minimum, contain the language set out in Section 8 [Agency Agreements], set out the terms and conditions of the agent's representation of the carrier, the services to be provided, the terms and method of payment for services rendered, the quality control standards expected by the firm and the method of quality measurement, and the terms under which the agreement may be terminated.

2-4.4. SCAC (Standard Carrier Alpha Code) Designation [old D2-3. & I2-4.4]

An applicant firm must have a valid SCAC as issued by the National Motor Freight Association, Washington, DC. An applicant's request will not be processed without the SCAC.

2-4.5. Trading Partner Agreement

The applicant firm must complete and sign the Trading Partner Agreement and send it back in hard copy with all other required documentation. If applying for both the Domestic and International Programs, you need only to complete one TPA. An applicant's request will not be processed without the Trading Partner Agreement.

2-4.6. Cargo Insurance [old D2-3 & I2-4.5]

The applicant shall maintain cargo liability insurance during the term of this agreement at a minimum, in the amount of $65,000 for any one shipment per vehicle and $150,000 for any one disaster causing loss or damage to the contents of two or more shipments per vehicle or property otherwise located. The insurance policy must not contain any provision excluding liability for loss and/or damage for which the firm is responsible under the terms of this HTOS.

2-4.7. Provision of Bond. International Only [old I2-4.6]

In the event the applicant carrier is applying for approval to handle international shipments, the carrier shall maintain a performance bond during the term of this agreement (to be renewed on the approval anniversary of each following year) during the term of this agreement at a minimum in the amount of $75,000 or 2.5%, whichever is greater, of the firm's (principal) gross annual revenue derived from CHAMP ITGBL shipments the preceding calendar year executed by a surety appearing on the list contained in the Department of Treasury Circular 570, “Surety Companies Acceptable on Federal Bonds.”

2-4.8. Experience

2-4.8.1. Firm [old D2-3 & I2-4.7.1]

The applicant shall have and maintain operations consistent with standard industry practices and this HTOS such that an acceptable level of service has been and will continue to be provided.

2-4.8.2. Agent

2-4.8.2.1. Carrier

The applicant carrier must certify that each agent it will use has and maintains operations consistent with standard industry practices and this HTOS such that an acceptable level of service has been and will continue to be provided.

2-4.9. Quality Control Program [old 2-4.8]

2-4.9.1. Firm [old I2-4.8.1]

The applicant must have a published corporate quality control system which will provide total visibility of all facets of the CHAMP and ensures that the service provided is equal to or greater than the standards of service established by this HTOS.

2-4.9.2. Agent [old I2-4.8.2]

2-4.9.2.1. Carrier

The applicant carrier must certify that each agent it will use has a published corporate quality control system which will provide total visibility of all facets of the CHAMP, and ensure that the service provided is equal to or greater than the standards of service established by this HTOS.

2-4.10. Financial Responsibility

2-4.10.1. Firm [old D2-3. & I2-4.9.1]

The applicant must demonstrate its financial responsibility, working capital, and other financial, technical, and management resources to perform.

2-4.11. Agent Facilities [old I2-4.10]

Applicant carrier agents must have the following: (a) 2,000 cubic feet of storage space available for the use of the applicant carrier (b) two vehicles, one of which must be a weather tight van of at least 1,000 cubic feet capacity and one open bed vehicle with a minimum length of 16 feet each; and (c) one mobile lifting device with a minimum lifting capacity of 4,000 pounds.

2-4.12. Previously Approved Firms [old I2-4.11]

Firms, whether terminated by GSA or voluntarily withdrawn, reapplying for approval must have the support of former federal civilian, non-DOD, customers.

2-5. Submission Requirements [old 2-5]

2-5.1. General [old I2-5.1]

The request for approval is subject to the requirements set forth below. Unless otherwise provided, the term applicant shall mean the applicant carrier.

2-5.2. Waiver Of Submission Requirements [old I2-5.2]

In the event an applicant has been formally registered as compliant with the International Organization for Standardization Standard 9000 or one of the standards within the 9000 series (referred to hereafter as ISO 9000) by an internationally recognized ISO 9000 registrar, GSA reserves the right to waive any or all approval requirements pertaining to qualitystandards.

2-5.3. ISO 9000 Registration [old I2-5.3.1]

A certified true copy of the certificate of conformity.

2-5.4. HTOS Certification [old D2-3 & I2-5.3.2]

An original signed copy of the HTOS Certification Sheet (included in Section 15 of this HTOS), entitled Request to Participate and Agreement to Abide by the Terms and Conditions of the General Service Administration's Centralized Household Goods Traffic Management Program.

2-5.5. SCAC Designation [old D2-3 & I2-5.3.3]

The applicant must submit a copy of the letter from the National Motor Freight Association, Washington, DC, assigning that firm a SCAC.

2-5.6. Applicant Information [old I2-5.3.4]

Information concerning the applicant, such as name, postal address, electronic mail address, telephone and facsimile numbers, corporate office, operating authorities, and other carriers with which the applicant does business. The applicant will indicate whether or not it is under the financial or administrative control of any other household effects carrier or forwarder, and state the name of the carrier, or forwarder controlling the applicant. The applicant will provide a list of household effects carrier(s), and/or forwarder(s) which are under its common financial or administrative control.

2-5.7. Business Statistics [old D2-3. & I2.5.3.5.]

Information concerning the applicant's household goods transportation business, including, but not limited to shipments booked, shipments serviced, and claims.

2-5.8. Scope Of Operation [old D2-3 & I2-5.3.6]

Information concerning the applicant's proposed and actual scopes of operation. For its actual scope of operation, the applicant will also provide the actual number of shipments handled between each serviced service-area pair during the past five years.

2-5.9. Financial Information [old D2-3 & I2-5.3.7]

The applicant must submit such financial information as is required by the instructions. If requested by GSA during the conduct of the initial financial review, the applicant must provide any additional or supplemental financial information. If considered necessary to assure satisfactory performance and avoidance of firm/forwarder financial problems, GSA reserves the right to request any of the following, individually or in combination: (1) Company certified financial statements; (2) CPA review (including footnotes) of financial statements; and (3) CPA audit and opinion (including footnotes) of financial statements.

2-5.10. Additional Information [old D2-3. & I2-5.3.8]

Except as otherwise provided in the HTOS, GSA reserves the right to request additional or supplemental information when that contained in the application is insufficient for a proper evaluation. Unless requested by GSA, additional or supplemental information will not be accepted.

2-5.11. Firm Processes And Process Controls [old D2-3. & I2-5.4.1]

A questionnaire dealing with various aspects of the applicant's processes and process controls, such as booking and registration, tracing, claims adjudication, SIT warehouse selection, and quality control.

2-5.12. Quality Control Program

2-5.12.1. General [old I2-5.4.2.1]

The applicant will furnish information regarding its published internal quality control program covering the functions of traffic management (routing, tracing, and billing), packing/packaging/containerization, employee training, supervision, and, if appropriate, agent supervision and include quality goals and objectives with measurable performance standards, measurement techniques, and actions based on those standards.

2-5.12.2. Carrier-Agent Interface [old I2.5.4.2.2]

The applicant will furnish information on how its quality control program is applied to its agents and how it is monitored. In addition, the applicant will describe how its program relates to and reinforces the quality control program of its agents.

2-5.13. Corporate Account Trends [old D2-3. & I2-5.4.3]

The applicant will provide information concerning its corporate account activity during the preceding five calendar years.

2-5.14. HTOS Questionnaire [old D2-3. & I2-5.4.4]

A questionnaire designed to familiarize the applicant with the requirements of the HTOS. GSA reserves the right to require that the HTOS Questionnaire be recompleted when the applicant has failed to complete a substantial number of the questions correctly.

2-5.15. Performance Bond—International Only [old I2-5.4.6]

An original written statement from the surety company indicating that it will provide, using the format set out in the approval package and at the request of the applicant, the required performance bond to the PMO no later than the due date for the filing of rates in the Filing Cycle in which the applicant first files rates. In the event the performance bond is not submitted as specified or does not meet the requirements for the performance bond, the applicant's rate filing will be handled in accordance with the Request for Offers provisions regarding non-rate related deficiencies.

2-5.16. Federal Support [old I2-5.4.7]

In the event the application is from a firm covered by 2-4.12, above, the approval application must be supported by statements from all federal agencies that had previously used that firm for household goods transportation services. The statements of support must be in the form and format specified by GSA.

2-6. Evaluation [old I2-6]

The request for approval will be evaluated in accordance with the criteria set forth below. As used in the following, the term “applicant” shall include both the firm and its sponsored agents, unless otherwise provided.

2-6.1. ISO 9000 Registration [old I2-6.1.1]

Each submitted certification will be reviewed to determine its legitimacy and applicability, and that the required periodic audits have been performed.

2-6.2. HTOS Certification [old D2-3. & I2-6.1.2]

The certification will be reviewed to determine that the applicant has agreed to abide by the Terms and Conditions of the General Services Administration's Centralized Household Goods Traffic Management Program.

2-6.3. SCAC Designation [old D2-3. & I2-6.1.3]

GSA will verify that the National Motor Freight Association, Washington, DC, has issued the SCAC.

2-6.4. Business Statistics, Scope of Operations, Applicant Operations and Processes and Facilities [old D2-3. & I2-6.1.4]

GSA will evaluate the applicant's responses in terms of whether the applicant has demonstrated actual and potential ability to perform in accordance with the HTOS, performance consistent with that of applicant's already participating in the program, and performance that will meet the levels of quality expected of approved Participants.

2-6.5. Financial Information [old D2-3. & I2-6.1.5]

GSA will evaluate this information to determine whether the applicant has sufficient financial capacity to provide service.

2-6.6. Firm Processes and Process Controls [old D2-3. & I2-6.2.1]

GSA will evaluate the applicant's responses in terms of whether the applicant has demonstrated actual potential ability to perform in accordance with HTOS, performance consistent with that of firms or agents, as appropriate, already participating in the program, and performance that will meet the levels of quality expected of approved program Participants.

2-6.7. Quality Control Program [old I2-6.2.2]

GSA will determine whether the applicant's internal quality control program has been formally published, contains quality goals and objectives with measurable performance standards, measurement techniques, and actions based on those standards, and is sufficient to ensure that the applicant's operations, employees, and agents, if appropriate, are familiar with and will be held accountable for the achievement of the program's goals and objectives. GSA will also determine that the interface of quality control programs between the applicant firm and each of its designated agents is such that the quality goals and objectives and the performance standards are relatively consistent and will result in a unified approach to the quality of service delivery.

2-6.8. Corporate Account Trends [old D2-3. & I2-6.2.3]

GSA will determine how well the applicant has managed and handled its corporate account businesses.

2-6.9. HTOS Questionnaire [old D2-3 & I2-6.2.4]

GSA will evaluate the responses to the questionnaire in terms of whether the applicant has an understanding of the HTOS sufficient to performance that will meet the levels of quality expected of approved program Participants.

2-6.10. Certificate of Insurance [old D2-3 & I2-6.2.5]

Upon receipt of the vendor certification statement of cargo liability insurance from the carrier, and in accordance with the instructions listed in the RFO, GSA will verify the primary underwriter of the cargo insurance policy is licensed by the appropriate regulatory authority. The insurance must also provide for notice of termination or cancellation be provided thirty (30) days prior thereto to the PMO. (SATISFACTORY/UNSATISFACTORY).

2-6.11. Performance Bond.—International Only [old I2-6.2.6]

Upon receipt of the performance bond from the surety, GSA will verify that the surety company executing the bond appears on the list contained in the Department of Treasury Circular 570, “Surety Companies Acceptable on Federal Bonds,” and that the sum of the bond is correct. (Acceptable/Unacceptable).

2-6.12. Federal Support [old I2-6.2.7]

In the event the application is from a firm covered by 2-3.1, above, GSA will evaluate the federal support for the applicant to determine whether the applicant's recommencement of operations or its initiation of operations is supported by at least 75% of its former federal, non-DOD customers.

2-7. Approval [old D2-4. & I2-7]

A firm will be approved when the evaluation results in a determination that the applicant possesses sufficient qualifications, experience, facilities, quality control processes, and financial capacity.

2-8. Approval Limitation. [old D2-5 & I2-8]

2-8.1. General [old D2-5. & I2-8.1]

The approval of a firm shall include a limitation on the scope of that firm's operations within the program. The limitation shall be determined in accordance with the following criteria.

2-8.2. New Participants [old D2-5 & I2-8.2]

2-8.2.1. Transportation Services

Except as provided in Paragraphs 2.8.3 and 2.8.4 below, new firms are those applicants approved as Participants during a specific approval window. The designation “new” shall apply until November of the calendar year following the year in which approval was granted (for example, an applicant approved in 1997 shall be considered a new firm until November, 1998). GSA will limit the new Participant's scope of operation to that consistent with the applicant's experience, resources, quality control processes, and financial responsibility.

2-8.3. Applicants Whose Approval Has Been Terminated [old D2-5 & I2-8.3]

For those applicants whose approval as a firm has been terminated by GSA and have subsequently reapplied as a firm, the applicant's scope of operation will not exceed that previously approved, unless GSA determines that a lesser scope is consistent with the applicant's experience, resources, quality control processes, financial responsibility, and prior performance in the program.

2-8.4. Applicants Which Have Voluntarily Withdrawn [old D2-5 & I2-8.4]

For those firm applicants which have voluntarily withdrawn from the program and reapplied as firms, the applicant's scope of operation will not exceed that previously approved, unless GSA determines that a lesser scope is consistent with the applicant's experience, resources, quality control processes, financial responsibility, and prior performance in the program.

2-8.5. Scope Of Operation Adjustments [old D2-5. & I2-8.5]

For other than new firm Participants, the approved scope of operation will be adjusted based on customer satisfaction with the firm's performance within its assigned scope of operation as indicated by the Customer Satisfaction Index effective on November 1 of the year of adjustment. The adjustment shall be calculated in accordance with the following.

2-8.5.1. Adjustment When the Customer Satisfaction Index (CSI) Is Greater Than 105 [old D2-5 & I2-8.5.1]

A CSI greater than 105.00 indicates better than average customer satisfaction. A firm with a CSI greater than 105.00 may increase its scope of operation by an amount equal to the difference between its CSI and 100.00. For example, a CSI of 109.83 would permit a 9.83% increase in the number of service area pairs (SAP) in the approved scope of operation, as demonstrated by the following computations:

Program Average = 100.00

CSI = 109.83

# of SAPs approved = 3

Step 1: 109.83−100.00 = 9.83 (move the decimal two places to the left of the decimal position—example: change 109.83 to .0983)

Step 2: 3 × .0983 = .29 or an increase of 1 SAP

Note: Round all percentages relating to the number of SAP's to the next greater whole number—For example, .29 to 1.

2-8.5.2. Adjustment When the Customer Satisfaction Index (CSI) Is Between 95 and 105 [old D2-5. & I2-8.5.2]

A CSI between 95.00 and 105.00 indicates average customer satisfaction. A firm with a CSI between 95.00 and 105.00 may not change its scope of operation.

2-8.5.3. Adjustment When the Customer Satisfaction Index (CSI) Is Less Than 95 [old D2-5. & I2-8.5.3]

A firm with a CSI less than 95.00 must decrease its scope of operation by an amount equal to the difference between its CSI and 100.00.

2-8.5.4. Reduction of a Multi-Service Area Pair Scope (Old D2-5. & I2-8.5.3.1)

When a firm has a multi-service area scope, the firm will be required to reduce its scope of operation by an amount equal to the difference between its CSI and 100.00. For example, a CSI of 88.23 would require an 11.77% decrease in the number of service area pairs (SAP) in the approved scope of operation, as demonstrated by the following computations:

Program Average = 100.00

CSI = 88.23

# of SAPs approved = 115

Step 1: 100.0−88.23 = 11.77% (move decimal two places to the left for calculation purposes in step 2).

Step 2: 115 × .1177 = 13.54 or decrease of 14 SAP's.

Note: Round all percentages relating to the number of SAP's to the next greater whole number—For example, round 13.54 to 14.

2-8.5.4.1. Reduction of a Single Service Area Pair Scope [old D2-5. & I2-8.5.3.2]

When a firm's CSI is less than 95.00 and the firm's scope of operation must be reduced as provided in 2-8.5.3, above, and when the resultant scope of operation would be zero (0) service area pairs or service areas, as the case may be, the scope will not be changed for the filing cycle during which the Customer Satisfaction Index will be effective, subject to the provisions of 2-8.5.6, Adjustment, when the firm is unindexed.

2-8.5.5. Adjustment When There Is No CSI [old D2-5. & I2-8.5.4]

The lack of a CSI indicates that GSA has been unable to establish the quality of the firm's performance. An unindexed firm may not change its scope of operation.

2-8.5.6. Adjustments Based on Factors Other Than the Customer Satisfaction Index [old D2-5. & I2-8.5.5]

For firms other than new that have filed rates since their approval, the approved scope of operation under the circumstances and in accordance with the provisions described below may be adjusted upon written request by the firm. Any approved adjustment will be effective as determined by GSA.

2-8.5.6.1. Adjustment Based on an Increase in Operating Authority [old D2-5. & I2-8.5.5.1]

If subsequent to a firm's approval and the assignment of or any adjustment to a scope of operation, a firm's operating authority increases, no adjustment in the assigned scope of operation will be made unless the firm's current published Customer Satisfaction Index is greater than 105.00; provided, however, that GSA reserves the right to require the firm to submit current information in accordance with the requirements set out in 2-5 above, and to increase, decrease, or not change the firm's scope of operation based on the evaluation of that information.

2-8.5.6.2. Adjustment Due to Mergers and Acquisition [old D2-5. & I2-8.5.5.2]

If subsequent to a firm's approval and the assignment of or any adjustment to a scope of operation, a firm's operating authority increases because of a merger and/or acquisition, no adjustment in the assigned scope of operation will be made unless the firm's current published Customer Satisfaction Index is greater than 105.00; provided, however, that GSA reserves the right to require the firm to submit current information in accordance with the requirements set out in 2-5 above, and to increase, decrease, or not change the firm's scope of operation based on the evaluation of that information.

2-8.5.6.3. Adjustments Based on Reorganization Plans [old D2-5. & I2-8.5.5.3]

If subsequent to a firm's approval and the assignment of or any adjustment to a scope of operation, a firm's plan for reorganization is approved under the laws of the United States, GSA will require the submission of current information in accordance with the requirements set out in 2-5 above, and increase, decrease, or not change the firm's scope of operation based on the evaluation of that information.

2-8.5.6.4. Adjustment Based on Financial Capacity [old D2-5. & I2-8.5.5.4]

Subsequent to a firm's approval and the assignment of or any adjustment to a scope of operation, GSA reserves the right to require a firm to submit current financial information and increase, decrease, or not change the firm's scope of operation based on the evaluation of that information.

2-8.5.6.5. Adjustment Based on Redesignation of Principal Operating Company [old D2-5. & I2-8.5.5.5]

Subsequent to a firm's approval and the assignment of or any adjustment to the scope of operation, the scope of operation will not be adjusted due to the redesignation of the principal operating company (POC) by the parent company.

2-8.5.6.6. Adjustment Based on Firm Name Change [old D2-5. & I2-8.5.5.6]

An approved firm may change its name upon submission of a copy of its approval by the U.S. Department of Transportation (successor to the Interstate Commerce Commission), or appropriate regulatory authority to the PMO. Such documentation must clearly demonstrate a change of name as can be determined by the PMO. No adjustments in the assigned scope of operation will be made; provided, however, that GSA reserves the right to require the firm to submit current information in accordance with the requirements set out in 2-5 above, and to increase, decrease, or not change the firm's scope of operation based on the evaluation of that information.

2-8.5.6.7. Adjustment When More Than One of the Factors Cited in 2-8.5.6.1 Through 2-8.5.6.6 Applies [old D2-5. & I2-8.5.5.7]

When more than one of the factors cited in 2-8.5.6.1 through 2-8.5.6.6 applies (for example, an approved reorganization coupled with a name change), GSA reserves the right to determine the factor under the terms of which any adjustment action will be taken.

2-8.5.7. Restructuring of Scope of Operation [old D2-5. & I2-8.5.6]

2-8.5.7.1. Restructuring Under the Provisions of 2-8.5.9.3 [old D2-5. & I2-8.5.6.1]

Upon approval of a reorganization plan by the cognizant Bankruptcy Court of the United States, a firm is required to submit a plan for restructuring of its scope of operation and the information required in 2-5, above.

2-8.5.7.2. Restructuring Based on Changes in Traffic Patterns [old D-2.5 & I2-8.5.6.2]

Over a period of time and for various reasons, a firm's predominant, long-term traffic patterns may change. Such changes may result in the approved scope of operation no longer matching the traffic patterns of the firm. Accordingly and notwithstanding any of the provisions set out in 2.8.5, above, a firm may request in writing a restructuring of its scope of operation.

2-8.5.7.2.1. Time of Request [old D2-5. & I2-8.5.6.2.1]

No earlier than five (5) years after the year in which the firm was approved to participate in the program and in five (5) year increments thereafter, a firm may request a review of its scope of operations; for example, a firm approved in calendar year 1989 may request a review of its scope of operation in calendar year 1994 and thereafter in calendar years 1999, 2004, and so on). [See Section 5, Restructuring of Scope of Operations.]

2-8.5.7.2.2. Procedure [old D2-5. & I2-8.5.6.2.2]

When a firm has determined that it wants to exercise its rights to request a restructuring, the firm shall notify the PMO in writing of its intent to file a request for restructuring under the terms of this HTOS. Upon receipt of such notice, the PMO shall transmit to the firm the instructions for the submission of its requests. The firm must then file the formal request in the anniversary year. Formal request, as opposed to the notice of intent to request, received by GSA prior to or after the anniversary year will be rejected.

2-8.5.7.2.3. General Content of Instructions [old D2-5. & I2-8.5.6.2.3]

Generally, the firm will be required to submit the information identified in 2-5 together with sufficient traffic flow statistics and such other information as may be needed to support a conclusion that a substantial, long term change in traffic patterns different from the approved scope of operation has occurred.

2-8.5.7.2.4. Action On The Request [old D2-5. & I2-8.5.6.2.4]

GSA reserves the right to restructure, decrease, or not change the firm's scope of operation based on the evaluation of that information.

2-8.5.7.3. Needs Of The Program [old D2-5. & I2-8.5.6.3]

GSA reserves the right to increase or restructure a firm's scope of operation without regard to the firm's Customer Satisfaction Index when the needs of the program require such increase or restructuring.

2-9. Rejection Of Application To Participate [old D2-6. & I2-9]

2-9.1. Timeliness [old D2-6. & I2-9.1]

An applicant's failure to file by the respective due dates will result in the rejection of its application.

2-9.2. Reserved For Future Use [old I2-9.2]

This Subparagraph reserved for future use.

2-9.3. Financial Responsibility [old D2-6. & I2-9.3]

An applicant not meeting the financial qualification standards will not be approved.

2-9.4. Business And Operational Responsibility [old D2-6. & I2-9.4]

An applicant not meeting the business and operational responsibility standards such that a scope of operation cannot be established will not be approved.

2-10. Continued Participation [old D2-7. & I2-10]

2-10.1. General [old D2-7. & I2-10.1]

Once an applicant has been approved to participate, continued participation depends upon (1) The Participant showing a willingness and ability to meet the transportation requirements of the United States Government and the HTOS; and (2) the Participant's maintenance of financial responsibility, working capital, and other financial, technical, quality control processes, and management resources to perform.

2-10.2. Continuation Of ISO 9000 Certification [old I2-10.2]

In the event that a firm's approval is predicated in part on ISO 9000 certification and that certification lapses or is terminated by the certification registrar, the firm's approval will become conditional until it has completed all parts of the application that were waived because of the ISO 9000 certification; provided, however, that should the firm not meet the evaluation standards, approval will be terminated.

2-10.3. Continuation of Insurance [old I2-10.3]

If at any time the firm's certification statement of cargo liability insurance is not provided to the PMO in accordance with the RFO, the firm's participation in the program will be immediately terminated.

2-10.4. Continuation of Performance Bond—International Only [old I2-10.4]

If at any time the firm's performance bond is canceled and not replaced with an acceptable new bond, the firm's participation in the program will be immediately terminated.

2-10.5. Assignment Of Rights [old I2-10.5]

Except for assignment of payment of the Participant's original bills to a bank for collection and in the event that a Participant exercises any right under a currently existing agreement nor enters into agreements with parties not subject to its control which in any way infringe, controvert, or otherwise subordinate or prevent the Participant from deciding unilaterally whether it will or will not submit a claim or file suit against the Government or pay a claim by the Government after the original bill for services performed under this HTOS, the Participant's approval will be immediately terminated.

2-10.6. Conditional Approval Based on a Customer Satisfaction Index Less Than 95.00 When a Single Service Area Scope of Operation is Involved—Firm [old I2-10.6]

Under the conditions specified in 2-8.5.4.1, above, the following applies.

2-10.6.1. Change in Approval Status [old D2-7. & I2-10.6.1]

The firm's approval will be changed to conditional for the filing cycle during which the Customer Satisfaction Index will be effective.

2-10.6.2. Revocation of Approval [old D2-7. & I2-10.6.2]

In the event the firm's Customer Satisfaction Index for the subsequent customer satisfaction rating period remains less than 95.00, the firm's approval will be terminated.

2-10.6.3. Termination of Conditional Approval [old D2-7. & I2-10.6.3]

If the firm's Customer Satisfaction Index for the subsequent customer satisfaction rating period is 95.00 or greater or the firm is unindexed for the subsequent customer satisfaction rating period, the conditional approval will be terminated.

2-10.7. Submission of False Information [old D2-7. & I2-10.7]

Willful submission of false information on any document furnished by the applicant or Participant pursuant to this HTOS is punishable by fines, imprisonment, or both (U.S. Code Title 18, Section 1001), and may be grounds for terminating the Participant's approval to participate in the program. Federal agencies are responsible for the final evaluation of firm performance and selections of firms which best serve their needs. In the event it is later discovered that the firm was in CFAC and did not declare that fact, the Participant's approval will be terminated.

2-10.8. Updating Approval Information [old D2-7. & I2-10.8]

Whenever an approved Participant makes substantive changes in its organization or operation as described in its approval application, the Participant must advise the PMO in writing of such changes.

2-10.9. Bankruptcies [old D2-7. & I2-10.9]

2-10.9.1. General [old D2-7. & I2-10.9.1]

A Participant filing a petition for reorganization, or bankruptcy under the laws of the United States or a foreign country must notify the Program Management Office.

2-10.9.2. Reorganization [old D2-7. & I2-10.9.2]

When a Participant files a petition for reorganization under the laws of the United States or a foreign country, the Participant's approval to participate in the program will be subject to review and redetermined in accordance with the provisions of 2-8.5.6.3 and 2-8.5.7.1, above.

2-10.9.3. Bankruptcy [old D2-7. & I2-10.9.3]

When a Participant files a petition for bankruptcy, the Participant's approval to participate will be immediately terminated.

2-10.9.4. Failure To Notify PMO [old D2-7. & I2-10.9.4]

In the event the Participant fails to notify the PMO in accordance with 2-10.9.1 of its filing for reorganization and/or bankruptcy, its approval to participate in the Centralized Household Goods Program shall be terminated.

2-10.9.5. Firm Withdrawal Of Approval [old 2-10.10]

2-10.9.5.1. General [old D2-7. & I2-10.10.1]

A Participant may terminate (withdraw) its participation in the program at any time. A Participant terminating (withdrawing) its approval to participate in the Centralized Household Goods Traffic Management Program must notify the PMO in writing.

2-10.9.5.2. Constructive Withdrawal [old I2-10.10.2]

If a Participant is a principal operating company or is independently owned and operated, it will be construed as having withdrawn from participation in the program if it does not file rates in two consecutive years.

Section 3—Offers of Service

3-1. Filing [old D3-1]

Subject to Paragraph 3-4 below, Participants approved to participate in the Program may submit offers to provide the transportation services covered by this HTOS.

3-2. Time of Filing [old D3-2]

Except for newly approved Participants, offers may be filed only during the period designated in the filing instructions for the filing of offers. Newly approved Participants may file offers during the first open filing period, as set out in the filing instructions, after their approval.

3-3. Filing Restrictions [old D3-3]

3-3.1. Approved Participants [old D3-3]

The filing of offers is restricted to an approved Participant in the Centralized Household Goods Traffic Management Program (CHAMP).

3-3.2. Scope of Operation. [old D3-3]

The filing of offers is restricted to an approved Participant's scope of operation.

3-4. Acceptance/Rejection of Offers [old D3-4]

Offers submitted shall be accepted/rejected in accordance with such terms and conditions as the PMO deems necessary to assure maintenance of service, fair and reasonable pricing, and free and open competition. Offers outside the Participants approved scope of operations will be rejected.

3-5. Issuance of Special Offers.

3-5.1. General [old D3-5]

Except as provided in HTOS Paragraph 3-5.1.1. below, it is expressly prohibited for Participants party to this HTOS, their affiliates, or agents to offer, whether solicited or unsolicited, to a Federal agency subject to GSA's Centralized Household Goods Traffic Management Program any services, rates, rules, or charges different from those available in the Program. Availability in the Program shall be construed as a Participant's rate offer accepted in the normal course of a rate filing cycle; or if a Participant's rate offer had been rejected, any action by the Participant to make an offer to Federal agencies independent of GSA action. Violation of this paragraph will result in immediate placement of the principle operating company (POC) in temporary non-use for a period of 90 days, potential revocation of the POC's approval, and possible referral for Government-wide debarment.

3-5.1.1. Exception [old D3-5]

Participants may issue a special rate tender for first proviso household goods shipments for the use of a cost-reimbursable contractor of the United States Government. The terms of the rate tender must be such as to preclude use of that rate tender by the contracting Federal agency. For example, a Participant may issue a rate tender for “Department of Energy's Cost-Reimbursable Contractors”, but not for “the Department of Energy and its cost-reimbursable contractors”. The rates and charges offered in such rate tenders must be equal to or better than those set out in any rate tender accepted and otherwise available to Federal agencies.

3-6. Filing Instructions [old D3-6]

3-6.1. General

Instructions for the filing of offers, Request for Offers (RFO), will be issued by the PMO on an annual basis, unless changes in the program or other factors require the issuance of instructions on a different basis. Except as provided below, all terms, conditions, and instructions will be setout in the RFO.

3-6.2. Geographic Coverage [old D3-6]

3-6.2.1. Domestic

The geographic areas included in domestic offers are defined in Section 14. Offers for service within Alaska or between Alaska and all other points defined as domestic will include only those points identified in the RFO. Offers for all other domestic service must be for all points within the defined service areas for interstate and for the full state for intrastate.

3-6.2.2. International

The geographic areas included in international offers are defined in Section 14. Offers for all international service may be between international areas or between international and domestic areas. In any case, offers for international service must be for all points within the defined service areas and/or countries.

3-6.3. Supplements [old 3.6.1.6.2]

Supplements to an initially accepted offer must be submitted in accordance with the RFO. If supplements do not conform to the requirements of the RFO, they will be rejected.

3-6.4. Liability for error [old D3-6]

GSA is not liable for any error in the formatting or content of a Participant's offer. In the event of differences between a Participant's submitted offer and its accepted offers as set out in the ITMS, the accepted offer as set out in ITMS will take precedence.

Section 4—Statement of Work

4-1. Performance Of Services

4-1.1. Scope of Service [old D4-1]

The responsible transportation officer (RTO) or the owner of the goods, or his/her designated representative, shall establish firm service dates in conjunction with Participants accepting shipments offered under this HTOS for the prompt performance of all necessary origin and destination services. Origin services shall include packing, necessary servicing of appliances and electrical equipment, pickup from owner's residence or place of storage, and loading and removal of packing debris. Destination services shall include delivery, unpacking, single placement of household goods in owner's residence, servicing of appliances and electrical equipment, removal of unpacking debris, and customs services, as required. These services shall be performed on, before, or after the date shown on the Government Bill of Lading (GBL). The required delivery date noted on the GBL will not be construed by the Participant as expedited service, unless specifically authorized by the RTO. The physical transfer of individual shipments from one line-haul vehicle to another will be held to a minimum.

4-1.2. Scope of Service—International Only [old I4.1.2]

Unless directed otherwise by the employing Federal agency, the Participant will be required to place goods in Type II containers at origin, provide surface transportation to the ocean Participant terminal, transfer of goods to sea container, if necessary, transportation to port of debarkation, transfer of goods loaded in Type II containers from sea containers to motor Participant, if necessary, and delivery into storage or to destination residence; or place Type II containers in sea containers at origin residence and transportation to destination residence or storage facility.

4-1.2.1. Use of American Flag Vessels—International Only

4-1.2.1.1. General—International Only [old I4.4]

Except as provided below, the Participant will use ships of United States registry for the ocean portion of overseas shipments and book shipments for container or below deck stowage.

4-1.2.1.2. Use of Foreign Flag Shipping.—International Only [old I4.4]

When it is determined that the use of a vessel of United States registry will not provide the required service, the Participant will request permission to use Foreign Flag vessel prior to start of movement. Requests for permission to use a Foreign Flag vessel must be made to RTO on the form “Request for Approval of Use of a Foreign Flag Vessel”. Authority will be granted only when US flag shipping is not available or the use of foreign flag shipping is necessary to meet delivery requirements to which the Participant will certify in writing.

4-1.2.2. Overflow And Split Shipments—International Only.

4-1.2.2.1. Ocean Shipments.—International Only. [old I4.1]

The Participant will book all items of a single shipment together on the same vessel, same voyage or departure. In the event that a portion of any shipment should be shut out by the ocean Participant, the Participant will notify the RTO. Shipments may be split between ocean containers but not between ocean voyages.

4-1.2.2.2. Non-Ocean Shipments.—International Only [old I4.1]

If it is necessary to split a shipment for the non-ocean line-haul movement, the established RDD is applicable to all parts of the shipment.

4-1.2.3. Use of Agents In Unnamed Localities—International Only [old I4.1]

An agent furnishing agent services in a locality not named in Section 14 may provide agent services to a requesting Participant; provided, however, that the Participant has obtained the permission of the RTO to use that agent prior to commencement of performance.

4-1.3. Pickup And Delivery Service [old D4-1]

When a shipment is accepted at origin, the Participant agrees to meet the specified pickup date and shall deliver the shipment in accordance with the transit time specified in Section 12, or the required delivery date (RDD) stated on the GBL, or as otherwise directed by the RTO. The required delivery date noted on the GBL will not be construed by the Participant as expedited service, unless specifically authorized by the RTO. Pickup maybe performed by the Participant's local agent with transfer to a line-haul Participant at the Participant's origin terminal facility. Shipments will not be scheduled by the Participant for pickup or delivery on Saturdays, Sundays, local holidays, or US holidays unless so directed by the RTO. In the event that the final date of the transit time or the RDD falls on a Saturday, Sunday, local holiday, or US holiday, the final date shall become the first workday following the Saturday, Sunday, local holiday, or US holiday. The Participant will not begin any service that will not allow completion by 5 p.m., local time, without prior approval of the RTO and will return the following workday morning to complete the job.

4-1.4. Adverse Weather Conditions [old D4-1]

When packing, loading, unloading or unpacking during adverse weather conditions could create a potential hazard to the owner's household goods or personal effects, such services will be suspended until more favorable weather conditions exists, unless otherwise mutually agreed in writing by the Participant and the owner. Participants must, if requested, produce a copy of this in writing to GSA.

4-1.5. Continuous Control [old D4-1]

Participants shall maintain continuous control of shipments and shall be responsible for monitoring and tracing to ensure prompt completion of all services.

4-1.6. Electronic Communications [old D4-1]

In those instances when a Participant has the capability, it may make available (at no cost to Federal agencies) electronic communications capabilities for such purposes as shipment booking, tracing, and claims settlement information. This provision does not apply to electronic mail (e-mail); provided, however, that should both the Participant and the agency have the capability to exchange e-mail, nothing in this HTOS Paragraph prohibits the use of e-mail for such purposes as shipment booking, tracing, and claims settlement information.

4-1.7. Commencement of Transportation Services [old I4-1]

Transportation service of a shipment to its ultimate destination shall be commenced only upon receipt of the Government bill of lading by the Participant, unless otherwise mutually agreed upon by the Participant and the RTO.

4-1.8. Services Beyond those Specified in the HTOS [old I4-1]

Services beyond those specified in this HTOS will not be provided by the Participant, unless such service(s) are authorized in writing with the charge(s) agreed thereto.

4-2. Premove Survey

4-2.1. Conduct of Surveys [old D4-3]

The Participant must conduct an on-site premove survey of the property to be moved to determine those items to be shipped, the approximate net weight of the shipment, packing material and container requirements, and to schedule dates for packing and pickup of the shipment. The survey must list the major items of furniture, appliances and equipment which are to be included in the shipment. It must also indicate the number of wooden crates required to protect fragile items and the approximate number of cartons required for the shipment. At the time of the onsite survey, the Participant, at its own expense, must furnish the owner a copy of the General Services Administration's (GSA) pamphlet entitled “Your Rights and Responsibilities” an estimate, and such other documents as the HTOS specifies. The Federal Highway Administration publication OCE-100 does not satisfy this requirement.

4-2.2. Telephone Surveys [old D4-3]

Telephone premove surveys shall not be conducted unless specifically authorized by the RTO.

4-3. Accessorial Services-Moving Services

4-3.1. Packing And Padding [old D4-2]

The Participant shall perform all of the packing and/or crating and padding necessary for the protection of the goods to be transported.

4-3.2. Materials [old D4-2]

The Participant shall furnish packing containers, including, but not limited to, boxes, wardrobes, and cartons; all crating materials; and all padding materials and equipment.

4-3.3. Disassembling and Reassembling [old D4-2]

The disassembling of property (e.g., beds, waterbeds, and sectional bookcases) and the preparing of appliances (e.g., washers, dryers, and record players) for shipment shall be performed by the Participant. The Participant shall reassemble the property and service the appliances upon delivery at the new location. NOTE: The disassembling and reassembling of waterbeds does not include draining or refilling.

4-3.4. Unpacking And Placement. [old D4-2]

Unloading at destination will include the one-time laying of rugs and the one-time placement of furniture and like items in the appropriate room of the dwelling or a room designated by the property owner. On a one-time basis, all boxes, cartons and/or crates will be unpacked and the contents will be placed in the room designated by the property owner. This includes placement of articles in cabinets, cupboards, or on shelving in the kitchen when convenient and consistent with safety of the article(s) and proximity of the area desired by the owner, but does not include arranging the articles in a manner desired by the owner. The Participant shall also place the property in the new location as instructed by the owner of the property or authorized representative, and shall remove all packing and similar or related material from the premises as requested by the owner or authorized representative. Placement shall not be construed to include storage of unpacked articles in cupboards, cabinets, drawers, or closets (except when articles are returned from hanging wardrobes).

4-3.5. Removal or Placement of Property From or to Inaccessible Locations [old I4.2]

When the location of property and goods to be shipped or delivered is (1) not accessible by a permanent stairway (does not include ladders of any type), (2) not adequately lighted, (3) does not have a flat continuous floor, or (4) does not allow a person to stand erect, the Participant is not responsible for the removal or placement of such property unless the property owner requests and the RTO authorizes such removal or placement and the labor charges incident thereto.

4-4. Packing

4-4.1. General [old I4.7]

All packing will be accomplished in accordance with provisions of this section. The Participant is liable and responsible for all packing. The Participant has the responsibility to inspect all prepacked goods to ascertain the contents, condition of the contents and that only articles not otherwise prohibited by the Participant's tariff/tender are contained in the shipment. Furthermore, when it is determined by the Participant that goods require repacking, such packing will be performed by the Participant.

4-4.2. Number and Weight of Containers [old D4-4]

The number and weight of containers will not be greater than necessary to accomplish efficient movement.

4-4.3. Least Cubic Measurement [old D4-4]

All packing by the Participant must be performed in a professional manner which will result in the least cubic measurement producing packages that will withstand normal movement without damage to the transporting vehicle, liftvan/container or contents, and at a minimum of weight. Care shall be exercised to prevent loss or damage of personal property.

4-4.4. Use Of Materials

4-4.4.1. General

The Participant shall:

4-4.4.1.1. Domestic [old D4-2]

Ensure that all cartons, boxes, containers and materials are clean and of sufficient quality for protection of the goods.

4-4.4.1.2. International [old I4.7]

Ensure that all cartons, boxes, containers and materials are new and of sufficient quality for protection of the goods. The use of damp, wet, or unclean packing is prohibited.

4-4.4.2. Use of Original Containers

4-4.4.2.1. General [old D4-4]

At the property owner's request, articles such as electronic equipment and computer type equipment will be packed in original containers by the Participant when furnished by the owner and if the containers are considered to be in good condition for shipping purposes. When original cartons are utilized, the provisions of HTOS Paragraph 4-4.4.4, below, do not apply.

4-4.4.2.2. When Original Containers Are Not Available [old I4.7]

When the original containers are not available and when necessary to protect electrical equipment for safe transportation or during SIT, such equipment will be completely wrapped in paper or unicellular polypropylene foam and packed in a carton with enough padding to provide insulation necessary to prevent contact of one article with another and to eliminate movement of any article in the liftvan/container. When packing in a carton is not necessary, the items will be properly wrapped and padded for protection.

4-4.4.3. Boxes [old I4.7]

When using wooden boxes for the packing of property and when such boxes will be stored within an exterior shipping container, such wooden boxes will be new; i.e., used for the first time. The boxes used will be wood cleated plywood or nailed wood. Boxes will be made of new lumber and new plywood and will be well manufactured and free from imperfections which may affect their utility. Size and spacing of nails will be in accordance with the best commercial practice. The use of wood cannibalized from used boxes, recoopered, or rebuilt wooden boxes is prohibited.

4-4.4.4. Cartons [old I4.7]

Cartons of solid or corrugated fiberboard will be used for packing linens, books, bedding, lampshades, draperies or other similar articles. After packing, cartons must be sealed by taping lengthwise at the joint on top and bottom. The inside dimensions of the carton (length, width, and depth totaled) will not exceed 75 inches with a weight limitation of 65 pounds. All corrugated cartons shall be stamped with a manufacturer's certificate indicating name of manufacturer, minimum combined weight of facings, size limit, gross weight limit and information indicating type of carton. Cartons lacking such certification are not authorized for use. Egg crates, fruit or vegetable crates, tea crates and similar type boxes will not be used, even when packed by the property owner. Overflow boxes will not be of triwall or corrugated cardboard construction.

4-4.4.5. Barrels, Fiber Drums, And Cartons [old I4.7]

Wood barrels, fiber drums or cartons with a capacity of not less than 5 cubic feet are to be used for packing glassware, chinaware, bric-a-brac, table lamp bases, and other fragile articles. When packing of fragile items has been completed and space is left in a dish pack, such space may be used for packing other lightweight items. These containers will not contain more than 120 pounds. Corrugated containers may be used instead of barrel or drum-type containers. Not more than 120 pounds of material will be packed therein. The sum of the interior horizontal and vertical girths will be not less than 157 inches for wooden barrels, fiber drums or other drum-type containers. The cube of corrugated containers will be determined by actual measurements. All barrels or fiber drums will be securely headed and marked “This End Up.”

4-4.4.6. Crates [old D4-4]

Except for the packing of grandfather clocks, glass and marble tabletops, projection televisions, and pool table slate, the use of crates must be authorized by the RTO.

4-4.4.7. Filler Material [old I4.7]

Good quality wood excelsior pads, wood wool excelsior pads, shredded paper pads, cellulosic (bubble pack, etc.) cushioning material, fiberboard, corrugated fiberboard, unicellular polypropylene foam, unprinted newsprint, and/orkraft paper will be used as a filler.

4-4.4.8. Padding [old I4.7]

New and good quality used-wood excelsior pads, unicellular polypropylene foam, shredded paper pads or other equally suitable material will be used when required.

4-4.4.9. Wrapping [old I4.7]

Wrapping paper or unicellular polypropylene foam will be new, clean and appropriate for the purposes intended. Each item of silverware, silver ornamentation or brass that is not coated to prevent tarnishing will be completely wrapped in unicellular polypropylene foam or nontarnish tissue paper.

4-4.4.10. Paper, Waxed or Treated [old I4.7]

All waxed paper used will be manila wax or equivalent. Treated paper may be used if it is butcher type paper.

4-4.4.11. Unicellular Polypropylene Foam [old I4.7]

All unicellular polypropylene foam wrapping material will be new, clean and will conform to Federal Specification PPP-C-1797.

4-4.4.12. Marking Requirements [old I4.7]

All cartons must be marked on the exterior in general terms as to the nature of the contents. Each carton must be identified with an inventory number, full last name of the employee, and lot number if storage-in-transit is applicable. These numbers and the employee's name must also be shown on the outside of each piece that is not going to be placed in a carton for shipment.

4-4.5. Special Items

4-4.5.1. Bicycles For Overseas Shipment—International Only [old I4.7]

When shipped as a separate item and not included within a container as specified in HTOS Paragraph 4-4.4.4, above, bicycles shall be packaged and packed in the following manner: the handle bar shall be loosened, lowered, turned at a right angle from its usual position, swung downward and retightened when necessary. Wheels or mechanisms shall not be removed or disassembled from the frame. When necessary, pedals shall be removed and secured on edge forward of the seat post or above the back fender. Before placement into the carton, the bicycle will be wrapped with protective wrapping and padding. Empty areas in the container will be filled to prevent shifting or movement during transit. The container must be constructed or fabricated in a manner which will accept the bicycle without removal of the front or rear wheel assemblies and meets the requirement of HTOS Paragraph 4-4.4.5, above.

4-4.5.2. Books [old D4-4]

Books will be placed in cartons. All books of similar size will be packed together in rows. Pads of solid or corrugated fiberboard will be inserted between rows and packaged tightly, wedged with pads or paper, if necessary, to fill out the carton and prevent chafing. Books normally will be packed not more than two rows high in a book carton.

4-4.5.3. Fragile items [old D4-4]

Use of clean bubble type or other modern method of packing is required for the packing of glassware, chinaware, bric-a-brac, table lamp bases, and other fragile articles. Packing of fragile items must be such as to keep the articles safe from the normal hazards of transportation to the ultimate destination. Use of excelsior or shredded paper is not acceptable.

4-4.5.4. Kitchenware [old D4-4]

All kitchenware will be padded and packed into cartons. Kitchenware must not be packed with other items.

4-4.5.5. Linens, Clothing, And Draperies

4-4.5.5.1. Domestic Only [old D4-4]

Linen, clothing, draperies, and similar items may remain in drawers, chests, dressers, trunks, etc., when considered safe for carriage. If considered unsafe for carriage, these items will be packed carefully into new cartons which will be properly sealed at residence.

4-4.5.5.2. Use Of Regular Cartons.—International Only [old I4.7]

Small, lightweight, unbreakable items, e.g., clothing items, certain linens, will be packed into new (regular) cartons which will be properly sealed at residence.

4-4.5.6. Use of Wardrobes

4-4.5.6.1. Domestic Only [old D4-4]

On domestic door-to-door shipments, clothing normally on hangers will be hung in the wardrobes.

4-4.5.6.2. International Only [old I4.7]

Clothing normally on hangers in closets and draperies will be packed in flat wardrobes with hangers removed from clothing and drapery hooks removed from the draperies. If requested by the employee, the Participant may use hanging wardrobes for clothing normally on hangers.

4-4.5.7. Mirrors, Pictures, Stone Table Tops [old D4-4]

Subject to the restriction contained in HTOS 4-4.4.6., above, mirrors, pictures and paintings, both glass-faced and nonglass-faced, glass or stone table tops and similar fragile articles will be wrapped and packed in a crate, if authorized by the RTO, or suitable fiberboard carton. When more than one article is packed in any one crate or carton, a divider will be provided. No more than four articles will be packed in any one crate or fiberboard carton. Stone or marble tabletops will be packed separately. Small pictures, paintings, mirrors, and similar articles will be carefully packed into cartons and properly sealed at residence.

4-4.5.8. Lampshades, Ornaments [old D4-4]

Lampshades, ornaments, small toys, and other small items easily crushed will be wrapped and placed in cartons and will be insulated from the carton walls and from other items. Lampshades will be wrapped individually with new paper or new unicellular polypropylene foam placed in cartons and cushioned to prevent shifting or damage.

4-4.5.9. Mattresses [old D4-4]

Mattresses will be placed in new mattress cartons at the residence and sealed with tape.

4-4.5.10. Rugs and Pads [old D4-4]

All rugs and rug pads will be properly rolled (not folded). Rugs will not be subsequently folded or bent to an extent that may cause damage to the rug.

4-4.5.10.1. International Only [old I4.7]

For international shipments, rugs and pads will be moth flaked, wrapped in kraft paper and placed in rug boxes/cartons for shipment. A wooden crate may also be used, if authorized by the RTO.

4-5. Preparation Of Articles For Transportation

4-5.1. Appliance Servicing

4-5.1.1.1. General [old I4.7]

Each appliance serviced will be appropriately labeled to indicate that it must be serviced at destination before use (reversing the process performed at origin). Appliance servicing includes the servicing and unservicing of household appliances and other articles which have free moving parts, mechanisms, attachments or accessories which, if not properly serviced, might be damaged or rendered inoperative during transit.

4-5.1.1.2. Washers [old I4.7]

Washers requiring servicing will be secured with washer kits, washer packs, washer locks, or special plastic inserts. The use of sheet fiberboard/cardboard is prohibited.

4-5.1.1.3. Appliances and Electrical Equipment

Appliances and electrical equipment requiring other servicing will be serviced in accordance with the best prevailing industry shipping practices.

4-5.1.1.4. Exclusion [old I4.7]

Servicing will not include disconnecting or reconnecting appliances including personal computers and related peripheral devices, repairing articles, removal or installation of radio/TV antennas or air conditioners, wiring or plumbing service, and the securing of stereo arms or turntables.

4-5.2. Items of Unusual Nature [old I4.8]

The disassembling and reassembling of items of unusual nature such as, but not limited to, German shranks, grandfather clocks, waterbeds with attached wall units, steel shelving, pool tables, elongated work tables, and counters may require special service by a third party. This third party service, including disassembly and reassembly, must be approved in advance by the RTO. Participant will not perform these services unless requested and approved by the RTO.

4-5.3. Firearms [old I4.7]

All Privately Owned Firearms (POF) must be placed in the Number 1 external shipping container. For international shipments, containers must be positioned so that they are readily accessible for examination by customs officials when required. This shipping container will be closed and sealed at the employee's residence. Under no circumstances will the Participant be permitted to remove the POF to the warehouse or other facility for placement in shipping containers.

4-5.4. Surfaces [old D4-8]

All articles having surfaces liable to damage by scratching, marring, soiling, or chafing will be wrapped at time of loading at residence in textile or paper furniture pads, covers (other than burlap) or other acceptable wrapping materials. When storage of these articles is necessary, they will be afforded the same protection against damage.

4-5.5. Disassembly/Reassembly [old D4-8 & I4.8.2]

Except as provided in HTOS Paragraph 4-5.2, above, the Participant will disassemble at point of origin and so shown on the inventory form all items of personal property including waterbeds without attached wall units (excluding draining or refilling) which, in the judgment of the Participant, require disassembly to ensure safe delivery at destination. The Participant is not responsible for removing any outdoor article embedded in the ground or secured to a building, nor the assembling or disassembling of any outdoor articles such as steel utility cabinets, swing sets, slides, sky rides, jungle gyms, television and radio antennas or other outdoor articles of similar nature. If items are disassembled by owner, it will be so indicated on the inventory form.

4-5.6. Hardware [old D4-8]

All nuts, bolts, screws, small hardware and other fasteners removed from articles by the Participant in the preparation for shipment will be placed in a cloth bag or similar durable container and securely attached to the article from which removed and will be so noted on the inventory. The Participant, in such cases, will be required to furnish, at the time of reassembling, any new hardware, nuts, bolts, etc., necessary to reassemble the property.

4-5.7. Items Removed From Furniture [old D4-8]

Legs and other articles removed from furniture will be properly wrapped, bundled together and identified, e.g., dining room table legs, six each, and listed as a separate item on the inventory.

4-5.8. Unaccompanied Air Baggage [old D4-6]

Unaccompanied air baggage shall be handled in accordance with the instructions of the shipping Federal agency. Participant will be required to provide the movement of unaccompanied air baggage including packing and crating of goods at origin, surface transportation to origin airport, air transportation to destination airport, and surface transportation to destination residence. Unaccompanied baggage will be unpacked by the Participant unless waived by the owner. Certification that unpacking was performed by the Participant will be by the owner on a DD Form 619, or comparable commercial document.

4-6. Authorized Privately Owned Vehicles (POV)

4-6.1. Domestic Only

Transportation of privately owned vehicles (POV) within CONUS shall be handled in accordance with the instructions of the shipping Federal agency. Participant will be required to provide for the preparation of vehicle; pickup at origin; transportation from origin to destination; delivery to final destination; and valuation based on the current value of the vehicle.

4-6.2. International Only [old I4.1 & I4.8]

Privately owned vehicles shall be handled in accordance with the instructions of the shipping Federal agency. An agency may ship only one POV to a post of duty outside CONUS, excluding replacement vehicles. Participant will be required to provide for the movement of POVs whereby provisions are made for truck-away to the port of exit and delivery to destination residence from port of entry. If the distance between origin residence/destination residence and port of exit/entry is 30 miles or less, the vehicle may be driven. The employing Federal agency reserves the option of Door-to-Door or Port-to-Port services.

4-7. Preparation of Shipment Inventory

4-7.1. Inventory Forms [old D4-9]

Inventory forms will be of multiple copy design, must specify the name and address of the Participant, and contain an explanation of the exception symbols used to describe the condition of the goods. In addition, there shall be space for indicating the name of the owner of the goods and the date of shipment. The same inventory prepared at origin will be used to verify condition and count upon delivery of the shipment.

4-7.2. Preparation of Origin Inventory

4-7.2.1. General [old D4-9]

The Participant must, in conjunction with the owner or his designated representative, prepare an inventory list of all articles received for shipment. The inventory list should clearly and legibly indicate each article of furniture or personal effects to the extent necessary to properly identify it (them). Words such as “household goods” or other general descriptive terms will not be used. An automated inventory may be used if completed at the place of pickup as long as the appropriate data are recorded and copies provided as required. Each copy of the inventory of the shipment will bear the signature of the employee, or the employee's agent, together with the signature of the Participant's representative certifying to its accuracy and completeness.

4-7.2.1.1. International Only [old I4.10]

Each liftvan shall contain a seal serial number which shall be annotated on the original inventory form.

4-7.2.2. Items Containerized at Warehouse—International Only [old I4.10]

If the RTO permits the Participant to partially containerize a shipment at the warehouse, each item removed from the residence will be annotated on the inventory as containerized at warehouse (CW).

4-7.2.3. Preparation of Container Inventory—International Only [old I4.10]

“Bingo cards” or comparable inventory form will be used to record and identify by inventory line item number those items placed in each liftvan or overflow container. This, in effect, will be an individual liftvan inventory which can be cross referenced with the employee's master inventory.

4-7.2.4. Listing of Firearms [old D4-9]

For all firearms being shipped pursuant to this TOS with a serial number attached and packed in the original container or a Participant-packed container, the Participant must place the serial number on the corresponding line in the “condition at origin” column on the descriptive inventory.

4-7.2.5. Receipt of Firearms

Participants who deliver firearms in interstate or foreign commerce must obtain a written acknowledgment of receipt from the recipient of any package containing a firearm.

4-7.2.6. Preparation of Inventory for High Risk Items [old I4.10]

Unless specifically authorized by the RTO, the inventory prepared in accordance with HTOS Paragraph 4-7.2.1, above, will not be used for or contain a listing of high risk items.

4-7.2.7. Preparation of Inventory for Overflow Items [old I4.10]

A separate inventory will be prepared for overflow items, one copy dispatched immediately to the RTO and one copy to the property owner at the time of delivery.

4-7.2.8. Annotation of Inventory Upon Change in Custody [old I4.10]

The Participant shall annotate the inventory to show any overage, shortage, and damage found, including visible damage to external shipping containers each time custody of the property changes from a storage container (warehouseman) to a Participant or from one Participant to another.

4-7.2.9. Listing of Cartons and Contents [old D4-9]

All cartons must be marked to clearly identify the size of the carton and its contents. The same general identification of contents must also be shown on the inventory. Nothing herein shall be construed as prohibiting the Participant from preparing a detailed or itemized list of carton contents. Each article must be identified with an inventory number and such numbers shall be recorded on the inventory form.

4-7.2.10. Omission of an Exception Symbol [old D4-9]

Special care must be exercised to ensure that the inventory list reflects the true condition of the property. Omission of an exception symbol will indicate the article is in good condition except for normal wear.

4-7.2.11. Exceptions to the Condition [old D4-9]

Exceptions to the condition of the goods must be recorded specifically for each article and brought to the attention of the owner before the goods are removed from the residence. General terms, such as marred, scratched, dented, worn, torn, gouged, etc., must not be used without supplemental description as to the degree and location of the exception. If the owner takes exception to the manner in which the Participant describes the condition of an item, such exception will be noted on each copy of the inventory.

4-7.3. Preparation of Destination Inventory [old D4-9]

When unloading and/or unpacking articles at the destination residence, the Participant must use the same inventory prepared at origin to verify delivery at destination and inspect each article for damage and check the inventory against possible loss of and/or damage to articles in conjunction with the owner or his representative. A record will be made of any difference in count and condition from that shown on the inventory list prepared at origin and such record will be jointly signed by the Participant and the owner or his authorized agent. Such record of count and condition will be indicated on the inventory form, or other delivery document or the form prescribed by the shipping Federal agency. Discrepancies will be noted on the last page of the inventory. If articles are missing, every effort will be made to locate these items and forward them to the owner by expedited means, at no additional cost to the Government or the owner.

4-7.3.1.1. International Only [old I4.10]

The seal serial numbers for each liftvan will be verified against the numbers as applied at origin residence.

4-8. Shipping Containers

4-8.1. Protection of Containers [old D4-5]

All household effects (HHE) shipping containers, i.e., liftvans, moving in line-haul service by flatbed equipment will be covered with a waterproof tarpaulin or other material providing equal protection, and such material will cover the cargo on the top and sides down to the vehicle bed and all surfaces of the overhang. Note: Shipments moving to port agent facilities in Baltimore are considered as moving in line-haul service even though they may be moving within the named localities of Washington, DC, or Baltimore, MD.

4-8.2. Shipments Held at Terminal Facilities—International Only [old I4.9]

Shipments not loaded in sea vans, but under the Participant's control and held at terminal facilities awaiting transportation will be placed in a secured, fenced and covered area which will provide complete protection from the elements. In any case, all shipments held at terminal facilities will be placed within a secured fenced area.

4-8.3. Containers—International Only [old I4.9]

The Participant will use liftvans/containers which meet the following specifications.

4-8.3.1. General—International Only [old I4.9]

All household effects containers, i.e., liftvans, used by the Participant must have been constructed to the specifications of the containers tested in accordance with MIL-STD 1489, Performance Testing of Commercially Owned Household Effects Containers. The primary liftvan for surface shipments under this HTOS is the 206 cubic foot (exterior) box which conforms to the approved material and structure requirements for MTMC container number 186-A (as modified by MTMC Approval Code 186-1) and MTMC container number 152-A-1 (Mod) as specified in MTMC Pamphlet 55-12. All containers are new, clean, and swept. Liftvans will be free from holes or other conditions such as dry rot which could permit the entry of water and that sides and doors, when closed, fit tightly and securely. Liftvans are to be constructed so as to require a sealant/caulking material to be applied to the joints and door(s) to ensure water tightness. Before each shipment, they will be appropriately caulked, sealed, and banded with a material that, when subjected to varying climatic temperatures, will not stain or otherwise damage the contents of the shipment. The interior of all containers shall be lined with either a kraft-asphalt-kraft barrier paper of the reinforced type or polyethylene sheeting with a minimum thickness of 0.004 mil on all sides and the top. New liftvans will be used for each shipment regardless of origin. Liftvans will not be the property of the US Government.

4-8.3.2. Overflow Boxes (Containerized Shipments)—International Only [old I4.9]

Overflow containers must, at the time of use, be new wooden boxes and shall be limited to use for oversized items that cannot be packed into HHE shipment containers (liftvans) prescribed by this HTOS. The overflow container normally is of a lesser size than a PPP-B-580 container or those described in MTMC Pamphlet 55-12. Overflow boxes will be constructed in accordance with Federal Specification PPP-B-601, Boxes, Wood, Cleated-Plywood, Style A or B, and will be caulked and lined with plastic during assembly.

4-8.4. Packing And Stuffing of Containers [old I4.9]

Containers, i.e., liftvans, or overflow boxes, when used in door-to-door service, will be packed and stuffed at origin residence unless specific exception is authorized by the RTO. For the authorized exceptions, such items will be listed on the inventory and will be annotated that items will be containerized at the warehouse. A notation will also be made of the name of the employee who authorized the exception.

4-8.5. Container Marking [old I4.9]

Unless the shipping Federal agency directs otherwise, containers will be marked pursuant to U.S. Department of State instructions.

4-8.6. Container Seals [old I4.9]

The external shipping containers (liftvans) for all containerized household effects will be sealed at the origin pick up point with accountable seals. Six serial numbered metal seals are required for each household goods liftvan. These seals will secure both ends by overlapping one seal on each side to the ends or door panels and one from the top panel to the ends or doors of the liftvan. Seal numbers will be recorded on the inventory, either beside the container number or annotated by individual container number on the last page of the inventory. The owner or his/her representative will initial on the last page of the inventory attesting to the correct seal numbers listed on the inventory.

4-8.7. Position of Containers [old I4.9]

When a shipment is moved via flatbed type vehicle, the containers, i.e., liftvans, will be loaded in an upright position and will not protrude beyond the rear edge of the vehicle bed surface more than 12 inches (no protrusion is permitted for the sides or front). In all cases of rear overhang, the container must be resting on the weight-bearing surface of the skid.

4-9. Pickup and Delivery

4-9.1. Loading

4-9.1.1. Domestic Only [old D4-10]

The Participant must provide for the physical removal of the property from the owner's residence, and placement in the transporting vehicle. Property will not be loaded onto the tailgates of motor vans or precariously loaded on extensions to flat bed trailers or equipment.

4-9.1.2. International Only [old I4.12]

The Participant must provide for the physical removal of the property from the owner's residence and placement into liftvans. Liftvans will not be loaded onto the tailgates of motor vans or precariously loaded on extensions to flat bed trailers or equipment. When authorized by the RTO, the Participant may use moving vans to transport loose property between the residence and the Participant's facility at origin.

4-9.2. Unloading

4-9.2.1. Domestic Only [old D4-10]

The Participant must provide for the physical unloading of the property from the transporting vehicle into a warehouse for SIT or the unloading of the property into the owner's residence at destination.

4-9.2.2. International Only [old I4.12]

The Participant must provide for the physical unloading of the property from the liftvans into a warehouse for SIT or the unloading of the contents of the liftvans into the owner's residence at destination.

4-9.2.3. Unpacking at Destination [old I4.12]

If requested, the Participant shall unpack and/or uncrate all property that was packed and/or crated for movement under this HTOS. All articles disassembled by the Participant or originating from storage will be reassembled. The unpacking service and removal of debris will be performed at the time the goods are delivered to the residence unless specifically waived in writing by the employee or the employee's agent. The waiver will be held in the Participant's files for further reference.

4-9.3. Containers Moving in Local Service [old D4-5 & I4.9]

Containers (storage or liftvans) moving in local pickup or delivery service will be covered with a waterproof tarpaulin or other material providing equal protection when local weather conditions dictate. In any event, such protective covering must be available. Containers will not extend beyond the side or end of flatbed equipment.

4-9.4. Removal Of Debris [old D4-2 & I4.12]

Packing and loading at origin will include removing from the employee's residence, to include driveway and curbside, all empty Participant-provided containers, packing materials, cartons and other debris, e.g., nails accumulated incident to packing and loading. All “debris” which may have accumulated on the street, or next-door neighbor's property or in parking spaces will be removed.

4-9.5. Protection of Residence Floors and Protection for Buildings [old D4-2 & I4.8]

The floor and carpeting or the employee's residence will be appropriately covered during packing, loading, and delivery to prevent damage or soiling. “Appropriately covered” is generally defined as substantial protection from scratching, gouging, or soiling the floor or carpet of the residence. The Participant shall furnish or cause to be furnished, when necessary, padding or other protective material for the interior of the buildings, including elevators, from and to which the property will be moved under this HTOS.

4-9.6. Impracticable Operation and Auxiliary Services

4-9.6.1. General [old I4.13]

Nothing in this Section will require the Participant to perform any line haul service or any pick up or delivery service or any other service from or to, or at any point or location where, through no fault or neglect of the Participant, the furnishing of such services is impracticable because: (a) the conditions of roads, streets, driveways, alleys or approaches thereto would subject operations to unreasonable risk of loss or damage to life or property; (b) loading or unloading facilities are inadequate; (c) any force majeure, war, insurrection riot, civil disturbance, strike, picketing or other labor disturbance would (c) (1) subject operations to unreasonable risk of loss or damage to life or property or (c) (2) unreasonably jeopardize the ability of the Participant to render line haul or pick up or delivery or any other service from or to or at other points or locations; (d) Participant's hauling contractors, Participant's employees or Participant's agents are precluded, for reasons beyond Participant's control, from entering premises where pickup or delivery is to be made; (e) local, state or federal restrictions, regulations or laws prohibit performance of such services by line-haul equipment; (f) when service is impracticable for reasons stated in this rule, and service can be completed through the employment of services of third persons, the RTO or the origin/destination GSO may order such service.

4-9.6.2. Provision of Smaller Equipment [old I4.13]

Upon request of the RTO, the Participant will use or engage smaller equipment than its normal road haul equipment or provide extra labor for the purpose of transferring the shipment between the origin or destination address and the nearest point of approach by the Participant's road equipment.

4-9.7. Lack of Proper Delivery Address [old I4.14]

If the Government bill of lading sets out a specific residential delivery address and delivery cannot be made at the address specified on the Government bill of lading for other than the fault of the Participant, and neither the shipping Federal agency, the destination RTO, nor the property owner designates another address at which delivery can be made, the Participant will place the property in storage-in-transit only after the RTO authorizes the storage.

4-9.8. Constructive Delivery

4-9.8.1. Tender at Nearest Point of Approach [old I4.15]

When it is physically impossible for Participant to perform pickup of shipment at origin address or to complete delivery of the shipment at the destination address with normally assigned road equipment, due to the structure of the building, its inaccessibility by highway, inadequate or unsafe public or private road, overhead obstructions, narrow gates, sharp turns, trees, shrubbery, the deterioration of roadway due to rain, flood, snow or nature of an article or articles included in the shipment, the Participant will hold itself available at point of pickup or tender delivery at destination at the nearest point of approach to the desired location where the road equipment can be made safely accessible.

4-9.8.2. Owner Non-Acceptance of Delivery

4-9.8.2.1. General [old I4.15]

If the owner does not accept the shipment at nearest point of safe approach by Participant's road equipment to the destination address, the Participant may place the shipment or any part thereof not reasonably possible for delivery, in storage at the nearest available warehouse (see exception below, for international shipments). The RTO must be informed of and approve such action prior to placement in warehouse. The liability on the part of the Participant will cease when the shipment is unloaded into the warehouse and the shipment will be considered as having been delivered.

4-9.8.2.2. Exception—International Only [old I4.15]

Storage authorized in accordance with this subparagraph for international shipments must occur in the nearest available DOD or DOS approved warehouse.

4-9.9. Detention By Participant or Agent [old I4.6]

Personal property shipments moved under this HTOS are sponsored by the Government of the United States of America and, as such, will not under any condition or for any reason be detained by Participants or agents.

4-10. Determination Of Weight

4-10.1. Weighing Requirement [old I4.19]

Participants will determine the weight of each shipment transported prior to the assessment of any charges depending on the shipment weight. Except as otherwise provided in this item, the weight shall be obtained on a scale approved by the appropriate regulatory authority for use in determining the weight of household goods shipments.

4-10.1.1. Weight Variance

In the event the actual shipment weight is greater than 115% of the premove survey weight, the Participant must notify the RTO or its third party representative prior to billing the Federal Agency of the original weighing and be prepared to justify the difference. In the event the Participant fails to notify the RTO or third party representative, the Participant stipulates that the agreed weight of the shipment will be 115% of the premove survey weight. In the event the Participant fails to adequately justify the difference between the actual and premove survey weights, the Participant stipulates that the agreed weight of the shipment will be 115% of the premove survey weight. The agreed weight shall take precedence over the actual weight for the assessment of transportation, accessorial, and storage-in-transit charges when based on weight. The RTO has the authority to waive this provision.

4-10.1.2. Verification of Weight Variance

A copy of the premove survey must accompany the billing voucher and associated documents when the weight variance rule is applied.

4-10.2. Weighing Procedure Household Effects

4-10.2.1. General [old I4.19]

Except as otherwise provided herein, the weight of each shipment will be obtained by determining the difference between the tare weight of the vehicle on which the shipment is to be loaded prior to the loading and the gross weight of the same vehicle after the shipment is loaded or, the gross weight of the same vehicle after the shipment is loaded or the gross weight of the vehicle with the shipment loaded and the tare weight of the same vehicle after the shipment is unloaded.

4-10.2.2. Included In Weighing

4-10.2.2.1. General [old D11-2 & I4-9]

At the time of both weighings, the vehicle will have installed or loaded all pads, dollies, hand trucks, ramps and other equipment required in the transportation of each shipment. Neither the driver nor any other persons shall be on the vehicle at the time of either weighing. Participants will bill for the net weight of a household goods shipment described on the GBL. The net weight will consist of actual goods (including a separate weight for designated PBP&E and for privately-owned automobiles), plus special wooden crates (when approved by the RTO), cartons, barrels, fiber drum, and wardrobes used to pack linens, books, bedding, mattresses, lampshades, draperies, glassware, chinaware, bric-a-brac, table lamp bases, kitchenware and other fragile articles and the necessary wrapping, packing and filler material incident thereto. Nothing else will be included in the net weight.

4-10.2.2.2. Included in Net Weight [old D11-2]

In determining net weight on containerized shipments, Participants will include in the tare weight all padding material, e.g., paper pads, cloth blankets, or any wrapping material used as a substitute for cloth blankets, and blocking and bracing material used for a Participant's convenience to protect and secure a shipment.

4-10.2.2.3. Lift Van Weights—International Only [old I4.19]

The net weight of shipments transported in lift vans will be the difference between the tare weight of the empty lift van, and the gross weight of the packed lift van.

4-10.2.3. Fuel Tanks [old I4.19]

The fuel tanks on the vehicle will be full at the time of each weighing or, in the alternative, no fuel may be added between the two weighings, when the tare weighing is the first weighing performed.

4-10.2.4. Detaching Equipment [old I4.19]

The trailer of a tractor-trailer vehicle combination may be detached from the tractor and the trailer weighed separately at each weighing providing the length of the scale platform is adequate to accommodate and support the entire trailer at one time.

4-10.2.5. Time of Weighing [old I4.19]

Shipments may be weighed on a certified platform or warehouse scale prior to loading for transportation or subsequent to unloading.

4-10.2.6. Right To Observe Weighing [old I4.19]

The shipper, the Government or its representative or any other person responsible for payment of the freight charges will have the right to observe all weighings of the shipment. The Participant must advise the shipper or any other person entitled to observe the weighings, of the time and specific location where each weighing will be performed and must give that person a reasonable opportunity to be present to observe the weighings. Waiver by a shipper of the right to observe any weighing or reweighing is permitted and does not affect any rights of the shipper under these regulations or otherwise.

4-10.3. Weight Tickets [old I4.19]

The Participant will obtain a separate weight ticket for each weighing required under this item except when both weighings, are performed on the same scale, one weight ticket may be used to record both weighings. Every weight ticket must be signed by the person performing the weighing and must contain the following minimum information: (1) The complete name and location of the scale; (2) the date of each weighing; (3) identification of the weight entries thereon as being the tare, gross and/or net weights; (4) the company or Participant identification of the vehicle; (5) the name of the owner of the household effects as it appears on the GBL; (6) the Participant shipment registration or GBL number; (7) the original weight ticket or tickets relating to the determination of the weight of a shipment must be retained by the Participant as part of the file on the shipment. All freight bills presented to collect any shipment charges dependent on the weight transported must be accompanied by true copies of all weight tickets obtained in the determination of the shipment weight.

4-10.4. Reweighing of Shipments [old D4-12 & I4.19]

The Participant, upon request of the shipper or his representative, made prior to delivery of the shipment, and when approved by the RTO, will reweigh the shipment. Reweigh of the shipment must be performed on a scale different from the one on which the original weighing occurred. If a reweigh is required, shipment will be reweighed upon final delivery and performed on a scale different from the one on which the original weighing occurred.

4-10.5. Constructive Weight [old D11-2 & I4.19]

The application of constructive weight will occur only upon written approval of the RTO. If approved, constructive weight will be applied based on seven pounds per cubic foot. When PBP&E or a privately owned automobile is included as part of the shipment, the weight of such articles will be annotated separately on the GBL.

4-10.6. Platform Scales [old D11-2 & I4.19]

HTOS Participants may use platform scales to obtain tare and gross weight of containerized shipments.

4-11. Storage-In-Transit

4-11.1. General [old D4-11 & I4.17]

The Participant must provide SIT at destination when required. (SIT may not occur at origin unless authorized by the RTO). SIT is the holding of a shipment or portion thereof at a facility or warehouse the Participant uses for storage, pending further transportation. A shipment may be held in SIT for a period not to exceed 180 days. The Participant must advise the employee when the storage period will end and determine from the employee whether the shipment or any portion thereof, will be delivered to employee's residence or held in storage. If SIT is required beyond 180 days, the employee will inform the RTO and any SIT extension will be by mutual agreement between the RTO and the Participant. After the initial 180 day period ends, the Participant's liability terminates; the applicable interstate, intrastate or international character of the shipment or portion thereof ceases; the warehouse is considered the destination of the property; the warehouseman becomes the agent for the shipper; the property then is subject to the rules, regulations, and charges of the warehouseman; and storage charges are the employee's responsibility.

4-11.2. Facilities [old D4-11]

The facilities or warehouses used by the Participant for SIT must be commercial facilities or warehouses used by the Participant or its agent in the normal course of business for receipt and storage of household goods awaiting further transportation and furnishing the services set out in 4-11.3 through 4-11.9, below. Unless approved by the RTO, the use of trailers, vans, public warehouses, and self storage units is prohibited.

4-11.3. Location of SIT

4-11.3.1. General [old D4-11]

The Participant will perform SIT only when specified on the bill of lading. Authorized SIT must be at the participant's nearest available SIT facility at the destination shown in the “consignee” block (or at origin shown in the “consignor block” when the RTO specifically authorized SIT at origin). However, in no case may SIT be more than 50 miles from the origin/destination municipality the bill of lading specifies or the RTO authorizes. Placing a shipment in SIT does not constitute a delivery or completion of service. Delivery of the shipment to the final destination and completion of destination services must be performed as part of the through service after the household goods are removed from SIT.

4-11.3.2. Exception—International Only [old I4.17]

For international shipments, the Participant must place shipments in SIT at the nearest available SIT facility of the Participant's agent at destination shown in the “Consignee Block” unless specified on the GBL or authorized by the RTO.

4-11.4. Lot Identification [old D4-7 & I4.16]

All lots will be properly identified by the owner's name, order number, warehouse lot number and GBL number. Such identification will be in plain view on each lot.

4-11.5. Rugs and Pads—Domestic Only [old D4-7]

Rugs, carpets, and padding will be stored on racks in a horizontal position without folding any portion of the rug, carpet, and padding.

4-11.6. Overstuffed Furniture—Domestic Only [old D4-7]

Upholstered or overstuffed furniture will be placed in an upright normal position and covered for protection against dust. No boxes, cartons or other pieces of furniture will be placed upon this type of furniture. When placed in individual room storage or when containers are employed for warehouse storage, upholstered or overstuffed furniture will have protection, padding, blocking, and bracing to preclude damage from any pressure against the upholstery, including pressure from its own weight as well as from conditions external to the container.

4-11.7. Palletization of Property [old D4-7 & I4.16]

Personal property will be stored on skids, pallet bases, elevated platforms or similar storage aids maintaining a minimum of at least two inches clearance from the floor to the under most portion of the personal property. In addition, property will not be stored in contact with exterior walls. Trash cans, extension ladders, lawn mowers, television antennas, swing sets, and other like items are excluded from this requirement.

4-11.8. Removal From Shipping Containers—International Only [old I4.17]

The contents of containerized shipments will not be removed from the containers when placed in SIT.

4-11.9. Marking of SIT Containers [old I4.17]

All containerized shipments of household effects shall be marked with the employees' name and the GBL number.

4-11.10. Partial Withdrawal From Storage in Transit (SIT)

4-11.10.1. Identification of Item To Be Withdrawn [old I4.17]

Items for withdrawal from SIT should be indicated by the property owner/agent at the time of packing whenever possible. When the shipment has already been packed, inventory item numbers will be furnished by the employee to the RTO who shall provide the information to the Participant.

4-11.10.2. Ordering Partial Withdrawal [old I4.17]

In accordance with the previous HTOS Paragraph, partial withdrawal shall only be ordered by the RTO who shall so certify on the DD Form 619-1 or other commercial form.

4-11.10.3. Consist of Withdrawal [old I4.17]

Only complete cartons or item numbers on the inventory may be withdrawn. Individual cartons will not be opened.

4-11.10.4. Weight of Partial Withdrawal [old I4.17]

Participant is responsible for obtaining the weight of the portion withdrawn.

4-11.10.5. Billing for Partial Withdrawal [old I4.17]

Participant shall bill for the partial withdrawal of property as directed by the RTO.

4-12. Tracing

4-12.1. Shipment [old I4.16]

The Participant shall trace a shipment upon request from the RTO or property owner and will promptly report to the requesters the location of the shipments.

4-12.2. Missing Household Effects [old I4.16]

The Participant shall take action to trace missing loose household effects.

4-12.3. Missing Liftvans/Containers [old I4.16]

The Participant shall take action to trace missing liftvan(s)/container(s) when a containerized shipment is placed into SIT and the liftvan(s)/container(s) are found to be missing with an annotation of the GBL or inventory to explain the shortage.

4-13. Non-Temporary Storage [old D4-6 & I4.1]

If requested by the employing Federal agency, the Participant will be responsible to provide or arrange non-temporary storage for those household goods and personal effects authorized by the appropriate Federal agency. Tender rates will apply into the carrier warehouse. Rates for monthly non-temporary storage per 100 pounds and rates for full value protection per each $100 of value to be negotiated between the carrier and the Federal agency.

Section 4A—Move Management Services (MMS) Statement of Work

4A-1. Performance of Services

The MMS provider must provide the MMS outlined in this section 4A in conjunction with HHG transportation services. The MMS provider must comply with all requirements of this HTOS including the service, delivery timeframe, billing, reporting, and liability requirements.

4A-2. Memorandum of Understanding (MOU)

The MMS provider and the agency must enter into a written MOU setting out the terms and conditions of the MMS provider responsibilities as identified in this section 4A. In instances when the agency requests bill of lading (BL) preparation and maintenance under HTOS paragraph 4A-6.5, the MOU should contain at a minimum specific instructions on the BL preparation and maintenance, including instructions to complete each portion of the BL. If requested by the MMS provider and/or the agency, the GSA PMO will review the agreement before implementation.

4A-3. Performance as Participant

The MMS provider must file rates within its current approved scope of operations; be subject to the Customer Satisfaction Index (CSI) rating system; and must comply with the requirement to collect and pay GSA its IFF as specified in RFO Section 2-7.6.

4A-4. Commissions

An MMS provider must not charge a commission to a participant to which it tenders a HHG shipment.

4A-5. Required Services

4A-5.1. General

The MMS provider must arrange, coordinate, and monitor each relocating employee's HHG move from initial notification of the move by the agency through completion of all move-related transactions required under HTOS paragraphs 4A5.1 through 4A-5.9. An HHG move within the continental United States (CONUS) is defined as a basic move consisting of one shipment of HHG and, when specifically authorized by the agency, shipment of one or more privately owned vehicles (POV). A HHG move to/from an international location is defined as a basic move consisting of one surface shipment of HHG and, when specifically authorized by the agency, one or more unaccompanied baggage shipments and shipment of one or more POV's. Multiple origins and/or destinations may be involved for both CONUS and international shipments. The MMS provider must provide the services specified in HTOS paragraphs 4A-5.2 through 4A-5.9.

4A-5.2. Participant Selection

An agency may select the participant to transport the relocating employee's HHG or may delegate this responsibility to the MMS provider in which case the agency will furnish the MMS provider criteria to use in selecting the participant. The selected participant must be currently approved to participate in CHAMP and must have approved rates on file with GSA. The MMS provider must be capable of accessing the GSA Interagency Transportation Management System (ITMS) to obtain cost comparison information for use in making the participant selection when delegated this responsibility by the employing agency.

4A-5.3. Shipment Booking

The MMS provider must perform the following:

(1) Schedule the move with the selected participant;

(2) Order a pre-move survey;

(3) Identify any special services needed and obtain the RTO's written authorization. The RTO is responsible for authorizing storage-in-transit (SIT) or any special service. Special services include, but not limited to: shuttle service, special crating, third party servicing, elevator charges, long carry, and/or stair carry;

(4) Indicate in writing all services authorized and identify those that will be paid as an entitlement of the relocating employee as well as those which the relocating employee requests, but for which the relocating employee has no entitlement and which may be advanced and charged back to the relocating employee; and

(5) Inform the relocating employee before service performance of any service that will be advanced and charged back to the employee.

The provider may develop a generic form for the purpose of this item. Any service shown on a generic form that is not applicable to a particular shipment must be “crossed out” or marked “none” or “not applicable” before submitting the form to the RTO for written authorization/approval.

4A-5.4. Ensuring Participant Performance

The MMS provider must ensure that transportation services are in keeping with procedures under this HTOS, notwithstanding the Origin and Destination On-Site Quality Control procedures specified in HTOS paragraph 4A-6.7. The MMS provider also must take any action deemed necessary and appropriate to protect the interests of the agency to ensure proper participant performance, and to protect both the real and personal property of the relocating employee. When the MMS provider fails to direct performance as required which could causes the agency or relocating employee to incur damages (other than damage to HHG), the MMS provider will be liable to the agency and/or the relocating employee, as appropriate for such damages.

4A-5.5. Arranging Storage in Transit (SIT)

If an agency authorizes SIT, the MMS provider must arrange the storage under provisions of this HTOS. The MMS provider must notify the relocating employee of the authorized SIT duration and location and provide the relocating employee's SIT-provider contact information within five (5) calendar days after delivery into SIT.

4A-5.5.1. Monitoring Shipments in SIT

The MMS provider must monitor shipments in SIT and provide a written request for disposition instructions from the relocating employee or the agency's destination facility representative at least ten (10) working days before expiration of the authorized SIT period. The written request must inform the relocating employee of his/her personal financial responsibility for any charges incurred for storage in excess of the maximum period authorized. The MMS provider is responsible for arranging delivery of shipments from SIT.

4A-5.5.2. SIT in Excess of 180 Days

If storage exceeds 180 days, the MMS provider must determine the condition of the relocating employee's property at the end of the 180-day SIT period to protect the Government's and the relocating employee's right to recover for participant-caused loss or damage. The warehouse automatically will be considered the shipment's destination upon expiration of the 180-day SIT period at which time the MMS provider's responsibility for the shipment ends. The shipment then becomes subject to the warehouse's rules, procedures, and charges, including local drayage out of storage. The relocating employee is responsible for payment of storage charges for any period of storage in excess of 180 days. If any discrepancy exists between other HTOS provisions and the provisions of this HTOS paragraph 4A-5.5.2 for purposes of SIT, the provisions of HTOS paragraph 4A-5.5.2 apply.

4A-5.6. Completion of GSA Form 3080

The MMS provider must furnish the relocating employee a GSA Form 3080, “Household Goods Carrier Evaluation Report” for completion of the section entitled, “Relocating Employee's Response”. This form is available for downloading and printing at http://hydra.gsa.gov/forms (other forms-external forms-numeric by form number). The provider must instruct the relocating employee to return the evaluation form upon completion to the agency for completion of the section entitled, “BL/GBL Issuing Officer's Response.” The provider also must follow up in an attempt to ensure both the relocating employee and the agency completes their respective portions of the form and return it to the PMO. If the relocating employee has not completed the appropriate section on the form within thirty (30)-days from the date of delivery of the HHG to the new residence, the provider will so advise the agency.

4A-5.7. Service Performance Audit

The MMS provider must conduct an independent service performance audit of transportation billings and complete a certification document certifying by line item whether billed services (including any services specifically requested by the relocating employee) were or were not necessary, properly authorized, and actually performed. The provider may develop a form for this purpose and must, if requested, have it pre-approved by the agency. This audit is unrelated to an agency's audit of the actual billing charges which also is an optional “provider” service under paragraph 4A-6.3. If prepayment audit of transportation bills is performed under procedures in HTOS paragraph 4A-6.6, the provider must furnish the service performance audit certification along with the transportation billing to the prepayment auditor for audit of the actual billing charges.

4A-5.8. Management Information Reports

The Government requires certain management information reports that may or may not be commercially standard. If the MMS provider has a commercial report that would meet an agency's stated specific need, it may propose that the agency use that report instead of the one specified as long as it can satisfactorily demonstrate how the proposed substitution would meet the agency's needs. Reports must contain monthly, quarterly, and year-to-date totals, when appropriate. The MMS provider must provide required reports to the agency within fifteen (15) business days following the month/quarter services were performed.

4A-5.8.1. Agency Reports

If requested by the shipping agency, the MMS Provider must furnish the following reports in the manner specified by the agency with regard to format, content, and frequency. Data elements may be revised by the ordering activity.

4A-5.8.2. Shipment Summary

A summary of the total number of shipments handled for the specified period further broken down into the following incremental categories:

(1) Number of shipments by agency activity;

(2) Number of shipments by participant;

(3) Number of interstate shipments;

(4) Number of intrastate shipments; and

(5) Number of shipments to an international location.

For each category the provider must show total line-haul and accessorial charges.

4A-5.8.3. Claims Summary

A summary of the total number of loss/damage claims handled for the specified period further broken down into the following incremental categories:

(1) Number of claims by agency activity;

(2) Number of claims by participant;

(3) Number of intrastate claims;

(4) Number of interstate claims;

(5) Number of international location claims;

(6) Average number of days between the date of claim filing and date of issue of initial settlement offer;

(7) Average number of days between the date of receipt of the initial settlement offer and the date of final settlement;

(8) Average amount claimed and settled interstate;

(9) Average amount claimed and settled intrastate; and

(10) Average amount claimed and settled on shipments to an international location.

For each claim not settled within thirty (30) days and/or sixty (60) days as requested by the agency's RTO, an explanation for the delay must be supported by the appropriate Delay Codes identified in the HTOS Section 9.

4A-5.8.4. Counseling Contact Summary Report

(Applies only when an agency has chosen the optional “Employee Pre-Move Counseling” service)

A summary report of counseling contacts showing relocating employee's name, date of initial contact, and current status of the move including date(s) for the pre-move survey, packing, pickup, and actual or proposed delivery into SIT and/or residence.

4A-5.8.5. On-time Services Summary Report

A summary report listing:

(1) Relocating employee(s) name;

(2) Scheduled pickup date;

(3) Actual pickup date;

(4) Scheduled delivery date(s) into SIT and/or residence;

(5) Actual delivery date(s) into SIT and/or residence;

(6) Scheduled date for delivery out of SIT;

(7) Actual date for delivery out of SIT; and

When scheduled and actual dates are different, an explanation must be provided.

4A-5.8.6. Specially Requested Reports

Special one-time reports furnished to the RTO when the agency requests and the PMO approves.

4A-5.9. Customer Service

The contractor shall provide a 24-hour, toll-free telephone number to assist in tracking/tracing shipments; resolving problems that occur during any phase of the move, including quality control problems; and in filing post-delivery claims for agencies that choose that optional service.

4A-6. Optional Services

4A-6.1. General

If specifically requested by the agency, the MMS provider must provide the following optional services specified in HTOS paragraphs 4A-6.1 through 4A-6.9.

4A-6.2. Employee Pre-Move Counseling

Employee pre-move counseling (as distinguished from a participant provided pre-move survey) must include information on the participant's commercial moving practices affecting all aspects of the HHG move. It also may include Government-specific information on HHG entitlements and allowances prescribed in the Federal Travel Regulation (41 CFR chapters 300-304) as well as information on any agency internal implementing regulations, including weight allowance information. Additionally, the provider must counsel the relocating employee about services the relocating employee is authorized at Government expense as well as any requested services that are not the Government's financial responsibility and which the employing agency will charge back to the relocating employee. Some of these services are:

(1) Extra pickup/delivery;

(2) Temporary SIT authorized by the agency;

(3) Non-temporary (permanent) storage (NTS);

(4) Unauthorized items;

(5) Assembly/ disassembly of property;

(6) Shipment of perishable items;

(7) Firearms and hazardous material exclusions;

(8) Level of service coverage, options, and costs;

(9) Reporting concealed damages, relocating employee rights and responsibilities, third-party servicing;

(10) Packing/unpacking and crating/ uncrating;

(11) Preparation and filing of claims;

(12) Name and address of origin/destination storage provider; and

(13) Local drayage out of storage.

The counseling also includes explaining the Government's role concerning Commuted Rate Schedule moves as prescribed in the Federal Travel Regulations (FTR) and limitations on the Government's financial obligation for reimbursement on such moves. Following is an availability listing of publications that contain information important in the relocating employee's pre-move counseling process:

(1) FTR: Available on the Internet at:

http://policyworks.gov/org/main/mt/homepage/mtt/FTR/FTRHP.shtml

(2) CHAMP: Available on the Internet at:

http://r6.gsa.gov/fsstt/

(3) Agency specific regulations/procedures: (Contact appropriate agency for availability)

4A-6.3. Prepayment Audit

(1) MMS Provider Responsibilities. The MMS provider will conduct, or arrange to have conducted, a prepayment audit of each transportation billing and supplemental billing for service performed under this HTOS.

(2) Certification. Any auditor (other than a GSA Prepayment Audit Schedule contractor) desiring to perform a prepayment audit service must be certified by the GSA Audit Division (FBA) to do so. Certification may be obtained by contacting: General Services Administration, Federal Supply Service, Audit Division (FBA), 1800 F Street, NW., Washington, DC 20405, http://pub.fss.gsa.gov/transtrav.

(3) Procedures. The Prepayment Audit procedures under this HTOS paragraph 4A-6.3 are subject to provisions of the Federal Management Regulations (FMR) part 102-118 (41 CFR parts 102-118). Procedures stated in this HTOS paragraph 4A-6.3 reflect requirements and may be used in addition to any other required procedures published in the FMR, in developing the MMS provider/agency MOU. The prepayment auditor must adjust billed charges as appropriate based on the service performance audit as specified in HTOS paragraph 4A-5.7 and the prepayment audit before submitting the billing invoice, along with the service performance audit certification, to the agency for payment.

(4) Adjustments. Upon instructions from the agency, the MMS provider must advise the participant and/or the agency via a statement of differences submitted either electronically or in writing within seven (7) days of receipt of the bill of any adjustment the auditor makes. The statement of differences must include the following:

(a) Participant's standard alpha code (SCAC);

(b) Participants' bill number;

(c) Amount billed;

(d) Amount paid;

(e) Agency name;

(f) Participant's taxpayer identification number (TIN);

(g) Document reference number (DRN);

(h) Payment voucher number;

(i) Complete tender or tariff authority, including the governing item or section number.

The MMS provider must annotate the following information on all transportation bills that have been completed:

(a) Participant's standard carrier alpha code (SCAC);

(b) Participants bill number;

(c) Amount billed;

(d) Amount paid;

(e) Agency name;

(f) Participant's taxpayer identification number (TIN);

(g) Document Reference Number (DRN);

(h) Payment voucher number;

(i) Complete tender or tariff authority with the applicable rate authority, including the governing item or section number;

(j) Copy of any statement of differences sent to the participant; and

(k) The date invoice received from the participant.

(5) Appeal Procedures. The agency must establish an appeal process that directs participant appeals to an agency official or to the MMS provider with responsibility for providing adequate consideration and review of the circumstances of the claim. Review of an appeal must be completed within thirty (30) days. If the participant disputes the findings and the agency or MMS provider as appropriate, cannot resolve the dispute with the participant, all relevant documents including a complete billing history and the appropriation or fund charged should be forwarded to GSA for the rendering of a decision. Carrier claims must be submitted within three (3) years beginning the day after the latest of the following dates (except in time of war):

(a) Accrual of the cause of action;

(b) Payment of charges fore the transportation involved;

(c) Subsequent refusal for over payment of those charges; or

(d) Deduction made to a carrier claim by the Government under 31 U.S.C. 3726.

4A-6.4. Performance Standards for Service Performance Audit and Prepayment Audit-6.5

The Government must comply with provisions of the Prompt Payment Act (31 U.S.C. 3901(a)(5). The MMS provider therefore must ensure that within seven (7) days of receiving the participant's bill, it has completed the service performance as described in HTOS paragraph 4A-5.7 and prepayment audits as described in HTOS paragraph 4A-6.3 and has the consolidated transportation/MMS billing, accompanied by the service performance audit certification, in the hands of the agency for payment. The MOU between the agency and the MMS provider must stipulate whether the agency or the MMS provider will be responsible for remitting payment to the participant. If the MMS provider is to remit payment to the participant, the agency must issue and forward the remittance by check or electronic transfer to the MMS provider in time for the agency to be deemed “in compliance” with provisions of the Prompt Payment Act. The MMS provider will not be liable for any late payment interest charge the agency may accrue on a transportation payment that is not in compliance with the Prompt Payment Act requirements.

4A-6.5. Preparation of Shipment Documentation

If an agency exercises its option to have the contractor prepare a GBL or BL, the contractor must comply with the terms and conditions set forth in FMR part 102-117 (41 CFR Part 102-117. On international shipments the MMS provider must complete, and distribute copies of, each GBL following instructions published in the GSA Federal Supply Service Guide, “How to Prepare and Process U.S. Government Bills of Lading” (National Stock Number 7610-00-682-6740, 41 CFR 101-41.305-1 and 2). The provider must furnish a legible memorandum copy of all GBL's or a legible copy of all BL's prepared and distributed to the RTO before the shipment pickup date.

4A-6.6. Data Communications Capabilities

The MMS provider must:

(1) Provide on-line electronic access to all database information pertaining to task orders and applicable shipment records;

(2) Provide the RTO or designee and the GSA PMO in Kansas City, Missouri, on-line access to all database information pertaining to task orders and shipment records for all accounts established under the terms of this HTOS;

(3) Establish sufficient safeguards to prevent unauthorized access to the database information;

(4) Make the electronic access available through an asynchronous modem with a baud rate of at least 2400; and

(5) Furnish clear documentation setting out procedures for access to and use of the database.

4A-6.6.1. Data Elements

The database must contain, but is not limited to, the following elements: (1) task order information; and (2) shipment information sufficient to generate the reports specified in HTOS paragraph 4A-5. The shipment database must be maintained in a separate directory with separate shipment records for each relocating employee move. Shipment files must not be commingled with data maintained for shipments not subject to this HTOS. Each shipment record must contain all information required for that particular shipment, including any claims filed by the participant, status of the claim, etc. using a continuous computer terminal screen, if necessary. Performance data documenting how the move was handled must be collected independently and maintained in this file. The provider must provide the facility for the RTO's and the GSA PMO to extract and consolidate data such as participant performance if specific reports are required.

4A-6.6.2. Database Maintenance

The MMS provider must update the database on a twenty (24)-hour basis, at a minimum, and provide for on-line electronic access to database elements for a period of one year from date of pickup. After one year, only a hard copy of the records is required to be maintained as specified under the Examination of Records Clause in GSA Form 3504.

4A-6.7. On-site Quality Control Service

If an agency requests, the MMS provider must arrange for quality control personnel to provide on-site inspection service at the origin/destination residence at pickup/delivery. Inspection services include, but are not limited to:

(1) Verification of correct inventory coding;

(2) Use of proper packing materials;

(3) Appropriate article servicing;

(4) Equipment and personnel suitability; and

(5) Satisfactory performance of unpacking.

The actual cost of any on-site quality control service requested is negotiable between the MMS provider and the agency. The agreed upon price must be stated in a written document and retained by both parties. The document will be construed as a one-time only amendment to the provider's rate filing. A copy of the written document must be included with the MMS provider's voucher. The provider may engage a third party to perform these services provided they are representatives or employees of a HHG carrier, forwarder, or an agent thereof.

4A-6.8. Quality Assurance Plan

If requested by the agency, the MMS provider must provide the agency a quality assurance plan to assist in ensuring quality service and must designate quality assurance personnel to execute the plan.

4A-6.9. Claims Preparation, Filing, and Settlement Assistance

If the relocating employee or agency requests, the MMS provider must provide timely loss/damage claim preparation/filing assistance, including follow-up assistance for any subsequently discovered loss or damage. The provider must review and negotiate any settlement offer that is inconsistent with the participant's liability or HTOS provisions, and in the case of an impasse must refer the complete file to the agency. The MMS provider also must counsel the employee about potential consequences of signing any full and unconditional release on any offer of settlement before all claims resulting from a particular move have been resolved.

Section 5—Time of Performance

5-1. Approval

5-1.1. Filing of Application [old D5-10 & I5.1]

Unless otherwise specified by the PMO, a Participant or agent filing for approval in accordance with the HTOS Section 2 must file its application for approval in accordance with the dates specified in the application instructions. To be considered timely filed, the application must be received at the address specified in HTOS Section 2. Receipt at any other address of the General Services Administration will not constitute receipt by the PMO.

5-1.2. Filing of Supplemental Information

5-1.2.1. Non-Financial Information [old D5-10]

In the event the PMO determines that the non-financial material submitted is deficient, the applicant will be notified by certified mail dated no later than February 1 to provide the supplemental information. A Participant required to submit supplemental information must do so no later than the due date specified in the request. To be considered timely filed the supplemental information must be received at the address specified in HTOS Paragraph 2-2.2. Receipt at any other address of the General Services Administration will not constitute receipt by the PMO.

5-1.2.2. Financial Information [old D5-10]

Supplemental financial material will not be requested or accepted.

5-1.3. Notice of Action on Application

5-1.3.1. Approved Applicants, No Supplemental Information Requested [old D5-10]

Applicants approved without a request for supplemental information will be notified by certified mail dated no later than February 1 of the year following submission of the application.

5-1.3.2. Approved Applicants, Supplemental Information Requested. [old D5-10]

Applicants approved subsequent to a request for supplemental information will be notified by certified mail dated no later than June 1 of the year following submission of the application.

5-1.3.3. Non-Approved Applicants

5-1.3.3.1. Non-Approved Applicants on Non-Financial Basis [old D5-10]

Applicants' applications not approved on a non-financial basis will be notified by certified mail dated no later than June 1 of the year following submission of the application.

5-1.3.3.2. Non-Approval on Financial Basis [old D5-10]

Applicants' applications not approved on a financial basis will be notified by certified mail dated no later than February 1 of the year following submission of the application.

5-2. Restructuring of Scope of Operations

5-2.1. Time of Request [old D5-10]

A request for restructuring of a Participant's approved scope of operation based on changes in traffic patterns may be submitted at any time during the fifth anniversary year and subsequent fifth anniversary years. Formal requests, as opposed to the notice of intent to request, received by GSA prior to or after the anniversary year will be rejected.

5-2.2. Notice of Intent [old D5-10]

A notice of intent to request a restructure of a Participant's scope of operation may be presented to the PMO at any time in the calendar year prior to the anniversary year or during the anniversary year.

5-3. Establishment of Pickup Date [old I5.7]

Participants will be provided at least five (5) working days advance notice when tendered shipments. Under unusual circumstances, Participants may agree but are not obligated to accept pickups on less than 5 working days notice. Once shipments are accepted with less notice, the Participant is obligated to the agreed pickup date.

5-3.1. Domestic

For domestic shipments, the employee and/or his designated representative, and the Participant shall establish and agree to a pickup date.

5-3.2. International

For international shipments, the RTO and the Participant shall establish and agree to a pickup date.

5-4. Origin and Destination Services [old D5-4 & I5.6]

All origin and destination services shall be performed between 8AM and 5PM, local time, on regular business days, excluding Saturdays, Sundays, local holidays, or U.S. holidays, unless mutually agreed upon in writing. No liability on the part of the Government will be incurred for overtime labor or any other additional charges. Participant must, if requested, produce a copy of this writing to an authorized inspector.

5-4.1. Domestic Only [old D5-4]

For domestic shipments, agreeing parties include the Participant, the owner of the household goods or his designated representative and/or the RTO.

5-4.2. International Only [old I5.6]

For international shipments, agreeing parties include the Participant, the owner of the goods or his designated representative, and the RTO.

5-5. Obtaining Another Agent—International Only [old I5.18]

The Participant must obtain another approved agent within 30 calendar days of the cessation of the relationship between a Participant and its designated agent.

5-6. Transit Time.

5-6.1. General [old D5-1]

Shipments handled pursuant to this HTOS and delivered directly to a residence or delivered to SIT at destination will be transported and delivered in accordance with the time periods specified in HTOS Section 12, as appropriate, corresponding to the type, weight and distance of any shipment.

5-6.1.1. Measurement of Transit Times [old D5-1]

Transit time will be measured in calendar days from the date loading is completed to the date on which the shipment is offered for delivery at the residence, except when the last day of the transit time falls on Saturday, Sunday, local holiday, or a Federal holiday, then the next United States Government working day will be considered the last day of transit. In the event SIT occurs at origin, transit time will be measured based on the transportation from the point of SIT to the delivery residence.

5-6.1.2. Transit Time Basis [old D5-1]

The transit times are based on the assumption that a Participant will be given a minimum of five (5) days notice before the pickup date of shipments. If less than five (5) days notice is given the Participant, the transit times will be increased one (1) day for each day under the five (5) day notice period.

5-6.1.3. Transit Times for a Privately Owned Vehicle (POV) [old I5.9.3]

(1). The transit time for a POV, except as provided in subsection (2) below, is the same as that for a surface shipment specified in HTOS Section 12.

(2). The transit time for a POV between CONUS and a point in Alaska, Guam, the Hawaiian Islands, Puerto Rico, or the Virgin Islands (St. Thomas, St. Croix, or St. John) is specified in HTOS Section 12. The Participant must notify the applicable Federal department or agency in writing of the port(s) it intends to use to meet the transit time required.

(3). A transit time penalty applies if the Participant fails to meet the transit time specified in HTOS Section 12. The Participant must notify the applicable department or agency within twenty-four (24) hours of any expected delay. Also, the Participant must arrange for the transferee's use of a rental car at the Participant's expense. The rental must be the same or comparable, size/model as the POV the transferee shipped. The RTO may waive this penalty in whole or in part based on the circumstances of the delay.

5-6.2. Interstate Transit Times [old D5-1]

Interstate transit times apply to shipments picked up at an address in one State and delivered to an address in another State, both States being in the continental United States, or picked up/delivered between an address in the continental United States and an address in Canada. The transit times in Section 12 are the maximum transit times in days applying to interstate shipments unless waived by the RTO in writing.

5-6.3. Intrastate Transit Times [old D5-1]

Intrastate transit times apply to shipments picked up and delivered within the same State. The transit times in Section 12 are the maximum transit times in days applying to intrastate shipments unless waived by the RTO in writing.

5-6.4. International Transit Times

5-6.4.1. Unaccompanied Air Baggage [old D5-1]

Transit time for unaccompanied air baggage is 15 days unless waived by the RTO in writing.

5-6.4.2. Surface Shipments [old I5.9]

International transit times apply to shipments picked up/delivered between the named State, Trust Territory, or Possession of the United States and the named countries. The transit times in Section 12 are the maximum transit times in days applying to international shipments unless waived by the RTO in writing.

5-7. Notice of Shipment Availability for Delivery—International Only [old I5.10]

5-7.1. Availability for Delivery—International Only [old I5.10]

Upon notification from the Participant/agent that a shipment has arrived and is available for delivery, the RTO will have 24 hours in which to confirm delivery arrangements. If delivery arrangements cannot be confirmed by the expiration of the 24 hour period, storage will be authorized and effective as of the date on which the 24 hour period expired.

5-7.2. Delivery of Shipments Not Involving SIT

5-7.2.1. Arrival Prior to RDD—International Only [old I5.10]

For shipments that arrive prior to the RDD, Participant will deliver to the owner or owner's agent prior to the RDD.

5-7.2.2. Arrival After the RDD—International Only [old I5.10]

For shipments that arrive after the RDD, the Participant will deliver in accordance with the instructions or within two workdays after notifying the destination RTO of the shipment's arrival.

5-7.3. Notification of SIT Pickup/Delivery—International Only [old I5.10]

If requested by the RTO, the notification of SIT pickup or delivery availability on the afternoon preceding the scheduled pickup or delivery will be provided to the RTO.

5-8. Notice of SIT Location [old D5-3]

A written electronic transmission, including facsimile or other form of notice of the SIT location (street address, City/state) together with a telephone number for the warehouse, as provided in HTOS Paragraph 9-2.4, must be furnished to the RTO within five (5) calendar days after placement of the shipment in SIT or change in SIT location. The Property Owner must be notified as soon as possible after placement of the shipment in SIT or change in SIT location.

5-9. Delivery From Storage in Transit [old D5-2]

Unless the property owner agrees to the contrary, delivery from SIT must be accomplished on the date requested, excluding Saturdays, Sundays, local holidays, and Federal holidays. If because of prior commitments, the Participant cannot deliver on the day requested, delivery must be completed no later than three business days thereafter. If the shipment is not removed from the storage warehouse within three working days (excluding Saturday, Sunday, and holidays) after the delivery date requested, storage charges will cease to accrue as of the requested delivery date.

5-10. Shipment Tracing [old D5-7 & I5.19]

When the owner of the household goods or RTO requests information concerning shipments in transit, Participants will retain a written record as provided in HTOS 8-5.14.5.3.2, of such requests and acknowledge and make a prompt report, by electronic transmission, including facsimile or other form of electronic transmission, if available, to the requestor as to the location of the shipment. Time frames for completing the above include seventy-two (72) hours for an international shipment, and twenty-four (24) hours on a domestic shipment, including interstate and intrastate.

5-11. Notice of Concealed Loss/Damage [old I5.12]

In order for the Participant to be liable as specified in Section 10-1.3.7.1, for loss and/or damage discovered by the owner within seventy-five (75) days after delivery (concealed), the Government or the property owner must notify the Participant, in writing, of the concealed loss and/or damage within seventy-five (75) days from the date of delivery.

5-12. Acknowledgment and Settlement of Claims

5-12.1. Acknowledgment [old D5-8)

The Participant shall acknowledge directly, unless otherwise instructed, to the property owner all claims for loss and damage or delay within 10 calendar days after receipt.

5-12.2. Settlement [old D5-8]

The Participant shall make settlement of all claims for loss and damage or delay directly, unless otherwise instructed, to the owner of the property for any loss or damage for which the Participant is liable within 30 days after receipt thereof.

5-12.3. Delay in Settlement [old D5-8]

If the claim cannot be processed and disposed of within 30 days after receipt thereof, an additional 30 day period shall be available for settlement of the claim; provided, however, that the Participant shall, at that time, advise the claimant and the RTO in writing or electronically of the status of the claim and the reason for the delay in making final disposition thereof and that Participant shall retain a copy of such advice to the claimant in its claim file thereon. Failure to make settlement within the initial 30 day period, or the maximum 60 day period if proper notice is given, shall be construed as a refusal by the Participant to settle the claim.

5-12.4. Payment of Transportation Charges for Partial Loss [old D5-8]

The Participant shall refund in accordance with the provisions of HTOS Paragraph 7-5.2 that portion of its freight charges (including any charges for accessorial or terminal service) corresponding to that portion of the shipment which is lost or destroyed in transit at the time it disposes of claims of loss, damage, or injury to the articles in the shipment.

5-13. Waiver of Requirements

5-13.1. Requests [old D5-5 & I5.4]

Written confirmation of a request for a waiver of requirements, including requests for approvals as provided in 8-1.1, must be submitted to the RTO within five (5) business days of the verbal request. If the RTO has not issued the approval/waiver as required in HTOS Paragraph 8-1.1.3 through 8-1.1.21 in the time period specified in 5-13.2, below, the Participant may contact the PMO for assistance.

5-13.2. Issuance of an Approval or Waiver of Requirements [old D5-6 & I5.5]

The RTO shall issue the approvals required in HTOS Paragraph 8-1.1.3 through 8-1.1.21 or a waiver of requirements as provided in writing within seven (7) calendar days.

5-14. Documents To Be Furnished

5-14.1. To Property Owner

5-14.1.1. Domestic Only [old D8-6]

The documents specified in HTOS Paragraph 8-5.8.2 will be provided by the Participant to the property owner within ten (10) business days after performance of the specified service.

5-14.1.2. International Only [old I5.15]

The documents specified in HTOS Paragraph 8-5.8.2 will be provided by the Participant to the property owner within seven (7) business days after performance of the specified service.

5-14.2. To the Responsible Transportation Officer

5-14.2.1. Domestic Only [old D8-6]

The documents specified in HTOS Paragraph 8-5.8.3 will be provided by the Participant within 14 business days after performance of the specified service, except that the DD Form 1840, when required by the Federal agency, will be provided within 30 days of shipment delivery.

5-14.2.2. International Only [old I5.16]

The documents specified in HTOS Paragraph 8-5.8.3 will be provided by the Participant within seven (7) business days after performance of the specified service, except that the DD Form 1840, when required by the Federal agency, will be provided within 30 days of shipment delivery.

5-15. Reports to the RTO

5-15.1. Unusual Incidents [old D5-9]

A Participant must report unusual incidents (see HTOS Paragraph 9-2.2) no later than the first working day after discovery by the Participant.

5-15.2. Pickup and Delivery [old D5-9]

A Participant must notify the RTO and if practicable, the owner immediately upon in determining that scheduled pickup or delivery dates cannot be met.

5-15.3. Report of Shipment Arrival—International Only [old I5.19]

Participant will notify the RTO and the employee within one (1) workday of a shipment's arrival at agent's facility, and advise of the shipment's first available delivery date.

5-15.4. Agency Shipment Reports—International Only [old I5.19]

The report specified in HTOS Paragraph 9-2.7.1 will be provided to the shipping federal agency within not more than five (5) calendar days following date of pickup of a shipment in either CONUS or overseas.

5-15.5. Settlement Report.—International Only [old I5.14]

Simultaneously with the transmission of the settlement to the employee, the Participant will report to the RTO both the final action taken on any claim, including the date, and the total amount of settlement.

5-15.6. Notice of Reorganization/Bankruptcies [old D5-9]

The Participant must report to the PMO the filing for reorganization or bankruptcy (see HTOS 2-10.9 ) within ten (10) calendar day after the date of filing.

5-15.7. Report of Loss/Damage Tracing [old I5.19]

In the event the shipping Federal agency requires the use of DD Forms 1840 and 1840R, the Participant will report the results of the tracing action to the RTO in writing within thirty (30) working days of notification of loss.

5-15.8. Change in Designated Agent—International Only [old I5.19]

The Participant must report to the PMO any change in its designated agents within 15 calendar days of the cessation of the Participant-agent relationship.

5-15.9. Report of Real Property Damage [old I5.19]

The Participant will notify the RTO in writing no later than the first working day following the discovery of the damage, however caused, to an employee's real property.

5-15.10. Report of Shipments on Hand—International Only [old I5.19]

The carrier will provide the shipments on hand report specified in HTOS Paragraph 9-2.7.4 no later than 4 p.m., local time, on the first business day of the week.

5-15.11. Commercial Port Level Report—International Only [old I5.19]

The carrier will provide the Commercial Port Level Report specified in HTOS Paragraph 9-2.8 no later than 4 p.m., local time, on the first business day of the week.

5-16. Reports to the PMO

5-16.1. Shipment Reports [old D5-9]

The shipment report specified in HTOS Paragraph 9-3.1.2 shall be submitted to the PMO within sixty (60) calendar days after the end of each calendar quarter. Participants submitting their reports electronically as required in HTOS Paragraph 9-3.1.2.1 may submit their reports more frequently.

5-16.2. Claims Settlement Report [old D5-9]

The claims settlement report required in HTOS Paragraph 9-3.1.1 shall be submitted to the PMO within sixty (60) calendar days after the end of each calendar quarter.

5-17. GSA Industrial Funding Fee [old D5-11 & I5.20]

The Participant must remit the GSA industrial funding fee (IFF) specified in HTOS Paragraph 7-1.11 within sixty (60) calendar days after the end of each calendar quarter upon which the shipment reports are required.

5-18. Maintenance of Insurance

5-18.1. Notice of Termination [old I5.2]

The cargo liability insurance certificate must provide that notice of termination or cancellation be furnished to the PMO thirty (30) days prior to such termination or cancellation.

5-18.2. Submission of Certificate of Insurance [old I5.1]

Cargo insurance certification meeting the requirements of Paragraph 5-18.1 must be submitted in accordance with the instructions set out in the Request for Offers.

5-19. Maintenance of Performance Bond

5-19.1. Duration of Bond—International Only [old I5.3]

The bond is continuous until canceled by carrier or surety company. In the event a bond is canceled, it must be replaced effective close of business on the date of the canceled bond in order to maintain approval.

5-19.2. Submission of Performance Bond [old 5.1.2.3]

Performance bond meeting the requirements of Paragraph 5-19.1 must be submitted in accordance with the instructions set out in the Request for Offers.

5-20. Limitation of Action

5-20.1. Claims for Charges

5-20.1.1. Filing of Claims by Participants [old I5.18]

All claims and actions at law by Participants for recovery of their charges on shipments subject to the provisions of this HTOS will be filed within three (3) years (not including any time of war) from the date of any one of the following: (1) Final delivery of the property; (2) Payment of the transportation charges thereon; (3) Subsequent refund of excess charges; or (4) Deduction of such excess charges from Participant's account, whichever is later.

5-20.1.2. Filing of Claims Against Participants [old I5.18]

All claims and actions at law against Participants for recovery of excess charges on shipments subject to the provisions of this HTOS will be filed within three (3) years (not including any time of war) from the date of payment of the charges thereon.

5-20.1.3. Government's Breach of Limitation—International Only [old I5.18]

Provided, however, that if the limitation of actions set forth in this item is breached by the Government by the filing of a claim or action at law (other than by mistake or inadvertence) at a time other than stated in this HTOS Paragraph, this HTOS Paragraph will be of no force and effect and will be void ab intitio.

5-20.2. Claims for Property Loss/Damage [old I5.18]

The time frame for the filing of claims for property loss and damage shall be in accordance with the laws of the United States of America and the terms and conditions of the applicable Government bill of lading.

Section 6—Inspection

6-1. Inspection by the Government

6-1.1. Inspection of Facilities and Operations

6-1.1.1. Right To Review [old D6-1 & I6.1]

The PMO or its designee shall have the right to review and inspect the facilities and operations of any Participant in the Program or its agents to determine if the equipment, facilities, operations, and personnel are adequate and capable of performing the services required by United States Government, or have been performed in accordance with the provisions of this HTOS and the Participant's approval and the requirements of the Federal ordering office. Reviews will be conducted during regular office hours or at any time work is in progress. Published Corporate Participant Quality Control Programs will be presented and explained to authorized inspectors when the Participant's facilities are inspected.

6-1.1.2. Facilities [old D6-1]

The Participant must furnish PMO representatives with free access and reasonable facilities and assistance required to accomplish the review. The Participant shall also provide without cost to the Government legible reproductions of any documents required in the performance of the inspection.

6-1.1.3. Reports of Review [old D6-1]

Upon completion of an on-site review, the PMO shall furnish the Participant within ninety (90) days of completion of the on-site review with a report showing the findings of the review and corrective actions, if any, which must be taken by the Participant to bring its operation into compliance with requirements as set forth in this HTOS. A Participant receiving a report showing corrective actions which need to be taken shall have its approval changed to conditional, and shall have thirty (30) calendar days from its receipt of the report to institute these corrective actions identified as requiring immediate action and to notify the PMO of doing so. In the event the Participant objects to the stated necessary corrective actions and the reasons behind such actions, the Participant may appeal in accordance with the provisions of HTOS Paragraph 8-5.10.2.

6-1.2. Inspection of Service Performance

6-1.2.1. General [old D6-1]

Authorized representatives of the RTO shall have the right to inspect the packing, loading, weighing, pickup, delivery, unpacking, warehousing, and any other services performed or being performed by the Participant. Authorized representatives of the RTO shall include personnel of the GSA designated to perform quality assurance, or in the absence of such GSA personnel, the owner of the property or personnel of the Federal agency employing the owner. Authorized representatives may inspect the performance of services at the residence of the owner of the goods or at the warehouse or other facility of the Participant or its agents during regular office hours or at any time that work is in process.

6-1.2.2. Corrective Action [old D6-1]

When authorized representatives of the RTO find that packing, loading, unpacking, or any other work being performed or already completed does not comply with the terms, conditions or specifications set out in this HTOS, the authorized representative shall so advise the Participant. The Participant must promptly correct the deficiency by taking whatever action is necessary at no additional cost to the Government or the owner.

6-1.2.3. Facilities [old D6-1]

The Participant must furnish Government representatives with free access and reasonable facilities and assistance required to accomplish their inspection.

6-1.2.4. Reports [old D6-1]

6-1.2.4.1. General

Reports of inspection shall be furnished to the PMO. Except as provided in Subparagraph 6-1.2.4.2.2.3.2. below, reports of inspection shall be construed as final and conclusive of the performance of services.

6-1.2.4.2. GSA Form 3080, Household Goods Carrier Evaluation Report

6-1.2.4.2.1. Completion

While any written statement from an authorized representative as specified in HTOS Paragraph 6-1.2.1, above, is an acceptable report of inspection, GSA Form 3080, Household Goods Participant Evaluation, is normally used as a report of inspection and will be provided to the owner of each shipment and to the RTO to assist the GSA in the overall evaluation of customer satisfaction on personal property shipments. Upon completion of services by the Participant at destination, the owner will complete the appropriate section of GSA Form 3080 and transmit it to the RTO for completion of the appropriate section. After completion by both the property owner and the RTO, GSA Form 3080 is returned to the PMO. The PMO will review each completed form to ensure that all shipments routed under the GSA HTOS received high quality service. After the PMO has reviewed the form, the information contained on the form will be entered into the Service Performance Index and Evaluation System (SPIES) data base.

6-1.2.4.2.2. Appeal Procedures

In the event that the rated Participant disagrees with the evaluation contained on the GSA Form 3080, Household Goods Carrier Evaluation, the Participant has the right to appeal such evaluation as specified below. Except as provided below, an appeal received by the PMO directly from a rated Participant will be rejected.

6-1.2.4.2.2.1. Shipment Not Tendered

In the event the rated Participant carrier determines that a shipment was not tendered to its company, the Participant must advise the PMO in writing requesting review and correction.

6-1.2.4.2.2.2. Disagree With the Rating by the Property Owner

In the event the rated Participant disagrees with the property owner's evaluation and the property owner's evaluation had not been changed by the RTO prior to submission to the PMO, the rated Participant must first notify the property owner in writing setting out the basis of the disagreement and requesting the opportunity to resolve it. In the event the rated Participant disagrees with the property owner's evaluation and the property owner's evaluation had been changed by the RTO prior to submission to the PMO, the procedures set out the in Paragraph “Disagree with rating by RTO” apply.

6-1.2.4.2.2.2.1. Disagreement is Resolved

If the property owner and the rated carrier resolve the disagreement and that resolution changes the property owner's rating, the property owner and the rated Participant must jointly advise the RTO by a single memo signed by both. The RTO will then in writing notify the PMO and request that the rating be changed.

6-1.2.4.2.2.2.2. Disagreement is not Resolved

If the property owner and the rated Participant cannot resolve the disagreement, the rated Participant must notify the RTO in writing requesting review and resolution. The request will set out the basis of the disagreement, actions taken to resolve the disagreement, and include a copy of the letter to the property owner and any records that may have been made of conversations, meetings, or correspondence with the property owner. The RTO will then investigate the disagreement, determine whether any changes should be made in the rating, and if so, advise the PMO in writing. The RTO's determination is final and not reviewable by the PMO.

6-1.2.4.2.2.3. Disagree with Rating by the RTO

In the event the rated Participant disagrees with the RTO's evaluation, the rated Participant must first notify the RTO in writing setting out the basis of the disagreement and requesting the opportunity to resolve it.

6-1.2.4.2.2.3.1. Disagreement is Resolved

If the RTO and the rated Participant resolve the disagreement and that resolution changes the RTO's rating, the RTO and the rated carrier must jointly advise the PMO in single memo signed by both.

6-1.2.4.2.2.3.2. Disagreement is Not Resolved

If the RTO and the rated Participant cannot resolve the disagreement, the rated Participant and the RTO must jointly request in a single memo signed by both to the PMO that they request resolution of the disagreement by the PMO and agree to accept the findings of the PMO without further appeal. The request will set out the basis of the disagreement, actions taken to resolve the disagreement, and include a copy of the letter to the RTO and any records that may have been made of conversations, meetings, or correspondence by either party. The PMO will then investigate the disagreement, determine whether any changes should be made to the rating, and if so, advise the rated Participant and the RTO in writing, and correct the rating. If the rated Participant and the RTO cannot agree to jointly request review and resolution by the PMO, the original rating will remain in effect.

6-1.2.4.2.2.4. Oral Appeals

Oral appeals will be construed as without merit and rejected.

6-1.3. Inspection of Sorting for Partial Withdrawal From Sit [old I6.1]

The employee or any other person responsible for payment of the freight charges will have the right to be present at the Participant's facility during the sorting of the property. The Participant will deliver, or the employee has the option to pick up, the property.

6-2. Acceptance by the Government [old D6-2]

Acceptance of the services as satisfactorily performed shall be as determined under such conditions as the RTO specifies.

6-3. Inspection by the Participant (Prepacked Items)

6-3.1. General [old D6-3]

The Participant is responsible for all packing. The Participant is authorized to inspect all prepacked goods to ascertain the contents and determine that only articles not otherwise prohibited by this HTOS are contained in the shipment.

6-3.2. Repacking of Owner-Packed Items [old D6-3]

The Participant is authorized to determine that owner packed goods require repacking. Such repacking will be performed by the Participant in a Participant-provided container. The Government will bear the costs for repacking in this instance, subject to the provisions of Paragraph 7-6 of this HTOS.

Section 7—Payment of Charges

7-1. Payment of Charges

7-1.1. Billing of Charges

7-1.1.1. Applicable Rate [old D7-1 & I7.1]

All charges for transportation and related services for shipments handled shall be in accordance with the lowest applicable tariff or tender, and will be billed to the civilian executive agency shown in the “Bill Charges to” block on the GBL (SF1103 or SF1203). The Participant's public voucher for charges must be supported by the documents specified in HTOS Paragraphs 7-1.2 through 7-1.10, below as applicable. Failure to submit any of the documents shall result in non-payment of the associated charges.

7-1.1.2. Applicable Rate in Absence of Accepted Rate [old I7.1]

Acceptance and movement of a shipment by the Participant over routes for which the Participant has no accepted rates or whose rates have been canceled shall constitute an agreement by that Participant to perform the transportation services at the lowest rate filed by any Participant on that route.

7-1.1.3. Applicable Charges on Overweight Shipments [old I7.1]—International Only

In accordance with HTOS Paragraph 9-2.1.2.2 and in the event that the RTO requires notification of overweight shipments and the Participant fails to notify the RTO in accordance with his/her instructions and moves the shipment from origin to destination, including any intermediate point(s) and the location of SIT, the Participant may collect from the Government without recourse to the relocating employee as transportation and accessorial service charges, including terminal services, an amount equal to the charges accruing to the authorized shipment weight.

7-1.1.4. Applicable Weight When Reweigh Performed [old I7.1]

When a shipment is reweighed in accordance with HTOS Paragraph 4-10.4, charges will be based on the reweigh weight. In the event the reweigh information is not available at the time of the Participant's initial submission of its Public Voucher for Transportation Charges, SF1113, the Participant will either present a supplemental billing adjusting the transportation charges, or adjust supplemental billings to reflect the reweigh weight.

7-1.1.5. Substitute Documents In Lieu of Lost Government Bill of Lading (SF1103 or SF1203) [old I7.1]

If the original GBL is lost or destroyed, the Participant shall forward the freight waybill original (SF1105 or SF1205) to the Federal agency billing office for payment. Duplicate or reproduced copies of SF1105's or SF1205's are not acceptable. If both the original GBL, SF1103 or SF1203, and the freight waybill, SF1105 or SF1205, are lost, the Participant shall request and be provided a certified true copy of the issuing office's Memorandum Copy, SF1103A or SF1203A, for use as a substitute billing document. If the original GBL is located and made available to the Participant before settlement is made, the Participant shall return the memorandum copy to the issuing office. If the original GBL is found after settlement, the Participant shall forward the bill to the appropriate issuing office for proper voiding.

7-1.2. Original Public Voucher for Transportation Charges (SF1113) [old D7-1]

The Participant must include on the SF1113 the following items: (a) The required transit time for the shipment, as set forth in this HTOS; (b) The actual transit time for the shipment; (c) Taxpayer ID Number; and (d) The Late Delivery Reduction assessed as a deduction from total charges in accordance with HTOS Paragraphs 11-1.3 or 11-1.4, as applicable.

7-1.3. Government Bill of Lading (GBL) [old D7-1]

Original Government Bill of Lading or certified copy of the original waybill and other Government approved documentation.

7-1.4. Scale Tickets [old D7-1]

Scale tickets determining net weight (original weighing and reweighing) with proper identification of the shipment thereon and, if applicable, a copy of the written request for reweighing.

7-1.5. Authorization for Diversion or Reconsignment [old D7-1]

Written authorization for diversion or reconsignment.

7-1.6. Approvals and Authorization for Waiver [old D7-1]

If additional charges are to be assessed as a result of a waiver or approval, written authorization is required for a waiver of any requirements stated herein and any written approvals for changes.

7-1.7. Advanced Charges [old I7.1]

Charges advanced by Participant for services of others engaged with the authorization of the RTO will be supported by the Participant with the RTO's authorization, a copy of the invoice setting forth services rendered, charges and basis thereof (including reference to any applicable tariff, price list, rate schedule, or similar statement of rates and charges). The charges so advanced are in addition to and shall be paid with all other lawful rates and charges.

7-1.8. Miscellaneous Charge [old I7.1]

Any cost incurred by the Participant for a service outside the terms of this HTOS, authorized by the RTO, and provided by the Participant will be billed as a miscellaneous charge. A description of the service, the RTO's authorization, and the basis for the computation of the charge is required.

7-1.9. DD Form 619 or Comparable Commercial Form [old D7-1]

Original “Statement of Accessorial Services Performed” (DD Form 619) or comparable commercial form when charges are assessed for accessorial services, not including SIT. Each household appliance serviced will be identified to show the kind, make, model, or the name of the manufacturer; and

7-1.10. DD Form 619-1 or Comparable Commercial Form [old D7-1]

Original “Statement of Accessorial Services Performed—SIT Delivery and Reweigh” (DD Form 619-1) or comparable commercial form, when charges are assessed for SIT delivery. Net or gross weight, whichever is applicable, will be noted on the DD Form 619-1.

7-1.11. GSA Industrial Funding Fee (IFF)

7-1.11.1. Remittance of GSA IFF. [old D7-1]

The GSA IFF will be remitted to GSA on the basis of shipments billed as reported, in accordance with the provisions of HTOS Paragraph 9-3.1.2. The remittance may be transmitted either by check or by electronic funds transfer.

7-1.11.1.1. Remittance by Check [old D7-1]

Checks shall be made payable to “GSA-GL474.1[SCAC Code]”; e.g., “GSA-GL474.1 [YZAB] and mailed to General Services Administration, Accounts Receivable, P.O. Box 73221, Chicago, IL 60673.

7-1.11.1.2. Remittance by Electronic Funds Transfer [old D7-1]

Payments submitted by electronic funds transfer should be submitted in accordance with the below listed format.

Sample Funds Transfer Message Format

[

[1]

[2] [3]

[4] [5] [7]

[8]

[9]

[10]

[11]

[12]

Explanation of References
Ref. | Name | GSA required fill | Explanation
{1} | Priority code |  | Provided by the sending bank. Note: Some Federal Reserve district banks may not require this item.
{2} | Treasury Department Code | 021030004 | The nine-digit identifier is the routing symbol of the United States Treasury. This item is a constant and is required for all funds trasnfer messages note to the United States Treasury.
{3} | Type Code |  | The type code will be provided by the bank.
{4} | Sending Bank Code |  | The nine-digit sending bank code will be provided by the sending bank.
{5} | Class Code |  | The class code may be provided by the sending bank at its option (if permitted by the Federal Reserve district bank).
{6} | Reference Number |  | The reference number may be inserted by the sending bank to identify the transaction.
{7} | Amount |  | The amount will include the dollar sign and the appropriate punctuation including cents digits. This item will be provided by the depositor.
{8} | Sending Bank Name |  | The telegraphic abbreviation which corresponds to item {4} will be provided by the sending bank.
{9} | Treasury Department Name | Treas NYC/(47000016) GSA | This item is of critical importance. It must appear on the funds transfer message in the precise manner as stated to allow for the automated processing and classification of the funds transfer message to the agency location code of the appropriate agency.
|  |  | The item is comprised of a rigidly formatted, non-variable sequence of 15 characters as shown.
{10} | Information | GSA Shipment Surcharge | This item identifies the purpose of payment.
{11} | Information plus SCAC | GL474.1 [YZAB] | This item identifies the account in GSA.
{12} | Information | Payment for [SCAC] | This identifies the Participant making the payment. For [SCAC] substitute the Participant's Standard Carrier Alpha Code.

Example:

2

02103004 10

011000390 0650 $1,500.00

FIRST BOS

TREAS NYC/(47000016)GSA

GSA INDUSTRIAL FUNDING FEE

GL474.1 YZAB

PAYMENT FOR YZAB

7-1.11.1.3. Remittance by Credit Card RESERVED.

7-1.11.2. Failure To Submit Remittance [old D7-1]

The failure to submit the remittance as required by this HTOS Paragraph and in accordance with the time frames established in HTOS Paragraph 5-17 will result in immediate placement in temporary nonuse pending revocation of the Participant's approval to participate in the CHAMP.

7-1.11.3. Application

7-1.11.3.1. First Shipment [old I7.1]

The first shipment of a relocation performed pursuant to this HTOS is defined as a surface shipment of household effects, shipment of a privately owned vehicle, and/or a shipment of unaccompanied air baggage, all or any one of which are tendered to the Participant by the shipping Federal agency at the same time or within six months of the tender of the first component of the first shipment.

7-1.11.3.1.1. Supplemental Shipments [old I7.1]

A supplement shipment of a relocation performed pursuant to this HTOS is defined as any surface shipment, shipment of a privately owned vehicle, or unaccompanied air baggage shipment tendered to the Participant by the shipping Federal agency after six months from the date of the tender of the first component of the first shipment.

7-1.11.3.2. Exclusions

7-1.11.3.2.1. Shipments in Storage-In-Transit [old I7.1]

The GSA Shipment Surcharge does not apply to the pickup or delivery of a shipment to or from SIT when that shipment was stored in transit as part of the first shipment of a relocation as defined in HTOS Paragraph 7-1.11.3.1, above, or when that shipment was a supplemental shipment as defined in HTOS Paragraph 7-1.11.3.1.1, above.

7-1.12. Adjustment Based on Rate Differentials Involved in the Use of Foreign Flag Shipping—International Only [old I7.1]

Adjustments in rates will be permitted when rate differentials are involved due to the use of Foreign Flag Shipping. A Justification Certificate (HTOS Section 15) is required for the use of a Foreign Flag vessel. When increases or decreases occur in rates due to the use of Foreign Flag Shipping, billing and documentation submitted in connection with the ITGBL shipment, will have differences between the Foreign Flag vessel rate and the rate used in computing the accepted transportation single factor rate (SFR), adjusted in favor of the Participant or the Government on the basis of the ocean freight bill which must be submitted to support each Government Bill of Lading. An example of the adjustment required in the event of an ocean rate increase would be.

ITGBL Shipment Adjustment Example.

PROBLEM. 3,000 lb., 450 × $32.00 per cwt. Cubic Ft., ITGBL Rate $32.00 per cwt.

STEP 1. 3,000 lb. = $960.00.

STEP 2. Ocean rate used in constructing the effective ITGBL rate. 81 cents per cubic foot.

STEP 3. Paid to Foreign Flag ocean Participant as shown on freight bill. 90 cents per cubic foot.

STEP 4. Supplemental charge for ocean freight as stated on the ocean freight bill and computed in accordance with the measurement rule stated in tariff governing the rate. 450 cubic feet at 9 cents per cubic foot = $40.50.

STEP 5. Total charges due ITGBL Participant $1,000.50.

7-2. Payment in the Event of Shipment Termination [old I7.2]

7-2.1. Domestic Only

In the event a Participant's right to provide services is terminated by the RTO as provided in HTOS Paragraph 8-1.1.17.1, the Participant will be paid up to the point of termination for services actually performed. Payment to the terminated Participant will be based on the actual services performed, less the difference between the terminated Participant's billing and the billing of the replacement Participant.

7-2.2. International Only

In the event a Participant's right to provide services is terminated by the RTO as provided in HTOS Paragraph 8-1.1.17.2, the Participant will be paid up to the point of termination on a prorated basis for the services actually performed. The basis of proration shall be negotiated between the RTO and the Participant. Upon determination, the RTO's decision shall be final and conclusive.

7-3. Valuation Charges [old D7-2]

Although the liability in excess of that declared by the shipping Federal agency is an expense of the owner, the charges will be billed by the Participant to the finance office of the Federal civilian executive agency sponsoring the shipment and identified as a separate item of billing.

7-4. Charges Storage-In-Transit

7-4.1. General.—International Only [old I7.4]

Except as specifically provided for herein, each portion of the shipment will be rated at the applicable rate in effect on the date of initial pickup of the shipment, based of the total weight of the entire shipment.

7-4.2. Warehouse Handling Charges [old D7-4]

Warehouse handling charges for shipments placed in SIT will be in accordance with the applicable tariff and/or tender for the destination municipality shown on the GBL, unless otherwise specifically authorized by the RTO. In the event the use of trailers, vans, public warehouses, and self storage units is approved, one-half the applicable warehouse handling rate will be paid.

7-4.3. Storage Charges [old 7.4.3]

Storage charges for shipments placed in SIT will be in accordance with the applicable tariff and/or tender for the destination municipality shown on the GBL, unless otherwise specifically authorized by the RTO. In the event the use of trailers, vans, public warehouses, and self storage units is approved, one-half the applicable storage rate will be paid.

7-4.3.1. Storage Charges at Destination—International Only [old I7.6]

When storage-in-transit is at destination, charges, including charges for additional services, advances, and other properly authorized charges will be billed after storage-in-transit is completed. This provision is applicable to temporary storage only.

7-4.4. Pickup or Delivery Charges.—Domestic Only [old D7-4]

Pickup or delivery charges for shipments placed in SIT will be in accordance with the applicable tariff and/or tender for the destination point shown on the GBL, unless otherwise specifically authorized by the RTO.

7-4.4.1. Pickup or Delivery Charges.—International Only [old I7.6]

On shipments delivered from SIT, the applicable transportation charges will be the delivery transportation rate from nearest available Participant's agent DoD/DOS approved SIT facility at destination shown in the “Consignee Block” to final destination point.

7-4.4.2. Use Of A Facility For The Participant's Convenience [old I7.6]

Should the Participant use a more distant facility in excess of it's nearest facility for its own convenience, SIT and related charges will be based on the Participant's agent's nearest available DoD/DOS approved facility. Nearest available Participant's agent DoD/DOS approved storage facility is defined as that Participant's agent's facility which has DoD/DOS approval, has space for the shipment, and is accepting Federal civilian non-DoD traffic from the Participant.

7-4.4.3. Agent Refusal Of SIT Shipment.—International Only [old I7.6]

If the agent refuses to accept a shipment, e.g., because of the Participant's refusal to provide a waiver and/or due to the Participant's poor payment history, the agent's facility will be considered “available” for purpose of determining charges irrespective of what destination warehouse the Participant uses.

7-4.4.4. Delivery/Pickup at a Mini-Storage Warehouse [old I7.6]

Except as otherwise provided herein, if shipment is delivered to or picked up at a mini storage warehouse, the rates for transportation include only the unloading or loading at door, platform, or other point convenient or accessible to the vehicle.

7-4.4.5. Reduction In Charges [old I7.6]

In the event the storage occurs at a point other than the Participant's agent's nearest available facility, regardless of the cause and without the approval of the RTO, and in the event that the transit time for delivery from the actual point of storage to the final destination exceeds the transit time between the Participant's agent's nearest available facility and the final destination, the total charges shall be subject to a reduction equal to the Government paid cost of temporary quarters for the excess transit time.

7-4.5. Charges Applicable to Portion [old I7.6]

The transportation charges to apply on a portion of a storage-in-transit shipment delivered from warehouse location to destination will be the applicable transportation rate based on the weight of such portion, subject to the provisions of HTOS Paragraph 7-4.7.

7-4.6. Overflow [old I7.6]

On property consigned to storage-in-transit wherein an overflow of property requires that a split shipment be delivered to the warehouse on different dates, the charges for such property will be as follows: (1) Transportation charges from initial point of pick up to warehouse location will be based on the combined weight of the property stored in transit, and computation of transportation charges will be as provided in HTOS Paragraph 7-4.8; (2) storage charges in effect on date of initial pick up will apply and be assessed separately on each portion of shipment stored in transit, except the 1,000 pound minimum weight will apply to the combined weight of property stored in transit. Storage will be rated separately on each portion added; (3) warehouse handling charges will apply only once, based on the combined weight of the property stored in transit; (4) all subsequent charges will be based on the combined weight of the property stored in transit.

7-4.7. Withdrawal of Property [old I7.6]

During storage-in-transit, the property owner may withdraw a portion of the property. When the selection of items requires unstacking and/or restacking of the shipment or a portion of the shipment, charges for such handling will be assessed in accordance with labor charges. Charges for transportation furnished, if any, for portion selected for delivery will be assessed on the same basis as would apply to that portion as an individual shipment. The following will be applicable to the portion remaining in storage: (1) Storage charges will continue to apply on the weight of remainder of the property and (2) Charges for transportation furnished, if any, for the delivery of the remainder of the property will be assessed on the same basis as would apply to that portion as an individual shipment. Billing of charges incident to partial withdrawal of property will be in accordance with the instructions of the RTO.

7-4.8. Placement in SIT on Different Dates [old I7.6]

When property is placed in SIT in segments on different dates, the transportation rates and additional service charges in effect on the date of the pickup of the initial shipment will apply to each property segment placed in SIT.

7-4.9. Removal From SIT and Extra Pickup [old I7.6]

When property is removed from storage-in-transit and extra pickups are ordered, the transportation rates and additional service charges in effect on the date of the pickup of the initial shipment will apply based on the weight of the property removed from SIT or constituting the extra pickup.

7-4.10 Exceptions to Item 118 of the GRT (RFO 2-7.13)

The provisions of item 118 of the GRT, Attempted Delivery to Residence from SIT, will not apply: (1) When the delivery is attempted after 5:00 p.m. or before 8:00 a.m., unless previously agreed to or requested by the shipper; (2) when the delivery is attempted between the hours of 8:00 a.m. and 5:00 p.m. but at a time other than that previously requested or agreed to by the shipper; or (3) if delivery is not attempted or shipper is not otherwise contacted within 90 minutes of the prearranged and agreed to delivery time.

7-5. Charges For Lost Or Destroyed Shipment

7-5.1. Total Loss [old D7-5]

The Participant shall not collect, or require, a payment of any charges when the shipment is totally lost or destroyed in transit. Notwithstanding any other provisions of this HTOS Paragraph, the Participant shall collect, and the shipper shall be required to pay, any specific valuation charge that may be due. This HTOS Paragraph shall not be applicable to the extent that any such loss or destruction is due to the act or omission of the shipper.

7-5.2. Partial Loss [old D7-5]

In the event that any portion, but less than all, of a shipment of household goods is lost or destroyed in transit, the Participant shall refund that proportion of its charges (including any charges for accessorial or terminal services) corresponding to that portion of the shipment which is lost or destroyed in transit. In order to calculate the charges applicable to the shipment as delivered, the Participant shall multiply the percentage corresponding to the portion of the shipment delivered by the total charges applicable to the shipment as tendered by the shipper. If the charges so computed exceed the charges otherwise applicable to the shipment as delivered, the lesser of those charges shall apply. Notwithstanding any other provisions of this HTOS Paragraph, the Participant shall collect, and the shipper shall be required to pay any specific valuation charge that may be due. The provisions of this HTOS Paragraph shall not be applicable to the extent that any such loss or destruction is due to the act or omission of the shipper or Acts of God. Participants shall determine, at their own expense, the proportion of the shipment not lost or destroyed in transit.

7-5.3. Partial Loss Involving More Than One Vehicle—International Only [old I7.7]

In the event of the loss or destruction of any part of a shipment being transported on more than one vehicle, the collection of charges as provided in HTOS Paragraph 7-5.2 of this item will also be in conformity with the requirements of this item.

7-6. Charges for Repacking Prepacked Items [old D7-6]

The Government will bear the costs for the Participant repacking owner-packed goods that the Participant has determined require repacking. The charges for such repacking shall be based on the actual size of the carton(s) provided, subject to the Max-pack provisions of the Participants' bureau issued interstate government rate tender.

7-7. Charges for Reweigh [old I7.5]

There will be no charge for a reweigh.

7-8. Application of Prompt Payment Act [old I7.4]

The Prompt Payment Act, 31 USC 3901, et seq., applies to shipments transported under this HTOS.

7-9. Payment of Debt [old I7.10]

Should any Federal agency be advised that a Participant filing rates under the terms of this HTOS has failed to comply with the terms of an arrangement entered into between the Participant and an agency of the Federal Claims Collection Act of 1966 relating to transportation services, that Federal agency may place the Participant in nonuse or disqualification status until such time as the arrangement entered into by the Participant has been complied with.

7-10. Excess Costs—International Only [old I7.11]

To enable the Government to collect excess costs incurred due to Participants/forwarders defaulting on shipments contained in transit, Participants assuming the onward movement will maintain records of all excess costs including demurrage, storage, etc., over and above those normally associated with a shipment.

7-11. Charges for Crating Services

Crating services will be quoted, billed and paid as provided in the GRT. If a third party is used to provide crating services and the charges are in excess of those provided in the GRT, the GBLIO/RTO has the authority to waive and negotiate the excess crating charges in whole or in part, based on the circumstances of the use of third party services.

7-12. Excessive Distance Carry

Notwithstanding any other provisions of the Item 160 of the GRT, any reference to a distance of less than 100 feet will be construed as 100 feet.

Section 8—Responsibilities and Authorities

8-1. Responsible Transportation Officer Responsibilities and Authorities

8-1.1. General

8-1.1.1. Contractor As Responsible Transportation Officer. [old D8-1 & I8.1]

In those instances where a shipment is managed by a third party relocation contractor, pursuant to a contract awarded by GSA or a Federal civilian, non-DOD, agency, the contractor shall have the responsibilities and authorities, to the extent not limited or modified by the contract, set out in this HTOS for the RTO and/or the GBL Issuing Office.

8-1.1.2. General Services Officer (GSO) As Responsible Transportation Officer (RTO) [old I8.1]

For the purposes of this HTOS and where reference is made to the RTO for the authorization of services at foreign origins/destinations, the GSO shall be construed to have the same authority as the RTO.

8-1.1.3. Participant Liability [old D8-1]

The RTO must establish and authorize in writing on the GBL the level of service, as set out in HTOS Paragraph 10-1.2, to be provided by a Participant in furnishing transportation services.

8-1.1.4. Expedited Service [old D8-1]

The RTO must authorize in writing expedited service.

8-1.1.5. Designation of Agent—International Only [old I8.1]

If required by the shipping Federal agency, the RTO is authorized to direct the use of specific agents for performance of origin and destination services.

8-1.1.6. Telephonic Premove Surveys [old D8-1]

The RTO must, in accordance with HTOS Paragraph 4-2.2, approve in writing telephonic premove surveys.

8-1.1.7. Use of Crates [old D8-1]

The RTO must in accordance with HTOS Paragraphs 4-4.2, 4-4.4.2.1, and 4-4.5.7 approve in writing the use of crates.

8-1.1.8. Shuttle Service (Impracticable Operation) [old D8-1]

The RTO must approve in writing the use of shuttle service.

8-1.1.9. Transit Time [old D8-1]

The RTO must approve in writing changes in transit time.

8-1.1.10. Inspection of Services and Facilities [old D8-1]

The RTO is authorized, in accordance with HTOS Paragraph 6-1.1 & 6-1.2, to perform inspections of Participant facilities and of Participant performance of service.

8-1.1.11. Defective Performance [old D8-1]

The RTO is authorized, in accordance with HTOS Paragraphs 6-1.2.1 and 11-1.1.3, to direct the Participant to correct or reperform defective services.

8-1.1.12. Shipment Weight

8-1.1.12.1. Constructive Weight [old D8-1]

The RTO must, in accordance with HTOS Paragraph 4-10.5, approve in writing the use of constructive weight.

8-1.1.13. Indirect Routing [old D8-1]

The RTO must, in accordance with Paragraph 8-5.14.5.7.1, approve in writing indirect routing of a shipment.

8-1.1.14. Use of Foreign Flag Shipping—International Only [old I8.1]

The Responsible Transportation Office must, in accordance with HTOS Paragraph 4-1.2.1.2, approve in writing the use of foreign flag shipping.

8-1.1.15. Use of Alternate Participant.—Domestic Only [old D8-1]

The RTO must, in accordance with Paragraph 8-5.15, approve use in writing of an alternate Participant.

8-1.1.16. Diversion and Reconsignment

8-1.1.16.1. General [old D8-1]

The RTO must authorize and approve in writing the diversion and/or reconsignment of a shipment to a destination area other than that specified on the GBL.

8-1.1.16.1.1. International Shipments [old I8.1]

The destination area is the territory within a fifty (50) air mile radius of the principal building of the United States Embassy or United States Consulate in the destination city or municipality shown on the GBL. Instructions furnished by the owner or his representative to the Participant or its agent to perform local drayage to any point within the destination area shall not constitute an order for diversion or reconsignment. A shipment terminated by the RTO in accordance with HTOS Paragraph 8-1.1.17 will not constitute a diversion.

8-1.1.17. Termination of Performance [old D8-1]

The RTO is authorized to terminate the right of the Participant to provide the services or such part or parts thereof as to which there has been delay, refusal, or failure to complete and to procure similar services on the open market by contract or otherwise, charging against the Participant any excess cost occasioned to the Government thereby, including any applicable Late Delivery Reduction.

8-1.1.17.1. Domestic Only

Included with the meaning of delay, refusal, or failure to complete performance is the frustration of a shipment or shipments due to (1) nonpayment of agent's fees and/or charges by the Participant whereby the shipment is being detained at an agent's facility; (2) detention of a shipment by an origin/destination local agent for any reason relative to Participant/agent disputes; (3) non-traceable or non-available documentation attributable to the fault of the Participant or its agents; (4) inability of the agent and/or Participant to pick up, transport, or deliver a shipment in a timely manner.

8-1.1.17.2. International Only [old I8.1]

Included with the meaning of delay, refusal, or failure to complete performance is the frustration of a shipment or shipments due to (1) nonpayment of charges by the ITGBL Participant whereby the shipment is being detained by the ocean or motor Participant either aboard a vessel or within an ocean or motor terminal; (2) nonpayment of port agent's fees and/or charges by a Participant whereby the shipment is being detained at a port agent's facility by a port agent; (3) detention of a shipment by an origin/destination local agent for any reason relative to Participant/agent disputes; (4) non-traceable or non-available documentation attributable to the fault of the Participant or its agents; (5) port congestion arising from the inability of the port agent and/or Participant to book and clear shipments in a timely manner.

8-1.1.18. Taking Possession of Shipments.—International Only [old I8.1]

When a Participant is placed in worldwide nonuse by a civilian agency, the RTO may take possession of their agency's shipments in the Participant's possession and move them via another Participant to their final destinations. The RTO or his/her authorized agents may inspect local and port agent facilities located in their area of responsibility for shipments of subject Participant still on hand and will be responsible for the termination of these shipments and arranging alternate transportation to final destination.

8-1.1.19. Removal of Property From Disapproved Facilities [old D8-1]

When a Participant's facilities or the facilities of its agent are disapproved for further use, and the RTO or his authorized representative considers it necessary to remove the household goods shipment to prevent damage or contamination, the RTO is authorized to direct the Participant to immediately remove the property and place it in a Government approved warehouse. The cost of such removal will be at the Participant's expense and at no expense to the Government or the property owner.

8-1.1.20. Storage-In-Transit

8-1.1.20.1. SIT at Destination.—Domestic Only [old D8-1]

The RTO must approve in writing SIT in excess of 50 miles from the destination and the charges applicable to such storage location.

8-1.1.20.2. SIT at Destination.—International Only [old I8.1]

The RTO must, prior to placement, authorize and approve in writing the placement of a shipment in SIT at destination. The RTO must, in accordance with HTOS Paragraphs 4-11.3.2 and 7-4.3.1, authorize and approve in writing SIT at a destination location other than the Participant's agent's nearest available DOD/DOS approved storage facility, when used for other than Participant convenience and the charges applicable to such storage location.

8-1.1.20.3. SIT at Other Than Destination [old I8.1]

The RTO must, in accordance with HTOS Paragraphs 4-11.3.1 and 7-4.3, authorize and approve in writing SIT at origin; or SIT at a destination location other than the Participant's agent's nearest storage facility, when used for other than Participant convenience and the charges applicable to such storage location; or in excess of 50 miles from the destination on an interstate or intrastate location; or SIT involving the use of trailers, vans, public warehouses, and self storage units.

8-1.1.21. Approvals/Waivers of Requirements [old D8-1]

Notwithstanding the provisions of this Paragraph 8-1.1.3 and 8-1.1.20.3, above, the RTO is authorized to waive the requirements set forth is this TOS, in whole or in part, on an individual shipment because of the incompatibility of such requirements with the prevailing circumstances.

8-1.2. Filing of Claims

8-1.2.1. Claims for Equitable Adjustment for Incomplete or Non-Performance of Services [old D8-1]

The RTO is authorized to and responsible for filing claims with the Participant for equitable adjustment of the shipment costs in the event of incomplete or non-performance of services.

8-1.2.2. Claims for Loss and/or Damage to Property [old D8-1]

Unless waived to the property owner (see HTOS Paragraph 8-4.6, below), the RTO is authorized to and responsible for filing claims for loss and/or damage with the Participant.

8-1.3. Initial Decisions

8-1.3.1. Excusable Delay, Refusal, or Failure [old D8-1]

When delay, refusal, or failure to provide services is alleged by the Participant to be excusable, the decisions as to whether such delay, refusal, or failure is excusable shall be made only by the RTO. Causes beyond the control and without the fault or negligence of the Participant include, but are not restricted to, acts of God or the public enemy, strikes, freight embargoes, and unusually severe weather; provided, however, that this provision shall not take effect unless the Participant shall notify the Ordering Officer immediately of the cause of any such delay, refusal, or failure. In such event, the Ordering Office will ascertain the facts and the extent of delay, refusal, or failure, advise the RTO who shall then decide the excusability of the delay, refusal, or failure to complete the services. In the event the RTO determines that the alleged delay, refusal, or failure is inexcusable, the Ordering Office shall determine whether to terminate the order. The RTO shall advise the PMO of its decision.

8-1.3.2. Settlement of Claims [old D8-1]

In the event the Participant fails to settle a claim within thirty (30) days of receipt, or an additional thirty (30) days in accordance with HTOS Paragraph 5-12.3, or fails to settle a claim to the full extent of its legal liability as determined and to the satisfaction of the property owner, the Federal agency paying the costs of the services furnished pursuant to this HTOS, or by the Ordering Office, the RTO is authorized to make initial decisions determinative of Participant liability for: (a) Equitable adjustment for incomplete or non-performance of services; and/or, (b) loss of and/or damage to real and personal property. In making decisions determinative of Participant liability, the RTO has the right to interview the Participant, the property owner or his designated representative, review the Participant's settlement and all supporting schedules and documentation, determine the propriety of that settlement and, when appropriate, direct the Participant to resettle in the amount or amounts determined proper by the RTO.

8-1.3.2.1. Delay in Claim Settlement [old I8.1]

The RTO shall, in accordance with HTOS Paragraph 5-12.3, authorize extensions in time for Participant settlement of a claim.

8-1.3.2.2. Claim Settlement Penalty

In the event that the Participant fails to settle a claim within 30 days after receipt due to Participants failure, the Participant will pay a $25.00 per day penalty to the Federal agency. The total penalty shall not exceed $250.00. The RTO has the authority to waive the penalty in whole or in part based on circumstances of the delay.

8-1.3.3. Effect of Initial Decisions [old D8-1]

Unless appealed to the Program Manager, initial decisions of the RTO shall be final and conclusive upon the Participant.

8-1.3.4. Setoff [old D8-1]

In the event the Participant refuses to settle a claim in accordance with the RTO's initial decision or after a final decision by the Program Manager, the RTO is authorized to initiate such action as is necessary to collect from any monies due the Participant, by setoff or otherwise, the settlement determined proper by the RTO or the Program Manager.

8-1.3.4.1. High Risk Item Programs [old I8.1]—International Only

The RTO must establish and authorize in writing, in accordance with HTOS Paragraph 10-1.6, the terms and conditions of any program limiting a Participant's liability for items of high risk.

8-1.3.5. Scheduling Service

8-1.3.5.1. On Saturday, Sunday, or Holidays [old I8.1]

The RTO must authorize and approve in writing prior to performance the beginning of any service that may be scheduled for Saturday, Sunday, local holidays, or Federal holidays.

8-1.3.5.2. For Completion After 5PM, Local Time—Domestic Only [old D5-4]

The RTO, the owner or his/her designated representative may authorize and must approve in writing the beginning of any service that will not allow completion by 5pm, local time. Work completed after 5pm is at no cost to the Government.

8-1.3.5.3. For Completion After 5PM, Local Time.—International Only [old I8.1]

The RTO must authorize and approve in writing the beginning of any service that will not allow completion by 5pm, local time. Work completed after 5pm is at no cost to the Government.

8-1.3.6. Services Beyond Those Specified in the HTOS [old I8.1]

The RTO must authorize and approve in writing prior to performance the Participant furnishing of any services and the charges therefor that are outside the scope of this HTOS.

8-1.3.7. Packing and Stuffing of Containers [old I8.1]

The RTO must, prior to performance, authorize and approve in writing the packing and stuffing of liftvans and overflow boxes at a location other than the origin residence.

8-1.3.8. Inaccessible Locations [old I8.1]

The RTO must in accordance with HTOS Paragraph 4-3.5 approve in writing the removal or placement of property from or to inaccessible locations.

8-1.3.9. Shipment Weight

8-1.3.9.1. Reweigh [old I8.1]

The RTO must, in accordance with HTOS Paragraph 4-10.4, approve the reweigh of a shipment.

8-1.3.10. Use of Third Parties [old I8.1]

The RTO must, in accordance with HTOS Paragraphs 4-5.2, approve the use of third parties.

8-1.3.10.1. Payment of Release Fees and Setoff—International Only [old I8.1]

The RTO is authorized to pay any charges necessary to release a shipment, and to initiate action for setoff of expenses incurred by the Government which are in excess to those which would have been incurred if the Participant had maintained total through movement of the shipment.

8-1.3.10.2. Extension of Storage—International Only [old I8.1]

The RTO is authorized in accordance with HTOS Paragraph 4-11.1 to negotiate storage beyond 180 days.

8-1.3.10.3. Use of Non-Commercial Facilities [old I8.1]

The RTO must in accordance with HTOS Paragraph 4-11.2 approve in writing the use for storage-in-transit of trailers, vans, public warehouses, self storage units, or any other facility not normally used in the normal course of business for the receipt and storage of household goods.

8-1.3.10.4. Ordering Partial Withdrawal From Sit [old I8.1]

The RTO must prior to withdrawal authorize and approve the partial withdrawal of property from SIT and inform the Participant of the billing instructions.

8-1.3.11. Removal or Placement of Property From or to Inaccessible Locations [old I8.1]

The RTO must prior to commencement of performance authorize and approve in writing the removal or placement of property from or to attics, basements, and other locations, and to make property available to the Participant where the location of property and goods to be shipped or delivered is (1) not accessible by a permanent stairway (does not include ladders of any type), (2) not adequately lighted, (3) does not have a flat continuous floor, or (4) does not allow a person to stand erect. The RTO must also, prior to commencement of performance, authorize and approve in writing the charges therefor.

8-1.3.12. Document Preparation and Annotation [old I8.1]

To the extent applicable and not otherwise specifically stated herein, the Ordering Office is responsible for preparation of the GBL, SF1103 or SF1203.

8-1.3.13. Document Distribution [old I8.1]

The Ordering Office is responsible for distributing the GBL in accordance with its agency procedures.

8-2. Program Manager Responsibilities and Authorities [old 8.3]

8-2.1. Participant Request to Participate [old D8-3]

The Program Manager is authorized to approve or reject, in accordance with Section 2, an applicant's request to participate in the Centralized Household Goods Traffic Management Program.

8-2.2. Participant Rate Filing [old D8-3]

The Program Manager is authorized, in accordance with Section 3 to approve, reject, or require the correction of a Participant's rate filing.

8-2.3. Handling of Participant Appeals

8-2.3.1. Revocation of Approval [old D8-3]

In the event a Participant appeals in accordance with the provisions of HTOS Paragraph 8-5.11.1 a proposal to revoke approval of the Participant to participate in this Program, the PMO shall handle the appeal in accordance with the provisions of Federal Acquisition Regulations (FAR), Subpart 9.407-3 (48 CFR 9.407-3); provided, however, that any reference to temporary nonuse in said regulation shall be construed as meaning revocation of approval.

8-2.3.2. Temporary Nonuse, Suspension, and Debarment [old D8-3]

In the event a Participant appeals the Government's proposal to place it in temporary nonuse, suspension, or debarment, the Government shall handle the appeal in accordance with the provisions of FAR Subpart 9.407-3 (48 CFR 9.407-3).

8-2.3.3. Corrective Actions [old D8-3]

In the event a Participant appeals in accordance with the provisions of HTOS Paragraph 8-5.11.3 corrective actions required as a result of an on-site review in accordance with HTOS Paragraph 6-1.1, the PMO shall handle the appeal in accordance with the provisions of FAR Subpart 9.407-3 (48 CFR 9.407-3); provided, however, that any reference to temporary nonuse in said regulation shall be construed as meaning corrective actions.

8-2.3.4. Performance Reports [old D8-3]

In the event a Participant appeals in accordance with the provisions of HTOS Paragraph 8-5.11.4 performance information provided in accordance with HTOS Paragraph 9-5.1.1, the PMO shall consider only those items which are factual in nature and shall inform the Participant of the result of its review within 30 workdays of receiving the Participant's submission or presentation.

8-2.3.5. Claims [old D8-3]

In the event a Participant disagrees with an initial decision of the RTO and a satisfactory agreement cannot be reached, the Program Manager is authorized after review of all relevant and necessary information to issue a final decision on the matter in dispute.

8-2.4. Review of Records [old D8-3]

The Program Manager and any of his duly authorized representatives shall, until the expiration of three years after final payment under this agreement, or of the time periods for the particular records specified in Subpart 4.7 of the Federal Acquisition Regulation (48 CFR 4.7), whichever expires earlier, have access to and the right to examine any books, documents, papers, and records of the Participant involving transactions related to this HTOS or compliance with any clauses thereunder. The Participant shall furnish, upon request, copies of all documents/records deemed necessary by the Program Manager or his designee. The Participant shall furnish copies of such records at no cost to the Government.

8-2.5. Performance Reports (Quarterly) [old D8-3]

The PMO shall furnish Participants a performance report. This report will be furnished to the Participant on a calendar quarter basis, and shall either contain information derived from GSA Forms 3080 received during the previous quarter pertaining to shipments handled by the Participant or consist of copies of the GSA Forms 3080 received during the previous quarter.

8-2.6. Performance Reports (Annual) [old D8-3]

The PMO shall publish an annual report based upon information from GSA Forms 3080 received during the previous calendar year and such other information as the PMO deems appropriate.

8-3. Temporary Nonuse, Suspension, Debarment

8-3.1. By Program Management Office [old D8-4]

The PMO is authorized to place a Participant in a temporary non-use status in accordance with the procedures in the Federal Management Regulations (FMR) Part 102-117. (41 CFR Part 102-117) The PMO, in accordance with the procedures in the FMR Part 102-117, is authorized to refer a Participant for suspension or debarment.

8-3.1.1. Basis for Temporary Nonuse

8-3.1.1.1. General [old I8.3]

The bases specified below supplement those cited in the applicable FMR and are not to be considered exclusive. Repeated instances of the following or other acts within the compass of the FMR may form the basis for suspension or debarment. Temporary nonuse action may be initiated without regard to other Participants or their individual performance.

8-3.1.1.1.1. Agency Agreement Termination-International Only [old I8.3]

In the event the Participant's agent is terminated and the Participant does not establish an agency agreement with a new agent within the time period specified in HTOS 5-5, the Participant may be placed in temporary nonuse until a new agency agreement is effected.

8-3.2. By Shipping Federal Agencies

8-3.2.1. General [old I8.3]

RTOs of the shipping Federal agency are authorized to place a Participant or agent in a temporary nonuse status in accordance with the procedures in the Federal Management Regulations (FMR) Part 102-117. (41 CFR Part 102-117) The RTO, in accordance with the procedures in the FMR Part 102-117, is authorized to refer a Participant for suspension or debarment.

8-3.2.2. Basis for Temporary Nonuse

8-3.2.2.1. General [old I8.3]

The basis specified below supplement those cited in the applicable FMR and are not to be considered exclusive. Repeated instances of the following or other acts within the compass of the FMR may form the basis for suspension or debarment. Temporary nonuse action may be initiated without regard to other Participants or their individual performance.

8-3.2.2.2. Movement of Shipments Without Proper Tarping [old I8.3]

The RTO may immediately place a Participant in temporary nonuse when it is discovered that the Participant has moved shipments in line-haul service which have not been properly tarped.

8-3.2.2.3. Violation of Tender of Service [old I8.3]

The RTO may place a Participant in temporary nonuse because of any substantial violation or repeated violation of any item of this HTOS or failure to perform in accordance with tariff/rate tender and/or other legal requirements. If the action by the Participant is sufficiently serious, the RTO may place the Participant immediately in temporary nonuse.

8-3.2.2.4. Lack of or Incomplete Corrective Action [old I8.3]

The RTO may immediately place a Participant in temporary nonuse in the event that the Participant's corrective actions have not been actually taken.

8-3.2.2.5. Inventory Coding [old I8.3]

The RTO may place a Participant in temporary nonuse for the continued inventory practice of “mass” coding or the totally inaccurate use of coding so as to falsify the actual condition of articles.

8-3.2.2.6. Improper Conduct [old I8.3]

The RTO may place a Participant in temporary nonuse when Participant personnel are reported by the RTO or the owner as being under the influence of alcohol, drugs, as using abusive language, or engaging in abusive conduct.

8-4. Owner Responsibilities

8-4.1. Limitation of Authority [old D8-5 & I8.4]

Except for the reweigh service provision in Section 4, no owner or owner's designated representative shall have authority to make any agreement with the Participant which shall diminish the rights or increase the obligations of the United States Government.

8-4.2. Adverse Weather Conditions [old I8.4]

When packing, loading, unloading or unpacking during adverse weather conditions could create a potential hazard to the owner's household goods or personal effects, such services will be suspended until more favorable weather conditions exists, unless otherwise mutually agreed upon (in writing) between the Participant and the owner.

8-4.3. Removal or Placement of Property From or to Inaccessible Locations [old I8.4]

The owner is responsible for the removal or placement of property from or to attics, basements, and other locations, and to make property available to the Participant where the location of property and goods to be shipped or delivered is (1) not accessible by a permanent stairway (does not include ladders of any type), (2) not adequately lighted, (3) does not have a flat continuous floor, or (4) does not allow a person to stand erect. Employees are not authorized to make the Government liable for the charges incident to the removal or placement of property from or to inaccessible locations.

8-4.4. Inspection and Acceptance [old D8-5]

For the purpose of inspection of the services provided pursuant to this HTOS and in the absence of an authorized representative of GSA, the employing agency, the RTO, or the property owner is authorized to perform inspection of services in accordance with the provisions of this HTOS, the owner's report of inspection shall be administratively final.

8-4.5. Valuation [old D8-5]

Prior to the commencement of services, the owner is authorized to establish a level of service or declared value in excess of that established by the Government for the performance of transportation services.

8-4.6. Claims [old D8-5]

When authorized by the RTO, the owner of the property or his designated representative is authorized to file claims with the Participant for loss of and/or damage to the property. Such authorization need not be in writing. (NOTE: Participants should note that it is common practice for owners to file claims directly with the Participant. Owner filing of a claim is not grounds to refuse settlement.)

8-4.7. Service Dates [old D8-5]

Unless otherwise established by the RTO, the owner of the property is authorized to and is responsible for establishing with the Participant specific dates for the performance of the premove survey, packing, loading, and, if applicable, delivery from storage-in-transit.

8-4.8. Document Preparation and Annotation.

8-4.8.1. Verification of Origin Inventory [old D8-5]

The owner of the property is responsible for verification of the inventory listing and condition of items at the time of pickup.

8-4.8.2. Verification of Destination Inventory [old D8-5]

The owner of the property is responsible for verification of the inventory listing and condition of the items at the time of delivery.

8-4.8.3. Annotation of Loss/Damage at Delivery [old D8-5]

The owner of the property is responsible in conjunction with the Participant for annotating loss and/or damage on the delivery documents.

8-4.8.4. Appraisals Of Property [old D8-5]

The owner of the property is responsible for having appraised by a reputable company any highly valued and/or antique property. A copy of the appraisal may be furnished the Participant prior to the move.

8-4.8.5. Extraordinary Value Inventory [old D8-5]

If required by the Federal agency and prior to packing, loading, and subsequent pickup by the Participant, the owner of property is responsible for identifying and providing the Participant with a listing of all items of extraordinary (unusual) value.

8-4.8.6. Disassembly and Reassembly of Property [old D8-5]

The owner of the property is responsible for the disassembly and reassembly of swing sets, other playground equipment, television and radio antennas, satellite dish antennas, storage sheds, and other similar articles. The draining and refilling of waterbeds is the responsibility of the owner.

8-5. Participant Responsibilities

8-5.1. General [old D8-6 & I8.5]

The responsibilities specified in HTOS Paragraphs 8-5.6 and old 8-5.15 below, are in addition to all other requirements of this HTOS. To the extent that any specific responsibility pertains solely to a Participant, that responsibility shall not be attributed to or expected of an agent. To the extent that any specific responsibility pertains solely to an agent, that responsibility shall not be attributed to or expected of a Participant. To the extent that any responsibility may be considered as mutually shared by both Participant and agent, that responsibility shall be attributed to and expected of both the Participant and the agent it uses. In order not to prejudice the attribution of responsibility, the term “Participant” shall be used through this HTOS Paragraph.

8-5.2. Responsible for Acts or Omissions [old D8-6]

Each Participant providing transportation of household goods subject to the provisions of the HTOS shall be responsible for all acts or omissions of any of its agents which relate to the performance of household goods transportation services (including accessorial or terminal services) and which are within the actual or apparent authority of the agent from the Participant or which are ratified by the Participant.

8-5.3. Responsible for Diligence and Reasonable Care [old D8-6]

Each Participant providing transportation of household goods subject to the provisions of the HTOS shall use due diligence and reasonable care in selecting and maintaining agents who are sufficiently knowledgeable, fit, willing, and able to provide adequate household goods transportation services (including accessorial and terminal services) and to fulfill the obligations imposed upon them by this HTOS and by such Participant.

8-5.4. Shipment Refusal [old I8.5]

The Participant is responsible for refusing shipments offered for any route for which the Participant has no accepted rate or for service areas outside its approved scope of operations.

8-5.5. Shipment Routings

8-5.5.1. Open Routing [old I8.5]

The Participant is responsible for determining the routing of shipments handled under this HTOS.

8-5.5.2. Exception to Open Routing—International Only [old I8.5]

The Participant may not route shipments through ports which historically become congested during peak shipping months with the resultant frustration of HTOS shipments.

8-5.6. Complaint and Inquiry Handling [old D8-6]

Each Participant engaged in the transportation of household goods subject to the provisions of this HTOS shall establish and maintain a procedure for receiving and responding to complaints and inquiries from the RTO and the owner of the household goods or his/her representative. The procedure shall include a means whereby the RTO and the property owner or his/her representative are aware of the telephone number by which they can communicate with the principal office of the Participant. The Participant shall retain and make part of the file relating to a shipment a written record of all complaints received in writing or by telephone from the RTO and the property owner or his/her representative.

8-5.7. Document Preparation and Annotation [old D8-6]

To the extent applicable and not otherwise specifically provided herein, the Participant is responsible for properly preparing and annotating the shipping, billing, and claims settlement (see HTOS Paragraph 8-5.10.2, Claims Settlement Documentation) documents.

8-5.8. Document Distribution [old D8-6]

The Participant is responsible for distributing the shipping documents in accordance with the following.

8-5.8.1. Retained by the Participant [old D8-6]

Original GBL (SF1103 or SF1203), copy of estimate, copy of inventory, originals of DD Form 619 and 619-1, or comparable commercial forms, original weight and reweigh tickets.

8-5.8.2. Documents to be Provided to the Employee [old 8.6.8.2]

8-5.8.2.1. Domestic [old D8-6]

The Participant shall furnish the employee or the employee's agent (1) One copy of the shipping Federal agency GBL, SF1103B or SF 1203B; (2) original estimate; (3) original inventory; (4) copies of DD Forms 619 and 619-1, or comparable commercial forms.

8-5.8.2.1.1. After Delivery [old D8-6]

The Participant shall furnish the employee or the employee's agent (1) A legible copy of DD Form 619-1 or comparable commercial form, if SIT or reweigh services are performed en route or at destination; (2) a legible copy of the reweigh tickets prepared by a certified weighmaster on a certified scale, if requested by the owner or his designated representative, or the RTO; and, (3) if required by the shipping Federal agency, three copies of the DD Form 1840, Joint Statement of Loss or Damage at Delivery. The Participant will provide the documents listed in this HTOS Paragraph to the owner or his designated representative and the RTO within 10 business days after delivery.

8-5.8.2.2. International

8-5.8.2.2.1. After Pickup [old I8.5]

The Participant shall furnish the employee or the employee's agent (1) The consignee's memorandum copy of the shipping Federal agency GBL, SF1103B or SF1203B, as appropriate; (2) a legible copy of the completed Household Effects Descriptive Inventory; and (3) a completed and legible copy of DD Form 619, Statement of Accessorial Service Performed.

8-5.8.2.2.2. After Delivery [old I8.5]

The Participant shall furnish the employee or the employee's agent (1) A legible copy of the DD Form 619-1 or comparable commercial form, if storage-in-transit, reweigh, or other accessorial services are performed en route or at destination; and, if required by the shipping Federal agency, (2) three copies of the DD Form 1840, Joint Statement of Loss or Damage at Delivery.

8-5.8.2.3. Reweigh Tickets [old D8-6]

A legible copy of the reweigh tickets prepared by a certified weighmaster on a certified scale, if requested by the owner or his designated representative, or the RTO.

8-5.8.2.4. Signing of Forms [old I8.5]

The employee or employee's agent will not under any circumstances be asked to sign a blank or partially completed DD Form 619, DD Form 619-1, or any other form, except for the “Unit Price” and “Charge” columns which may be incomplete.

8-5.8.3. Furnished to the Responsible Transportation Officer

8-5.8.3.1. Domestic [old D8-6]

The Participant will provide the RTO the following documents, no later than 14 business days after receipt of shipment or GBL, whichever is later:

8-5.8.3.2. International [old 5.15]

The Participant will provide the RTO the following documents, no later than 7 business days after receipt of shipment or GBL, whichever is later:

8-5.8.3.2.1. After Pickup

8-5.8.3.2.2. One Memorandum Copy of the GBL [old D8-6]

One memorandum copy of the Government Bill of Lading (SF1103A or SF1203A, as appropriate) annotated with the gross, tare, and net weights and charges, including any ITGBL charges (when applicable), to date. For containerized shipments, the Participant will also indicate the total number of containers and the gross cube of the shipment.

8-5.8.3.2.3. Statement of Accessorial Services Performed (DD Form 619) or Comparable Commercial Form [old I8.5]

One signed copy of the Statement of Accessorial Services Performed (DD Form 619 or comparable commercial form) itemizing accessorial services performed will be prepared by the Participant's representative and the employee or his/her agent when such services are required and separately charged. Each household appliance serviced will be identified to show the make, model or name of the manufacturer. All entries for appliance servicing by a third party will be supported by an invoice stating the type of service performed. No accessorial services will be billed when such services are included in single factor rates.

8-5.8.3.2.4. Inventory [old D8-6 & I8.5]

One legible signed copy of the Household Goods Descriptive Inventory, together with on international shipments, a copy of the “bingo cards” which identify the contents of each liftvan or overflow container by inventory line item number.

8-5.8.3.2.5. Weight Tickets [old D8-6]

One legible copy of the weight tickets signed by the person performing the weighing which must contain the information required by the U.S. Department of Transportation (successor to the Interstate Commerce Commission). If the shipment is to be delivered prior to the submission of the aforementioned documents, the RTO will be advised of the weight of the shipment by telephone, or other appropriate means, prior to delivery, unless an exception to this requirement is granted. Confirmation by hard copy, facsimile or expedited delivery may be requested by the RTO.

8-5.8.3.2.6. Reweigh Tickets.—International Only [old I8.5]

A legible copy of the reweigh tickets prepared by a certified weighmaster on a certified scale, if requested by the owner or his designated representative, or the RTO.

8-5.8.3.3. After Delivery

8-5.8.3.3.1. DD Form 1840 [old I8.5]

If required by the Federal agency, the Participant will furnish the responsible Federal agency official at destination with a copy of the DD Form 1840 within 30 days of shipment delivery.

8-5.8.3.3.2. Reweigh Tickets [old I8.5]

A legible copy of the reweigh tickets prepared by a certified weighmaster on a certified scale, if requested by the RTO.

8-5.9. Requests for Approval and Waivers [old D8-6]

Because of the incompatibility of an HTOS requirement with the circumstances prevailing on a given shipment, a Participant may request from the RTO at any time but prior to performance, a waiver of a requirement or approval to provide a special service. If requested verbally, the request must be confirmed in writing.

8-5.10. Claims Documentation

8-5.10.1. Preparation [old I8.5]

The Participant must furnish to the property owner all reasonable and necessary assistance in the preparation and filing of claims. Included in such assistance are inspections of the damaged property, if requested, completion of claim forms, and obtaining estimated repair costs at no cost to property owner.

8-5.10.2. Settlement [old D8-6]

In those instances when a claim is denied in full or compromised in part, the Participant shall, as part of the claims settlement transmittal to the claimant include a written item-by-item analysis of the denial or compromise. Such analysis must be sufficient to establish the reasons and method for denial or compromise. For example, a settlement based on depreciation must include an explanation of how the depreciation was determined. The use of such phrases as “pre-existing damage,” “depreciation allowance,” or “other” is unacceptable.

8-5.11. Appeal Procedures

8-5.11.1. Revocation of Approval [old D8-6]

In the event the PMO proposes to revoke the approval of a Participant to participate in this Program, the Participant has the right to appeal such proposal in accordance with the provisions of FAR Subpart 9.407-3 (48 CFR 9.407-3); provided, however, that any reference to temporary nonuse in said regulation shall be construed as meaning revocation of approval.

8-5.11.2. Temporary Nonuse, Suspension, and Debarment [old D8-6]

In the event the Government proposes to place a Participant in temporary nonuse, suspension, or debarment, the Participant has the right to appeal such proposal in accordance with the provisions of FAR Subpart 9.407-3 (48 CFR 9.407-3).

8-5.11.3. Corrective Actions [old D8-6]

In the event a Participant disputes corrective actions required as a result of an on-site review in accordance with HTOS Paragraph 6-1.1, the Participant has the right to appeal such corrective actions in accordance with the provisions of FAR Subpart 9.407-3 (48 CFR 9.407-3); provided, however, that any reference to temporary nonuse in said regulation shall be construed as meaning corrective actions.

8-5.11.4. Performance Reports [old D8-6]

In the event a Participant disputes performance information provided in accordance with HTOS Paragraph 9-5.1.1, the Participant has a right of appeal for a period of thirty (30) calendar days from the date of report issuance during which the Participant may submit in person, in writing, or through a representative, rebuttal information and arguments opposing the performance information; provided, that the date of report issuance is deemed to be the GSA date stamp on the report.

8-5.11.5. Claims [old D8-6]

In the event the Participant disagrees with an initial decision of the RTO and cannot make a satisfactory resolution regarding equitable adjustment for incomplete or non-performance of services and/or Participant liability for loss and/or damage, the Participant is responsible for submitting such disagreement to the Program Manager for a final decision. The Participant's submission shall contain at a minimum: (a) Name and address of the agency and RTO issuing the initial decision; (b) copy of the initial decision; (c) copy of the GBL; (d) copy of all documents related to the dispute; and (e) copy of all documents supporting the Participant's position.

8-5.12. Equipment [old D8-6]

Equipment shall be in good operating condition and the interior of vans, trailers, and containers shall be clean and contain a sufficient quantity of clean pads, covers, and other protective equipment to ensure safe transit of the household goods.

8-5.13. Facilities [old D8-6]

Participants must maintain equipment, facilities, operations, and personnel adequate and capable of performing the services required by this HTOS and ordered by the Federal ordering office.

8-5.14. Maintenance of Records

8-5.14.1. Records To Be Maintained [old D8-6]

The Participant shall maintain for each shipment handled pursuant to this HTOS copies of the Public Voucher for Transportation Charges, SF1113, and all supporting documents. The Participant shall also maintain all relevant notes, worksheets, and other documents necessary for reconstructing or understanding the shipment and its handling.

8-5.14.2. Microfilming Records [old D8-6]

The Participant may use microfilm (e.g., film chips, jackets, aperture cards, microprints, roll film, and microfiche) or electronic means for record keeping, subject to such limitations as are determined by the Program Manager.

8-5.14.3. Filing and Retrieval [old D8-6]

The Participant shall: (a) maintain an effective indexing system to permit timely and convenient access by the Government to the records and (b) have adequate viewing equipment, if microfilmed or stored electronically, and provide printouts of the approximate size of the original material.

8-5.14.4. Quality Control

8-5.14.4.1. Legibility [old D8-6]

The microfilm when displayed on a microfilm reader (viewer) or reproduced on paper must exhibit a high degree of legibility.

8-5.14.4.2. Periodic Review [old D8-6]

The quality of the Participant's record microfilming or electronic storage processes are subject to periodic review by the Program Manager or authorized representative.

8-5.14.5. Employees

8-5.14.5.1.1. General [old D8-6 & I8.5]

Participants will use only trained personnel qualified in their assigned duties in packing and handling of personal property. When any of the Participant's personnel appears to be under the influence of alcohol or drugs or uses abusive language, or engaging in abusive conduct, the Participant will immediately replace same on the job with qualified personnel, when requested by the shipping Federal agency employee or the shipping Federal agency. The Participant's failure to comply with the request may result in the Participant being placed in a period of non-use by the RTO or by GSA. The Participant will not use parolees, convicts or prison labor in the packing or movement of personal effects belonging to employees of the shipping Federal agency. Trained personnel do not include pickup or truck stop labor. Those employees who perform services at the property owner's residence shall be neat in appearance and in proper attire which identifies them as employees of the Participant or its agent. They shall be neat and in proper uniform identifying them as employees of the Participant and have in their possession valid identification.

8-5.14.5.1.2. Required Identification

8-5.14.5.1.2.1. Personal Identification [old I8.5]

An ID which has a current photo, name, and their signature, such ID consisting of either a valid driver's license or a non-drivers photo ID issued by the appropriate jurisdiction's Department of Motor Vehicles (or equivalent).

8-5.14.5.1.2.2. Participant Issued Identification International Only [old I8.5]

A photo ID showing the Participant name and/or logo, employee name, address, social security number, employment date, and employee signature or a similar ID format from an outside firm specializing in such ID.

8-5.14.5.1.2.3. Participant Identification for Overseas Posts—International Only [old I8.5]

For overseas posts, those individuals who perform services at the property owner's residence, must have in their possession, a Participant issued photo identification card which identifies the individual as an employee of the Participant.

8-5.14.5.1.3. Unacceptable Forms of Identification [old I8.5]

Unacceptable forms of ID include expired driver's license, defaced or illegible photo ID's, photo copies, or other forms of ID.

8-5.14.5.2. Completion of Performance [old D8-6]

Upon temporary nonuse, suspension, or debarment of a Participant, the Participant is required to complete performance of service for any shipments in process, or have the services completed by another Participant, whereupon the nonuse, suspended, or debarred Participant shall reimburse GSA or the appropriate civilian executive agency for all additional expenses incurred in completing the shipments. GSA and the civilian executive agencies maintain the right to immediate possession of a shipment in the custody of a Participant or its agent. Nothing in the HTOS shall be construed as creating or permitting the creation of a lien or other possessory right by the Participant against GSA or the appropriate civilian agency with respect to property which comes into custody or possession of the Participant or its agent.

8-5.14.5.3. Shipment Tracing

8-5.14.5.3.1. Tracing [old I8.5]

In the event the shipping Federal agency requires the use of DD Forms 1840 and 1840R, the Participant will trace all missing items annotated on DD Form 1840 and/or DD From 1840R immediately and respond to the RTO in writing within 30 working days of notification of loss.

8-5.14.5.3.2. Record of Tracing Actions [old D8-6]

The Participant shall retain a written record of all requests for shipment tracing when provided in accordance with HTOS Paragraph 5-10 of this HTOS. The record shall include the date of the requests, time received, name of the requestor, and the date and time status provided.

8-5.14.5.4. Location of Storage-In-Transit

8-5.14.5.4.1. Domestic Only

The Participant will use the Participant's agent facility located within a 50 mile radius of the origin or destination city or installation shown in the “Consignee Block” of the GBL; however, if Participant's facility is located outside the 50 mile radius the Participant must use their agent's nearest facility, and receive authorization from the RTO.

8-5.14.5.4.2. International Only [old I8.5]

The Participant will use the Participant's agent facility located nearest the origin or destination city or installation shown in the “Consignee Block” of the GBL, as appropriate, regardless of the 50 mile radius.

8-5.14.5.5. Quality Control Program [old I8.5]

The Participant will establish and maintain within its company an effective corporate quality control system which will provide total visibility of all facets of the CHAMP and ensures that the Federal civilian, non-DoD, agencies are furnished service equal to or greater than the standards of service established by this HTOS. This system will include, but not be limited to, specific subsystems for the functions of traffic management (routing, tracing, and billing), packaging, employee training and supervision and agent supervision. Upon request to the designated official of the Participant during normal business hours, the Participant will provide the PMO and any requesting Federal agency written detailed descriptions and Standard Operating Procedures for its quality control system. Also, published Corporate Participant Quality Control Programs will be presented and explained to authorized inspectors when the Participant's facilities are inspected.

8-5.14.5.6. Claims for Additional Charges [old I8.5]

Claims for additional transportation or additional accessorial charges over and above those originally assessed by the Participant and paid for by the Government will be presented to the shipping Federal agency, upon request. The claims will contain a full explanation as to the reasons why they are being presented and state specifically the amount claimed thereon.

8-5.14.5.7. Through Responsibility

8-5.14.5.7.1. Movement of Shipments [old D8-6]

All shipments tendered to the Participant will be moved under its responsibility from origin to destination. Unless a Participant has requested approval of indirect routing or transshipment to a particular destination and a waiver is granted by the RTO, shipments shall not transship when satisfactory direct service is available.

8-5.14.5.7.2. Participant Error in Shipment [old I8.5]

As part of the Participant's through responsibility, the Participant understands that if, through its fault or that of its agent, the Participant ships all or a portion of the wrong property or all or a portion of a shipment is sent to the wrong destination, the Participant will be responsible for the return of the erroneous shipment and movement by an expedited method, including air transportation, of the correct property to the employee's destination at its expense. The Participant will coordinate the method of movement with the shipping Federal agency origin and destination RTO's prior to shipment.

8-5.14.5.7.3. Federal Agency/Employee Error in Shipment [old I8.5]

The Participant will not be liable for movement cost for shipments released in error by the shipping Federal agency or by the property owner or owner's agent.

8-5.14.5.8. Ocean Terminal Port Agents—International Only [old I8.5]

The facilities of CONUS and overseas ocean port agents must meet national/host country standards and codes with respect to fire safety, prevention and protection requirements; storage of combustible materials; and are used in accordance with generally accepted warehousing practices.

8-5.14.5.9. Assignment of Bills [old I8.5]

Except for assignment of payment of the Participant's original bills to a bank for collection, the Participant will not subrogate its rights and/or interest in the bills for service rates and charges on which such charges are based or any subsequent claims thereon to third parties. The Participant will always retain the right and authority either to claim or not to claim or to cancel claims or services to the shipping Federal Agency which it furnished and/or billed for. The Participant will not exercise any right under an currently existing agreement nor will it enter into agreements with parties not subject to its control which in any way infringe, controvert, or otherwise subordinate or prevent it from deciding unilaterally whether it will or will not submit a claim or file suit against the Government or pay a claim by the Government after the original bill for services performed under this HTOS.

8-5.14.5.10. Release to Shipping Federal Agency—International Only [old I8.5]

In the case of port agents, all shipping Federal agency household effects (HHE) shipments must be identified on the ocean bills of lading/manifests as personal property shipments of the shipping, sponsoring Federal agency and subject to release to the shipping Federal agency upon demand.

8-5.14.5.11. Agents [old I8.5]

8-5.14.5.11.1. General.—International Only [old I8.5]

Agents specifically used in this program are the choice of the Participant's and the requirements set out in this HTOS Paragraph apply to the relationship between the Participant and its chosen agent.

8-5.14.5.11.2. Located in Service Area.—International Only [old I8.5]

The Participant understands that it must have a resident agent in each state, offshore location, country, and trust territory or possession of the United States, for which it submits rates.

8-5.14.5.11.3. Use of Undesignated Agent.—International Only [old I8.5]

Except in those instances where the shipping Federal agency has not designated a servicing agent, the Participant may not use as an agent any firm that has not been designated by a shipping Federal agency as an origin or destination agent for the localities for which it submits rates.

8-5.14.5.11.4. Use of General Agents.—International Only [old I8.5]

The use of general agents will be allowed.

8-5.14.5.11.5. Operation.—International Only [old 8.5]

The agent's office will be manned at all times during normal working hours with personnel authorized to book shipments or otherwise perform services for the Participant. One employee with such authority is required for one to three Participants represented. One additional employee with such authority is required when more than three Participants are represented. A total of two administrative personnel are required to represent four or more Participants.

8-5.14.5.11.6. Agency Agreements [old I8.5]

8-5.14.5.11.6.1. General.—International Only [old I8.5]

The Participant will contractually bind its agents with a formal written document (and, as necessary, official translation into English) concerning terms and requirements of this HTOS and will provide specific instructions for implementing them prior to the effective date of any accepted rates.

8-5.14.5.11.6.2. Required Agreement Language [old I8.5]

Participants agree to include the following stipulation in their contracts, agreement, and/or order with underlying Participants/agents. “By acceptance of this contract/agreement/order/reimbursement schedule, I recognize that property being transported hereunder is United States Government sponsored personal property and, as such, will not be detained by my firm under any circumstances. Further, I guarantee representatives of the U.S. Government free access to any facilities, including those of my agents, during normal working hours for their lawful purpose of inspecting and removing Participant containers in which United States Government sponsored personal property is shipped”. Agents refusing to consummate agreements/contract which contain this clause will not be used by Participants.

8-5.14.5.11.7. Use of Agents

8-5.14.5.11.7.1. Providing Information to the Government.—International Only [old I8.5]

Upon request from any RTO shipping pursuant to the terms of this HTOS, the Participant will furnish a list of its agents.

8-5.14.5.11.7.2. Changes in Agents

8-5.14.5.11.7.2.1. General.—International Only [old I8.5]

If the Participant finds it necessary to change agents, the Participant understands that a shipping Federal agency representative may inspect the facility and make appropriate recommendation to the PMO.

8-5.14.5.11.7.2.2. Termination of Agent. by the Participant.—International Only [old I8.5]

In the event an agency agreement is terminated by the Participant, the Participant must make immediate interim arrangements to provide necessary destination services on a temporary basis with another agent located in the service area.

8-5.14.5.11.7.2.3. By The Government.—International Only [old I8.5]

In the event an agent is terminated by the PMO or an agent is placed in temporary nonuse by a shipping Federal agency, the Participant must make immediate interim arrangements to provide necessary destination services on a temporary basis with another agent located in the service area.

8-5.14.5.11.7.2.4. By The Agent.—International Only [old I8.5]

In the event that an agent voluntarily withdraws from the program or terminates its agency agreement with a Participant, the Participant must make immediate interim arrangements to provide necessary destination services on a temporary basis with another agent located in the service area.

8-5.15. Use of Alternate Carriers.—Domestic Only

8-5.15.1. Definitions

8-5.15.1.1. Principal Carrier.—Domestic Only [old D8-6]

Principal carrier as used in this paragraph means the carrier, motor common carrier or freight forwarder, named on the Government bill of lading, including its employees and contract (other than trip lease) drivers, if applicable, and those holding primary agency agreements in accordance with 49 CFR 1056.14(a)(1) in the course of which and in the normal course of their business, hold themselves out as representing the principal carrier.

8-5.15.1.2. Alternate Carrier.—Domestic Only [old D8-6]

Alternate carrier as used in this paragraph means a person acting individually or as an established business furnishing origin, line-haul, or destination services for a specific shipment other than the principal carrier. It includes carriers operating in conjunction with the principal carrier on the basis of interline or trip lease arrangements.

8-5.15.2. Motor Carrier.—Domestic Only

8-5.15.2.1. Responsibility.—Domestic Only [old D8-6]

The principal carrier is responsible for and shall physically perform origin, line-haul, and destination services from point of origin to final destination and shall satisfy any claim. Notwithstanding the provision of Paragraph 8-5.15.2.3, below, and in any event the principle carrier is responsible for performance of all services and satisfaction of any claims.

8-5.15.2.2. Use of Alternate Carrier.—Domestic Only [old D8-6]

Unless specifically approved by the GBL Issuing Officer, the principal carrier may not use, transfer, surrender, interline, or otherwise relinquish possession of the property to an alternate carrier. If such action is approved by the GBL Issuing Officer, the alternate carrier must be an approved Participant in the GSA Centralized Household Goods Traffic Management Program.

8-5.15.2.3. Responsibility of Alternate Carrier.—Domestic Only [old D8-6]

The alternate carrier must perform the assigned services to the same extent as the principal carrier and is subject to all provisions of this TOS relating to that performance as though the alternate carrier were the principal carrier.

8-5.15.2.4. Notice to Responsible Transportation Officer (RTO).—Domestic Only [old D8-6]

The principal carrier must notify the RTO in writing prior to performance of services the name of all alternate carriers being used for the performance of origin, line-haul, and destination services.

8-5.15.3. Freight Forwarder.—Domestic Only

8-5.15.3.1. Responsibility.—Domestic Only [old D8-6]

The principal carrier is responsible for the performance of origin, line-haul, and destination services from point of origin to final destination and shall satisfy any claim.

8-5.15.3.2. Use of Alternate Carrier.—Domestic Only [old D8-6]

The principal carrier may not use a motor carrier for the performance of line-haul services that is not an approved Participant in the GSA Centralized Household Goods Traffic Management Program.

8-5.15.3.3. Notice to GBL Issuing Officer.—Domestic Only [old D8-6]

The principal carrier must notify the GBL Issuing Officer in writing prior to performance of services the name of all alternate carriers being used for the performance of origin, line-haul, and destination services.

8-6. Disputes—International Only [old I8.6]

Disputes arising out of any action, undercharge claim, or overcharge claim by the Government against the Participant, not otherwise settled to the satisfaction of either party, will be made the subject of a discussion between the above stated parties within sixty (60) days after either party makes such a request. The purpose of such discussion is to permit the parties to reach an amicable settlement of the dispute without either party having to resort to litigation, and if possible, to resolve the matter for the future. The failure of the parties to reach an agreement or eliminate the dispute under the above procedure will in no way preclude either party from subsequently exercising the legal and administrative remedies otherwise available to it, providing that no suit filed by the Participant will be prosecuted to trial before exhaustion of the administrative remedies described above.

Section 9—Reporting Requirements

9-1. Reports to the Relocating Employee

Reports required to be furnished to the relocating employee are described as part of and in conjunction with those detailed in the paragraph entitled Reports to the RTO.

9-1.1. Pre-move Survey Report [old I9.2]

A copy of the survey that is signed and dated by the estimator, indicating the total estimated net weight of the shipment, will be given to the property owner or his/her agent upon completion of the pre-move survey.

9-2. Reports to the RTO

9-2.1. Weight Variance

9-2.1.1. Notification

In the event the actual shipment weight is greater than 115% of the pre-move survey weight, the Participant must notify the RTO or its third party representative of the original weight prior to billing the Federal Agency and be prepared to justify the difference.

9-2.1.2. Failure to Notify RTO of Weight Variance

In the event the Participant fails to notify the RTO or third party representative, the Participant stipulates that the agreed weight of the shipment will be 115% of the pre-move survey weight.

9-2.1.3. Failure to Justify Weight Variance

In the event the Participant fails to adequately justify the difference between the actual and pre-move survey weights, the Participant stipulates that the agreed weight of the shipment will be 115% of the pre-move survey weight. The agreed weight shall take precedence over the actual weight for the assessment of transportation, accessorial, and storage-in-transit charges when based on weight. The RTO has the authority to waive this provision.

9-2.1.4. Actual Weight in Excess of Employee's Authorized Allowance.—International Only

9-2.1.4.1. General [old I9.3]

Prior to moving any shipment from the origin warehouse, the RTO must be advised, if he/she so requires, of the actual net weight of the shipment. If the shipment weighs in excess of the employee's authorized allowance, the RTO will notify the Participant when it may move the shipment. This time will not be counted against the Participant in calculating its RDD compliance, and payment will be authorized for any SIT at origin.

9-2.1.4.2. Failure to Notify the Responsible Transportation Officer [old I9.3]

In the event that the RTO requires notification of overweight shipments, and the Participant fails to notify the RTO in accordance with his/her instructions, and moves the shipment from origin to destination, the Participant may collect from the Government for transportation and accessorial service charges, including terminal services, only an amount equal to the charges accruing to the authorized shipment weight. In this instance, the Participant may not collect anything from the relocating employee for the excess weight.

9-2.2. Unusual Incidents Report

9-2.2.1. Content of Report [old D9-1]

In the event of incidents of major significance which produce substantial loss, damage, or delay, such as strikes, embargoes, fires, pilferage, vandalism, and similar incidents, the Participant must submit to the RTO by electronic transmission (TELEX, facsimile, or other electronic format acceptable to the shipping Federal agency) the following information on each shipment involved:

(1) Type of incident;

(2) Location of incident;

(3) Last name, first name, and middle initial of employee;

(4) GBL number and date issued;

(5) RTO (both origin and destination);

(6) Origin;

(7) Destination;

(8) Date shipment received by Participant;

(9) Required delivery date;

(10) Date and time of incident or discovery thereof;

(11) Estimated amount of loss and extent of damage;

(12) Current status of shipment, including new estimated time of arrival (ETA);

(13) Location of shipment(s), if applicable, including port and pier location and date vessel arrived or warehouse location, plus the serial number and name of the owner of the sea container(s); and

(14) Name of ship, if appropriate.

9-2.2.2. After Action Report [old D9-1]

The Participant will furnish the RTO an after action report which provides a final assessment of the loss or damage incurred, delays encountered, and final disposition of the household goods.

9-2.3. Delays Report [old D9-4]

When, for any reason, a Participant finds it impossible to meet the scheduled pickup date or the required delivery date, the RTO, and if practicable, the owner, will be notified. Neither the Government nor the relocating employee will be responsible for additional charges assessed on any shipment a Participant or its agent holds for any reason unless specific written approval has been obtained from the RTO.

9-2.4. Storage-In-Transit Location Report [old D9-2]

For shipments delivered to Storage-in-transit (SIT) the Participant shall notify the RTO in writing, by facsimile, or similar electronic means, of the name, address, and telephone number of the warehouse in which the shipment has been placed, and shall make and keep a record of such notification. If a change in warehouse location is effected during the SIT period, the RTO and the property owner must be notified of the change in location and the new telephone number within the timeframe specified in DTOS Paragraph 5-3 & ITOS Paragraph 5.11.

9-2.5. Sit Pickup/Delivery Report.—International Only [old I9.10]

Upon request of the RTO, the Participant will provide information on the afternoon preceding scheduled pickup/delivery as to whether the SIT pickup or delivery will be performed in the morning (0800 to 1200) or in the afternoon (1200 to 1700) of the following day.

9-2.6. Use of DD Forms 1840 and 1840R

9-2.6.1. General [old I9.5]

If use of DD Forms 1840, Joint Statement of Loss or Damage at Delivery, and 1840R, Notice of Loss or Damage, are required by the shipping Federal agency, the procedures and Participant responsibilities covering the use of DD Form 1840 and DD Form 1840R are outlined below.

9-2.6.2. Use of DD Form 1840 and 1840R in Lieu of DD Form 619 [old I9.5]

DD Form 1840 and 1840R will be used in lieu of the loss and damage portions of DD Form 619.

9-2.6.3. Completion [old I9.5]

9-2.6.3.1. Section A [old I9.5]

Complete Section A of the DD Form 1840 and make all five (5) copies available upon delivery.

9-2.6.3.2. Section B [old I9.5]

In conjunction with employee, annotate all loss and/or damage in Section B on all five (5) copies of the DD Form 1840.

9-2.6.4. Distribution [old I9.5]

9-2.6.4.1. To the Employee [old I9.5]

Provide the employee with three (3) copies of the completed DD Form 1840 signed by both the Participant's representative and employee.

9-2.6.4.2. To the Responsible Transportation Officer [old I9.5]

Provide the destination RTO a copy of DD Form 1840 within thirty (30) workdays of delivery.

9-2.7. Agency Shipment Reports [old I9.9]

9-2.7.1. Shipment Report.—International Only [old I9.9]

Within not more than five (5) calendar days following date of pickup of a shipment in either CONUS or overseas, the origin agent will provide the following information to the RTO: (1) Employee's Name; (2) Shipment GBL Number; (3) Pieces, Net Weight, Gross Weight and Cube; (4) Estimated date shipment will be picked up by line-haul equipment for movement to the ocean port; (5) Estimated date of sailing and identity of port and vessel; (6) Routing of vessel and discharge port; and (7) Estimated date of arrival at destination.

9-2.7.2. Notice of Shipment Arrival [old I9.9]

Participant will notify the RTO within one workday of shipment's arrival at agent's facility, and advise of the shipment's first available delivery date.

9-2.7.2.1. On a Normal Workday [old I9.9]

When a shipment arrives at destination on a normal workday, the Participant will notify the RTO before delivery/attempted delivery of household effects to the residence in accordance with the instructions specified on the shipping Federal agency GBL.

9-2.7.2.2. On Other Than a Normal Workday [old I9.9]

In the event the shipment arrives at the destination on a weekend or holiday, the Participant will contact the RTO to ascertain if delivery can be made.

9-2.7.2.3. Arrival Prior to RDD [old I9.9]

For shipments that arrive prior to the RDD, Participant will deliver to the employee or employee's agent prior to the RDD.

9-2.7.2.4. Arrival After the RDD [old I9.9]

For shipments that arrive after the RDD, the Participant will deliver in accordance with the instructions or within two workdays after notifying the destination GSO or the shipping Federal agency Transportation Division, as appropriate, of the shipment's arrival.

9-2.7.3. Late Delivery [old I9.9]

When the Participant knows for any reason it will be impossible for it to have the shipment at destination on or before the RDD, the Participant will notify the RTO at the earliest practicable time, advising it of the last known location of the shipment and furnishing an estimate of the delay expected beyond the RDD. An electronic communication or facsimile will be utilized in notifying the RTO and the Participant, ensuring that the notification reaches the appropriate RTO before expiration of the RDD. At a minimum, the following information will be provided: (1) Last name, first name, middle initial, and SSN of the employee; (2) Origin and destination of the shipment; (3) GBL number and RDD; and (4) Last known location of the shipment and new ETA at destination.

9-2.7.4. Report of Shipments On Hand.—International Only [old I9.9]

If required by the RTO, the Participant will provide a weekly report of all of its shipments (except shipments in Storage-in-Transit) on hand which were picked up from an employee's residence as well as from its agent's facilities before the previous Wednesday. The report will reflect the date, the employees' names, the shipping Federal agency GBL numbers, pickup date, Participant code and RDD. Negative reports are required.

9-2.7.5. Participant Error in Shipment [old I9.9]

The Participant will report to the RTO any instances in which the Participant ships all or a portion of the wrong property or in which all or a portion of a shipment is sent to the wrong destination.

9-2.8. Commercial Port Level Report.—International Only [old I9.7]

Unless otherwise required by the RTO, the Participant shall submit to the shipping Federal agency and the US Dispatch Agents during the period May through September of each year a commercial port agent report showing a weekly summary of the total number of personal property shipments on hand at commercial ports for the preceding week. Reports must be submitted by FAX. See ITOS Section 15 for specific report format.

9-2.9. Ocean Terminal Port Agents.—International Only

9-2.9.1. Submission of Port Agent Rosters.—International Only [old I9.15]

If required by a Federal agency shipping pursuant to this HTOS, the Participant will submit copies of the ocean terminal port agent rosters in the following manner: (1) Three (3) copies of the rosters of CONUS ocean terminal port agents to the shipping Federal agency; and (2) Five (5) copies of the rosters of overseas ocean terminal port agents to the shipping Federal agency.

9-2.9.2. Updating the Port Agent Roster.—International Only [old I9.15]

If Participants are required to submit ocean terminal port agent rosters in accordance with the above, the Participants will update the ocean terminal port agent rosters annually. Changes in the names, locations, and telephone numbers will be submitted as they occur to the shipping Federal agency.

9-3. Reports to the PMO

9-3.1. Claim Settlement and Shipment Reports

9-3.1.1. Claim Settlement Reports [old D9-3]

In accordance with the reporting periods specified in DTOS Paragraph 5-9D and ITOS Paragraph 5.19.6, Participants shall furnish to the PMO a quarterly report of claims settled during the calendar quarter on shipments handled pursuant to this HTOS. For the purposes of this reporting requirement, the reportable claim settlement is the first offer (full payment, partial payment, or full denial) made by the Participant.

9-3.1.1.1. Claim Report Content and Format Requirements

Such report shall contain information identified in HTOS Paragraph 9-3.2.2.6 for electronic submission requirements. For purposes of this requirement, the content should identify all first proviso household goods claims, claims for POV's and UAB claims handled pursuant to this HTOS. This provision applies to both domestic and international shipments.

9-3.1.2. Shipment Reports [old D9-5]

The Participant shall furnish to the PMO by electronic filing, a quarterly report of shipments billed to the applicable Federal Agency during the quarter on shipments handled pursuant to this HTOS. Only those shipments billed for which the GSA Industrial Funding Fee (IFF) is applicable will be included in the shipment reports. For purposes of this report, the date of submission of the Public Voucher for Transportation Charges, SF1113, (billing date) is the determining date.

9-3.1.2.1. Shipment Report Content and Format Requirements

Such report shall contain information identified in HTOS Paragraph 9-3.2.2.2 for electronic submission requirements. For purposes of this requirement, the content should identify all first proviso household goods shipments, POV's and UAB handled pursuant to this HTOS. This provision applies to both domestic and international shipments.

9-3.1.3. Report Deficiencies—Shipment, Claim Reporting

9-3.1.3.1. Shipment and Claim Reports

The PMO will notify the Participant of any shipment or claim report deficiency. If a Participant's report is submitted by a Service Provider, the Provider will be notified of the deficiency, not the Participant. Failure to correct deficiencies in either the shipment and/or claim report will result in an incomplete report submission status, and will therefore, affect a Participant's Customer Satisfaction Index score.

9-3.1.3.2. Negative Reports [old D9-3]

Participants are required to submit a negative report even if a shipment was not billed or if a claim was not settled during the quarter. The Participant will be considered non responsive if it doesn't file either report and will be subject to HTOS 9-3.1.3.3.

9-3.1.3.3. Failure To Submit Reports [old D9-3]

Failure to submit either the claims settlement or shipment reports in two consecutive quarters and/or three of four quarters will result in the withdrawal of a Participant's rates and/or subsequent revocation of its approval. Failure to submit one of four quarters of either the shipment and/or claim reports will result in an incomplete report submission status, and will affect a Participant's Customer Satisfaction Index score.

9-3.1.4. Industrial Funding Fee

The total number of household shipments reported in HTOS Paragraph 9-3.1.2. must be equally dividable by the Industrial Funding Fee (IFF) amount, as identified in the Request for Offers. In the event the number of shipments reported cannot be divided equally by the IFF amount, the Participant will be responsible for verifying the deficiency to the PMO. Any deficiencies found will be handled in accordance with HTOS Paragraph 9-3.1.4.1. and 9-3.1.4.2.

9-3.1.4.1. Industrial Funding Fee Deficiencies

In the event deficiencies are found in the IFF amounts submitted to GSA, the PMO will notify the Participant in writing of the existing deficiency. The Participant will be given an opportunity to correct the noted deficiency.

9-3.1.4.2. Correction of Deficiencies in IFF

Failure to acknowledge or correct deficiencies after notification by the PMO will result in the PMO placing the Participant in a temporary non-use status, in accordance with procedures in Federal Management Regulation (FMR) Part 102-117. The PMO is authorized to refer a Participant for suspension or debarment.

9-3.1.4.3. Failure To Submit IFF

Failure to submit the Industrial Funding Fee due GSA for household goods shipments handled, will result in immediate placement of the Participant in temporary non-use status pending revocation of the Participant's approval, in accordance with HTOS paragraph 7-1.11.2, Failure to Submit Remittance.

9-3.1.5. Filing Requirements

9-3.1.5.1. Hard Copy Reports [old D9-3]

Hard copy (paper) reports will not be accepted. In those instances where hard copy reports are submitted to the PMO, it will be considered the same as a failure to submit reports and handled in accordance with HTOS Paragraph 9-3.1.3.3.

9-3.1.6. Report Format Requirements

9-3.1.6.1. General

The claims settlement and shipment reports specified above shall meet the requirements set out in this paragraph.

9-3.1.6.2. Consolidated Reports

In no instance shall any combination of shipment reports (domestic or international) and claim reports (domestic or international) be consolidated. Each report must be separate, with a separate header and filename.

9-3.1.6.3. Electronic Media Reports

9-3.1.6.3.1. Schedule for Submission

Electronic media reports must be submitted in accordance with the following requirements. Electronic media reports must be transmitted between the dates indicated below of each calendar year:

Quarter | Months | Submission
1st | Jan-March | April 1 thru May 31
2nd | April-June | July 1 thru August 31
3rd | July-Sept | Oct 1 thru Nov 30
4th | Oct-Dec | Jan 1 thru Feb 28 (29)

9-3.2. Claim Settlement and Shipment Report Format Requirements [old D9-7]

Format requirements, as set out below, must be adhered to. Submissions received from Participants or services not conforming to the record requirements will be unacceptable and not incorporated in the database. Submissions received from Participants or filing services not conforming to the report formatting specifications will be rejected. The below listed formatting requirements for the submission of shipment and claim reports will be in effect for all reports filed for 3rd Quarter Calendar Year 1999.

9-3.2.1.Line 1: Report Header

This line is the Header Record providing information about the Participant report. The Header Record is position sensitive. Positions marked with an asterisk (*) are numeric and must, if necessary, be zero filled from the left (i.e., 00250).

Field | Required positions | Record position(s) | Contents
Header ID | 1 | 1 | Must be S for Shipment files, C for Claim files.
Field Delimiter | 1 | 2 | Comma.
SCAC | 4 | 3-6 | Four (4) digit Standard Carrier Alpha Code. Identify the SCAC for the carrier the GBL was issued to.
Field Delimiter | 1 | 7 | Comma.
Type of Transportation | 2 | 8-9 | Enter GD for General Domestic, GI for General International, DD for Direct Domestic Move Management, DI for Direct International, BD for Broker Domestic Move Management, or BI for Broker International. **Please note that if you provide multiple services within CHAMP, you must create separate reports (files) for each type of service provided.
Field Delimiter | 1 | 10 | Comma.
* Number of Records | 4 | 11-14 | Number of records transmitted. This identifies the number of lines submitted in the shipment report. Example: 0321=321 records. **If this is a Negative report, use all zeros.
Field Delimiter | 1 | 15 | Comma.
Identifying Quarter | 5 | 16-20 | YYYYQ—Complete year with the calendar quarter number, where Q = calendar quarter as referenced in file naming above. Example: 19993 = third quarter of 1999
Examples:
(1) 50 General Domestic Shipments for January-March, 1999: S,GSAA,GD,0050,19991
(2) 101 Broker International Shipments for July-September, 2000: S,GSAA,BI,0101,20003
(3) 20 General International Claims for April-June, 1999: C,GSAA,GI,0020,19992
(4) 87 Broker Domestic Claims for October-December, 2000: C,GSAA,BD,0087,20004
(5) Negative General Domestic Shipment Report for April-June: S, GSAA,GD,0000,19992
(6) Negative General Domestic Claim Report for April-June: C,GSAA,GD,0000,19992

9-3.2.2.Line 2: Detail Records

9-3.2.2.1. General

Information on claims and shipments. Line 2 and each line thereafter will identify individual shipment records. For illustration purposes, claim and shipment formats are shown separately.

9-3.2.2.2. Shipment Report Spreadsheet Format

Entry format is text entry (i.e. left aligned). Fields marked with an asterisk (*) are numeric and must, if necessary, be zero filled from the left (i.e., 00250 for 250) depending on the field size. Save the file as a comma-separated file (.CSV) then rename as necessary (.SHP or .ERS).

Field | Required positions | Record position(s) | Contents
Record ID | 1 | 1 | Must be S
Field Delimiter | 1 | 2 | Comma
SCAC | 4 | 3-6 | Four (4) digit Standard Carrier Alpha Code Identify the SCAC for the carrier the GBL was issued to.
Field Delimiter | 1 | 7 | Comma
Type of Transportation | 2 | 8-9 | Enter GD for General Domestic, GI for General International, DD for Direct Domestic Move Management, DI for Direct International, BD for Broker Domestic Move Management, or BI for Broker International.
Field Delimiter | 1 | 10 | Comma
Type of Move | 3 | 11-13 | If the GBL was used for household goods, put in HHG; for Automobile, put in POV; for Unaccompanied Air Baggage, put in UAB. **If multiple elements were moved using one GBL, each element must have an individual shipment record.
Field Delimiter | 1 | 14 | Comma
Federal Agency Identification Code | 9 | 15-23 | Agency's 9 digit User ID code used to access ITMS. This User ID can be obtained directly from the using agency or from the ITMS system itself. If unable to obtain the proper User ID, please contact the PMO. Records with this field blank. X or zero-filled will not be accepted.
Field Delimiter | 1 | 24 | Comma
Carrier Reference Number | 15 | 25-39 | Carrier reference number used when the shipment was booked by the carrier. Start the reference number with position 25. If reference number does not consist of 15 numbers, place X's after number to fill out the 15 positions. Example: Reference number 135895 would appear as 135895XXXXXXXXX. Records with this field blank, X or zero filled will not be accepted.
Field Delimiter | 1 | 40 | Comma
Billing Date | 8 | 41-48 | Date of Agency Billing (YYYYMMDD)
Field Delimiter | 1 | 49 | Comma
BL Number | 8 | 50-57 | Bill of Lading Number. Use GBL number OR commercial bill of lading (CBL) number that was used to handle the shipment. If CBL number is less then 8 characters, place X's after the number to fill in field. Records with this field blank or zero filled will not be accepted.
Field Delimiter | 1 | 58 | Comma
Type of GBL | 1 | 59 | Input V if Virtual GBL was used. Input G if standard GBL was used.
Field Delimiter | 1 | 60 | Comma
Pickup Date | 8 | 61-68 | YYYYMMDD (19980215 = February 15, 1998)
Field Delimiter | 1 | 69 | Comma
Delivery Date | 8 | 70-77 | YYYYMMDD (see Pickup Date)
Field Delimiter | 1 | 78 | Comma
* Transit Time | 3 | 79-81 | Actual Transit Times in days Example: 007 = 7 days
Field Delimiter | 1 | 82 | Comma
Origin State or Country Code | 4 | 83-86 | Four digit state or country identifier. State is the two digit state identifier, all CAPS, plus two (2) zeros (0) Example: FL00. Country code is the four-digit country code as listed in the most current Request For Offers. Example: Germany = 3940 Records with this field blank, X or zero filled will not be accepted.
Field Delimiter | 1 | 87 | Comma
Origin Zip Code | 5 | 88-92 | 5-digit zip (X Fill for Canada or International Shipments)
Field Delimiter | 1 | 93 | Comma
Destination State or Country Code | 4 | 94-97 | See Origin State above. Records with this field blank, X or zero filled will not be accepted.
Field Delimiter | 1 | 98 | Comma
Destination Zip Code | 5 | 99-103 | 5-digit zip (X Fill for Canada or International Shipments)
Field Delimiter | 1 | 104 | Comma
* Actual Weight Shipped | 5 | 105-109 | In pounds for HHG or UAB. Example: 09800 = 9800 pounds. If the record is for POV, place five (5) zeros, 00000 **If field is zero filled for POV, positions 11-13 must state POV
Field Delimiter | 1 | 110 | Comma
* Mileage | 4 | 111-114 | Whole miles only. Example: 0750 = 750 miles. This field should be zero filled for International moves.
Field Delimiter | 1 | 115 | Comma
* Transportation Charge | 5 | 116-120 | Exclusive of SIT charges, in whole dollars only. Example: 07600 = $7,600.00
Field Delimiter | 1 | 121 | Comma
Employee's Last Name | 15 | 122-136 | Last name of the employee listed on the GBL in all CAPS. If the employee's name does not consist of 15 letters, place X's after the name to fill out the 15 positions. Example: The name of Jones would appear as JONESXXXXXXXXXX. Records with this field blank, X or zero filled will not be accepted.
Field Delimiter | 1 | 137 | Comma
Participants Tax ID Number | 9 | 138-146 | Participant TIN

Examples:

(1) Domestic:

A | B | C | D | E | F | G | H | I | J | K | L
S | GSAA | GD | HHG | RXPG8TY43 | Q794912349XXXXX | 19990612 | S12345XX | V | 19990105 | 19990312 | 007

M | N | O | P | Q | R | S | T | U
MO00 | 64131 | OK00 | 71222 | 10030 | 0400 | 03800 | SMITH-BATTSONXX | 103777444

(2) International:

A | B | C | D | E | F | G | H | I | J | K | L
S | GSAA | GI | POV | RXPG8TY43 | Q794-P912666XXX | 19991012 | PP123456 | G | 19990601 | 19990724 | 053

M | N | O | P | Q | R | S | T | U
MO00 | 64131 | 490J | XXXXX | 00000 | 0000 | 03800 | SMITH-BATTSONXX | 103777444

9-3.2.2.3. State Codes (CONUS) for Use in Shipment

State | Code
Alabama | AL00
Alaska | See Table Below.
Arizona | AZ00
Arkansas | AR00
California | CA00
Colorado | CO00
Connecticut | CT00
Delaware | DE00
District of Columbia | DC00
Florida | FL00
Georgia | GA00
Idaho | ID00
Illinois | IL00
Indiana | IN00
Iowa | IA00
Kansas | KS00
Kentucky | KY00
Louisiana | LA00
Maine | ME00
Maryland | MD00
Massachusetts | MA00
Michigan | MI00
Minnesota | MN00
Mississippi | MS00
Missouri | MO00
Montana | MT00
Nebraska | NE00
Nevada | NV00
New Hampshire | NH00
New Jersey | NJ00
New Mexico | NM00
New York | NY00
North Carolina | NC00
North Dakota | ND00
Ohio | OH00
Oklahoma | OK00
Oregon | OR00
Pennsylvania | PA00
Rhode Island | RI00
South Carolina | SC00
South Dakota | SD00
Tennessee | TN00
Texas | TX00
Utah | UT00
Vermont | VT00
Virginia | VA00
Washington | WA00
West Virginia | WV00
Wisconsin | WI00
Wyoming | WY00

Alaskan Points | Code
Anchorage | AN00
Cordova | CV00
Fairbanks | FB00
Juneau | JN00
Ketchican | KN00
Kodiak | KD00
Petersburb | PB00
Sitka | SA00
Wrangell | WG00
Note: See the International table for the code for the Hawaiian Islands, Puerto Rico, Guam and Virgin Islands.

9-3.2.2.4. Canadian Provincial Codes for use in Shipment Origin/Destination

Province | Code
Alberta | AB00
British Columbia | BC00
Labrador | LB00
Manitoba | MB00
New Brunswick | NB00
Newfoundland | NF00
Northwest Territories | NT00
Nova Scotia | NS00
Ontario | ON00
Prince Edward Island | PE00
Quebec | PQ00
Saskatchewan | SK00
Yukon | YT00

9-3.2.2.5. Country Codes for use in Shipment Origin/Destination

ALBANIA | 120A
ALGERIA | 1250
AMERICAN SAMOA | 060A
ANGOLA | 1410
ANTIGUA | 1490
ARGENTINA | 150A
AUSTRAILIA | 160A
AUSTRIA | 1650
AZORES | 735A
BAHAMAS | 1800
BAHRAIN | 1810
BANGLADESH | 1820
BARBADOS | 1840
BELGIUM | 1900
BELIZE | 2270
BERMUDA | 1950
BOLIVIA | 2050
BOTSWANA | 2100
BRAZIL | 220A
BRUNEI | 2320
BULGARIA | 2450
BURKINA FASO | 9270
BURMA | 2500
BURUNDI | 2520
CAMBODIA | 2550
CAMEROON | 2570
CANARY ISLANDS | 830C
CAYMEN ISLANDS | 2680
CENTRAL AFRICAN REPUBLIC | 2690
CHAD | 2730
CHILE | 2750
CHINA | 2800
COLOMBIA | 2850
COSTA RICA | 2950
CROATIA | 4400
CUBA | 3000
CYPRUS | 3050
CZECHOSLOVAKIA | 3100
DENMARK | 3150
DJIBOUTI | 3170
DOMINICAN REPUBLIC | 3200
ECUADOR | 3250
EGYPT | 9220
EL SALVADOR | 3300
ENGLAND | 925E
ETHIOPIA | 3350
FIJI | 3380
FINLAND | 3400
FRANCE | 3500
GABON | 3880
GERMANY | 3940
GHANA | 3960
GREECE | 4000
GUADELOUPE | 4070
GUAM | 170G
GUATEMALA | 4150
GUINEA | 4170
GUYANA | 4180
HAITI | 4200
HAWAIIAN ISLANDS OF HAWAII, KAUAI, MAUI, OAHU | 210H
HONDURAS | 4300
HONG KONG | 4350
HUNGARY | 4450
ICELAND | 4500
INDIA | 4550
INDONESIA | 4580
IRELAND | 4700
ISRAEL | 4750
ITALY | 4800
IVORY COAST | 4850
JAMAICA | 4870
JAPAN | 490J
JORDAN | 5000
KAZAKHSTAN | 5250
KENYA | 5050
KOREA (SOUTH) | 5150
KUWAIT | 5200
LAOS | 5300
LEBANON | 5400
LITHUANIA | 5420
LUXEMBOURG | 5700
MADAGASCAR | 5750
MALAWI | 5770
MALAYSIA | 5800
MALI | 5850
MALTA | 5900
MARINAS ISLAND | 591M
MAURITANIA | 5920
MAURITIUS | 5930
MEXICO | 5950
MICRONESIA | 0630
MONACO | 6070
MOROCCO | 6100
MOZAMBIQUE | 6150
NAMIBIA | 8210
NEPAL | 6250
NETHERLANDS | 6300
NETHERLANDS ANTILLES | 6400
NEW ZEALAND | 6600
NICARAGUA | 6650
NIGERIA | 6700
NORTHERN IRELAND | 925I
NORTHERN MARIANA ISLANDS | 0690
NORWAY | 6850
OKINAWA | 490K
OMAN | 6160
PAKISTAN | 7000
PANAMA | 7100
PAPUA NEW GUINEA | 7120
PARAGUAY | 7150
PERU | 7200
PHILIPPINES | 7250
POLAND | 7300
PORTUGAL | 7350
PUERTO RICO | 180P
QATAR | 7470
ROMANIA | 7550
RUSSIA | 8250
SAIPAN | 069S
SAUDI ARABIA | 7850
SCOTLAND | 925S
SENEGAL | 7870
SIERRA LEONE | 7900
SINGAPORE | 7950
SLOVENIA | 7890
SOLOMON ISLANDS | 789S
SOUTH AFRICA | 8010
SPAIN | 8300
SRI LANKA | 2720
SUDAN | 8350
SURINAME | 8400
SWEDEN | 8500
SWITZERLAND | 8550
SYRIA | 8580
TAHITI | 350T
TAIWAN | 2810
TANZANIA | 8650
THAILAND | 8750
TRINIDAD | 205T
TUNISIA | 8900
TURKEY | 9050
UGANDA | 9100
UKRAINE | 9280
UNITED ARAB EMIRATE | 8880
URUGUAY | 9300
VENEZUELA | 9400
VIETNAM | 9450
VIRGIN ISLANDS OF ST. THOMAS & ST. CROIX | 190V
VIRGIN ISLANDS OF ST. JOHN | 200V
WESTERN SAMOA | 9630
YEMEN | 9650
YUGOSLAVIA | 9700
ZAIRE | 2910
ZAMBIA | 9900
ZIMBABWE | 8180

9-3.2.2.6. Claim Settlement Spreadsheet Format

Entry format is text entry (i.e. left aligned). Fields marked with an asterisk (*) are numeric and must, if necessary, be zero filled from the left (i.e., 00250 for 250) depending on the field size. Line 2 and each line thereafter will identify individual claim records.

Field | Required positions | Record position(s) | Contents
Record ID | 1 | 1 | Must be C.
Field Delimiter | 1 | 2 | Comma.
SCAC | 4 | 3-6 | Four (4) digit Standard Carrier Alpha Code. Identify the SCAC for the carrier the GBL was issued to.
Field Delimiter | 1 | 7 | Comma.
Type of Transportation | 2 | 8-9 | Enter GD for General Domestic, GI for General International, DD for Direct Domestic Move Management, DI for Direct International, BD for Broker Domestic Move Management, or BI for Broker International.
Field Delimiter | 1 | 10 | Comma.
Type of Move | 3 | 11-13 | If multiple elements were moved using one GBL, each element must have an individual shipment record; if the GBL was used for household goods, put in HHG; for Automobile, enter POV; and for Unaccompanied Air Baggage, enter UAB. ** If multiple elements were moved using one GBL, each element must have an individual shipment record.
Field Delimiter | 1 | 14 | Comma.
Federal Agency Identification Code | 9 | 15-23 | Agency's 9 digit User ID code used to access ITMS. This User ID can be obtained directly from the using agency or from the ITMS system itself. If unable to obtain the proper User ID, please contact the PMO. Records with this field blank, X or zero-filled will not be accepted.
Field Delimiter | 1 | 24 | Comma.
Carrier Reference Number | 15 | 25-39 | Carrier reference number used when the shipment was booked by the carrier. Start the reference number with position 25. If reference number does not consist of 15 numbers, place X's after number to fill out the 15 positions. Example: Reference number 135895 would appear as 135895XXXXXXXXX. Records with this field blank, X or zero filled will not be accepted.
Field Delimiter | 1 | 40 | Comma.
BL Number | 8 | 41-48 | Bill of Lading Number. Use GBL number OR commercial bill of lading (CBL) number that was used to handle the shipment. If CBL number is less then 8 characters, place X's after the number to fill in field. Records with this field blank or zero filled will not be accepted.
Field Delimiter | 1 | 49 | Comma.
Type of GBL | 1 | 50 | Input V if Virtual GBL was used. Input G if standard GBL was used.
Field Delimiter | 1 | 51 | Comma.
Date Claim Received | 8 | 52-59 | YYYYMMDD (19990315 = March 15, 1999).
Field Delimiter | 1 | 60 | Comma.
Date Claim Settled | 8 | 61-68 | YYYYMMDD (see claim received date).
Field Delimiter | 1 | 69 | Comma.
Days to settle | 3 | 70-72 | Number of days, excluding day of receipt, but including the settlement date. Example: 010 = 10 Days
Field Delimiter | 1 | 73 | Comma.
Amount Claimed | 6 | 74-79 | Whole dollars only Example: 000500 = $500.00.
Field Delimiter | 1 | 80 | Comma.
Amount Settled | 6 | 81-86 | Whole dollars only. Example: 000250 = $250.00.
Field Delimiter | 1 | 87 | Comma.
Settlement Delay Codes | 30 | 88-117 | If days to settle exceeds 60, use the codes specified below in the Delay Code Specification. If codes are used, place them starting in position 81. Once all codes are loaded, place X's to fill out the 30 positions. Example: C99C11C12XXXXXXXXXXXXXXXXXXXXX If no codes are used X fill the 30 positions.
Field Delimiter | 1 | 118 | Comma.
Employee's Last Name | 15 | 119-133 | Last name of the employee listed on the GBL in all CAPS. If the employee's name does not consist of 15 letters, place X's after the name to fill out the 15 positions. Example: The name of Jones would appear as JONESXXXXXXXXXX. Records with this field blank, X or zero filled will not be accepted.
Field Delimiter | 1 | 134 | Comma.
Participants Tax ID Number | 9 | 135-143 | Participant TIN.

Example:

Columns

A | B | C | D | E | F | G | H | I | J | K | L
C | GSAA | GI | POV | RXPG8TY43 | Q794-P912666XXX | PP123456 | G | 19990601 | 19990622 | 021 | 002300

M | N | O | P
001600 | Z99C12P13XXXXXXXXXXXXXXXXXXXXX | O'TOOLEXXXXXXXX | 123456722

9-3.2.2.7. Claim Settlement Delay Code Specifications [old D9-7]

Codes beginning with a “C” apply specifically to reasons for a late settlement because of a Participant's act or omission; codes beginning with a “P” apply specifically to reasons for a late settlement because of a property owner's act or omission. Codes “C99,” “P99,” and “Z99” are used to indicate a group of reasons for a late settlement; see below for additional information. Except as otherwise specified, the Delay Codes must begin in position 81.

9-3.2.2.7.1. Delay Code C99

Indicates that because of a combination of Participant failures, as indicated by the following Participant codes, settlement was delayed past 60 days. If this code is used, it must begin in position 81 with the specific codes following it, e.g., C99C12C13. Do not use for an ‘other' or ‘unknown' indication. Do not use by itself or with only one other code (Example: C99 or C99C12).

9-3.2.2.7.2. Delay Code C11

Participant Failure: Indicates that the Participant through administrative error failed to make a settlement offer within 60 days.

9-3.2.2.7.3. Delay Code C12

Adjuster Failure: Indicates that the adjuster hired by the Participant failed to complete review and settlement action within 60 days or to provide the Participant with its report so that the Participant could complete settlement within 60 days. If the adjuster's failure was based on inability to meet with the property owner, use Delay Code P12.

9-3.2.2.7.4. Delay Code C13

Repair Estimates: Indicates that the Participant failed to obtain estimates of repair in sufficient time to make a settlement offer within 60 days (see DTOS Paragraph 10-2 for the requirement that the Participant obtain repair estimates). If the failure to obtain timely repair estimates was based on the inability of the repair firm to meet with the property owner, use Delay Code P13.

9-3.2.2.7.5. Delay Code C14

RESERVED.

9-3.2.2.7.6. Delay Code C15

RESERVED.

9-3.2.2.8. Property Owner Codes [Old D9-7]

9-3.2.2.8.1. Delay Code P99

Indicates that because of a combination of property owner failures, as indicated by the following property owner codes, settlement was delayed past 60 days. If this code is used, it must begin in position 81 with the specific codes following it, e.g., P99P12P14. Do not use for an ‘other' or ‘unknown' indication. Do not use by itself or with only one other code (Example: P99 or P99P12).

9-3.2.2.8.2. Delay Code P11

Insufficient information: Indicates that the information on or submitted with the claim was insufficient for the Participant to make a settlement and that despite the Participant's timely request for such information, the information was not returned to the Participant in sufficient time for allow for settlement within 60 days. Such information includes additional descriptions of the property or copies of purchase receipts; it does not include estimates of repair (see Delay Codes C13 and P13), high value article appraisals (see Delay Code P14).

9-3.2.2.8.3. Delay Code P12

Adjuster Failure: Indicates that the property owner was unable to meet with the Participant's adjuster in sufficient time for the adjuster to complete review and settlement action within 60 days or to provide the Participant with its report so that the Participant could complete settlement within 60 days.

9-3.2.2.8.4. Delay Code P13

Repair Estimates: Indicates that the property owner was unable to meet with the Participant's repair firm in sufficient time for the firm to complete review and settlement action within 60 days or to provide the Participant with its report so that the Participant could complete settlement within 60 days. This code may also be used to indicate that the employee declined use of the Participant's repair firm, but failed to provide the Participant with repair estimates in sufficient time for the Participant to complete settlement within 60 days.

9-3.2.2.8.5. Delay Code P14

Appraisals: Indicates that despite a timely request from the Participant, the property owner failed to provide the Participant high value article appraisals when such appraisals are warranted by the nature of the property (such as antiques or art objects) in sufficient time for the Participant to complete settlement within 60 days.

9-3.2.2.8.6. Delay Code P15

RESERVED.

9-3.2.2.9. Combination Code. [old D9-7]

9-3.2.2.9.1. Delay Code Z99

Indicates that because of a combination of Participant and property owner failures, settlement was delayed past 60 days. If this code is used, it must begin in position 81 with the specific codes following it, e.g., Z99C12P14. Do not use for an ‘other' or ‘unknown' indication. Do not use by itself or with codes for only one other type (Example: Z99 or Z99C12).

9-3.3. Claim Settlement and Shipment Report Submission Requirements

9-3.3.1. Electronic Submission. [old D9-8]

Reports must be submitted electronically by Internet FTP. Hard copy (paper) reports will not be accepted. Submissions received from Participants or filing services not conforming to the report submission specifications will be rejected.

9-3.3.2. File Naming Convention

Implementation of the Interagency Transportation Management System (ITMS) has created the need for the development of a File Naming Convention. This File Naming Convention applies to quarterly shipment and claim reports submitted to the PMO. The File Naming Convention identified below must be adhered to. Failure to do so will result in an incomplete status of shipment and/or claim report submission. File names must be eight (8) characters, and the file extension will reflect the record type (Shipment/Claim).

Field | Required positions | Record position(s) | Contents
Carrier Code. | 4 | 1-4 | Four (4) digit Standard Carrier Alpha Code
Year | 1 | 5 | Last digit of calendar year (1999 would be 9).
Quarter | 1 | 6 | Calendar quarter, e.g., 1=Jan-Mar, 2=Apr-Jun, 3=Jul-Sep, 4=Oct-Dec.
File Type | 1 | 7 | Designates the type of transportation the file contains. General Domestic = A, General International = B, Direct Move Management Domestic = C, Direct Move Management International = D, Broker Move Management Domestic = E, Broker Move Management International = F.
Report Type | 1 | 8 | Report Submission Number (i.e. first submission of original quarterly report =1; corrected error report submission=2).
File Extension | 3 | 9-11 | Shipments: Original submission must be .SHP; the correction report submitted requires an .ERS extension. Claims: Original submission must be .CLM; the correction report submitted requires an .ERC extension.

Example: Original Shipment Report Submission

GSAA93A1.shp |
GSAA | Carrier Code.
9 | Last Digit of Calendar Year.
3 | Calendar Quarter.
A | File Type.
1 | Report Type.
.SHP | File Extension.

Example: Corrected Shipment Report Submission

GSAA93A2.shp |
GSAA | Carrier Code.
9 | Last Digit of Calendar Year.
3 | Calendar Quarter.
A | File Type.
2 | Report Type.
.ERS | File Extension.

Example: Original Claim Report Submission

GSAA93A1.shp |
GSAA | Carrier Code.
9 | Last Digit of Calendar Year.
3 | Calendar Quarter.
A | File Type.
1 | Report Type.
.CLM | File Extension.

Example: Corrected Claim Report Submission

GSAA93A2.clm |
GSAA | Carrier Code.
9 | Last Digit of Calendar Year.
3 | Calendar Quarter.
A | File Type.
2 | Report Type.
.ERC | File Extension.

If you have several files to transmit at one time, each file name must be unique (i.e., GSAA93B1.SHP, GSAA93A1.CLM, GSAA93A2.ERS, etc.).

9-4. Electronic Report Submission Instructions

9-4.1. General

Claim and shipment reports must be submitted via the Internet using the File Transfer Protocol (I-FTP) and must meet the transmission requirements defined below. Hard copy (paper) reports are not acceptable. If your firm has never submitted reports electronically to the General Service Administration (GSA) and intends to directly transmit the required reports via I-FTP instead of using a filing service, your firm will need to contact the Program Management Office (PMO) in writing on company letterhead to receive a user ID and password. A FACSIMILE request is acceptable.

9-4.2. Format

Format requirements as set out in HTOS Paragraph 9-3.2 of this Section must be adhered to and must be via the Internet using the File Transfer Protocol (I-FTP). Submissions received from Participants or services not conforming to the record requirements will be unacceptable and not incorporated in the database.

9-4.3. File Preparation

In order to transfer the file(s) via the I-FTP the file must be transmitted as unformatted ASCII (TEXT ONLY) flat file, (i.e., no tab characters, etc.). The file must not have a top, bottom, or left margin, pagefeeds, or embedded blank records (Note: The type of software you will be using will determine what must be done to prepare the file for transmission). GSA suggests using “File Save As Text Document” to prevent saving any formatting along with the text. Be sure to change the .TXT file extension to the required one after saving the text file.

9-4.4. Accessing the I-FTP

GSA is unable to provide specific instructions on how to access the I-FTP, how to upload a file onto the I-FTP, how to download a file from the I-FTP, or how to move around in the I-FTP due to the fact that accessing and operating within the I-FTP are dependent upon the type of Internet software used. Consequently, a firm will need to contact its I-FTP provider for assistance. The information listed below provides the (1) address to GSA's I-FTP directory and (2) two different methods (there are others) of accessing a firm's individual directory in which the firm's shipment and/or claim reports will need to be uploaded.

9-4.4.1. User ID and Password

(See HTOS Paragraph 9-4.1.)

9-4.4.2. I-FTP Address

Kcftp.gsa.gov

9-4.4.3. Directory Access

Methods of accessing individual directories (i.e., item in bold are words/phrases THAT YOU MUST TYPE IN EXACTLY)

FTP>CD CARRIERS/USER ID

or

FTP>D:/PUB/CARRIERS/USER ID

9-4.4.4. Verification of File Transfer

Once you have transmitted a file onto the I-FTP within your firm's assigned directory, you can follow the steps identified below to verify that your firm's file was successfully transmitted onto the I-FTP.

1. Exit I-FTP;

2. Re-connect to I-FTP;

3. Enter your firm's assigned User ID and Password when requested;

4. Change to your firm's directory—

FTP>CD CARRIERS/USER ID

or

FTP>PUB:/PUB/CARRIERS/USER ID; and

5. Type DIR.

At this point you should be able to see your firm's file identified in your assigned directory. If the file doesn't appear, you will need to “Upload” the file to the I-FTP again. The steps identified above will assist you only in verifying that your firm's claim and/or shipment report(s) file was transferred successfully onto the I-FTP. Following these steps WILL NOT verify that the contents of your firm's reports have been formatted correctly— only that GSA has received a file.

9-4.5. Reorganizations and Bankruptcies Reports

9-4.5.1. Reorganization Report [Old D9-9]

The Participant shall furnish a copy of the court approved reorganization plan to the PMO within the timeframe specified in Section 5 of the DTOS or ITOS.

9-4.5.2. Bankruptcy Report [Old D9-9]

The Participant shall furnish a copy of the bankruptcy judgment to the PMO within the timeframe specified in Section 5 of this HTOS. The Participant shall also provide a listing of all shipments handled pursuant to this HTOS in its possession, in transit, or in SIT, and shall notify agencies of the bankruptcy. The shipment listing shall identify the name of the Federal agency and the property owner, the location of the shipment, and the telephone number of the SIT facility, if the shipment is in SIT. In the event the shipment is in transit, the Participant shall also advise the Federal agency of the Participant's plans for disposition of the shipment. The Participant shall also notify those Federal agencies that have booked shipments but which have not yet been picked up.

9-5. Reports by the PMO

9-5.1. Performance Reports

9-5.1.1. Performance Reports (Quarterly) [Old D9-6]

The PMO shall furnish Participants a performance report. The report will be furnished to the Participant on a calendar quarter basis, and shall either contain information derived from GSA Forms 3080 received during the previous quarter pertaining to shipments handled by the Participant or consist of copies of the GSA Forms 3080 received during the previous quarter.

9-5.1.2. Performance Reports (Annual) [Old D9-6]

The PMO shall publish an annual report based upon information from GSA Forms 3080 received during the previous calendar year and such other information as the PMO deems appropriate.

Section 10—Participant Liability

10-1. Participant Liability

10-1.1. Levels Of Service And Released Value

10-1.1.1. Levels Of Service [Old D10-1 & I10.2]

Participants providing domestic and/or international transportation services pursuant to the provisions of this HTOS shall offer full value service for each shipment, defined as transportation services (including accessorial and terminal services) furnished by a Participant for which the Participant assumes liability for loss and/or damage not to exceed the full replacement value of the items transported.

10-1.2. Released Value

10-1.2.1. Full Value Service

10-1.2.1.1. Domestic Shipments [Old D10-1]

The released value of shipments handled under Full Value Service will be a value no less than _ times the net weight of each domestic shipment in pounds. However, the released value may be increased by the Government on behalf of the relocating employee for a specific shipment, which must be so annotated on the bill of lading. For the applicable released value dollar amount, refer to the RFO.

10-1.2.1.2. International Shipments [Old I10.2]

The released value of shipments handled under Full Value Service will be a value no less than __ times the net weight of each international and/or offshore shipment. However, the released value may be increased by the Government on behalf of the relocating employee for a specific shipment, which must be so annotated on the bill of lading. For the applicable released value dollar amount, refer to the RFO.

10-1.2.2. Increase in Basic Released Value [old D10-1]

Should the owner elect to specify a released value different from that specified on the GBL after the GBL has been issued, but prior to the date of pickup, the Participant should have the owner contact the RTO and request an amendment to the original GBL indicating the desired valuation.

10-1.3. Extent of Liability.

10-1.3.1. Exception to Liability [old D10-1 and I10.3]

Provided that the burden of proof shall be on the Participant to show that the loss or damage was so caused by the one or more of the following excepted conditions which relieve it of liability, the Participant is not responsible for loss or damage caused by (a) acts of God, public authority or negligence of the owner, and/or owner's agent; (b) hostile or warlike action in the time of peace or war, including action in hindering, combating or defending against an actual, impending or expected attack, including (1) by any government or sovereign power (de jure or de facto), or by an authority maintaining forces, and (2) by an agent of any such government, power, authority or forces; (c) any weapon of war employing atomic fission or radioactive force whether in time of peace or war, including contamination attributable to effects of radioactive or fissionable materials; (d) insurrection, rebellion, revolution, civil war, usurped power, or action taken by governmental authority in hindering, combating, or defending against such occurrence, seizure or destruction under quarantine or customs regulations, confiscation by order of any government or public authority, or risks of contraband or illegal transportation or trade; (e) strikes, lockouts, labor disturbances, riots, civil commotion, acts of person or persons taking part in such occurrence or disorder; (f) Inherent vice of the article or infestations by mollusks, arachnids, crustaceans, parasites or other types of pests, fumigation or decontamination when not the fault of the Participant. The burden of proof shall be on the Participant to show that the immediate cause of the loss or damage was one or more of the exceptions listed above which relieved it of liability.

10-1.3.2. Liability for General Average/Salvages—International Only [old I10.3]

On ocean shipments, in addition to the Participant's liability as otherwise provided in this HTOS, the Participant assumes full liability for and will pay all contributions in general average or salvage assessed against personal property and will provide bonds or make arrangements for the prompt release of the shipments from any maritime lien arising therefrom.

10-1.3.3. Liability for Non-Vehicular Personal Property

10-1.3.3.1. General

Except when loss and/or damage arises out of causes beyond the control and without the fault or negligence of the Participant, the Participant shall be liable to the United States Government or the owner for the loss of and/or damage to any article in an amount not to exceed the released value of the article. The Participant shall be so liable for any article over which the Participant has control or custody. Custody on the part of the Participant shall be considered to begin at the time performance of service commences and shall continue until services are completed; including, but not limited to, while being packed, picked up, loaded, transported, delivered, unloaded, or unpacked; stored in transit; or serviced (appliances, etc.) by a third person hired by the Participant to perform the servicing.

10-1.3.3.1.1. Non-Vehicular Property Delivered to a Foreign Post—International Shipments [old I10.3]

Subject to the general provisions stated above and in the event non-vehicular personal property is lost or damaged, the measure of damages for a shipment to be delivered to a foreign post shall be repair or replacement not to exceed the replacement value of the item at the foreign post; provided, however, the foreign post value is within 10 percent (±10%) of the CONUS replacement value at of the point of origin at the time of arrival at the port of debarkation. In the event the foreign post value is not within 10 percent (±10%), the measure of damages will be the CONUS replacement value of the item at the point of origin at the time of arrival at the port of debarkation plus the cost of transportation and delivery of the property, including customs clearance, to the employee at the post. Replacement value must be based on replacement of the property with property of comparable kind and quality.

10-1.3.3.1.2. Non-Vehicular Property Delivered Within the Continental United States [old I10.3]

Subject to the general provisions stated above and in the event personal non-vehicular property is lost or damaged, the measure of damages for a shipment to be delivered within the Continental United States shall be repair or replacement not to exceed the replacement value of the property at the point of destination in the United States, including the cost of transportation and delivery of the property, and including customs clearance when applicable, to the employee at the destination residence. Replacement value must be based on replacement of the property with property of comparable kind and quality

10-1.3.4. Liability for Vehicular Property.

10-1.3.4.1. International Shipment [old I10.3]

In the event of loss/damage to vehicular property during the course of an international shipment, the measure of damages will be repair or replacement not to exceed the current value of the vehicle based on the National Automobile Dealers Association (NADA) value for the vehicle in the month of landing converted to local currency plus the cost of rental of a comparable vehicle for the period of time during which the vehicle is unavailable for employee use due to inoperability or repair; provided, however, that the liability of the cost of rental shall not exceed the current value of the vehicle. The quality of repair or replacement must equal or exceed the standards applied in the Continental United States.

10-1.3.4.2. Domestic Shipment. [old I10.3]

In the event of loss/damage to vehicular property during the course of a domestic shipment, the measure of damages will be repair or replacement not to exceed the current value of the vehicle based of the National Automobile Dealers Association (NADA) value for the vehicle plus the cost of rental of a comparable vehicle for the period of time during which the vehicle is unavailable for employee use due to inoperability or repair; provided, however, that the liability of the cost of rental shall not exceed the current value of the vehicle. The quality of repair or replacement must equal or exceed the standards applied in the Continental United States.

10-1.3.5. Liability for Real Property Damage [old I10.2]

The Participant will be liable for any damage sustained to the premises and/or property of the employee/owner caused by the Participants' agents/employees.

10-1.3.6. Liability for High Risk Items [old I10.3]

Participant's legal liability for loss or damage to high risk items will be the same as for any other property lost or damaged. Unless covered by a high risk program established in accordance with HTOS Paragraph 10.1.6. below, a Participant's liability for high risk items shall in no way be limited to a value less than that established under the terms of the level of service stated on the Government bill of Lading.

10-1.3.7. Liability for Concealed Loss/Damage

10-1.3.7.1. General [old D10-1]

The Participant shall be liable for concealed loss and/or damage discovered by the owner within 75 days after delivery if the owner notifies the Participant, in writing, of the loss and/or damage within 75 days from the date of delivery. The notification requirement cited in HTOS Paragraph 5.11 does not mean that a claim cannot be filed after seventy-five (75) days by the property owner and may not be used as the sole basis for denying a claim.

10-1.3.7.2. Burden of Proof When Notice Is Given [old I10.2]

If a claim for concealed damage is filed within the period specified in HTOS Paragraph 5.11, the burden of proving that it did not cause the loss/damage is on the Participant. If a claim for concealed loss/damage is filed after the period specified in HTOS Paragraph 5.11 and the Participant received notice of all or some of the loss/damage within the period specified in HTOS Paragraph 5.11, the burden of proof is on the Participant for that loss/damage for which it received notice and on the property owner for that loss/damage for which he/she did not give notice.

10-1.3.7.3. Burden of Proof When Notice Is Not Given [old I10.2]

If a claim for concealed loss/damage is filed after the period specified in HTOS Paragraph 5.11 and the Participant did not receive notice of any of the loss/damage within the period specified in HTOS Paragraph 5.11, the burden of proving that the Participant caused the loss/damage is on the property owner.

10-1.3.7.4. Government Custody [old I10.3]

Except as provided above with respect to concealed loss and damage, the Participant shall not be liable for loss or damage when the Participant can reasonably establish that such loss or damage occurred while the shipment was in the effective custody and control of the Government.

10-1.3.8. Liability for Delay [old I10.2]

Participant shall be liable for the inconvenience and extra expense caused to the owner and to the Government, if the owner is required to retain temporary quarters due to the Participant's failure to pickup or deliver the household goods shipment in accordance with the instructions provided by the RTO, the owner of the property, or his designated representative. Equipment failure, actions by underlying Participants and/or agents and illness of or error by persons in its employ or in the employ of its agents, among others, are considered within the control of the Participant and may not be used as a basis for denying a claim for damages due to delay.

10-1.3.9. Liability for Terminated Shipments [old I10.2]

In the event the progress of a shipment is terminated by the Government and is assigned to another Participant for completion of service, both the terminated and the assigned Participants shall be jointly liable for any loss and/or damage to the shipment and for any delay by the responsible Participant. The Government reserves the right to file any claim for property loss/damage or for shipment delay with either the terminated Participant or the assigned Participant, and the Participant against which the claim was filed shall be responsible for settling the claim in full without waiting for any acknowledgment of liability or reimbursement from the other Participant.

10-1.3.10. Liability for Prohibited Items [old I10.3]

When a Participant undertakes the shipment of items prohibited by law or regulatory body which are injurious or contaminating to the shipment, the Participant shall be liable for loss or damage resulting from its failure to decline such items.

10-1.3.11. Liability for Missing Articles

10-1.3.11.1. General [old D10-1 & I10.2]

If the missing articles are not found within thirty (30) calendar days from the date of shipment delivery, they shall be presumed lost by the Participant and payment to the property owner will be made without dispute upon the filing of a claim.

10-1.3.11.2. Exception [old I10.2]

In the event article/items are located subsequent to claims action by the employee and/or the Government, the Participant shall hold the articles/items at the point of location, notify the RTO, and await disposition instructions. When articles/items are returned to the employee, any claims which have been paid in favor of the employee, shall be readjusted in the Participant's favor.

10-1.4. Employee Failure To Verify Inventory [old I10.2]

The Participant may not deny liability for property loss and/or damage solely on the basis that the Government, the employee, or the employee's authorized representative failed to verify the origin or destination inventories as prepared in accordance with HTOS Paragraph 4-6.

10-1.5. Participant Failure To Settle [old I10.2]

Failure to make settlement within the initial thirty (30) day period, or the maximum sixty (60) day period if proper notice is given as provided in HTOS Paragraph 5-12.3, shall be construed as a refusal by the Participant to settle the claim and as an admission of its liability to the full extent of the law and this HTOS.

10-1.6. Establishment of High Risk Program [old I10.3]

A high risk program limiting a Participant's liability for loss of or damage to high risk items may only be established with the approval of the RTO and be evidenced by a written agreement setting out the terms and conditions established by the shipping Federal agency. The mere issuance of a GBL to a Participant with a pre-existing high risk program is not sufficient to incorporate the terms of such high risk program into the contract of carriage.

10-2. Preparation and Filing of Claim

10-2.1. General [old D10-2]

The Participant must furnish to the property owner all reasonable and necessary assistance in the preparation and filing of claims. Included in such assistance are inspections of the damaged property, if requested, completion of claim forms, and obtaining estimated repair costs at no cost to property owner.

10-2.2. Claims for Loss of and/or Damage to Personal Property. [old D10-2]

Claims for loss of and/or damage to personal property shipped pursuant to this HTOS must be filed with the Participant by the shipping Federal agency; provided, however, that with the approval of the shipping federal agency, the owner of the property or his designated representative may file the claim on behalf of himself and the Government.

10-2.3. Claims for Damage to Real Property [old D10-2]

Claims for damage to real property belonging to the property owner at the time of shipment or subsequent thereto must be filed with the Participant by the shipping Federal agency; provided, however, that with the approval of the shipping federal agency, the owner of the property or his designated representative may file the claim on behalf of himself and the Government.

10-2.4. Claims for Injury [old D10-2]

Claims for injury shall be filed with the Participant by the injured party.

10-2.5. Claims for Delay [old D10-2]

Claims for delay may be filed by the property owner, or his designated representative, or by the Federal agency paying the cost of the services provided pursuant to this HTOS.

10-3. Minimum Filing Requirements [old D10-3]

A communication in writing from a claimant filed with the Government or the Participant and (1) containing facts sufficient to identify the shipment (or shipments) of property involved, (2) asserting liability for alleged loss, damage, injury, or delay, and (3) making claim for the payment of a specified or determinable amount of money, will be considered as sufficient compliance with the provisions for filing claims embraced in the bill of lading or other contract of carriage.

10-4. Documents Not Constituting Claims [old D10-4]

Bad order reports, appraisal reports of damage, notations of shortage or damage, or both, on freight bills, delivery receipts, or other documents, or inspection reports issued by the Participant or their inspection agencies, whether the extent of the loss or damage is indicated in dollars and cents or otherwise will, standing alone, not be considered as sufficient to comply with the minimum claim filing requirements specified above.

10-5. Supporting Documents

10-5.1. General [old D10-5]

When necessary as part of an investigation, each claim must be supported for each article by a statement of the nature and extent of such damage, the basis for the amount claimed, i.e., date article purchased, original cost, amount of depreciation, actual cash value at time of loss or damage, or the full replacement value, in those cases where shipments are released to full replacement value.

10-5.2. Inconvenience Claims [old D10-5]

Inconvenience claims shall be supported with an itemized listing of costs incurred and payments made by the Government to the employee.

10-5.3. Identical Inventory Exception Coding [old D10-5]

In the event items are listed on the inventory with identical, or substantially identical, exception coding, the exception coding shall be construed as void and such items shall be construed as inventoried without exception.

10-6. Verification of Loss

10-6.1. Only Claim [old D10-6]

When an asserted claim for loss of an entire package or an entire shipment cannot be otherwise authenticated upon investigation, the Participant will obtain from the claimant of the shipment involved a certified statement, in writing, that the property for which the claim is filed, has not been received from any other source.

10-6.1.1. Inventory Correctness [old D10-6]

When there is an asserted claim for loss of an article, either contained in a carton or as a stand alone item, and it is not specified on the inventory, the item shall be construed as present and the Participant shall not contest a claim for the missing items, unless the Participant can establish that the inventory was a complete listing of all items in the shipment and that the article was not received by the Participant.

10-7. Satisfaction of Claim

10-7.1. Property Loss/Damage [old D10-7]

The Participant shall satisfy a claim by repairing or replacing the property lost or damaged to the extent of Participant liability with materials of like kind, quality, and condition at time of acceptance by the Participant. Repair and/or replacement will also be construed to include payment in cash. In the event that estimates of repair costs are obtained by the employee, either on his/her own or at the request of the Participant, the estimator's cost to furnish such estimates shall be reimbursable to the employee; provided, however, that if the terms of the estimate provide that the cost of the estimate will be deducted from the cost of repairs when repairs are completed, the Participant's liability will not exceed the cost of repairs.

10-7.2. Inconvenience Claims

10-7.2.1. Filed by Employee [old D10-7]

When the claim is filed by the employee, the Participant shall be liable for the reasonable costs incurred by the employee in excess of those reimbursed the employee by the Government.

10-7.2.2. Filed by The Government [old D10-7]

When the claim is filed by the Government, the Participant shall be liable for the reimbursement made by the Government to the employee for the temporary quarters retained by the employee.

10-8. Government Liability—International Only [old I10.1]

The United States Government (DOS or other US Government agencies assuming effective custody) will be liable to the Participant for damage to or loss or destruction of lift vans due to negligence of the Government, reasonable wear and tear excepted.

Section 11—Miscellaneous Agreement Provisions

11-1. Warranty of Services [old D11-1]

11-1.1. Acceptance and Correction [old D11-1]

11-1.1.1. Definitions [old D11-1]

11-1.1.1.1. Acceptance [old D11-1]

Acceptance, as used in this HTOS Paragraph, means the act of an authorized representative of the Government by which the Government assumes for itself or approves specific services, as partial or complete performance of the HTOS.

11-1.1.1.2. Correction [old D11-1]

Correction, as used in this clause, means the elimination of a defect.

11-1.1.2. Warranty [old D11-1]

Notwithstanding inspection and acceptance by the Government or any provision concerning the conclusiveness thereof, the participant warrants that all services performed under this HTOS will, at the time of acceptance, be free from defects in workmanship and conform to the requirements of this HTOS. The RTO shall give written notice of any defect or nonconformance to the participant within forty-five (45) days from the date of acceptance by the Government. This notice shall state either (1) that the participant shall correct or reperform any defective or nonconforming services, or (2) that the Government does not require correction or reperformance.

11-1.1.3. Correction and Reperformance [old D11-1]

If the participant is required to correct or reperform, it shall be at no cost to the Government, and any services corrected or reperformed by the participant shall be subject to this clause or if the participant refuses to correct or reperform, the RTO may correct or replace with similar services and charge to the participant the cost occasioned to the Government thereby, or make an equitable adjustment in the price for services rendered.

11-1.1.4. No Correction and Reperformance [old D11-1]

If the Government does not require correction or reperformance, the RTO shall make an equitable adjustment in the price for services rendered.

11-1.2. Improper Customs Clearance Reduction.—International Only [old 11.1.2]

In the event that a carrier improperly clears a shipment through customs (for example, a shipment is cleared as a DoD shipment, rather than a DOS shipment) and warehouse handling, storage, or delivery costs accrue exceeding those applicable to the shipment had the shipment been properly cleared, the excess warehouse handling, storage, or delivery costs will not be reimbursable by the Federal agency paying the transportation charges.

11-1.3. Late Delivery Reduction.—DOMESTIC ONLY [old D11-1]

A late delivery reduction of $100.00 per day will be payable to the Federal agency paying the transportation charges, for each calendar day or fraction thereof, when the actual transit time for direct delivery shipments exceeds the transit time as defined in Section 12 of this HTOS, subject to the following items: (1) When the Government and the participant mutually agree to a transit time longer than the transit time as shown in this HTOS, the penalty will begin on the day after the agreed date; (2) When the Government and the participant mutually agree to a transit time chart other than the chart in this HTOS, the penalty will begin on the day after the agreed date; (3) When a shipment consigned to Storage-in-Transit (SIT) at destination is en route and the destination is changed to a direct delivery, the transit time is negotiable and no penalty occurs for late delivery; (4) This item will apply only for shipments which: (a) Weigh or are rated at 3,500 pounds or more that are picked up during the period from October 1 through May 14 of each subsequent year; OR. (b) weigh or are rated at 5,000 pounds or more that are picked up during the period from May 15 through September 30 of each year; (5) This item applies only when both origin and destination of the shipment are within the continental United States; (6) This item will not apply if delay is caused by reasons beyond the participant's control, described as “Impractical Operation” in the participant's governing Government Rate Tender; (7) This item will not apply to a shipment, or portion thereof, which is lost or destroyed in transit and cannot be delivered due to such loss or destruction; (8) This item will not apply to an overflow portion of the shipment when the overflow weight represents less than twenty (20) percent of the total shipment weight and contains nonessential items (possessions not needed to maintain day-to-day housekeeping during the period of time between delivery of the main portion of the shipment and delivery of the overflow); (9) This item will apply when reconsignment or diversion is made on a shipment, based on the applicable mileage and weight of the shipment from point of diversion to the new destination; (10) The total reimbursement shall not exceed an amount equal to the linehaul transportation charges for the shipment; (11) This payment satisfies the Government's right to equitable adjustment for failure to perform, but does not waive, mitigate, or satisfy any other right or remedy available to the Government on account of late delivery by the participant.

11-1.4. Late Delivery Reduction.—INTERNATIONAL ONLY [old I11.1.3]

A late delivery reduction of $100.00 per day will be payable to the Federal agency paying the transportation charges, for each calendar day or fraction thereof, when the actual transit time for direct delivery shipments exceeds the transit time as defined in Section 12 of this HTOS, subject to the following items: (1) When the Government and the participant mutually agree to a transit time longer than the transit time as shown in this HTOS, the penalty will begin on the day after the agreed date; (2) When the Government and the participant mutually agree to a transit time chart other than the chart in this HTOS, the penalty will begin on the day after the agreed date; (3) When a shipment consigned to Storage-in-Transit (SIT) at destination is en route and the destination is changed to a direct delivery, the transit time is negotiable and no penalty occurs for late delivery; (4) This item will apply only for shipments which: (a) weigh or are rated at 3,500 pounds or more that are picked up during the period from October 1 through May 14 of each subsequent year; OR. (b) weigh or are rated at 5,000 pounds or more that are picked up during the period from May 15 through September 30 of each year; (5) This item will not apply if delay is caused by reasons beyond the participant's control, described as “Impractical Operation” in the participant's governing Government Rate Tender; (6) This item will not apply to a shipment, or portion thereof, which is lost or destroyed in transit and cannot be delivered due to such loss or destruction; (7) This item will not apply to an overflow portion of the shipment when the overflow weight represents less than twenty (20) percent of the total shipment weight and contains nonessential items (possessions not needed to maintain day-to-day housekeeping during the period of time between delivery of the main portion of the shipment and delivery of the overflow); (8) This item will apply when reconsignment or diversion is made on a shipment, based on the applicable mileage and weight of the shipment from point of diversion to the new destination; (9) The total reimbursement shall not exceed an amount equal to total charges for the shipment, excluding SIT; (10) This payment satisfies the Government's right to equitable adjustment for failure to perform, but does not waive, mitigate, or satisfy any other right or remedy available to the Government on account of late delivery by the participant.

11-2. Diversion Or Reconsignment. [old D11-3]

Diversion or reconsignment of a shipment to a destination area other than that specified on the GBL can only be authorized by written order or oral notice followed by written order of the GBL Issuing Officer. The destination area is the territory recognized as the commercial zone for the destination city or municipality shown on the GBL. Instructions furnished by the owner or his representative to the carrier or its agent to perform local drayage to any point within the commercial zone shall not constitute an order for diversion or reconsignment.

11-3. Advertising Of Participant Approval. [old D11-4 & I11.3]

Except in those instances where the participant uses information or data publicly available, the participant will not refer to GSA approval to participate in the program or participation in the program in commercial advertising in such a manner as to state or imply that the services provided are endorsed or preferred by the Federal Government or are considered by the Government to be superior to other services.

Section 12—Transit Times

12-1. Transit Times

This HTOS paragraph 12-1 provides transit times for shipments moving between CONUS locations, between CONUS and Canada locations, and between locations in CONUS and Canada on the one hand and on the other hand international locations, including POV surface shipments (except locations shown in HTOS paragraph 12-2. For Transit Times on international unaccompanied air baggage, refer to HTOS Section 5.

(For Special Agency Transit Times, refer to the Request for Offers (RFO))

Between Domestic and International Transit Times Interstate Transit Times, including between CONUS and CANADA.
Weight between miles | 0 to 999 lbs. | 1,000 to 1,999 lbs. | 2,000 to 3,999 lbs. | 4,000 to 7,999 lbs. | 8,000 lbs. and over
1-250 | 8 | 7 | 6 | 5 | 4
251-500 | 9 | 9 | 7 | 6 | 5
501-750 | 11 | 10 | 9 | 8 | 7
751-1000 | 13 | 11 | 9 | 9 | 8
1001-1250 | 14 | 12 | 10 | 9 | 9
1251-1500 | 15 | 13 | 11 | 10 | 9
1501-1750 | 16 | 14 | 12 | 11 | 10
1751-2000 | 17 | 15 | 13 | 12 | 11
2001-2250 | 18 | 16 | 14 | 13 | 12
2251-2500 | 18 | 17 | 15 | 14 | 13
2501-2750 | 19 | 18 | 16 | 15 | 14
2751-3000 | 20 | 18 | 17 | 16 | 15
3001-3250 | 21 | 19 | 18 | 17 | 16
3251-3500 | 22 | 20 | 18 | 18 | 17

Intrastate Transit Times, including intra-CANADA
Weight between miles | 0 to 999 lbs. | 1,000 to 1,999 lbs. | 2,000 to 3,999 lbs. | 4,000 to 7,999 lbs. | 8,000 lbs. and over
1-250 | 7 | 6 | 5 | 5 | 4
251-500 | 9 | 8 | 6 | 5 | 5
501-750 | 11 | 10 | 8 | 7 | 6
751-1000 | 12 | 11 | 9 | 8 | 7
1001-1250 | 13 | 11 | 10 | 9 | 8
1251-1500 | 14 | 12 | 11 | 10 | 9
1501-1750 | 15 | 13 | 11 | 11 | 10
1751-2000 | 16 | 14 | 12 | 11 | 11
2001-2250 | 17 | 15 | 13 | 12 | 11
2251-2500 | 17 | 16 | 14 | 13 | 12
2501-2750 | 18 | 17 | 15 | 14 | 13
2751-3000 | 19 | 17 | 16 | 15 | 14
3001-3250 | 20 | 18 | 17 | 16 | 15
3251-3500 | 21 | 19 | 17 | 17 | 16

State | Days | State | Days | State | Days
Between ALBANIA and
Alabama | 68 | Delaware | 66 | New Jersey | 68
Alaska | 69 | District of Columbia | 66 | New Mexico | 70
Arizona | 72 | Florida | 67 | New York | 68
Arkansas | 68 | Georgia | 67 | North Carolina | 68
California | 73 | Idaho | 72 | North Dakota | 74
Canada |  | Illinois | 69 | Ohio | 67
—Alberta | 80 | Indiana | 68 | Oklahoma | 71
—British Columbia | 78 | Iowa | 72 | Oregon | 74
—Labrador | 85 | Kansas | 70 | Pennsylvania | 69
—Manitoba | 77 | Kentucky | 66 | Rhode Island | 68
—New Brunswick | 73 | Louisiana | 69 | South Carolina | 64
—Newfoundland | 80 | Maine | 70 | South Dakota | 74
—Northwest Terr | 79 | Maryland | 66 | Tennessee | 68
—Nova Scotia | 75 | Massachusetts | 67 | Texas | 71
—Ontario | 74 | Michigan | 71 | Utah | 75
—Pr. Edward Isl | 76 | Minnesota | 72 | Vermont | 69
—Quebec | 73 | Mississippi | 68 | Virginia | 67
—Saskatchewan | 78 | Missouri | 71 | Washington | 73
—Yukon | 74 | Montana | 75 | West Virginia | 66
Colorado | 71 | Nebraska | 72 | Wisconsin | 69
Connecticut | 68 | Nevada | 74 | Wyoming | 75
|  | New Hampshire | 69
Between ALGERIA and
Alabama | 61 | Delaware | 60 | New Jersey | 61
Alaska | 65 | District of Columbia | 60 | New Mexico | 67
Arizona | 69 | Florida | 62 | New York | 61
Arkansas | 65 | Georgia | 61 | North Carolina | 63
California | 72 | Idaho | 69 | North Dakota | 67
Canada |  | Illinois | 67 | Ohio | 67
—Alberta | 76 | Indiana | 69 | Oklahoma | 66
—British Columbia | 73 | —Iowa | 70 | Oregon | 69
—Labrador | 86 | Kansas | 70 | Pennsylvania | 61
—Manitoba | 70 | Kentucky | 68 | Rhode Island | 61
—New Brunswick | 74 | Louisiana | 63 | South Carolina | 63
—Newfoundland | 81 | Maine | 71 | South Dakota | 67
—Northwest Terr | 75 | Maryland | 62 | Tennessee | 65
—Nova Scotia | 76 | Massachusetts | 68 | Texas | 62
—Ontario | 70 | Michigan | 67 | Utah | 69
—Pr. Edward Isl | 77 | Minnesota | 68 | Vermont | 66
—Quebec | 66 | Mississippi | 63 | Virginia | 59
—Saskatchewan | 74 | Missouri | 68 | Washington | 68
—Yukon | 70 | Montana | 71 | West Virginia | 65
Colorado | 68 | Nebraska | 66 | Wisconsin | 69
Connecticut | 61 | Nevada | 68 | Wyoming | 67
|  | New Hampshire | 66
Between AMERICAN SAMOA
Alabama | 49 | Delaware | 50 | New Jersey | 50
Alaska | 49 | District of Columbia | 50 | New Mexico | 36
Arizona | 36 | Florida | 58 | New York | 50
Arkansas | 49 | Georgia | 51 | North Carolina | 51
California | 34 | Idaho | 40 | North Dakota | 40
Canada |  | Illinois | 52 | Ohio | 52
—Alberta | 45 | Indiana | 52 | Oklahoma | 41
—British Columbia | 41 | Iowa | 41 | Oregon | 36
—Labrador | 68 | Kansas | 41 | Pennsylvania | 50
—Manitoba | 43 | Kentucky | 52 | Rhode Island | 50
—New Brunswick | 56 | Louisiana | 49 | South Carolina | 51
—Newfoundland | 63 | Maine | 53 | South Dakota | 40
—Northwest Terr | 59 | Maryland | 50 | Tennessee | 49
—Nova Scotia | 58 | Massachusetts | 50 | Texas | 41
—Ontario | 49 | Michigan | 46 | Utah | 36
—Pr. Edward Isl | 59 | Minnesota | 46 | Vermont | 53
—Quebec | 55 | Mississippi | 49 | Virginia | 50
—Saskatchewan | 43 | Missouri | 41 | Washington | 36
—Yukon | 54 | Montana | 40 | West Virginia | 50
Colorado | 37 | Nebraska | 41 | Wisconsin | 46
Connecticut | 50 | Nevada | 36 | Wyoming | 40
|  | New Hampshire | 53
Between ANGOLA and
Alabama | 64 | Delaware | 61 | New Jersey | 69
Alaska | 71 | District of Columbia | 61 | New Mexico | 76
Arizona | 74 | Florida | 69 | New York | 69
Arkansas | 71 | Georgia | 68 | North Carolina | 69
California | 75 | Idaho | 75 | North Dakota | 75
Canada |  | Illinois | 73 | Ohio | 73
—Alberta | 84 | Indiana | 73 | Oklahoma | 72
—British Columbia | 81 | Iowa | 74 | Oregon | 78
—Labrador | 87 | Kansas | 74 | Pennsylvania | 70
—Manitoba | 78 | Kentucky | 71 | Rhode Island | 69
—New Brunswick | 75 | Louisiana | 64 | South Carolina | 69
—Newfoundland | 82 | Maine | 72 | South Dakota | 74
—Northwest Terr | 81 | Maryland | 68 | Tennessee | 71
—Nova Scotia | 77 | Massachusetts | 72 | Texas | 70
—Ontario | 77 | Michigan | 74 | Utah | 74
—Pr. Edward Isl | 78 | Minnesota | 75 | Vermont | 70
—Quebec | 74 | Mississippi | 64 | Virginia | 67
—Saskatchewan | 82 | Missouri | 70 | Washington | 76
—Yukon | 76 | Montana | 79 | West Virginia | 66
Colorado | 74 | Nebraska | 74 | Wisconsin | 75
Connecticut | 69 | Nevada | 72 | Wyoming | 75
|  | New Hampshire | 70
Between ANTIGUA and
Alabama | 44 | Delaware | 45 | New Jersey | 48
Alaska | 48 | District of Columbia | 45 | New Mexico | 47
Arizona | 45 | Florida | 40 | New York | 48
Arkansas | 46 | Georgia | 42 | North Carolina | 42
California | 51 | Idaho | 52 | North Dakota | 52
Canada |  | Illinois | 50 | Ohio | 50
—Alberta | 55 | Indiana | 50 | Oklahoma | 47
—British Columbia | 61 | Iowa | 47 | Oregon | 57
—Labrador | 65 | Kansas | 47 | Pennsylvania | 51
—Manitoba | 55 | Kentucky | 45 | Rhode Island | 48
—New Brunswick | 53 | Louisiana | 44 | South Carolina | 44
—Newfoundland | 60 | Maine | 50 | South Dakota | 52
—Northwest Terr | 58 | Maryland | 45 | Tennessee | 46
—Nova Scotia | 55 | Massachusetts | 48 | Texas | 49
—Ontario | 55 | Michigan | 52 | Utah | 52
—Pr. Edward Isl | 56 | Minnesota | 53 | Vermont | 51
—Quebec | 53 | Mississippi | 45 | Virginia | 47
—Saskatchewan | 53 | Missouri | 46 | Washington | 56
—Yukon | 53 | Montana | 50 | West Virginia | 51
Colorado | 49 | Nebraska | 51 | Wisconsin | 52
Connecticut | 48 | Nevada | 48 | Wyoming | 52
|  | New Hampshire | 51
Between ARGENTINA and
Alabama | 56 | Delaware | 63 | New Jersey | 64
Alaska | 61 | District of Columbia | 62 | New Mexico | 57
Arizona | 53 | Florida | 56 | New York | 64
Arkansas | 60 | Georgia | 55 | North Carolina | 59
California | 59 | Idaho | 62 | North Dakota | 65
Canada |  | Illinois | 64 | Ohio | 63
—Alberta | 70 | Indiana | 63 | Oklahoma | 61
—British Columbia | 69 | Iowa | 65 | Oregon | 64
—Labrador | 80 | Kansas | 64 | Pennsylvania | 64
—Manitoba | 68 | Kentucky | 61 | Rhode Island | 64
—New Brunswick | 68 | Louisiana | 57 | South Carolina | 60
—Newfoundland | 75 | Maine | 65 | South Dakota | 65
—Northwest Terr | 71 | Maryland | 63 | Tennessee | 60
—Nova Scotia | 70 | Massachusetts | 63 | Texas | 60
—Ontario | 67 | Michigan | 64 | Utah | 63
—Pr. Edward Isl | 71 | Minnesota | 64 | Vermont | 62
—Quebec | 69 | Mississippi | 58 | Virginia | 63
—Saskatchewan | 68 | Missouri | 61 | Washington | 64
—Yukon | 66 | Montana | 65 | West Virginia | 65
Colorado | 62 | Nebraska | 63 | Wisconsin | 65
Connecticut | 64 | Nevada | 56 | Wyoming | 64
|  | New Hampshire | 62
Between AUSTRALIA-EAST and
Alabama | 76 | Delaware | 75 | New Jersey | 77
Alaska | 49 | District of Columbia | 74 | New Mexico | 69
Arizona | 69 | Florida | 76 | New York | 77
Arkansas | 77 | Georgia | 76 | North Carolina | 76
California | 71 | Idaho | 73 | North Dakota | 76
Canada |  | Illinois | 72 | Ohio | 75
—Alberta | 83 | Indiana | 72 | Oklahoma | 73
—British Columbia | 65 | Iowa | 72 | Oregon | 66
—Labrador | 93 | Kansas | 77 | Pennsylvania | 76
—Manitoba | 79 | Kentucky | 78 | Rhode Island | 77
—New Brunswick | 81 | Louisiana | 72 | South Carolina | 76
—Newfoundland | 88 | Maine | 78 | South Dakota | 76
—Northwest Terr | 59 | Maryland | 76 | Tennessee | 77
—Nova Scotia | 83 | Massachusetts | 76 | Texas | 73
—Ontario | 80 | Michigan | 77 | Utah | 73
—Pr. Edward Isl | 84 | Minnesota | 77 | Vermont | 78
—Quebec | 82 | Mississippi | 73 | Virginia | 76
—Saskatchewan | 81 | Missouri | 76 | Washington | 60
—Yukon | 54 | Montana | 78 | West Virginia | 77
Colorado | 69 | Nebraska | 73 | Wisconsin | 75
Connecticut | 77 | Nevada | 69 | Wyoming | 76
|  | New Hampshire | 78
Between AUSTRALIA-WEST and
Alabama | 79 | Delaware | 80 | New Jersey | 78
Alaska | 51 | District of Columbia | 75 | New Mexico | 74
Arizona | 74 | Florida | 77 | New York | 78
Arkansas | 78 | Georgia | 77 | North Carolina | 77
California | 72 | Idaho | 76 | North Dakota | 80
Canada |  | Illinois | 76 | Ohio | 78
—Alberta | 84 | Indiana | 76 | Oklahoma | 77
—British Columbia | 72 | Iowa | 76 | Oregon | 68
—Labrador | 95 | Kansas | 78 | Pennsylvania | 77
—Manitoba | 83 | Kentucky | 79 | Rhode Island | 78
—New Brunswick | 83 | Louisiana | 76 | South Carolina | 77
—Newfoundland | 90 | Maine | 80 | South Dakota | 80
—Northwest Terr | 61 | Maryland | 77 | Tennessee | 78
—Nova Scotia | 85 | Massachusetts | 78 | Texas | 74
—Ontario | 81 | Michigan | 78 | Utah | 76
—Pr. Edward Isl | 86 | Minnesota | 78 | Vermont | 80
—Quebec | 83 | Mississippi | 77 | Virginia | 77
—Saskatchewan | 82 | Missouri | 77 | Washington | 67
—Yukon | 56 | Montana | 79 | West Virginia | 78
Colorado | 75 | Nebraska | 76 | Wisconsin | 79
Connecticut | 78 | Nevada | 74 | Wyoming | 76
|  | New Hampshire | 80
Between AUSTRIA and
Alabama | 65 | Delaware | 59 | New Jersey | 61
Alaska | 64 | District of Columbia | 59 | New Mexico | 67
Arizona | 68 | Florida | 61 | New York | 61
Arkansas | 62 | Georgia | 60 | North Carolina | 60
California | 66 | Idaho | 68 | North Dakota | 72
Canada |  | Illinois | 62 | Ohio | 60
—Alberta | 77 | Indiana | 61 | Oklahoma | 66
—British Columbia | 71 | Iowa | 70 | Oregon | 67
—Labrador | 77 | Kansas | 67 | Pennsylvania | 60
—Manitoba | 75 | Kentucky | 61 | Rhode Island | 61
—New Brunswick | 65 | Louisiana | 64 | South Carolina | 60
—Newfoundland | 72 | Maine | 62 | South Dakota | 72
—Northwest Terr | 74 | Maryland | 59 | Tennessee | 62
—Nova Scotia | 67 | Massachusetts | 59 | Texas | 66
—Ontario | 68 | Michigan | 65 | Utah | 69
—Pr. Edward Isl | 68 | Minnesota | 65 | Vermont | 62
—Quebec | 66 | Mississippi | 65 | Virginia | 60
—Saskatchewan | 75 | Missouri | 67 | Washington | 66
—Yukon | 69 | Montana | 72 | West Virginia | 59
Colorado | 67 | Nebraska | 69 | Wisconsin | 63
Connecticut | 61 | Nevada | 66 | Wyoming | 72
|  | New Hampshire | 62
Between AZORES and
Alabama | 64 | Delaware | 60 | New Jersey | 62
Alaska | 62 | District of Columbia | 60 | New Mexico | 62
Arizona | 63 | Florida | 62 | New York | 62
Arkansas | 59 | Georgia | 57 | North Carolina | 57
California | 64 | Idaho | 67 | North Dakota | 67
Canada |  | Illinois | 63 | Ohio | 61
—Alberta | 72 | Indiana | 62 | Oklahoma | 61
—British Columbia | 72 | Iowa | 65 | Oregon | 68
—Labrador | 78 | Kansas | 62 | Pennsylvania | 61
—Manitoba | 70 | Kentucky | 62 | Rhode Island | 62
—New Brunswick | 66 | Louisiana | 63 | South Carolina | 57
—Newfoundland | 73 | Maine | 63 | South Dakota | 67
—Northwest Terr | 72 | Maryland | 60 | Tennessee | 59
—Nova Scotia | 68 | Massachusetts | 60 | Texas | 61
—Ontario | 69 | Michigan | 66 | Utah | 64
—Pr. Edward Isl | 69 | Minnesota | 67 | Vermont | 63
—Quebec | 67 | Mississippi | 64 | Virginia | 61
—Saskatchewan | 70 | Missouri | 66 | Washington | 67
—Yukon | 67 | Montana | 67 | West Virginia | 60
Colorado | 62 | Nebraska | 64 | Wisconsin | 64
Connecticut | 62 | Nevada | 65 | Wyoming | 67
|  | New Hampshire | 63
Between BAHAMAS and
Alabama | 44 | Delaware | 45 | New Jersey | 48
Alaska | 48 | District of Columbia | 45 | New Mexico | 47
Arizona | 45 | Florida | 40 | New York | 48
Arkansas | 46 | Georgia | 42 | North Carolina | 42
California | 51 | Idaho | 52 | North Dakota | 52
Canada |  | Illinois | 50 | Ohio | 50
—Alberta | 55 | Indiana | 50 | Oklahoma | 47
—British Columbia | 61 | Iowa | 47 | Oregon | 57
—Labrador | 65 | Kansas | 47 | Pennsylvania | 51
—Manitoba | 55 | Kentucky | 45 | Rhode Island | 48
—New Brunswick | 53 | Louisiana | 44 | South Carolina | 44
—Newfoundland | 60 | Maine | 50 | South Dakota | 52
—Northwest Terr | 58 | Maryland | 45 | Tennessee | 46
—Nova Scotia | 55 | Massachusetts | 48 | Texas | 49
—Ontario | 55 | Michigan | 52 | Utah | 52
—Pr. Edward Isl | 56 | Minnesota | 53 | Vermont | 51
—Quebec | 53 | Mississippi | 45 | Virginia | 47
—Saskatchewan | 53 | Missouri | 46 | Washington | 56
—Yukon | 53 | Montana | 50 | West Virginia | 51
Colorado | 49 | Nebraska | 51 | Wisconsin | 52
Connecticut | 48 | Nevada | 48 | Wyoming | 52
|  | New Hampshire | 51
Between BAHRAIN and
Alabama | 61 | Delaware | 60 | New Jersey | 62
Alaska | 64 | District of Columbia | 59 | New Mexico | 67
Arizona | 68 | Florida | 61 | New York | 62
Arkansas | 64 | Georgia | 60 | North Carolina | 61
California | 69 | Idaho | 69 | North Dakota | 67
Canada |  | Illinois | 65 | Ohio | 64
—Alberta | 77 | Indiana | 65 | Oklahoma | 65
—British Columbia | 73 | Iowa | 66 | Oregon | 69
—Labrador | 80 | Kansas | 66 | Pennsylvania | 63
—Manitoba | 70 | Kentucky | 63 | Rhode Island | 62
—New Brunswick | 68 | Louisiana | 62 | South Carolina | 61
—Newfoundland | 75 | Maine | 65 | South Dakota | 67
—Northwest Terr | 74 | Maryland | 59 | Tennessee | 64
—Nova Scotia | 70 | Massachusetts | 62 | Texas | 64
—Ontario | 68 | Michigan | 65 | Utah | 69
—Pr. Edward Isl | 71 | Minnesota | 66 | Vermont | 66
—Quebec | 67 | Mississippi | 61 | Virginia | 60
—Saskatchewan | 75 | Missouri | 65 | Washington | 68
—Yukon | 69 | Montana | 72 | West Virginia | 64
Colorado | 66 | Nebraska | 66 | Wisconsin | 66
Connecticut | 62 | Nevada | 67 | Wyoming | 68
|  | New Hampshire | 66
Between BANGLADESH and
Alabama | 77 | Delaware | 77 | New Jersey | 81
Alaska | 53 | District of Columbia | 77 | New Mexico | 72
Arizona | 73 | Florida | 80 | New York | 81
Arkansas | 77 | Georgia | 79 | North Carolina | 81
California | 69 | Idaho | 76 | North Dakota | 79
Canada |  | Illinois | 79 | Ohio | 78
—Alberta | 83 | Indiana | 79 | Oklahoma | 78
—British Columbia | 76 | Iowa | 80 | Oregon | 71
—Labrador | 97 | Kansas | 79 | Pennsylvania | 80
—Manitoba | 82 | Kentucky | 80 | Rhode Island | 81
—New Brunswick | 85 | Louisiana | 77 | South Carolina | 77
—Newfoundland | 92 | Maine | 82 | South Dakota | 80
—Northwest Terr | 63 | Maryland | 79 | Tennessee | 77
—Nova Scotia | 87 | Massachusetts | 80 | Texas | 77
—Ontario | 82 | Michigan | 79 | Utah | 73
—Pr. Edward Isl | 88 | Minnesota | 79 | Vermont | 82
—Quebec | 86 | Mississippi | 79 | Virginia | 79
—Saskatchewan | 81 | Missouri | 80 | Washington | 71
—Yukon | 58 | Montana | 78 | West Virginia | 81
Colorado | 76 | Nebraska | 79 | Wisconsin | 78
Connecticut | 81 | Nevada | 71 | Wyoming | 76
|  | New Hampshire | 82
Between BARBADOS and
Alabama | 44 | Delaware | 45 | New Jersey | 48
Alaska | 48 | District of Columbia | 45 | New Mexico | 47
Arizona | 45 | Florida | 40 | New York | 48
Arkansas | 46 | Georgia | 42 | North Carolina | 42
California | 51 | Idaho | 52 | North Dakota | 52
Canada |  | Illinois | 50 | Ohio | 50
—Alberta | 55 | Indiana | 50 | Oklahoma | 47
—British Columbia | 61 | Iowa | 47 | Oregon | 57
—Labrador | 65 | Kansas | 47 | Pennsylvania | 51
—Manitoba | 55 | Kentucky | 45 | Rhode Island | 48
—New Brunswick | 53 | Louisiana | 44 | South Carolina | 44
—Newfoundland | 60 | Maine | 50 | South Dakota | 52
—Northwest Terr | 58 | Maryland | 45 | Tennessee | 46
—Nova Scotia | 55 | Massachusetts | 48 | Texas | 49
—Ontario | 55 | Michigan | 52 | Utah | 52
—Pr. Edward Isl | 56 | Minnesota | 53 | Vermont | 51
—Quebec | 53 | Mississippi | 45 | Virginia | 47
—Saskatchewan | 53 | Missouri | 46 | Washington | 56
—Yukon | 53 | Montana | 50 | West Virginia | 51
Colorado | 49 | Nebraska | 51 | Wisconsin | 52
Connecticut | 48 | Nevada | 48 | Wyoming | 52
|  | New Hampshire | 51
Between BELGIUM and
Alabama | 62 | Delaware | 56 | New Jersey |
Alaska |  | District of Columbia | 56 | New Mexico | 64
Arizona | 65 | Florida | 58 | New York | 58
Arkansas |  | Georgia | 57 | North Carolina | 57
California | 63 | Idaho | 65 | North Dakota | 69
Canada |  | Illinois | 59 | Ohio | 57
—Alberta |  | Indiana | 58 | Oklahoma | 63
—British Columbia |  | Iowa | 67 | Oregon | 66
—Labrador |  | Kansas | 64 | Pennsylvania | 57
—Manitoba |  | Kentucky | 58 | Rhode Island |
—New Brunswick |  | Louisiana | 61 | South Carolina | 57
—Newfoundland |  | Maine | 59 | South Dakota | 69
—Northwest Terr |  | Maryland | 56 | Tennessee | 58
—Nova Scotia |  | Massachusetts | 56 | Texas | 63
—Ontario |  | Michigan | 62 | Utah | 66
—Pr. Edward Isl |  | Minnesota | 62 | Vermont | 59
—Quebec |  | Mississippi | 62 | Virginia | 57
—Saskatchewan |  | Missouri | 64 | Washington | 63
—Yukon |  | Montana | 69 | West Virginia | 56
Colorado | 64 | Nebraska | 66 | Wisconsin | 60
Connecticut |  | Nevada | 63 | Wyoming | 69
|  | New Hampshire |
Between BELIZE and
Alabama | 48 | Delaware | 58 | New Jersey | 59
Alaska | 57 | District of Columbia | 58 | New Mexico | 55
Arizona | 55 | Florida | 55 | New York | 59
Arkansas | 53 | Georgia | 55 | North Carolina | 57
California | 56 | Idaho | 61 | North Dakota | 61
Canada |  | Illinois | 58 | Ohio | 57
—Alberta | 66 | Indiana | 57 | Oklahoma | 56
—British Columbia | 63 | Iowa | 56 | Oregon | 63
—Labrador | 74 | Kansas | 57 | Pennsylvania | 59
—Manitoba | 64 | Kentucky | 58 | Rhode Island | 59
—New Brunswick | 62 | Louisiana | 50 | South Carolina | 55
—Newfoundland | 69 | Maine | 59 | South Dakota | 61
—Northwest Terr | 67 | Maryland | 58 | Tennessee | 53
—Nova Scotia | 64 | Massachusetts | 58 | Texas | 53
—Ontario | 65 | Michigan | 62 | Utah | 58
—Pr. Edward Isl | 65 | Minnesota | 62 | Vermont | 60
—Quebec | 64 | Mississippi | 53 | Virginia | 57
—Saskatchewan | 64 | Missouri | 54 | Washington | 58
—Yukon | 62 | Montana | 61 | West Virginia | 57
Colorado | 56 | Nebraska | 59 | Wisconsin | 60
Connecticut | 59 | Nevada | 56 | Wyoming | 60
|  | New Hampshire | 60
Between BERMUDA and
Alabama | 44 | Delaware | 45 | New Jersey | 48
Alaska | 48 | District of Columbia | 45 | New Mexico | 47
Arizona | 45 | Florida | 40 | New York | 48
Arkansas | 46 | Georgia | 42 | North Carolina | 42
California | 51 | Idaho | 52 | North Dakota | 52
Canada |  | Illinois | 50 | Ohio | 50
—Alberta | 55 | Indiana | 50 | Oklahoma | 47
—British Columbia | 61 | Iowa | 47 | Oregon | 57
—Labrador | 65 | Kansas | 47 | Pennsylvania | 51
—Manitoba | 55 | Kentucky | 45 | Rhode Island | 48
—New Brunswick | 53 | Louisiana | 44 | South Carolina | 44
—Newfoundland | 60 | Maine | 50 | South Dakota | 52
—Northwest Terr | 58 | Maryland | 45 | Tennessee | 46
—Nova Scotia | 55 | Massachusetts | 48 | Texas | 49
—Ontario | 55 | Michigan | 52 | Utah | 52
—Pr. Edward Isl | 56 | Minnesota | 53 | Vermont | 51
—Quebec | 53 | Mississippi | 45 | Virginia | 47
—Saskatchewan | 53 | Missouri | 46 | Washington | 56
—Yukon | 53 | Montana | 50 | West Virginia | 51
Colorado | 49 | Nebraska | 51 | Wisconsin | 52
Connecticut | 48 | Nevada | 48 | Wyoming | 52
|  | New Hampshire | 51
Between BOLIVIA and
Alabama | 55 | Delaware | 61 | New Jersey | 61
Alaska | 58 | District of Columbia | 60 | New Mexico | 54
Arizona | 53 | Florida | 51 | New York | 61
Arkansas | 54 | Georgia | 53 | North Carolina | 54
California | 57 | Idaho | 60 | North Dakota | 64
Canada |  | Illinois | 62 | Ohio | 61
—Alberta | 69 | Indiana | 61 | Oklahoma | 59
—British Columbia | 67 | Iowa | 60 | Oregon | 63
—Labrador | 77 | Kansas | 60 | Pennsylvania | 62
—Manitoba | 67 | Kentucky | 58 | Rhode Island | 61
—New Brunswick | 65 | Louisiana | 54 | South Carolina | 53
—Newfoundland | 72 | Maine | 62 | South Dakota | 63
—Northwest Terr | 68 | Maryland | 60 | Tennessee | 54
—Nova Scotia | 67 | Massachusetts | 60 | Texas | 57
—Ontario | 65 | Michigan | 62 | Utah | 61
—Pr. Edward Isl | 68 | Minnesota | 62 | Vermont | 62
—Quebec | 66 | Mississippi | 55 | Virginia | 60
—Saskatchewan | 67 | Missouri | 59 | Washington | 62
—Yukon | 63 | Montana | 64 | West Virginia | 62
Colorado | 58 | Nebraska | 62 | Wisconsin | 61
Connecticut | 61 | Nevada | 55 | Wyoming | 62
|  | New Hampshire | 62
Between BOTSWANA and
Alabama | 64 | Delaware | 61 | New Jersey | 69
Alaska | 71 | District of Columbia | 61 | New Mexico | 76
Arizona | 74 | Florida | 69 | New York | 69
Arkansas | 71 | Georgia | 68 | North Carolina | 69
California | 75 | Idaho | 75 | North Dakota | 75
Canada |  | Illinois | 73 | Ohio | 73
—Alberta | 84 | Indiana | 73 | Oklahoma | 72
—British Columbia | 81 | Iowa | 74 | Oregon | 78
—Labrador | 87 | Kansas | 74 | Pennsylvania | 70
—Manitoba | 78 | Kentucky | 71 | Rhode Island | 69
—New Brunswick | 75 | Louisiana | 64 | South Carolina | 69
—Newfoundland | 82 | Maine | 72 | South Dakota | 74
—Northwest Terr | 81 | Maryland | 68 | Tennessee | 71
—Nova Scotia | 77 | Massachusetts | 72 | Texas | 70
—Ontario | 77 | Michigan | 74 | Utah | 74
—Pr. Edward Isl | 78 | Minnesota | 75 | Vermont | 70
—Quebec | 74 | Mississippi | 64 | Virginia | 67
—Saskatchewan | 82 | Missouri | 70 | Washington | 76
—Yukon | 76 | Montana | 79 | West Virginia | 66
Colorado | 74 | Nebraska | 74 | Wisconsin | 75
Connecticut | 69 | Nevada | 72 | Wyoming | 75
|  | New Hampshire | 70
Between BRAZIL and
Alabama | 55 | Delaware | 61 | New Jersey | 61
Alaska | 58 | District of Columbia | 60 | New Mexico | 54
Arizona | 53 | Florida | 51 | New York | 61
Arkansas | 54 | Georgia | 53 | North Carolina | 54
California | 57 | Idaho | 60 | North Dakota | 64
Canada |  | Illinois | 62 | Ohio | 61
—Alberta | 69 | Indiana | 61 | Oklahoma | 59
—British Columbia | 67 | Iowa | 60 | Oregon | 63
—Labrador | 77 | Kansas | 60 | Pennsylvania | 62
—Manitoba | 67 | Kentucky | 58 | Rhode Island | 61
—New Brunswick | 65 | Louisiana | 54 | South Carolina | 53
—Newfoundland | 72 | Maine | 62 | South Dakota | 63
—Northwest Terr | 68 | Maryland | 60 | Tennessee | 54
—Nova Scotia | 67 | Massachusetts | 60 | Texas | 57
—Ontario | 65 | Michigan | 62 | Utah | 61
—Pr. Edward Isl | 68 | Minnesota | 62 | Vermont | 62
—Quebec | 66 | Mississippi | 55 | Virginia | 60
—Saskatchewan | 67 | Missouri | 59 | Washington | 62
—Yukon | 63 | Montana | 64 | West Virginia | 62
Colorado | 58 | Nebraska | 62 | Wisconsin | 61
Connecticut | 61 | Nevada | 55 | Wyoming | 62
|  | New Hampshire | 62 |
Between BRUNEI and
Alabama | 78 | Delaware | 77 | New Jersey | 79
Alaska | 52 | District of Columbia | 77 | New Mexico | 79
Arizona | 72 | Florida | 79 | New York | 79
Arkansas | 84 | Georgia | 80 | North Carolina | 82
California | 72 | Idaho | 67 | North Dakota | 79
Canada |  | Illinois | 80 | Ohio | 78
—Alberta | 78 | Indiana | 79 | Oklahoma | 78
—British Columbia | 70 | Iowa | 84 | Oregon | 66
—Labrador | 95 | Kansas | 79 | Pennsylvania | 78
—Manitoba | 82 | Kentucky | 79 | Rhode Island | 79
—New Brunswick | 83 | Louisiana | 77 | South Carolina | 80
—Newfoundland | 90 | Maine | 80 | South Dakota | 79
—Northwest Terr | 62 | Maryland | 77 | Tennessee | 84
—Nova Scotia | 85 | Massachusetts | 77 | Texas | 77
—Ontario | 86 | Michigan | 83 | Utah | 73
—Pr. Edward Isl | 86 | Minnesota | 84 | Vermont | 80
—Quebec | 84 | Mississippi | 78 | Virginia | 78
—Saskatchewan | 76 | Missouri | 80 | Washington | 65
—Yukon | 57 | Montana | 73 | West Virginia | 77
Colorado | 76 | Nebraska | 81 | Wisconsin | 81
Connecticut | 79 | Nevada | 72 | Wyoming | 77
|  | New Hampshire | 80 |
Between BULGARIA and
Alabama | 68 | Delaware | 66 | New Jersey | 68
Alaska | 69 | District of Columbia | 66 | New Mexico | 70
Arizona | 72 | Florida | 67 | New York | 68
Arkansas | 68 | Georgia | 67 | North Carolina | 68
California | 73 | Idaho | 72 | North Dakota | 74
Canada |  | Illinois | 69 | Ohio | 67
—Alberta | 80 | Indiana | 68 | Oklahoma | 71
—British Columbia | 78 | Iowa | 72 | Oregon | 74
—Labrador | 85 | Kansas | 70 | Pennsylvania | 69
—Manitoba | 77 | Kentucky | 66 | Rhode Island | 68
—New Brunswick | 73 | Louisiana | 69 | South Carolina | 64
—Newfoundland | 80 | Maine | 70 | South Dakota | 74
—Northwest Terr | 79 | Maryland | 66 | Tennessee | 68
—Nova Scotia | 75 | Massachusetts | 67 | Texas | 71
—Ontario | 74 | Michigan | 71 | Utah | 75
—Pr. Edward Isl | 76 | Minnesota | 72 | Vermont | 69
—Quebec | 73 | Mississippi | 68 | Virginia | 67
—Saskatchewan | 78 | Missouri | 71 | Washington | 73
—Yukon | 74 | Montana | 75 | West Virginia | 66
Colorado | 71 | Nebraska | 72 | Wisconsin | 69
Connecticut | 68 | Nevada | 74 | Wyoming | 75
|  | New Hampshire | 69 |
Between BURKINA FASO and
Alabama | 64 | Delaware | 61 | New Jersey | 69
Alaska | 71 | District of Columbia | 61 | New Mexico | 76
Arizona | 74 | Florida | 69 | New York | 69
Arkansas | 71 | Georgia | 68 | North Carolina | 69
California | 75 | Idaho | 75 | North Dakota | 75
Canada |  | Illinois | 73 | Ohio | 73
—Alberta | 84 | Indiana | 73 | Oklahoma | 72
—British Columbia | 81 | Iowa | 74 | Oregon | 78
—Labrador | 87 | Kansas | 74 | Pennsylvania | 70
—Manitoba | 78 | Kentucky | 71 | Rhode Island | 69
—New Brunswick | 75 | Louisiana | 64 | South Carolina | 69
—Newfoundland | 82 | Maine | 72 | South Dakota | 74
—Northwest Terr | 81 | Maryland | 68 | Tennessee | 71
—Nova Scotia | 77 | Massachusetts | 72 | Texas | 70
—Ontario | 77 | Michigan | 74 | Utah | 74
—Pr. Edward Isl | 78 | Minnesota | 75 | Vermont | 70
—Quebec | 74 | Mississippi | 64 | Virginia | 67
—Saskatchewan | 82 | Missouri | 70 | Washington | 76
—Yukon | 76 | Montana | 79 | West Virginia | 66
Colorado | 74 | Nebraska | 74 | Wisconsin | 75
Connecticut | 69 | Nevada | 72 | Wyoming | 75
|  | New Hampshire | 70
Between BURMA and
Alabama | 77 | Delaware | 77 | New Jersey | 81
Alaska | 53 | District of Columbia | 77 | New Mexico | 72
Arizona | 73 | Florida | 80 | New York | 81
Arkansas | 77 | Georgia | 79 | North Carolina | 81
California | 69 | Idaho | 76 | North Dakota | 79
Canada |  | Illinois | 79 | Ohio | 78
—Alberta | 83 | Indiana | 79 | Oklahoma | 78
—British Columbia | 76 | Iowa | 80 | Oregon | 71
—Labrador | 97 | Kansas | 79 | Pennsylvania | 80
—Manitoba | 82 | Kentucky | 80 | Rhode Island | 81
—New Brunswick | 85 | Louisiana | 77 | South Carolina | 77
—Newfoundland | 92 | Maine | 82 | South Dakota | 80
—Northwest Terr | 63 | Maryland | 79 | Tennessee | 77
—Nova Scotia | 87 | Massachusetts | 80 | Texas | 77
—Ontario | 82 | Michigan | 79 | Utah | 73
—Pr. Edward Isl | 88 | Minnesota | 79 | Vermont | 82
—Quebec | 86 | Mississippi | 79 | Virginia | 79
—Saskatchewan | 81 | Missouri | 80 | Washington | 71
—Yukon | 58 | Montana | 78 | West Virginia | 81
Colorado | 76 | Nebraska | 79 | Wisconsin | 78
Connecticut | 81 | Nevada | 71 | Wyoming | 76
|  | New Hampshire | 82
Between BURUNDI and
Alabama | 64 | Delaware | 61 | New Jersey | 69
Alaska | 71 | District of Columbia | 61 | New Mexico | 76
Arizona | 74 | Florida | 69 | New York | 69
Arkansas | 71 | Georgia | 68 | North Carolina | 69
California | 75 | Idaho | 75 | North Dakota | 75
Canada |  | Illinois | 73 | Ohio | 73
—Alberta | 84 | Indiana | 73 | Oklahoma | 72
—British Columbia | 81 | Iowa | 74 | Oregon | 78
—Labrador | 87 | Kansas | 74 | Pennsylvania | 70
—Manitoba | 78 | Kentucky | 71 | Rhode Island | 69
—New Brunswick | 75 | Louisiana | 64 | South Carolina | 69
—Newfoundland | 82 | Maine | 72 | South Dakota | 74
—Northwest Terr | 81 | Maryland | 68 | Tennessee | 71
—Nova Scotia | 77 | Massachusetts | 72 | Texas | 70
—Ontario | 77 | Michigan | 74 | Utah | 74
—Pr. Edward Isl | 78 | Minnesota | 75 | Vermont | 70
—Quebec | 74 | Mississippi | 64 | Virginia | 67
—Saskatchewan | 82 | Missouri | 70 | Washington | 76
—Yukon | 76 | Montana | 79 | West Virginia | 66
Colorado | 74 | Nebraska | 74 | Wisconsin | 75
Connecticut | 69 | Nevada | 72 | Wyoming | 75
|  | New Hampshire | 70
Between CAMBODIA and
Alabama | 73 | Delaware | 74 | New Jersey | 75
Alaska | 48 | District of Columbia | 73 | New Mexico | 73
Arizona | 69 | Florida | 75 | New York | 75
Arkansas | 75 | Georgia | 75 | North Carolina | 76
California | 68 | Idaho | 68 | North Dakota | 75
Canada |  | Illinois | 75 | Ohio | 75
—Alberta | 77 | Indiana | 75 | Oklahoma | 74
—British Columbia | 71 | Iowa | 76 | Oregon | 70
—Labrador | 91 | Kansas | 75 | Pennsylvania | 74
—Manitoba | 78 | Kentucky | 74 | Rhode Island | 75
—New Brunswick | 79 | Louisiana | 71 | South Carolina | 75
—Newfoundland | 86 | Maine | 76 | South Dakota | 75
—Northwest Terr | 58 | Maryland | 72 | Tennessee | 75
—Nova Scotia | 81 | Massachusetts | 73 | Texas | 72
—Ontario | 80 | Michigan | 77 | Utah | 71
—Pr. Edward Isl | 82 | Minnesota | 78 | Vermont | 75
—Quebec | 80 | Mississippi | 75 | Virginia | 74
—Saskatchewan | 75 | Missouri | 76 | Washington | 66
—Yukon | 53 | Montana | 72 | West Virginia | 72
Colorado | 70 | Nebraska | 75 | Wisconsin | 76
Connecticut | 75 | Nevada | 69 | Wyoming | 71
|  | New Hampshire | 75
Between CAMEROON and
Alabama | 64 | Delaware | 61 | New Jersey | 69
Alaska | 71 | District of Columbia | 61 | New Mexico | 76
Arizona | 74 | Florida | 69 | New York | 69
Arkansas | 71 | Georgia | 68 | North Carolina | 69
California | 75 | Idaho | 75 | North Dakota | 75
Canada |  | Illinois | 73 | Ohio | 73
—Alberta | 84 | Indiana | 73 | Oklahoma | 72
—British Columbia | 81 | Iowa | 74 | Oregon | 78
—Labrador | 87 | Kansas | 74 | Pennsylvania | 70
—Manitoba | 78 | Kentucky | 71 | Rhode Island | 69
—New Brunswick | 75 | Louisiana | 64 | South Carolina | 69
—Newfoundland | 82 | Maine | 72 | South Dakota | 74
—Northwest Terr | 81 | Maryland | 68 | Tennessee | 71
—Nova Scotia | 77 | Massachusetts | 72 | Texas | 70
—Ontario | 77 | Michigan | 74 | Utah | 74
—Pr. Edward Isl | 78 | Minnesota | 75 | Vermont | 70
—Quebec | 74 | Mississippi | 64 | Virginia | 67
—Saskatchewan | 82 | Missouri | 70 | Washington | 76
—Yukon | 76 | Montana | 79 | West Virginia | 66
Colorado | 74 | Nebraska | 74 | Wisconsin | 75
Connecticut | 69 | Nevada | 72 | Wyoming | 75
|  | New Hampshire | 70
Between CANARY ISLANDS and
Alabama | 60 | Delaware | 59 | New Jersey | 61
Alaska | 62 | District of Columbia | 59 | New Mexico | 64
Arizona | 65 | Florida | 61 | New York | 61
Arkansas | 61 | Georgia | 60 | North Carolina | 59
California | 66 | Idaho | 63 | North Dakota | 69
Canada |  | Illinois | 62 | Ohio | 60
—Alberta | 74 | Indiana | 61 | Oklahoma | 63
—British Columbia | 72 | Iowa | 67 | Oregon | 71
—Labrador | 77 | Kansas | 64 | Pennsylvania | 60
—Manitoba | 72 | Kentucky | 61 | Rhode Island | 61
—New Brunswick | 65 | Louisiana | 59 | South Carolina | 59
—Newfoundland | 72 | Maine | 62 | South Dakota | 69
—Northwest Terr | 72 | Maryland | 59 | Tennessee | 61
—Nova Scotia | 67 | Massachusetts | 59 | Texas | 63
—Ontario | 68 | Michigan | 65 | Utah | 66
—Pr. Edward Isl | 68 | Minnesota | 69 | Vermont | 62
—Quebec | 66 | Mississippi | 60 | Virginia | 60
—Saskatchewan | 72 | Missouri | 62 | Washington | 67
—Yukon | 67 | Montana | 69 | West Virginia | 59
Colorado | 64 | Nebraska | 66 | Wisconsin | 63
Connecticut | 61 | Nevada | 67 | Wyoming | 69
|  | New Hampshire | 62
Between CAYMAN ISLANDS and
Alabama | 44 | Delaware | 45 | New Jersey | 48
Alaska | 48 | District of Columbia | 45 | New Mexico | 47
Arizona | 45 | Florida | 40 | New York | 48
Arkansas | 46 | Georgia | 42 | North Carolina | 42
California | 51 | Idaho | 52 | North Dakota | 52
Canada |  | Illinois | 50 | Ohio | 50
—Alberta | 55 | Indiana | 50 | Oklahoma | 47
—British Columbia | 61 | Iowa | 47 | Oregon | 57
—Labrador | 65 | Kansas | 47 | Pennsylvania | 51
—Manitoba | 55 | Kentucky | 45 | Rhode Island | 48
—New Brunswick | 53 | Louisiana | 44 | South Carolina | 44
—Newfoundland | 60 | Maine | 50 | South Dakota | 52
—Northwest Terr | 58 | Maryland | 45 | Tennessee | 46
—Nova Scotia | 55 | Massachusetts | 48 | Texas | 49
—Ontario | 55 | Michigan | 52 | Utah | 52
—Pr. Edward Isl | 56 | Minnesota | 53 | Vermont | 51
—Quebec | 53 | Mississippi | 45 | Virginia | 47
—Saskatchewan | 53 | Missouri | 46 | Washington | 56
—Yukon | 53 | Montana | 50 | West Virginia | 51
Colorado | 49 | Nebraska | 51 | Wisconsin | 52
Connecticut | 48 | Nevada | 48 | Wyoming | 52
|  | New Hampshire | 51
Between CENTRAL AFRICA REPUBLIC and
Alabama | 64 | Delaware | 61 | New Jersey | 69
Alaska | 71 | District of Columbia | 61 | New Mexico | 76
Arizona | 74 | Florida | 69 | New York | 69
Arkansas | 71 | Georgia | 68 | North Carolina | 69
California | 75 | Idaho | 75 | North Dakota | 75
Canada |  | Illinois | 73 | Ohio | 73
—Alberta | 84 | Indiana | 73 | Oklahoma | 72
—British Columbia | 81 | Iowa | 74 | Oregon | 78
—Labrador | 87 | Kansas | 74 | Pennsylvania | 70
—Manitoba | 78 | Kentucky | 71 | Rhode Island | 69
—New Brunswick | 75 | Louisiana | 64 | South Carolina | 69
—Newfoundland | 82 | Maine | 72 | South Dakota | 74
—Northwest Terr | 81 | Maryland | 68 | Tennessee | 71
—Nova Scotia | 77 | Massachusetts | 72 | Texas | 70
—Ontario | 77 | Michigan | 74 | Utah | 74
—Pr. Edward Isl | 78 | Minnesota | 75 | Vermont | 70
—Quebec | 74 | Mississippi | 64 | Virginia | 67
—Saskatchewan | 82 | Missouri | 70 | Washington | 76
—Yukon | 76 | Montana | 79 | West Virginia | 66
Colorado | 74 | Nebraska | 74 | Wisconsin | 75
Connecticut | 69 | Nevada | 72 | Wyoming | 75
|  | New Hampshire | 70
Between CHAD and
Alabama | 61 | Delaware | 60 | New Jersey | 61
Alaska | 65 | District of Columbia | 60 | New Mexico | 67
Arizona | 69 | Florida | 62 | New York | 61
Arkansas | 65 | Georgia | 61 | North Carolina | 63
California | 72 | Idaho | 69 | North Dakota | 67
Canada |  | Illinois | 67 | Ohio | 67
—Alberta | 76 | Indiana | 69 | Oklahoma | 66
—British Columbia | 73 | Iowa | 70 | Oregon | 69
—Labrador | 86 | Kansas | 70 | Pennsylvania | 61
—Manitoba | 70 | Kentucky | 68 | Rhode Island | 61
—New Brunswick | 74 | Louisiana | 63 | South Carolina | 63
—Newfoundland | 81 | Maine | 71 | South Dakota | 67
—Northwest Terr | 75 | Maryland | 62 | Tennessee | 65
—Nova Scotia | 76 | Massachusetts | 68 | Texas | 62
—Ontario | 70 | Michigan | 67 | Utah | 69
—Pr. Edward Isl | 77 | Minnesota | 68 | Vermont | 66
—Quebec | 66 | Mississippi | 63 | Virginia | 59
—Saskatchewan | 74 | Missouri | 68 | Washington | 68
—Yukon | 70 | Montana | 71 | West Virginia | 65
Colorado | 68 | Nebraska | 66 | Wisconsin | 69
Connecticut | 61 | Nevada | 68 | Wyoming | 67
|  | New Hampshire | 66
Between CHILE and
Alabama | 56 | Delaware | 63 | New Jersey | 64
Alaska | 61 | District of Columbia | 62 | New Mexico | 57
Arizona | 53 | Florida | 56 | New York | 64
Arkansas | 60 | Georgia | 55 | North Carolina | 59
California | 59 | Idaho | 62 | North Dakota | 65
Canada |  | Illinois | 64 | Ohio | 63
—Alberta | 70 | Indiana | 63 | Oklahoma | 61
—British Columbia | 69 | Iowa | 65 | Oregon | 64
—Labrador | 80 | Kansas | 64 | Pennsylvania | 64
—Manitoba | 68 | Kentucky | 61 | Rhode Island | 64
—New Brunswick | 68 | Louisiana | 57 | South Carolina | 60
—Newfoundland | 75 | Maine | 65 | South Dakota | 65
—Northwest Terr | 71 | Maryland | 63 | Tennessee | 60
—Nova Scotia | 70 | Massachusetts | 63 | Texas | 60
—Ontario | 67 | Michigan | 64 | Utah | 63
—Pr. Edward Isl | 71 | Minnesota | 64 | Vermont | 62
—Quebec | 69 | Mississippi | 58 | Virginia | 63
—Saskatchewan | 68 | Missouri | 61 | Washington | 64
—Yukon | 66 | Montana | 65 | West Virginia | 65
Colorado | 62 | Nebraska | 63 | Wisconsin | 65
Connecticut | 64 | Nevada | 56 | Wyoming | 64
|  | New Hampshire | 62
Between CHINA and
Alabama | 77 | Delaware | 77 | New Jersey | 81
Alaska | 53 | District of Columbia | 77 | New Mexico | 72
Arizona | 73 | Florida | 80 | New York | 81
Arkansas | 77 | Georgia | 79 | North Carolina | 81
California | 69 | Idaho | 76 | North Dakota | 79
Canada |  | Illinois | 79 | Ohio | 78
—Alberta | 83 | Indiana | 79 | Oklahoma | 78
—British Columbia | 76 | Iowa | 80 | Oregon | 71
—Labrador | 97 | Kansas | 79 | Pennsylvania | 80
—Manitoba | 82 | Kentucky | 80 | Rhode Island | 81
—New Brunswick | 85 | Louisiana | 77 | South Carolina | 77
—Newfoundland | 92 | Maine | 82 | South Dakota | 80
—Northwest Terr | 63 | Maryland | 79 | Tennessee | 77
—Nova Scotia | 87 | Massachusetts | 80 | Texas | 77
—Ontario | 82 | Michigan | 79 | Utah | 73
—Pr. Edward Isl | 88 | Minnesota | 79 | Vermont | 82
—Quebec | 86 | Mississippi | 79 | Virginia | 79
—Saskatchewan | 81 | Missouri | 80 | Washington | 71
—Yukon | 58 | Montana | 78 | West Virginia | 81
Colorado | 76 | Nebraska | 79 | Wisconsin | 78
Connecticut | 81 | Nevada | 71 | Wyoming | 76
|  | New Hampshire | 82
Between COLOMBIA and
Alabama | 52 | Delaware | 61 | New Jersey | 64
Alaska | 61 | District of Columbia | 61 | New Mexico | 59
Arizona | 59 | Florida | 57 | New York | 64
Arkansas | 58 | Georgia | 57 | North Carolina | 60
California | 64 | Idaho | 64 | North Dakota | 64
Canada |  | Illinois | 63 | Ohio | 62
—Alberta | 69 | Indiana | 62 | Oklahoma | 60
—British Columbia | 69 | Iowa | 60 | Oregon | 63
—Labrador | 79 | Kansas | 61 | Pennsylvania | 63
—Manitoba | 67 | Kentucky | 61 | Rhode Island | 64
—New Brunswick | 67 | Louisiana | 56 | South Carolina | 58
—Newfoundland | 74 | Maine | 64 | South Dakota | 64
—Northwest Terr | 71 | Maryland | 61 | Tennessee | 58
—Nova Scotia | 69 | Massachusetts | 61 | Texas | 60
—Ontario | 67 | Michigan | 64 | Utah | 62
—Pr. Edward Isl | 70 | Minnesota | 64 | Vermont | 64
—Quebec | 69 | Mississippi | 58 | Virginia | 61
—Saskatchewan | 67 | Missouri | 60 | Washington | 64
—Yukon | 66 | Montana | 64 | West Virginia | 61
Colorado | 62 | Nebraska | 62 | Wisconsin | 63
Connecticut | 64 | Nevada | 61 | Wyoming | 64
|  | New Hampshire | 64
Between COSTA RICA and
Alabama | 47 | Delaware | 56 | New Jersey | 57
Alaska | 55 | District of Columbia | 56 | New Mexico | 54
Arizona | 53 | Florida | 53 | New York | 57
Arkansas | 52 | Georgia | 53 | North Carolina | 56
California | 54 | Idaho | 57 | North Dakota | 59
Canada |  | Illinois | 57 | Ohio | 56
—Alberta | 64 | Indiana | 56 | Oklahoma | 55
—British Columbia | 67 | Iowa | 54 | Oregon | 61
—Labrador | 73 | Kansas | 56 | Pennsylvania | 55
—Manitoba | 62 | Kentucky | 56 | Rhode Island | 57
—New Brunswick | 61 | Louisiana | 48 | South Carolina | 53
—Newfoundland | 68 | Maine | 58 | South Dakota | 59
—Northwest Terr | 65 | Maryland | 56 | Tennessee | 52
—Nova Scotia | 63 | Massachusetts | 56 | Texas | 52
—Ontario | 64 | Michigan | 61 | Utah | 57
—Pr. Edward Isl | 64 | Minnesota | 61 | Vermont | 60
—Quebec | 62 | Mississippi | 49 | Virginia | 56
—Saskatchewan | 62 | Missouri | 54 | Washington | 62
—Yukon | 60 | Montana | 59 | West Virginia | 56
Colorado | 54 | Nebraska | 57 | Wisconsin | 58
Connecticut | 57 | Nevada | 55 | Wyoming | 59
|  | New Hampshire | 60
Between CROATIA and
Alabama | 60 | Delaware | 56 | New Jersey | 58
Alaska | 60 | District of Columbia | 56 | New Mexico | 63
Arizona | 64 | Florida | 55 | New York | 58
Arkansas | 55 | Georgia | 53 | North Carolina | 56
California | 62 | Idaho | 68 | North Dakota | 68
Canada |  | Illinois | 59 | Ohio | 57
—Alberta | 73 | Indiana | 58 | Oklahoma | 62
—British Columbia | 69 | Iowa | 66 | Oregon | 69
—Labrador | 74 | Kansas | 63 | Pennsylvania | 57
—Manitoba | 71 | Kentucky | 58 | Rhode Island | 58
—New Brunswick | 62 | Louisiana | 59 | South Carolina | 53
—Newfoundland | 69 | Maine | 59 | South Dakota | 68
—Northwest Terr | 70 | Maryland | 56 | Tennessee | 55
—Nova Scotia | 64 | Massachusetts | 56 | Texas | 62
—Ontario | 65 | Michigan | 62 | Utah | 65
—Pr. Edward Isl | 65 | Minnesota | 68 | Vermont | 59
—Quebec | 63 | Mississippi | 60 | Virginia | 57
—Saskatchewan | 71 | Missouri | 62 | Washington | 64
—Yukon | 65 | Montana | 68 | West Virginia | 56
Colorado | 63 | Nebraska | 65 | Wisconsin | 60
Connecticut | 58 | Nevada | 66 | Wyoming | 68
|  | New Hampshire | 59
Between CUBA and
Alabama | 44 | Delaware | 45 | New Jersey | 48
Alaska | 48 | District of Columbia | 45 | New Mexico | 47
Arizona | 45 | Florida | 40 | New York | 48
Arkansas | 46 | Georgia | 42 | North Carolina | 42
California | 51 | Idaho | 52 | North Dakota | 52
Canada |  | Illinois | 50 | Ohio | 50
—Alberta | 55 | Indiana | 50 | Oklahoma | 47
—British Columbia | 61 | Iowa | 47 | Oregon | 57
—Labrador | 65 | Kansas | 47 | Pennsylvania | 51
—Manitoba | 55 | Kentucky | 45 | Rhode Island | 48
—New Brunswick | 53 | Louisiana | 44 | South Carolina | 44
—Newfoundland | 60 | Maine | 50 | South Dakota | 52
—Northwest Terr | 58 | Maryland | 45 | Tennessee | 46
—Nova Scotia | 55 | Massachusetts | 48 | Texas | 49
—Ontario | 55 | Michigan | 52 | Utah | 52
—Pr. Edward Isl | 56 | Minnesota | 53 | Vermont | 51
—Quebec | 53 | Mississippi | 45 | Virginia | 47
—Saskatchewan | 53 | Missouri | 46 | Washington | 56
—Yukon | 53 | Montana | 50 | West Virginia | 51
Colorado | 49 | Nebraska | 51 | Wisconsin | 52
Connecticut | 48 | Nevada | 48 | Wyoming | 52
|  | New Hampshire | 51
Between CYPRUS and
Alabama | 73 | Delaware | 76 | New Jersey | 78
Alaska | 79 | District of Columbia | 76 | New Mexico | 81
Arizona | 81 | Florida | 75 | New York | 78
Arkansas | 75 | Georgia | 73 | North Carolina | 76
California | 82 | Idaho | 86 | North Dakota | 84
Canada |  | Illinois | 79 | Ohio | 77
—Alberta | 91 | Indiana | 78 | Oklahoma | 79
—British Columbia | 91 | Iowa | 80 | Oregon | 86
—Labrador | 94 | Kansas | 79 | Pennsylvania | 77
—Manitoba | 87 | Kentucky | 78 | Rhode Island | 78
—New Brunswick | 82 | Louisiana | 76 | South Carolina | 73
—Newfoundland | 89 | Maine | 79 | South Dakota | 84
—Northwest Terr | 89 | Maryland | 76 | Tennessee | 75
—Nova Scotia | 84 | Massachusetts | 76 | Texas | 79
—Ontario | 85 | Michigan | 82 | Utah | 85
—Pr. Edward Isl | 85 | Minnesota | 82 | Vermont | 79
—Quebec | 83 | Mississippi | 75 | Virginia | 77
—Saskatchewan | 89 | Missouri | 82 | Washington | 86
—Yukon | 84 | Montana | 86 | West Virginia | 76
Colorado | 81 | Nebraska | 83 | Wisconsin | 80
Connecticut | 78 | Nevada | 86 | Wyoming | 85
|  | New Hampshire | 79
Between CZECHOSLOVAKIA and
Alabama | 65 | Delaware | 59 | New Jersey | 61
Alaska | 64 | District of Columbia | 59 | New Mexico | 67
Arizona | 68 | Florida | 61 | New York | 61
Arkansas | 62 | Georgia | 60 | North Carolina | 60
California | 66 | Idaho | 68 | North Dakota | 72
Canada |  | Illinois | 62 | Ohio | 60
—Alberta | 77 | Indiana | 61 | Oklahoma | 66
—British Columbia | 71 | Iowa | 70 | Oregon | 67
—Labrador | 77 | Kansas | 67 | Pennsylvania | 60
—Manitoba | 75 | Kentucky | 61 | Rhode Island | 61
—New Brunswick | 65 | Louisiana | 64 | South Carolina | 60
—Newfoundland | 72 | Maine | 62 | South Dakota | 72
—Northwest Terr | 74 | Maryland | 59 | Tennessee | 62
—Nova Scotia | 67 | Massachusetts | 59 | Texas | 66
—Ontario | 68 | Michigan | 65 | Utah | 69
—Pr. Edward Isl | 68 | Minnesota | 65 | Vermont | 62
—Quebec | 66 | Mississippi | 65 | Virginia | 60
—Saskatchewan | 75 | Missouri | 67 | Washington | 66
—Yukon | 69 | Montana | 72 | West Virginia | 59
Colorado | 67 | Nebraska | 69 | Wisconsin | 63
Connecticut | 61 | Nevada | 66 | Wyoming | 72
|  | New Hampshire | 62
Between DENMARK and
Alabama | 61 | Delaware | 55 | New Jersey | 58
Alaska | 60 | District of Columbia | 55 | New Mexico | 64
Arizona | 64 | Florida | 57 | New York | 58
Arkansas | 61 | Georgia | 58 | North Carolina | 58
California | 65 | Idaho | 64 | North Dakota | 65
Canada |  | Illinois | 59 | Ohio | 59
—Alberta | 71 | Indiana | 59 | Oklahoma | 63
—British Columbia | 70 | Iowa | 64 | Oregon | 65
—Labrador | 75 | Kansas | 62 | Pennsylvania | 57
—Manitoba | 68 | Kentucky | 60 | Rhode Island | 58
—New Brunswick | 63 | Louisiana | 61 | South Carolina | 58
—Newfoundland | 70 | Maine | 60 | South Dakota | 65
—Northwest Terr | 70 | Maryland | 55 | Tennessee | 61
—Nova Scotia | 65 | Massachusetts | 55 | Texas | 63
—Ontario | 63 | Michigan | 60 | Utah | 66
—Pr. Edward Isl | 66 | Minnesota | 61 | Vermont | 59
—Quebec | 63 | Mississippi | 61 | Virginia | 56
—Saskatchewan | 69 | Missouri | 63 | Washington | 65
—Yukon | 65 | Montana | 66 | West Virginia | 58
Colorado | 63 | Nebraska | 63 | Wisconsin | 61
Connecticut | 58 | Nevada | 64 | Wyoming | 67
|  | New Hampshire | 59
Between DJIBOUTI and
Alabama | 62 | Delaware | 61 | New Jersey | 64
Alaska | 65 | District of Columbia | 61 | New Mexico | 70
Arizona | 68 | Florida | 64 | New York | 64
Arkansas | 65 | Georgia | 62 | North Carolina | 63
California | 69 | Idaho | 67 | North Dakota | 67
Canada |  | Illinois | 67 | Ohio | 67
—Alberta | 75 | Indiana | 67 | Oklahoma | 66
—British Columbia | 73 | Iowa | 64 | Oregon | 70
—Labrador | 82 | Kansas | 68 | Pennsylvania | 64
—Manitoba | 70 | Kentucky | 66 | Rhode Island | 64
—New Brunswick | 70 | Louisiana | 63 | South Carolina | 63
—Newfoundland | 77 | Maine | 67 | South Dakota | 66
—Northwest Terr | 75 | Maryland | 61 | Tennessee | 65
—Nova Scotia | 72 | Massachusetts | 64 | Texas | 62
—Ontario | 69 | Michigan | 66 | Utah | 66
—Pr. Edward Isl | 73 | Minnesota | 67 | Vermont | 68
—Quebec | 69 | Mississippi | 63 | Virginia | 61
—Saskatchewan | 73 | Missouri | 67 | Washington | 68
—Yukon | 70 | Montana | 70 | West Virginia | 66
Colorado | 66 | Nebraska | 66 | Wisconsin | 69
Connecticut | 64 | Nevada | 68 | Wyoming | 69
|  | New Hampshire | 68
Between DOMINICAN REPUBLIC and
Alabama | 44 | Delaware | 45 | New Jersey | 48
Alaska | 48 | District of Columbia | 45 | New Mexico | 47
Arizona | 45 | Florida | 40 | New York | 48
Arkansas | 46 | Georgia | 42 | North Carolina | 42
California | 51 | Idaho | 52 | North Dakota | 52
Canada |  | Illinois | 50 | Ohio | 50
—Alberta | 55 | Indiana | 50 | Oklahoma | 47
—British Columbia | 61 | Iowa | 47 | Oregon | 57
—Labrador | 65 | Kansas | 47 | Pennsylvania | 51
—Manitoba | 55 | Kentucky | 45 | Rhode Island | 48
—New Brunswick | 53 | Louisiana | 44 | South Carolina | 44
—Newfoundland | 60 | Maine | 50 | South Dakota | 52
—Northwest Terr | 58 | Maryland | 45 | Tennessee | 46
—Nova Scotia | 55 | Massachusetts | 48 | Texas | 49
—Ontario | 55 | Michigan | 52 | Utah | 52
—Pr. Edward Isl | 56 | Minnesota | 53 | Vermont | 51
—Quebec | 53 | Mississippi | 45 | Virginia | 47
—Saskatchewan | 53 | Missouri | 46 | Washington | 56
—Yukon | 53 | Montana | 50 | West Virginia | 51
Colorado | 49 | Nebraska | 51 | Wisconsin | 52
Connecticut | 48 | Nevada | 48 | Wyoming | 52
|  | New Hampshire | 51 |  |
Between EGYPT and
Alabama | 61 | Delaware | 60 | New Jersey | 61
Alaska | 65 | District of Columbia | 60 | New Mexico | 67
Arizona | 69 | Florida | 62 | New York | 61
Arkansas | 65 | Georgia | 61 | North Carolina | 63
California | 72 | Idaho | 69 | North Dakota | 67
Canada |  | Illinois | 67 | Ohio | 67
—Alberta | 76 | Indiana | 69 | Oklahoma | 66
—British Columbia | 73 | Iowa | 70 | Oregon | 69
Labrador | 86 | Kansas | 70 | Pennsylvania | 61
Manitoba | 70 | Kentucky | 68 | Rhode Island | 61
New Brunswick | 74 | Louisiana | 63 | South Carolina | 63
Newfoundland | 81 | Maine | 71 | South Dakota | 67
Northwest Terr | 75 | Maryland | 62 | Tennessee | 65
Nova Scotia | 76 | Massachusetts | 68 | Texas | 62
Ontario | 70 | Michigan | 67 | Utah | 69
Pr. Edward Isl. | 77 | Minnesota | 68 | Vermont | 66
Quebec | 66 | Mississippi | 63 | Virginia | 59
Saskatchewan | 74 | Missouri | 68 | Washington | 68
Yukon | 70 | Montana | 71 | West Virginia | 65
Colorado | 68 | Nebraska | 66 | Wisconsin | 69
Connecticut | 61 | Nevada | 68 | Wyoming | 67
|  | New Hampshire | 66 |  |
Between EL SALVADOR and
Alabama | 48 | Delaware | 58 | New Jersey | 59
Alaska | 57 | District of Columbia | 58 | New Mexico | 55
Arizona | 55 | Florida | 55 | New York | 59
Arkansas | 53 | Georgia | 55 | North Carolina | 57
California | 56 | Idaho | 61 | North Dakota | 61
Canada |  | Illinois | 58 | Ohio | 57
—Alberta | 66 | Indiana | 57 | Oklahoma | 56
—British Columbia | 63 | Iowa | 56 | Oregon | 63
—Labrador | 74 | Kansas | 57 | Pennsylvania | 59
—Manitoba | 64 | Kentucky | 58 | Rhode Island | 59
—New Brunswick | 62 | Louisiana | 50 | South Carolina | 55
—Newfoundland | 69 | Maine | 59 | South Dakota | 61
—Northwest Terr | 67 | Maryland | 58 | Tennessee | 53
—Nova Scotia | 64 | Massachusetts | 58 | Texas | 53
—Ontario | 65 | Michigan | 62 | Utah | 58
—Pr. Edward Isl | 65 | Minnesota | 62 | Vermont | 60
—Quebec | 64 | Mississippi | 53 | Virginia | 57
—Saskatchewan | 64 | Missouri | 54 | Washington | 58
—Yukon | 62 | Montana | 61 | West Virginia | 57
Colorado | 56 | Nebraska | 59 | Wisconsin | 60
Connecticut | 59 | Nevada | 56 | Wyoming | 60
|  | New Hampshire | 60 |  |
Between ENGLAND and
Alabama | 61 | Delaware | 57 | New Jersey | 59
Alaska | 61 | District of Columbia | 57 | New Mexico | 63
Arizona | 64 | Florida | 57 | New York | 59
Arkansas | 63 | Georgia | 55 | North Carolina | 59
California | 70 | Idaho | 68 | North Dakota | 68
Canada |  | Illinois | 60 | Ohio | 58
—Alberta | 83 | Indiana | 59 | Oklahoma | 62
—British Columbia | 75 | Iowa | 67 | Oregon | 71
—Labrador | 75 | Kansas | 63 | Pennsylvania | 58
—Manitoba | 71 | Kentucky | 59 | Rhode Island | 59
—New Brunswick | 63 | Louisiana | 60 | South Carolina | 54
—Newfoundland | 70 | Maine | 60 | South Dakota | 68
—Northwest Terr | 71 | Maryland | 57 | Tennessee | 61
—Nova Scotia | 65 | Massachusetts | 57 | Texas | 62
—Ontario | 66 | Michigan | 63 | Utah | 65
—Pr. Edward Isl. | 66 | Minnesota | 63 | Vermont | 60
—Quebec | 64 | Mississippi | 61 | Virginia | 58
—Saskatchewan | 81 | Missouri | 63 | Washington | 70
—Yukon | 66 | Montana | 78 | West Virginia | 57
Colorado | 63 | Nebraska | 65 | Wisconsin | 61
Connecticut | 59 | Nevada | 71 | Wyoming | 68
|  | New Hampshire | 60 |  |
Between EQUADOR and
Alabama | 51 | Delaware | 61 | New Jersey | 61
Alaska | 59 | District of Columbia | 61 | New Mexico | 57
Arizona | 56 | Florida | 52 | New York | 61
Arkansas | 57 | Georgia | 55 | North Carolina | 57
California | 58 | Idaho | 63 | North Dakota | 63
Canada |  | Illinois | 62 | Ohio | 51
—Alberta | 68 | Indiana | 61 | Oklahoma | 57
—British Columbia | 70 | Iowa | 58 | Oregon | 66
—Labrador | 77 | Kansas | 61 | Pennsylvania | 61
—Manitoba | 66 | Kentucky | 57 | Rhode Island | 61
—New Brunswick | 65 | Louisiana | 54 | South Carolina | 55
—Newfoundland | 72 | Maine | 62 | South Dakota | 63
—Northwest Terr | 69 | Maryland | 61 | Tennessee | 56
—Nova Scotia | 67 | Massachusetts | 61 | Texas | 57
—Ontario | 66 | Michigan | 63 | Utah | 60
—Pr. Edward Isl | 68 | Minnesota | 63 | Vermont | 62
—Quebec | 66 | Mississippi | 56 | Virginia | 60
—Saskatchewan | 66 | Missouri | 57 | Washington | 65
—Yukon | 64 | Montana | 63 | West Virginia | 61
Colorado | 57 | Nebraska | 61 | Wisconsin | 63
Connecticut | 61 | Nevada | 59 | Wyoming | 63
|  | New Hampshire | 62 |  |
Between ETHIOPIA and
Alabama | 62 | Delaware | 61 | New Jersey | 64
Alaska | 65 | District of Columbia | 61 | New Mexico | 70
Arizona | 68 | Florida | 64 | New York | 64
Arkansas | 65 | Georgia | 62 | North Carolina | 63
California | 69 | Idaho | 67 | North Dakota | 67
Canada |  | Illinois | 67 | Ohio | 67
—Alberta | 75 | Indiana | 67 | Oklahoma | 66
—British Columbia | 73 | Iowa | 64 | Oregon | 70
—Labrador | 82 | Kansas | 68 | Pennsylvania | 64
—Manitoba | 70 | Kentucky | 66 | Rhode Island | 64
—New Brunswick | 70 | Louisiana | 63 | South Carolina | 63
—Newfoundland | 77 | Maine | 67 | South Dakota | 66
—Northwest Terr | 75 | Maryland | 61 | Tennessee | 65
—Nova Scotia | 72 | Massachusetts | 64 | Texas | 62
—Ontario | 69 | Michigan | 66 | Utah | 66
—Pr. Edward Isl | 73 | Minnesota | 67 | Vermont | 68
—Quebec | 69 | Mississippi | 63 | Virginia | 61
—Saskatchewan | 73 | Missouri | 67 | Washington | 68
—Yukon | 70 | Montana | 70 | West Virginia | 66
Colorado | 66 | Nebraska | 66 | Wisconsin | 69
Connecticut | 64 | Nevada | 68 | Wyoming | 69
|  | New Hampshire | 68
Between FIJI and
Alabama | 73 | Delaware | 74 | New Jersey | 78
Alaska | 49 | District of Columbia | 73 | New Mexico | 73
Arizona | 69 | Florida | 78 | New York | 78
Arkansas | 77 | Georgia | 75 | North Carolina | 77
California | 57 | Idaho | 70 | North Dakota | 76
Canada |  | Illinois | 76 | Ohio | 75
—Alberta | 75 | Indiana | 75 | Oklahoma | 75
—British Columbia | 71 | Iowa | 70 | Oregon | 67
—Labrador | 93 | Kansas | 75 | Pennsylvania | 77
—Manitoba | 79 | Kentucky | 75 | Rhode Island | 78
—New Brunswick | 81 | Louisiana | 73 | South Carolina | 76
—Newfoundland | 88 | Maine | 78 | South Dakota | 76
—Northwest Terr | 59 | Maryland | 73 | Tennessee | 77
—Nova Scotia | 83 | Massachusetts | 74 | Texas | 76
—Ontario | 79 | Michigan | 76 | Utah | 72
—Pr. Edward Isl | 84 | Minnesota | 77 | Vermont | 78
—Quebec | 83 | Mississippi | 75 | Virginia | 75
—Saskatchewan | 73 | Missouri | 76 | Washington | 66
—Yukon | 54 | Montana | 70 | West Virginia | 77
Colorado | 71 | Nebraska | 77 | Wisconsin | 77
Connecticut | 78 | Nevada | 70 | Wyoming | 75
|  | New Hampshire | 78
Between FINLAND and
Alabama | 61 | Delaware | 55 | New Jersey | 58
Alaska | 60 | District of Columbia | 55 | New Mexico | 64
Arizona | 64 | Florida | 57 | New York | 58
Arkansas | 61 | Georgia | 58 | North Carolina | 58
California | 65 | Idaho | 64 | North Dakota | 65
Canada |  | Illinois | 59 | Ohio | 59
—Alberta | 71 | Indiana | 59 | Oklahoma | 63
—British Columbia | 70 | Iowa | 64 | Oregon | 65
—Labrador | 75 | Kansas | 62 | Pennsylvania | 57
—Manitoba | 68 | Kentucky | 60 | Rhode Island | 58
—New Brunswick | 63 | Louisiana | 61 | South Carolina | 58
—Newfoundland | 70 | Maine | 60 | South Dakota | 65
—Northwest Terr | 70 | Maryland | 55 | Tennessee | 61
—Nova Scotia | 65 | Massachusetts | 55 | Texas | 63
—Ontario | 63 | Michigan | 60 | Utah | 66
—Pr. Edward Isl | 66 | Minnesota | 61 | Vermont | 59
—Quebec | 63 | Mississippi | 61 | Virginia | 56
—Saskatchewan | 69 | Missouri | 63 | Washington | 65
—Yukon | 65 | Montana | 66 | West Virginia | 58
Colorado | 63 | Nebraska | 63 | Wisconsin | 61
Connecticut | 58 | Nevada | 64 | Wyoming | 67
|  | New Hampshire | 59
Between FRANCE and
Alabama | 62 | Delaware | 56 | New Jersey | 58
Alaska | 61 | District of Columbia | 56 | New Mexico | 64
Arizona | 65 | Florida | 58 | New York | 58
Arkansas | 58 | Georgia | 57 | North Carolina | 57
California | 63 | Idaho | 65 | North Dakota | 69
Canada |  | Illinois | 59 | Ohio | 57
—Alberta | 74 | Indiana | 58 | Oklahoma | 63
—British Columbia | 68 | Iowa | 67 | Oregon | 66
—Labrador | 74 | Kansas | 64 | Pennsylvania | 57
—Manitoba | 72 | Kentucky | 58 | Rhode Island | 58
—New Brunswick | 62 | Louisiana | 61 | South Carolina | 57
—Newfoundland | 69 | Maine | 59 | South Dakota | 69
—Northwest Terr. | 71 | Maryland | 56 | Tennessee | 58
—Nova Scotia | 64 | Massachusetts | 56 | Texas | 63
—Ontario | 65 | Michigan | 62 | Utah | 66
—Pr. Edward Isl. | 65 | Minnesota | 62 | Vermont | 59
—Quebec | 63 | Mississippi | 62 | Virginia | 57
—Saskatchewan | 72 | Missouri | 64 | Washington | 63
—Yukon | 66 | Montana | 69 | West Virginia | 56
Colorado | 64 | Nebraska | 66 | Wisconsin | 60
Connecticut | 58 | Nevada | 63 | Wyoming | 69
|  | New Hampshire | 59
Between GABON and
Alabama | 64 | Delaware | 61 | New Jersey | 69
Alaska | 71 | District of Columbia | 61 | New Mexico | 76
Arizona | 74 | Florida | 69 | New York | 69
Arkansas | 71 | Georgia | 68 | North Carolina | 69
California | 75 | Idaho | 75 | North Dakota | 75
Canada |  | Illinois | 73 | Ohio | 73
—Alberta | 84 | Indiana | 73 | Oklahoma | 72
—British Columbia | 81 | Iowa | 74 | Oregon | 78
—Labrador | 87 | Kansas | 74 | Pennsylvania | 70
—Manitoba | 78 | Kentucky | 71 | Rhode Island | 69
—New Brunswick | 75 | Louisiana | 64 | South Carolina | 69
—Newfoundland | 82 | Maine | 72 | South Dakota | 74
—Northwest Terr | 81 | Maryland | 68 | Tennessee | 71
—Nova Scotia | 77 | Massachusetts | 72 | Texas | 70
—Ontario | 77 | Michigan | 74 | Utah | 74
—Pr. Edward Isl | 78 | Minnesota | 75 | Vermont | 70
—Quebec | 74 | Mississippi | 64 | Virginia | 67
—Saskatchewan | 82 | Missouri | 70 | Washington | 76
—Yukon | 76 | Montana | 79 | West Virginia | 66
Colorado | 74 | Nebraska | 74 | Wisconsin | 75
Connecticut | 69 | Nevada | 72 | Wyoming | 75
|  | New Hampshire | 70
Between GERMANY and
Alabama | 65 | Delaware | 59 | New Jersey | 61
Alaska | 64 | District of Columbia | 59 | New Mexico | 67
Arizona | 68 | Florida | 61 | New York | 61
Arkansas | 62 | Georgia | 60 | North Carolina | 60
California | 66 | Idaho | 68 | North Dakota | 72
Canada |  | Illinois | 62 | Ohio | 60
—Alberta | 77 | Indiana | 61 | Oklahoma | 66
—British Columbia | 71 | Iowa | 70 | Oregon | 67
—Labrador | 77 | Kansas | 67 | Pennsylvania | 60
—Manitoba | 75 | Kentucky | 61 | Rhode Island | 61
—New Brunswick | 65 | Louisiana | 64 | South Carolina | 60
—Newfoundland | 72 | Maine | 62 | South Dakota | 72
—Northwest Terr | 74 | Maryland | 59 | Tennessee | 62
—Nova Scotia | 67 | Massachusetts | 59 | Texas | 66
—Ontario | 68 | Michigan | 65 | Utah | 69
—Pr. Edward Isl | 68 | Minnesota | 65 | Vermont | 62
—Quebec | 66 | Mississippi | 65 | Virginia | 60
—Saskatchewan | 75 | Missouri | 67 | Washington | 66
—Yukon | 69 | Montana | 72 | West Virginia | 59
Colorado | 67 | Nebraska | 69 | Wisconsin | 63
Connecticut | 61 | Nevada | 66 | Wyoming | 72
|  | New Hampshire | 62
Between GHANA and
Alabama | 64 | Delaware | 61 | New Jersey | 69
Alaska | 71 | District of Columbia | 61 | New Mexico | 76
Arizona | 74 | Florida | 69 | New York | 69
Arkansas | 71 | Georgia | 68 | North Carolina | 69
California | 75 | Idaho | 75 | North Dakota | 75
Canada |  | Illinois | 73 | Ohio | 73
—Alberta | 84 | Indiana | 73 | Oklahoma | 72
—British Columbia | 81 | Iowa | 74 | Oregon | 78
—Labrador | 87 | Kansas | 74 | Pennsylvania | 70
—Manitoba | 78 | Kentucky | 71 | Rhode Island | 69
—New Brunswick | 75 | Louisiana | 64 | South Carolina | 69
—Newfoundland | 82 | Maine | 72 | South Dakota | 74
—Northwest Terr | 81 | Maryland | 68 | Tennessee | 71
—Nova Scotia | 77 | Massachusetts | 72 | Texas | 70
—Ontario | 77 | Michigan | 74 | Utah | 74
—Pr. Edward Isl | 78 | Minnesota | 75 | Vermont | 70
—Quebec | 74 | Mississippi | 64 | Virginia | 67
—Saskatchewan | 82 | Missouri | 70 | Washington | 76
—Yukon | 76 | Montana | 79 | West Virginia | 66
Colorado | 74 | Nebraska | 74 | Wisconsin | 75
Connecticut | 69 | Nevada | 72 | Wyoming | 75
|  | New Hampshire | 70
Between GREECE and
Alabama | 68 | Delaware | 66 | New Jersey | 68
Alaska | 69 | District of Columbia | 66 | New Mexico | 70
Arizona | 72 | Florida | 67 | New York | 68
Arkansas | 68 | Georgia | 67 | North Carolina | 68
California | 73 | Idaho | 72 | North Dakota | 74
Canada |  | Illinois | 69 | Ohio | 67
—Alberta | 80 | Indiana | 68 | Oklahoma | 71
—British Columbia | 78 | Iowa | 72 | Oregon | 74
—Labrador | 85 | Kansas | 70 | Pennsylvania | 69
—Manitoba | 77 | Kentucky | 66 | Rhode Island | 68
—New Brunswick | 73 | Louisiana | 69 | South Carolina | 64
—Newfoundland | 80 | Maine | 70 | South Dakota | 74
—Northwest Terr | 79 | Maryland | 66 | Tennessee | 68
—Nova Scotia | 75 | Massachusetts | 67 | Texas | 71
—Ontario | 74 | Michigan | 71 | Utah | 75
—Pr. Edward Isl | 76 | Minnesota | 72 | Vermont | 69
—Quebec | 73 | Mississippi | 68 | Virginia | 67
—Saskatchewan | 78 | Missouri | 71 | Washington | 73
—Yukon | 74 | Montana | 75 | West Virginia | 66
Colorado | 71 | Nebraska | 72 | Wisconsin | 69
Connecticut | 68 | Nevada | 74 | Wyoming | 75
|  | New Hampshire | 69
Between GUADELOUPE and
Alabama | 44 | Delaware | 45 | New Jersey | 48
Alaska | 48 | District of Columbia | 45 | New Mexico | 47
Arizona | 45 | Florida | 40 | New York | 48
Arkansas | 46 | Georgia | 42 | North Carolina | 42
California | 51 | Idaho | 52 | North Dakota | 52
Canada |  | Illinois | 50 | Ohio | 50
—Alberta | 55 | Indiana | 50 | Oklahoma | 47
—British Columbia | 61 | Iowa | 47 | Oregon | 57
—Labrador | 65 | Kansas | 47 | Pennsylvania | 51
—Manitoba | 55 | Kentucky | 45 | Rhode Island | 48
—New Brunswick | 53 | Louisiana | 44 | South Carolina | 44
—Newfoundland | 60 | Maine | 50 | South Dakota | 52
—North West Terr | 58 | Maryland | 45 | Tennessee | 46
—Nova Scotia | 55 | Massachusetts | 48 | Texas | 49
—Ontario | 55 | Michigan | 52 | Utah | 52
—Pr. Edward Isl | 56 | Minnesota | 53 | Vermont | 51
—Quebec | 53 | Mississippi | 45 | Virginia | 47
—Saskatchewan | 53 | Missouri | 46 | Washington | 56
—Yukon | 53 | Montana | 50 | West Virginia | 51
Colorado | 49 | Nebraska | 51 | Wisconsin | 52
Connecticut | 48 | Nevada | 48 | Wyoming | 52
|  | New Hampshire | 51
Between GUAM and
Alabama | 57 | Delaware | 56 | New Jersey | 56
Alaska | 52 | District of Columbia | 56 | New Mexico | 52
Arizona | 52 | Florida | 58 | New York | 56
Arkansas | 57 | Georgia | 58 | North Carolina | 58
California | 50 | Idaho | 56 | North Dakota | 56
Canada |  | Illinois | 58 | Ohio | 58
—Alberta | 61 | Indiana | 58 | Oklahoma | 57
—British Columbia | 56 | Iowa | 59 | Oregon | 51
—Labrador | 74 | Kansas | 59 | Pennsylvania | 56
—Manitoba | 59 | Kentucky | 58 | Rhode Island | 56
—New Brunswick | 62 | Louisiana | 57 | South Carolina | 58
—Newfoundland | 69 | Maine | 59 | South Dakota | 56
—Northwest Terr | 62 | Maryland | 56 | Tennessee | 57
—Nova Scotia | 64 | Massachusetts | 56 | Texas | 57
—Ontario | 64 | Michigan | 61 | Utah | 52
—Pr. Edward Isl | 65 | Minnesota | 61 | Vermont | 59
—Quebec | 61 | Mississippi | 57 | Virginia | 56
—Saskatchewan | 59 | Missouri | 59 | Washington | 51
—Yukon | 57 | Montana | 56 | West Virginia | 56
Colorado | 53 | Nebraska | 59 | Wisconsin | 61
Connecticut | 56 | Nevada | 52 | Wyoming | 56
|  | New Hampshire | 59
Between GUATEMALA and
Alabama | 48 | Delaware | 58 | New Jersey | 59
Alaska | 57 | District of Columbia | 58 | New Mexico | 55
Arizona | 55 | Florida | 55 | New York | 59
Arkansas | 53 | Georgia | 55 | North Carolina | 57
California | 56 | Idaho | 61 | North Dakota | 61
Canada |  | Illinois | 58 | Ohio | 57
—Alberta | 66 | Indiana | 57 | Oklahoma | 56
—British Columbia | 63 | Iowa | 56 | Oregon | 63
—Labrador | 74 | Kansas | 57 | Pennsylvania | 59
—Manitoba | 64 | Kentucky | 58 | Rhode Island | 59
—New Brunswick | 62 | Louisiana | 50 | South Carolina | 55
—Newfoundland | 69 | Maine | 59 | South Dakota | 61
—Northwest Terr | 67 | Maryland | 58 | Tennessee | 53
—Nova Scotia | 64 | Massachusetts | 58 | Texas | 53
—Ontario | 65 | Michigan | 62 | Utah | 58
—Pr. Edward Isl | 65 | Minnesota | 62 | Vermont | 60
—Quebec | 64 | Mississippi | 53 | Virginia | 57
—Saskatchewan | 64 | Missouri | 54 | Washington | 58
—Yukon | 62 | Montana | 61 | West Virginia | 57
Colorado | 56 | Nebraska | 59 | Wisconsin | 60
Connecticut | 59 | Nevada | 56 | Wyoming | 60
|  | New Hampshire | 60
Between GUINEA and
Alabama | 64 | Delaware | 61 | New Jersey | 69
Alaska | 71 | District of Columbia | 61 | New Mexico | 76
Arizona | 74 | Florida | 69 | New York | 69
Arkansas | 71 | Georgia | 68 | North Carolina | 69
California | 75 | Idaho | 75 | North Dakota | 75
Canada |  | Illinois | 73 | Ohio | 73
—Alberta | 84 | Indiana | 73 | Oklahoma | 72
—British Columbia | 81 | Iowa | 74 | Oregon | 78
—Labrador | 87 | Kansas | 74 | Pennsylvania | 70
—Manitoba | 78 | Kentucky | 71 | Rhode Island | 69
—New Brunswick | 75 | Louisiana | 64 | South Carolina | 69
—Newfoundland | 82 | Maine | 72 | South Dakota | 74
—North West Terr | 81 | Maryland | 68 | Tennessee | 71
—Nova Scotia | 77 | Massachusetts | 72 | Texas | 70
—Ontario | 77 | Michigan | 74 | Utah | 74
—Pr. Edward Isl | 78 | Minnesota | 75 | Vermont | 70
—Quebec | 74 | Mississippi | 64 | Virginia | 67
—Saskatchewan | 82 | Missouri | 70 | Washington | 76
—Yukon | 76 | Montana | 79 | West Virginia | 66
Colorado | 74 | Nebraska | 74 | Wisconsin | 75
Connecticut | 69 | Nevada | 72 | Wyoming | 75
|  | New Hampshire | 70
Between GUYANA and
Alabama | 52 | Delaware | 61 | New Jersey | 64
Alaska | 61 | District of Columbia | 61 | New Mexico | 59
Arizona | 59 | Florida | 57 | New York | 64
Arkansas | 58 | Georgia | 57 | North Carolina | 60
California | 64 | Idaho | 64 | North Dakota | 64
Canada |  | Illinois | 63 | Ohio | 62
—Alberta | 69 | Indiana | 62 | Oklahoma | 60
—British Columbia | 69 | Iowa | 60 | Oregon | 63
—Labrador | 79 | Kansas | 61 | Pennsylvania | 63
—Manitoba | 67 | Kentucky | 61 | Rhode Island | 64
—New Brunswick | 67 | Louisiana | 56 | South Carolina | 58
—Newfoundland | 74 | Maine | 64 | South Dakota | 64
—Northwest Terr | 71 | Maryland | 61 | Tennessee | 58
—Nova Scotia | 69 | Massachusetts | 61 | Texas | 60
—Ontario | 67 | Michigan | 64 | Utah | 62
—Pr. Edward Isl | 70 | Minnesota | 64 | Vermont | 64
—Quebec | 69 | Mississippi | 58 | Virginia | 61
—Saskatchewan | 67 | Missouri | 60 | Washington | 64
—Yukon | 66 | Montana | 64 | West Virginia | 61
Colorado | 62 | Nebraska | 62 | Wisconsin | 63
Connecticut | 64 | Nevada | 61 | Wyoming | 64
|  | New Hampshire | 64
Between HAITI and
Alabama | 44 | Delaware | 45 | New Jersey | 48
Alaska | 48 | District of Columbia | 45 | New Mexico | 47
Arizona | 45 | Florida | 40 | New York | 48
Arkansas | 46 | Georgia | 42 | North Carolina | 42
California | 51 | Idaho | 52 | North Dakota | 52
Canada |  | Illinois | 50 | Ohio | 50
—Alberta | 55 | Indiana | 50 | Oklahoma | 47
—British Columbia | 61 | Iowa | 47 | Oregon | 57
—Labrador | 65 | Kansas | 47 | Pennsylvania | 51
—Manitoba | 55 | Kentucky | 45 | Rhode Island | 48
—New Brunswick | 53 | Louisiana | 44 | South Carolina | 44
—Newfoundland | 60 | Maine | 50 | South Dakota | 52
—Northwest Terr | 58 | Maryland | 45 | Tennessee | 46
—Nova Scotia | 55 | Massachusetts | 48 | Texas | 49
—Ontario | 55 | Michigan | 52 | Utah | 52
—Pr. Edward Isl | 56 | Minnesota | 53 | Vermont | 51
—Quebec | 53 | Mississippi | 45 | Virginia | 47
—Saskatchewan | 53 | Missouri | 46 | Washington | 56
—Yukon | 53 | Montana | 50 | West Virginia | 51
Colorado | 49 | Nebraska | 51 | Wisconsin | 52
Connecticut | 48 | Nevada | 48 | Wyoming | 52
|  | New Hampshire | 51
Between HAWAII and
Alabama | 49 | Delaware | 50 | New Jersey | 50
Alaska | 49 | District of Columbia | 50 | New Mexico | 36
Arizona | 36 | Florida | 58 | New York | 50
Arkansas | 49 | Georgia | 51 | North Carolina | 51
California | 34 | Idaho | 40 | North Dakota | 40
Canada |  | Illinois | 52 | Ohio | 52
—Alberta | 45 | Indiana | 52 | Oklahoma | 41
—British Columbia | 41 | Iowa | 41 | Oregon | 36
—Labrador | 68 | Kansas | 41 | Pennsylvania | 50
—Manitoba | 43 | Kentucky | 52 | Rhode Island | 50
—New Brunswick | 56 | Louisiana | 49 | South Carolina | 51
—Newfoundland | 63 | Maine | 53 | South Dakota | 40
—Northwest Terr | 59 | Maryland | 50 | Tennessee | 49
—Nova Scotia | 58 | Massachusetts | 50 | Texas | 41
—Ontario | 49 | Michigan | 46 | Utah | 36
—Pr. Edward Isl | 59 | Minnesota | 46 | Vermont | 53
—Quebec | 55 | Mississippi | 49 | Virginia | 50
—Saskatchewan | 43 | Missouri | 41 | Washington | 36
—Yukon | 54 | Montana | 40 | West Virginia | 50
Colorado | 37 | Nebraska | 41 | Wisconsin | 46
Connecticut | 50 | Nevada | 36 | Wyoming | 40
|  | New Hampshire | 53
Between HONDURAS and
Alabama | 48 | Delaware | 58 | New Jersey | 59
Alaska | 57 | District of Columbia | 58 | New Mexico | 55
Arizona | 55 | Florida | 55 | New York | 59
Arkansas | 53 | Georgia | 55 | North Carolina | 57
California | 56 | Idaho | 61 | North Dakota | 61
Canada |  | Illinois | 58 | Ohio | 57
—Alberta | 66 | Indiana | 57 | Oklahoma | 56
—British Columbia | 63 | Iowa | 56 | Oregon | 63
—Labrador | 74 | Kansas | 57 | Pennsylvania | 59
—Manitoba | 64 | Kentucky | 58 | Rhode Island | 59
—New Brunswick | 62 | Louisiana | 50 | South Carolina | 55
—Newfoundland | 69 | Maine | 59 | South Dakota | 61
—Northwest Terr | 67 | Maryland | 58 | Tennessee | 53
—Nova Scotia | 64 | Massachusetts | 58 | Texas | 53
—Ontario | 65 | Michigan | 62 | Utah | 58
—Pr. Edward Isl | 65 | Minnesota | 62 | Vermont | 60
—Quebec | 64 | Mississippi | 53 | Virginia | 57
—Saskatchewan | 64 | Missouri | 54 | Washington | 58
—Yukon | 62 | Montana | 61 | West Virginia | 57
Colorado | 56 | Nebraska | 59 | Wisconsin | 60
Connecticut | 59 | Nevada | 56 | Wyoming | 60
|  | New Hampshire | 60
Between HONG KONG and
Alabama | 65 | Delaware | 66 | New Jersey | 68
Alaska | 41 | District of Columbia | 64 | New Mexico | 61
Arizona | 60 | Florida | 69 | New York | 68
Arkansas | 68 | Georgia | 66 | North Carolina | 66
California | 59 | Idaho | 64 | North Dakota | 63
Canada |  | Illinois | 67 | Ohio | 66
—Alberta | 69 | Indiana | 67 | Oklahoma | 65
—British Columbia | 64 | Iowa | 64 | Oregon | 62
—Labrador | 84 | Kansas | 67 | Pennsylvania | 69
—Manitoba | 66 | Kentucky | 68 | Rhode Island | 68
—New Brunswick | 72 | Louisiana | 65 | South Carolina | 69
—Newfoundland | 79 | Maine | 69 | South Dakota | 65
—Northwest Terr | 51 | Maryland | 64 | Tennessee | 68
—Nova Scotia | 74 | Massachusetts | 68 | Texas | 67
—Ontario | 72 | Michigan | 69 | Utah | 63
—Pr. Edward Isl | 75 | Minnesota | 68 | Vermont | 70
—Quebec | 73 | Mississippi | 67 | Virginia | 64
—Saskatchewan | 67 | Missouri | 65 | Washington | 59
—Yukon | 46 | Montana | 64 | West Virginia | 67
Colorado | 63 | Nebraska | 67 | Wisconsin | 68
Connecticut | 68 | Nevada | 59 | Wyoming | 66
|  | New Hampshire | 70
Between HUNGARY and
Alabama | 60 | Delaware | 56 | New Jersey | 58
Alaska | 60 | District of Columbia | 56 | New Mexico | 63
Arizona | 64 | Florida | 55 | New York | 58
Arkansas | 55 | Georgia | 53 | North Carolina | 56
California | 62 | Idaho | 68 | North Dakota | 68
Canada |  | Illinois | 59 | Ohio | 57
—Alberta | 73 | Indiana | 58 | Oklahoma | 62
—British Columbia | 69 | Iowa | 66 | Oregon | 69
—Labrador | 74 | Kansas | 63 | Pennsylvania | 57
—Manitoba | 71 | Kentucky | 58 | Rhode Island | 58
—New Brunswick | 62 | Louisiana | 59 | South Carolina | 53
—Newfoundland | 69 | Maine | 59 | South Dakota | 68
—Northwest Terr | 70 | Maryland | 56 | Tennessee | 55
—Nova Scotia | 64 | Massachusetts | 56 | Texas | 62
—Ontario | 65 | Michigan | 62 | Utah | 65
—Pr. Edward Isl | 65 | Minnesota | 68 | Vermont | 59
—Quebec | 63 | Mississippi | 60 | Virginia | 57
—Saskatchewan | 71 | Missouri | 62 | Washington | 64
—Yukon | 65 | Montana | 68 | West Virginia | 56
Colorado | 63 | Nebraska | 65 | Wisconsin | 60
Connecticut | 58 | Nevada | 66 | Wyoming | 68
|  | New Hampshire | 59
Between ICELAND and
Alabama | 55 | Delaware | 52 | New Jersey | 53
Alaska | 61 | District of Columbia | 52 | New Mexico | 60
Arizona | 61 | Florida | 55 | New York | 54
Arkansas | 58 | Georgia | 54 | North Carolina | 53
California | 62 | Idaho | 62 | North Dakota | 60
Canada |  | Illinois | 56 | Ohio | 54
—Alberta | 83 | Indiana | 55 | Oklahoma | 59
—British Columbia | 75 | Iowa | 58 | Oregon | 63
—Labrador | 75 | Kansas | 59 | Pennsylvania | 53
—Manitoba | 71 | Kentucky | 54 | Rhode Island | 53
—New Brunswick | 63 | Louisiana | 56 | South Carolina | 53
—Newfoundland | 70 | Maine | 55 | South Dakota | 60
—Northwest Terr | 71 | Maryland | 52 | Tennessee | 55
—Nova Scotia | 65 | Massachusetts | 53 | Texas | 59
—Ontario | 66 | Michigan | 55 | Utah | 61
—Pr. Edward Isl | 66 | Minnesota | 59 | Vermont | 55
—Quebec | 64 | Mississippi | 56 | Virginia | 52
—Saskatchewan | 81 | Missouri | 57 | Washington | 62
—Yukon | 66 | Montana | 62 | West Virginia | 52
Colorado | 61 | Nebraska | 59 | Wisconsin | 55
Connecticut | 54 | Nevada | 62 | Wyoming | 61
|  | New Hampshire | 54
Between INDIA and
Alabama | 75 | Delaware | 75 | New Jersey | 77
Alaska | 51 | District of Columbia | 74 | New Mexico | 74
Arizona | 72 | Florida | 77 | New York | 77
Arkansas | 76 | Georgia | 77 | North Carolina | 76
California | 70 | Idaho | 74 | North Dakota | 77
Canada |  | Illinois | 77 | Ohio | 78
—Alberta | 80 | Indiana | 77 | Oklahoma | 76
—British Columbia | 76 | Iowa | 80 | Oregon | 74
—Labrador | 95 | Kansas | 77 | Pennsylvania | 77
—Manitoba | 80 | Kentucky | 78 | Rhode Island | 77
—New Brunswick | 83 | Louisiana | 74 | South Carolina | 77
—Newfoundland | 90 | Maine | 80 | South Dakota | 77
—Northwest Terr | 61 | Maryland | 76 | Tennessee | 76
—Nova Scotia | 85 | Massachusetts | 77 | Texas | 75
—Ontario | 83 | Michigan | 80 | Utah | 74
—Pr. Edward Isl | 86 | Minnesota | 81 | Vermont | 79
—Quebec | 82 | Mississippi | 78 | Virginia | 76
—Saskatchewan | 78 | Missouri | 78 | Washington | 71
—Yukon | 56 | Montana | 75 | West Virginia | 76
Colorado | 74 | Nebraska | 78 | Wisconsin | 78
Connecticut | 77 | Nevada | 72 | Wyoming | 76
|  | New Hampshire | 79
Between INDONESIA and
Alabama | 73 | Delaware | 74 | New Jersey | 78
Alaska | 49 | District of Columbia | 73 | New Mexico | 73
Arizona | 69 | Florida | 78 | New York | 78
Arkansas | 77 | Georgia | 75 | North Carolina | 77
California | 57 | Idaho | 70 | North Dakota | 76
Canada |  | Illinois | 76 | Ohio | 75
—Alberta | 75 | Indiana | 75 | Oklahoma | 75
—British Columbia | 71 | Iowa | 70 | Oregon | 67
—Labrador | 93 | Kansas | 75 | Pennsylvania | 77
—Manitoba | 79 | Kentucky | 75 | Rhode Island | 78
—New Brunswick | 81 | Louisiana | 73 | South Carolina | 76
—Newfoundland | 88 | Maine | 78 | South Dakota | 76
—Northwest Terr | 59 | Maryland | 73 | Tennessee | 77
—Nova Scotia | 83 | Massachusetts | 74 | Texas | 76
—Ontario | 79 | Michigan | 76 | Utah | 72
—Pr. Edward Isl | 84 | Minnesota | 77 | Vermont | 78
—Quebec | 83 | Mississippi | 75 | Virginia | 75
—Saskatchewan | 73 | Missouri | 76 | Washington | 66
—Yukon | 54 | Montana | 70 | West Virginia | 77
Colorado | 71 | Nebraska | 77 | Wisconsin | 77
Connecticut | 78 | Nevada | 70 | Wyoming | 75
|  | New Hampshire | 78
Between IRELAND and
Alabama | 61 | Delaware | 57 | New Jersey | 59
Alaska | 61 | District of Columbia | 57 | New Mexico | 63
Arizona | 64 | Florida | 57 | New York | 59
Arkansas | 61 | Georgia | 55 | North Carolina | 59
California | 70 | Idaho | 68 | North Dakota | 68
Canada |  | Illinois | 60 | Ohio | 58
—Alberta | 83 | Indiana | 59 | Oklahoma | 62
—British Columbia | 75 | Iowa | 67 | Oregon | 71
—Labrador | 75 | Kansas | 63 | Pennsylvania | 58
—Manitoba | 71 | Kentucky | 59 | Rhode Island | 59
—New Brunswick | 63 | Louisiana | 60 | South Carolina | 54
—Newfoundland | 70 | Maine | 60 | South Dakota | 68
—Northwest Terr | 71 | Maryland | 57 | Tennessee | 61
—Nova Scotia | 65 | Massachusetts | 57 | Texas | 62
—Ontario | 66 | Michigan | 63 | Utah | 65
—Pr. Edward Isl | 66 | Minnesota | 63 | Vermont | 60
—Quebec | 64 | Mississippi | 61 | Virginia | 58
—Saskatchewan | 81 | Missouri | 63 | Washington | 70
—Yukon | 66 | Montana | 78 | West Virginia | 57
Colorado | 63 | Nebraska | 65 | Wisconsin | 61
Connecticut | 59 | Nevada | 71 | Wyoming | 68
|  | New Hampshire | 60
Between ISRAEL and
Alabama | 62 | Delaware | 61 | New Jersey | 64
Alaska | 65 | District of Columbia | 61 | New Mexico | 70
Arizona | 68 | Florida | 64 | New York | 64
Arkansas | 65 | Georgia | 62 | North Carolina | 63
California | 69 | Idaho | 67 | North Dakota | 67
Canada |  | Illinois | 67 | Ohio | 67
—Alberta | 75 | Indiana | 67 | Oklahoma | 66
—British Columbia | 73 | Iowa | 64 | Oregon | 70
—Labrador | 82 | Kansas | 68 | Pennsylvania | 64
—Manitoba | 70 | Kentucky | 66 | Rhode Island | 64
—New Brunswick | 70 | Louisiana | 63 | South Carolina | 63
—Newfoundland | 77 | Maine | 67 | South Dakota | 66
—Northwest Terr | 75 | Maryland | 61 | Tennessee | 65
—Nova Scotia | 72 | Massachusetts | 64 | Texas | 62
—Ontario | 69 | Michigan | 66 | Utah | 66
—Pr. Edward Isl | 73 | Minnesota | 67 | Vermont | 68
—Quebec | 69 | Mississippi | 63 | Virginia | 61
—Saskatchewan | 73 | Missouri | 67 | Washington | 68
—Yukon | 70 | Montana | 70 | West Virginia | 66
Colorado | 66 | Nebraska | 66 | Wisconsin | 69
Connecticut | 64 | Nevada | 68 | Wyoming | 69
|  | New Hampshire | 68
Between ITALY and
Alabama | 60 | Delaware | 56 | New Jersey | 58
Alaska | 60 | District of Columbia | 56 | New Mexico | 63
Arizona | 64 | Florida | 55 | New York | 58
Arkansas | 55 | Georgia | 53 | North Carolina | 56
California | 62 | Idaho | 68 | North Dakota | 68
Canada |  | Illinois | 59 | Ohio | 57
—Alberta | 73 | Indiana | 58 | Oklahoma | 62
—British Columbia | 69 | Iowa | 66 | Oregon | 69
—Labrador | 74 | Kansas | 63 | Pennsylvania | 57
—Manitoba | 71 | Kentucky | 58 | Rhode Island | 58
—New Brunswick | 62 | Louisiana | 59 | South Carolina | 53
—Newfoundland | 69 | Maine | 59 | South Dakota | 68
—Northwest Terr | 70 | Maryland | 56 | Tennessee | 55
—Nova Scotia | 64 | Massachusetts | 56 | Texas | 62
—Ontario | 65 | Michigan | 62 | Utah | 65
—Pr. Edward Isl | 65 | Minnesota | 68 | Vermont | 59
—Quebec | 63 | Mississippi | 60 | Virginia | 57
—Saskatchewan | 71 | Missouri | 62 | Washington | 64
—Yukon | 65 | Montana | 68 | West Virginia | 56
Colorado | 63 | Nebraska | 65 | Wisconsin | 60
Connecticut | 58 | Nevada | 66 | Wyoming | 68
|  | New Hampshire | 59
Between IVORY COAST and
Alabama | 64 | Delaware | 61 | New Jersey | 69
Alaska | 71 | District of Columbia | 61 | New Mexico | 76
Arizona | 74 | Florida | 69 | New York | 69
Arkansas | 71 | Georgia | 68 | North Carolina | 69
California | 75 | Idaho | 75 | North Dakota | 75
Canada |  | Illinois | 73 | Ohio | 73
—Alberta | 84 | Indiana | 73 | Oklahoma | 72
—British Columbia | 81 | Iowa | 74 | Oregon | 78
—Labrador | 87 | Kansas | 74 | Pennsylvania | 70
—Manitoba | 78 | Kentucky | 71 | Rhode Island | 69
—New Brunswick | 75 | Louisiana | 64 | South Carolina | 69
—Newfoundland | 82 | Maine | 72 | South Dakota | 74
—Northwest Terr | 81 | Maryland | 68 | Tennessee | 71
—Nova Scotia | 77 | Massachusetts | 72 | Texas | 70
—Ontario | 77 | Michigan | 74 | Utah | 74
—Pr. Edward Isl | 78 | Minnesota | 75 | Vermont | 70
—Quebec | 74 | Mississippi | 64 | Virginia | 67
—Saskatchewan | 82 | Missouri | 70 | Washington | 76
—Yukon | 76 | Montana | 79 | West Virginia | 66
Colorado | 74 | Nebraska | 74 | Wisconsin | 75
Connecticut | 69 | Nevada | 72 | Wyoming | 75
|  | New Hampshire | 70 |  |
Between JAMAICA and
Alabama | 44 | Delaware | 45 | New Jersey | 48
Alaska | 48 | District of Columbia | 45 | New Mexico | 47
Arizona | 45 | Florida | 40 | New York | 48
Arkansas | 46 | Georgia | 42 | North Carolina | 42
California | 51 | Idaho | 52 | North Dakota | 52
Canada |  | Illinois | 50 | Ohio | 50
—Alberta | 55 | Indiana | 50 | Oklahoma | 47
—British Columbia | 61 | Iowa | 47 | Oregon | 57
—Labrador | 65 | Kansas | 47 | Pennsylvania | 51
—Manitoba | 55 | Kentucky | 45 | Rhode Island | 48
—New Brunswick | 53 | Louisiana | 44 | South Carolina | 44
—Newfoundland | 60 | Maine | 50 | South Dakota | 52
—Northwest Terr | 58 | Maryland | 45 | Tennessee | 46
—Nova Scotia | 55 | Massachusetts | 48 | Texas | 49
—Ontario | 55 | Michigan | 52 | Utah | 52
—Pr. Edward Isl | 56 | Minnesota | 53 | Vermont | 51
—Quebec | 53 | Mississippi | 45 | Virginia | 47
—Saskatchewan | 53 | Missouri | 46 | Washington | 56
—Yukon | 53 | Montana | 50 | West Virginia | 51
Colorado | 49 | Nebraska | 51 | Wisconsin | 52
Connecticut | 48 | Nevada | 48 | Wyoming | 52
|  | New Hampshire | 51 |
Between JAPAN and
Alabama | 64 | Delaware | 63 | New Jersey | 63
Alaska | 48 | District of Columbia | 63 | New Mexico | 65
Arizona | 61 | Florida | 65 | New York | 65
Arkansas | 66 | Georgia | 66 | North Carolina | 68
California | 59 | Idaho | 57 | North Dakota | 62
Canada |  | Illinois | 66 | Ohio | 64
—Alberta | 78 | Indiana | 65 | Oklahoma | 64
—British Columbia | 70 | Iowa | 68 | Oregon | 56
—Labrador | 95 | Kansas | 65 | Pennsylvania | 64
—Manitoba | 82 | Kentucky | 67 | Rhode Island | 63
—New Brunswick | 83 | Louisiana | 63 | South Carolina | 66
—Newfoundland | 90 | Maine | 66 | South Dakota | 68
—Northwest Terr | 62 | Maryland | 63 | Tennessee | 70
—Nova Scotia | 85 | Massachusetts | 63 | Texas | 63
—Ontario | 86 | Michigan | 69 | Utah | 62
—Pr. Edward Isl | 86 | Minnesota | 68 | Vermont | 66
—Quebec | 84 | Mississippi | 64 | Virginia | 64
—Saskatchewan | 76 | Missouri | 66 | Washington | 55
—Yukon | 57 | Montana | 63 | West Virginia | 63
Colorado | 65 | Nebraska | 67 | Wisconsin | 67
Connecticut | 63 | Nevada | 61 | Wyoming | 66
|  | New Hampshire | 66 |
Between JORDAN and
Alabama | 62 | Delaware | 61 | New Jersey | 64
Alaska | 65 | District of Columbia | 61 | New Mexico | 70
Arizona | 68 | Florida | 64 | New York | 64
Arkansas | 65 | Georgia | 62 | North Carolina | 63
California | 69 | Idaho | 67 | North Dakota | 67
Canada |  | Illinois | 67 | Ohio | 67
—Alberta | 75 | Indiana | 67 | Oklahoma | 66
—British Columbia | 73 | Iowa | 64 | Oregon | 70
—Labrador | 82 | Kansas | 68 | Pennsylvania | 64
—Manitoba | 70 | Kentucky | 66 | Rhode Island | 64
—New Brunswick | 70 | Louisiana | 63 | South Carolina | 63
—Newfoundland | 77 | Maine | 67 | South Dakota | 66
—Northwest Terr | 75 | Maryland | 61 | Tennessee | 65
—Nova Scotia | 72 | Massachusetts | 64 | Texas | 62
—Ontario | 69 | Michigan | 66 | Utah | 66
—Pr. Edward Isl | 73 | Minnesota | 67 | Vermont | 68
—Quebec | 69 | Mississippi | 63 | Virginia | 61
—Saskatchewan | 73 | Missouri | 67 | Washington | 68
—Yukon | 70 | Montana | 70 | West Virginia | 66
Colorado | 66 | Nebraska | 66 | Wisconsin | 69
Connecticut | 64 | Nevada | 68 | Wyoming | 69
|  | New Hampshire | 68 |
Between KAZAKSTAN and
Alabama | 73 | Delaware | 76 | New Jersey | 78
Alaska | 79 | District of Columbia | 76 | New Mexico | 81
Arizona | 81 | Florida | 75 | New York | 78
Arkansas | 75 | Georgia | 73 | North Carolina | 76
California | 82 | Idaho | 86 | North Dakota | 84
Canada |  | Illinois | 79 | Ohio | 77
—Alberta | 91 | Indiana | 78 | Oklahoma | 79
—British Columbia | 91 | Iowa | 80 | Oregon | 86
—Labrador | 94 | Kansas | 79 | Pennsylvania | 77
—Manitoba | 87 | Kentucky | 78 | Rhode Island | 78
—New Brunswick | 82 | Louisiana | 76 | South Carolina | 73
—Newfoundland | 89 | Maine | 79 | South Dakota | 84
—Northwest Terr | 89 | Maryland | 76 | Tennessee | 75
—Nova Scotia | 84 | Massachusetts | 76 | Texas | 79
—Ontario | 85 | Michigan | 82 | Utah | 85
—Pr. Edward Isl | 85 | Minnesota | 82 | Vermont | 79
—Quebec | 83 | Mississippi | 75 | Virginia | 77
—Saskatchewan | 89 | Missouri | 82 | Washington | 86
—Yukon | 84 | Montana | 86 | West Virginia | 76
Colorado | 81 | Nebraska | 83 | Wisconsin | 80
Connecticut | 78 | Nevada | 86 | Wyoming | 85
|  | New Hampshire | 79 |
Between KENYA and
Alabama | 62 | Delaware | 61 | New Jersey | 64
Alaska | 65 | District of Columbia | 61 | New Mexico | 70
Arizona | 68 | Florida | 64 | New York | 64
Arkansas | 65 | Georgia | 62 | North Carolina | 63
California | 69 | Idaho | 67 | North Dakota | 67
Canada |  | Illinois | 67 | Ohio | 67
—Alberta | 75 | Indiana | 67 | Oklahoma | 66
—British Columbia | 73 | Iowa | 64 | Oregon | 70
—Labrador | 82 | Kansas | 68 | Pennsylvania | 64
—Manitoba | 70 | Kentucky | 66 | Rhode Island | 64
—New Brunswick | 70 | Louisiana | 63 | South Carolina | 63
—Newfoundland | 77 | Maine | 67 | South Dakota | 66
—Northwest Terr | 75 | Maryland | 61 | Tennessee | 65
—Nova Scotia | 72 | Massachusetts | 64 | Texas | 62
—Ontario | 69 | Michigan | 66 | Utah | 66
—Pr. Edward Isl | 73 | Minnesota | 67 | Vermont | 68
—Quebec | 69 | Mississippi | 63 | Virginia | 61
—Saskatchewan | 73 | Missouri | 67 | Washington | 68
—Yukon | 70 | Montana | 70 | West Virginia | 66
Colorado | 66 | Nebraska | 66 | Wisconsin | 69
Connecticut | 64 | Nevada | 68 | Wyoming | 69
Between KOREA and
Alabama | 68 | Delaware | 67 | New Jersey | 64
Alaska | 50 | District of Columbia | 67 | New Mexico | 69
Arizona | 62 | Florida | 70 | New York | 69
Arkansas | 70 | Georgia | 70 | North Carolina | 72
California | 62 | Idaho | 62 | North Dakota | 69
Canada |  | Illinois | 70 | Ohio | 68
—Alberta | 79 | Indiana | 69 | Oklahoma | 68
—British Columbia | 71 | Iowa | 72 | Oregon | 61
—Labrador | 95 | Kansas | 69 | Pennsylvania | 68
—Manitoba | 83 | Kentucky | 69 | Rhode Island | 68
—New Brunswick | 84 | Louisiana | 67 | South Carolina | 70
—Newfoundland | 91 | Maine | 70 | South Dakota | 69
—Northwest Terr | 63 | Maryland | 67 | Tennessee | 74
—Nova Scotia | 86 | Massachusetts | 67 | Texas | 67
—Ontario | 87 | Michigan | 73 | Utah | 63
—Pr. Edward Isl | 87 | Minnesota | 74 | Vermont | 70
—Quebec | 85 | Mississippi | 68 | Virginia | 68
—Saskatchewan | 77 | Missouri | 70 | Washington | 60
—Yukon | 58 | Montana | 68 | West Virginia | 67
Colorado | 66 | Nebraska | 71 | Wisconsin | 71
Connecticut | 68 | Nevada | 62 | Wyoming | 67
|  | New Hampshire | 68
Between KUWAIT and
Alabama | 61 | Delaware | 60 | New Jersey | 62
Alaska | 64 | District of Columbia | 59 | New Mexico | 67
Arizona | 68 | Florida | 61 | New York | 62
Arkansas | 64 | Georgia | 60 | North Carolina | 61
California | 69 | Idaho | 69 | North Dakota | 67
Canada |  | Illinois | 65 | Ohio | 64
—Alberta | 77 | Indiana | 65 | Oklahoma | 65
—British Columbia | 73 | Iowa | 66 | Oregon | 69
—Labrador | 80 | Kansas | 66 | Pennsylvania | 63
—Manitoba | 70 | Kentucky | 63 | Rhode Island | 62
—New Brunswick | 68 | Louisiana | 62 | South Carolina | 61
—Newfoundland | 75 | Maine | 65 | South Dakota | 67
—Northwest Terr | 74 | Maryland | 59 | Tennessee | 64
—Nova Scotia | 70 | Massachusetts | 62 | Texas | 64
—Ontario | 68 | Michigan | 65 | Utah | 69
—Pr. Edward Isl | 71 | Minnesota | 66 | Vermont | 66
—Quebec | 67 | Mississippi | 61 | Virginia | 60
—Saskatchewan | 75 | Missouri | 65 | Washington | 68
—Yukon | 69 | Montana | 72 | West Virginia | 64
Colorado | 66 | Nebraska | 66 | Wisconsin | 66
Connecticut | 62 | Nevada | 67 | Wyoming | 68
|  | New Hampshire | 66
Between LAOS and
Alabama | 73 | Delaware | 74 | New Jersey | 75
Alaska | 48 | District of Columbia | 73 | New Mexico | 73
Arizona | 69 | Florida | 75 | New York | 75
Arkansas | 75 | Georgia | 75 | North Carolina | 76
California | 68 | Idaho | 68 | North Dakota | 75
Canada |  | Illinois | 75 | Ohio | 75
—Alberta | 77 | Indiana | 75 | Oklahoma | 74
—British Columbia | 71 | Iowa | 76 | Oregon | 70
—Labrador | 91 | Kansas | 75 | Pennsylvania | 74
—Manitoba | 78 | Kentucky | 74 | Rhode Island | 75
—New Brunswick | 79 | Louisiana | 71 | South Carolina | 75
—Newfoundland | 86 | Maine | 76 | South Dakota | 75
—Northwest Terr | 58 | Maryland | 72 | Tennessee | 75
—Nova Scotia | 81 | Massachusetts | 73 | Texas | 72
—Ontario | 80 | Michigan | 77 | Utah | 71
—Pr. Edward Isl | 82 | Minnesota | 78 | Vermont | 75
—Quebec | 80 | Mississippi | 75 | Virginia | 74
—Saskatchewan | 75 | Missouri | 76 | Washington | 66
—Yukon | 53 | Montana | 72 | West Virginia | 72
Colorado | 70 | Nebraska | 75 | Wisconsin | 76
Connecticut | 75 | Nevada | 69 | Wyoming | 71
|  | New Hampshire | 75
Between LEBANON and
Alabama | 62 | Delaware | 61 | New Jersey | 64
Alaska | 65 | District of Columbia | 61 | New Mexico | 70
Arizona | 68 | Florida | 64 | New York | 64
Arkansas | 65 | Georgia | 62 | North Carolina | 63
California | 69 | Idaho | 67 | North Dakota | 67
Canada |  | Illinois | 67 | Ohio | 67
—Alberta | 75 | Indiana | 67 | Oklahoma | 66
—British Columbia | 73 | Iowa | 64 | Oregon | 70
—Labrador | 82 | Kansas | 68 | Pennsylvania | 64
—Manitoba | 70 | Kentucky | 66 | Rhode Island | 64
—New Brunswick | 70 | Louisiana | 63 | South Carolina | 63
—Newfoundland | 77 | Maine | 67 | South Dakota | 66
—Northwest Terr | 75 | Maryland | 61 | Tennessee | 65
—Nova Scotia | 72 | Massachusetts | 64 | Texas | 62
—Ontario | 69 | Michigan | 66 | Utah | 66
—Pr. Edward Isl | 73 | Minnesota | 67 | Vermont | 68
—Quebec | 69 | Mississippi | 63 | Virginia | 61
—Saskatchewan | 73 | Missouri | 67 | Washington | 68
—Yukon | 70 | Montana | 70 | West Virginia | 66
Colorado | 66 | Nebraska | 66 | Wisconsin | 69
Connecticut | 64 | Nevada | 68 | Wyoming | 69
|  | New Hampshire | 68
Between LITHUANIA and
Alabama | 73 | Delaware | 76 | New Jersey | 78
Alaska | 79 | District of Columbia | 76 | New Mexico | 81
Arizona | 81 | Florida | 75 | New York | 78
Arkansas | 75 | Georgia | 73 | North Carolina | 76
California | 82 | Idaho | 86 | North Dakota | 84
Canada |  | Illinois | 79 | Ohio | 77
—Alberta | 91 | Indiana | 78 | Oklahoma | 79
—British Columbia | 91 | Iowa | 80 | Oregon | 86
—Labrador | 94 | Kansas | 79 | Pennsylvania | 77
—Manitoba | 87 | Kentucky | 78 | Rhode Island | 78
—New Brunswick | 82 | Louisiana | 76 | South Carolina | 73
—Newfoundland | 89 | Maine | 79 | South Dakota | 84
—Northwest Terr | 89 | Maryland | 76 | Tennessee | 75
—Nova Scotia | 84 | Massachusetts | 76 | Texas | 79
—Ontario | 85 | Michigan | 82 | Utah | 85
—Pr. Edward Isl | 85 | Minnesota | 82 | Vermont | 79
—Quebec | 83 | Mississippi | 75 | Virginia | 77
—Saskatchewan | 89 | Missouri | 82 | Washington | 86
—Yukon | 84 | Montana | 86 | West Virginia | 76
Colorado | 81 | Nebraska | 83 | Wisconsin | 80
Connecticut | 78 | Nevada | 86 | Wyoming | 85
|  | New Hampshire | 79
Between LUXEMBOURG and
Alabama | 62 | Delaware | 56 | New Jersey | 58
Alaska | 61 | District of Columbia | 56 | New Mexico | 64
Arizona | 65 | Florida | 58 | New York | 58
Arkansas | 58 | Georgia | 57 | North Carolina | 57
California | 63 | Idaho | 65 | North Dakota | 69
Canada |  | Illinois | 59 | Ohio | 57
—Alberta | 74 | Indiana | 58 | Oklahoma | 63
—British Columbia | 68 | Iowa | 67 | Oregon | 66
—Labrador | 74 | Kansas | 64 | Pennsylvania | 57
—Manitoba | 72 | Kentucky | 58 | Rhode Island | 58
—New Brunswick | 62 | Louisiana | 61 | South Carolina | 57
—Newfoundland | 69 | Maine | 59 | South Dakota | 69
—Northwest Terr | 71 | Maryland | 56 | Tennessee | 58
—Nova Scotia | 64 | Massachusetts | 56 | Texas | 63
—Ontario | 65 | Michigan | 62 | Utah | 66
—Pr. Edward Isl | 65 | Minnesota | 62 | Vermont | 59
—Quebec | 63 | Mississippi | 62 | Virginia | 57
—Saskatchewan | 72 | Missouri | 64 | Washington | 63
—Yukon | 66 | Montana | 69 | West Virginia | 56
Colorado | 64 | Nebraska | 66 | Wisconsin | 60
Connecticut | 58 | Nevada | 63 | Wyoming | 69
|  | New Hampshire | 59
Between MADAGASCAR and
Alabama | 62 | Delaware | 61 | New Jersey | 64
Alaska | 65 | District of Columbia | 61 | New Mexico | 70
Arizona | 68 | Florida | 64 | New York | 64
Arkansas | 65 | Georgia | 62 | North Carolina | 63
California | 69 | Idaho | 67 | North Dakota | 67
Canada |  | Illinois | 67 | Ohio | 67
—Alberta | 75 | Indiana | 67 | Oklahoma | 66
—British Columbia | 73 | Iowa | 64 | Oregon | 70
—Labrador | 82 | Kansas | 68 | Pennsylvania | 64
—Manitoba | 70 | Kentucky | 66 | Rhode Island | 64
—New Brunswick | 70 | Louisiana | 63 | South Carolina | 63
—Newfoundland | 77 | Maine | 67 | South Dakota | 66
—Northwest Terr | 75 | Maryland | 61 | Tennessee | 65
—Nova Scotia | 72 | Massachusetts | 64 | Texas | 62
—Ontario | 69 | Michigan | 66 | Utah | 66
—Pr. Edward Isl | 73 | Minnesota | 67 | Vermont | 68
—Quebec | 69 | Mississippi | 63 | Virginia | 61
—Saskatchewan | 73 | Missouri | 67 | Washington | 68
—Yukon | 70 | Montana | 70 | West Virginia | 66
Colorado | 66 | Nebraska | 66 | Wisconsin | 69
Connecticut | 64 | Nevada | 68 | Wyoming | 69
|  | New Hampshire | 68
Between MALAWI and
Alabama | 64 | Delaware | 61 | New Jersey | 69
Alaska | 71 | District of Columbia | 61 | New Mexico | 76
Arizona | 74 | Florida | 69 | New York | 69
Arkansas | 71 | Georgia | 68 | North Carolina | 69
California | 75 | Idaho | 75 | North Dakota | 75
Canada |  | Illinois | 73 | Ohio | 73
—Alberta | 84 | Indiana | 73 | Oklahoma | 72
—British Columbia | 81 | Iowa | 74 | Oregon | 78
—Labrador | 87 | Kansas | 74 | Pennsylvania | 70
—Manitoba | 78 | Kentucky | 71 | Rhode Island | 69
—New Brunswick | 75 | Louisiana | 64 | South Carolina | 69
—Newfoundland | 82 | Maine | 72 | South Dakota | 74
—Northwest Terr | 81 | Maryland | 68 | Tennessee | 71
—Nova Scotia | 77 | Massachusetts | 72 | Texas | 70
—Ontario | 77 | Michigan | 74 | Utah | 74
—Pr. Edward Isl | 78 | Minnesota | 75 | Vermont | 70
—Quebec | 74 | Mississippi | 64 | Virginia | 67
—Saskatchewan | 82 | Missouri | 70 | Washington | 76
—Yukon | 76 | Montana | 79 | West Virginia | 66
Colorado | 74 | Nebraska | 74 | Wisconsin | 75
Connecticut | 69 | Nevada | 72 | Wyoming | 75
|  | New Hampshire | 70
Between MALAYSIA and
Alabama | 70 | Delaware | 71 | New Jersey | 73
Alaska | 45 | District of Columbia | 71 | New Mexico | 69
Arizona | 66 | Florida | 72 | New York | 73
Arkansas | 71 | Georgia | 72 | North Carolina | 73
California | 64 | Idaho | 66 | North Dakota | 72
Canada |  | Illinois | 72 | Ohio | 71
—Alberta | 73 | Indiana | 72 | Oklahoma | 71
—British Columbia | 68 | Iowa | 74 | Oregon | 63
—Labrador | 89 | Kansas | 72 | Pennsylvania | 71
—Manitoba | 75 | Kentucky | 72 | Rhode Island | 73
—New Brunswick | 77 | Louisiana | 68 | South Carolina | 72
—Newfoundland | 84 | Maine | 74 | South Dakota | 72
—Northwest Terr | 55 | Maryland | 70 | Tennessee | 71
—Nova Scotia | 79 | Massachusetts | 72 | Texas | 71
—Ontario | 77 | Michigan | 74 | Utah | 67
—Pr. Edward Isl | 80 | Minnesota | 75 | Vermont | 72
—Quebec | 78 | Mississippi | 72 | Virginia | 72
—Saskatchewan | 71 | Missouri | 73 | Washington | 63
—Yukon | 50 | Montana | 68 | West Virginia | 70
Colorado | 68 | Nebraska | 73 | Wisconsin | 73
Connecticut | 73 | Nevada | 66 | Wyoming | 71
|  | New Hampshire | 72
Between MALI and
Alabama | 64 | Delaware | 61 | New Jersey | 69
Alaska | 71 | District of Columbia | 61 | New Mexico | 76
Arizona | 74 | Florida | 69 | New York | 69
Arkansas | 71 | Georgia | 68 | North Carolina | 69
California | 75 | Idaho | 75 | North Dakota | 75
Canada |  | Illinois | 73 | Ohio | 73
—Alberta | 84 | Indiana | 73 | Oklahoma | 72
—British Columbia | 81 | Iowa | 74 | Oregon | 78
—Labrador | 87 | Kansas | 74 | Pennsylvania | 70
—Manitoba | 78 | Kentucky | 71 | Rhode Island | 69
—New Brunswick | 75 | Louisiana | 64 | South Carolina | 69
—Newfoundland | 82 | Maine | 72 | South Dakota | 74
—Northwest Terr | 81 | Maryland | 68 | Tennessee | 71
—Nova Scotia | 77 | Massachusetts | 72 | Texas | 70
—Ontario | 77 | Michigan | 74 | Utah | 74
—Pr. Edward Isl | 78 | Minnesota | 75 | Vermont | 70
—Quebec | 74 | Mississippi | 64 | Virginia | 67
—Saskatchewan | 82 | Missouri | 70 | Washington | 76
—Yukon | 76 | Montana | 79 | West Virginia | 66
Colorado | 74 | Nebraska | 74 | Wisconsin | 75
Connecticut | 69 | Nevada | 72 | Wyoming | 75
|  | New Hampshire | 70
Between MALTA and
Alabama | 60 | Delaware | 56 | New Jersey | 58
Alaska | 60 | District of Columbia | 56 | New Mexico | 63
Arizona | 64 | Florida | 55 | New York | 58
Arkansas | 55 | Georgia | 53 | North Carolina | 56
California | 62 | Idaho | 68 | North Dakota | 68
Canada |  | Illinois | 59 | Ohio | 57
—Alberta | 73 | Indiana | 58 | Oklahoma | 62
—British Columbia | 69 | Iowa | 66 | Oregon | 69
—Labrador | 74 | Kansas | 63 | Pennsylvania | 57
—Manitoba | 71 | Kentucky | 58 | Rhode Island | 58
—New Brunswick | 62 | Louisiana | 59 | South Carolina | 53
—Newfoundland | 69 | Maine | 59 | South Dakota | 68
—Northwest Terr | 70 | Maryland | 56 | Tennessee | 55
—Nova Scotia | 64 | Massachusetts | 56 | Texas | 62
—Ontario | 65 | Michigan | 62 | Utah | 65
—Pr. Edward Isl | 65 | Minnesota | 68 | Vermont | 59
—Quebec | 63 | Mississippi | 60 | Virginia | 57
—Saskatchewan | 71 | Missouri | 62 | Washington | 64
—Yukon | 65 | Montana | 68 | West Virginia | 56
Colorado | 63 | Nebraska | 65 | Wisconsin | 60
Connecticut | 58 | Nevada | 66 | Wyoming | 68
|  | New Hampshire | 59 |  |
Between MARINAS ISLAND and
Alabama | 57 | Delaware | 56 | New Jersey | 56
Alaska | 52 | District of Columbia | 56 | New Mexico | 52
Arizona | 57 | Florida | 58 | New York | 56
Arkansas | 57 | Georgia | 58 | North Carolina | 58
California | 50 | Idaho | 56 | North Dakota | 56
Canada |  | Illinois | 58 | Ohio | 58
—Alberta | 61 | Indiana | 58 | Oklahoma | 57
—British Columbia | 56 | Iowa | 59 | Oregon | 51
—Labrador | 74 | Kansas | 59 | Pennsylvania | 56
—Manitoba | 59 | Kentucky | 58 | Rhode Island | 56
—New Brunswick | 62 | Louisiana | 57 | South Carolina | 58
—Newfoundland | 69 | Maine | 59 | South Dakota | 56
—Northwest Terr | 62 | Maryland | 56 | Tennessee | 57
—Nova Scotia | 64 | Massachusetts | 56 | Texas | 57
—Ontario | 64 | Michigan | 61 | Utah | 52
—Pr. Edward Isl | 65 | Minnesota | 61 | Vermont | 59
—Quebec | 61 | Mississippi | 57 | Virginia | 56
—Saskatchewan | 59 | Missouri | 59 | Washington | 51
—Yukon | 57 | Montana | 56 | West Virginia | 56
Colorado | 53 | Nebraska | 59 | Wisconsin | 61
Connecticut | 56 | Nevada | 52 | Wyoming | 56
|  | New Hampshire | 59
Between MAURITANIA and
Alabama | 64 | Delaware | 61 | New Jersey | 69
Alaska | 71 | District of Columbia | 61 | New Mexico | 76
Arizona | 74 | Florida | 69 | New York | 69
Arkansas | 71 | Georgia | 68 | North Carolina | 69
California | 75 | Idaho | 75 | North Dakota | 75
Canada |  | Illinois | 73 | Ohio | 73
—Alberta | 84 | Indiana | 73 | Oklahoma | 72
—British Columbia | 81 | Iowa | 74 | Oregon | 78
—Labrador | 87 | Kansas | 74 | Pennsylvania | 70
—Manitoba | 78 | Kentucky | 71 | Rhode Island | 69
—New Brunswick | 75 | Louisiana | 64 | South Carolina | 69
—Newfoundland | 82 | Maine | 72 | South Dakota | 74
—Northwest Terr | 81 | Maryland | 68 | Tennessee | 71
—Nova Scotia | 77 | Massachusetts | 72 | Texas | 70
—Ontario | 77 | Michigan | 74 | Utah | 74
—Pr. Edward Isl | 78 | Minnesota | 75 | Vermont | 70
—Quebec | 74 | Mississippi | 64 | Virginia | 67
—Saskatchewan | 82 | Missouri | 70 | Washington | 76
—Yukon | 76 | Montana | 79 | West Virginia | 66
Colorado | 74 | Nebraska | 74 | Wisconsin | 75
Connecticut | 69 | Nevada | 72 | Wyoming | 75
|  | New Hampshire | 70
Between MAURITIUS and
Alabama | 62 | Delaware | 61 | New Jersey | 64
Alaska | 65 | District of Columbia | 61 | New Mexico | 70
Arizona | 68 | Florida | 64 | New York | 64
Arkansas | 65 | Georgia | 62 | North Carolina | 63
California | 69 | Idaho | 67 | North Dakota | 67
Canada |  | Illinois | 67 | Ohio | 67
—Alberta | 75 | Indiana | 67 | Oklahoma | 66
—British Columbia | 73 | Iowa | 64 | Oregon | 70
—Labrador | 82 | Kansas | 68 | Pennsylvania | 64
—Manitoba | 70 | Kentucky | 66 | Rhode Island | 64
—New Brunswick | 70 | Louisiana | 63 | South Carolina | 63
—Newfoundland | 77 | Maine | 67 | South Dakota | 66
—Northwest Terr | 75 | Maryland | 61 | Tennessee | 65
—Nova Scotia | 72 | Massachusetts | 64 | Texas | 62
—Ontario | 69 | Michigan | 66 | Utah | 66
—Pr. Edward Isl | 73 | Minnesota | 67 | Vermont | 68
—Quebec | 69 | Mississippi | 63 | Virginia | 61
—Saskatchewan | 73 | Missouri | 67 | Washington | 68
—Yukon | 70 | Montana | 70 | West Virginia | 66
Colorado | 66 | Nebraska | 66 | Wisconsin | 69
Connecticut | 64 | Nevada | 68 | Wyoming | 69
|  | New Hampshire | 68
Between MEXICO and
Alabama | 46 | Delaware | 47 | New Jersey | 52
Alaska | 56 | District of Columbia | 48 | New Mexico | 51
Arizona | 46 | Florida | 43 | New York | 51
Arkansas | 46 | Georgia | 44 | North Carolina | 47
California | 51 | Idaho | 52 | North Dakota | 52
Canada |  | Illinois | 49 | Ohio | 48
—Alberta | 65 | Indiana | 48 | Oklahoma | 47
—British Columbia | 62 | Iowa | 48 | Oregon | 50
—Labrador | 73 | Kansas | 47 | Pennsylvania | 51
—Manitoba | 63 | Kentucky | 48 | Rhode Island | 52
—New Brunswick | 61 | Louisiana | 44 | South Carolina | 46
—Newfoundland | 68 | Maine | 51 | South Dakota | 52
—Northwest Terr | 66 | Maryland | 48 | Tennessee | 47
—Nova Scotia | 63 | Massachusetts | 51 | Texas | 46
—Ontario | 64 | Michigan | 50 | Utah | 51
—Pr. Edward Isl | 64 | Minnesota | 52 | Vermont | 52
—Quebec | 63 | Mississippi | 45 | Virginia | 49
—Saskatchewan | 63 | Missouri | 47 | Washington | 52
—Yukon | 61 | Montana | 50 | West Virginia | 50
Colorado | 47 | Nebraska | 53 | Wisconsin | 51
Connecticut | 51 | Nevada | 53 | Wyoming | 51
|  | New Hampshire | 52
Between MICRONESIA and
Alabama | 57 | Delaware | 56 | New Jersey | 56
Alaska | 52 | District of Columbia | 56 | New Mexico | 52
Arizona | 57 | Florida | 58 | New York | 56
Arkansas | 57 | Georgia | 58 | North Carolina | 58
California | 50 | Idaho | 56 | North Dakota | 56
Canada |  | Illinois | 58 | Ohio | 58
—Alberta | 61 | Indiana | 58 | Oklahoma | 57
—British Columbia | 56 | Iowa | 59 | Oregon | 51
—Labrador | 74 | Kansas | 59 | Pennsylvania | 56
—Manitoba | 59 | Kentucky | 58 | Rhode Island | 56
—New Brunswick | 62 | Louisiana | 57 | South Carolina | 58
—Newfoundland | 69 | Maine | 59 | South Dakota | 56
—Northwest Terr | 62 | Maryland | 56 | Tennessee | 57
—Nova Scotia | 64 | Massachusetts | 56 | Texas | 57
—Ontario | 64 | Michigan | 61 | Utah | 52
—Pr. Edward Isl | 65 | Minnesota | 61 | Vermont | 59
—Quebec | 61 | Mississippi | 57 | Virginia | 56
—Saskatchewan | 59 | Missouri | 59 | Washington | 51
—Yukon | 57 | Montana | 56 | West Virginia | 56
Colorado | 53 | Nebraska | 59 | Wisconsin | 61
Connecticut | 56 | Nevada | 52 | Wyoming | 56
|  | New Hampshire | 59
Between MONACO and
Alabama | 59 | Delaware | 52 | New Jersey | 54
Alaska | 58 | District of Columbia | 54 | New Mexico | 63
Arizona | 62 | Florida | 55 | New York | 54
Arkansas | 60 | Georgia | 56 | North Carolina | 54
California | 63 | Idaho | 62 | North Dakota | 61
Canada |  | Illinois | 58 | Ohio | 58
—Alberta | 69 | Indiana | 58 | Oklahoma | 62
—British Columbia | 69 | Iowa | 62 | Oregon | 64
—Labrador | 72 | Kansas | 61 | Pennsylvania | 55
—Manitoba | 64 | Kentucky | 58 | Rhode Island | 54
—New Brunswick | 60 | Louisiana | 59 | South Carolina | 57
—Newfoundland | 67 | Maine | 57 | South Dakota | 64
—Northwest Terr | 68 | Maryland | 54 | Tennessee | 60
—Nova Scotia | 62 | Massachusetts | 54 | Texas | 62
—Ontario | 62 | Michigan | 59 | Utah | 63
—Pr. Edward Isl | 63 | Minnesota | 60 | Vermont | 58
—Quebec | 59 | Mississippi | 59 | Virginia | 56
—Saskatchewan | 67 | Missouri | 61 | Washington | 64
—Yukon | 63 | Montana | 64 | West Virginia | 60
Colorado | 61 | Nebraska | 62 | Wisconsin | 60
Connecticut | 54 | Nevada | 63 | Wyoming | 64
|  | New Hampshire | 58
Between MOROCCO and
Alabama | 60 | Delaware | 59 | New Jersey | 61
Alaska | 62 | District of Columbia | 59 | New Mexico | 64
Arizona | 65 | Florida | 61 | New York | 61
Arkansas | 61 | Georgia | 60 | North Carolina | 59
California | 66 | Idaho | 63 | North Dakota | 69
Canada |  | Illinois | 62 | Ohio | 60
—Alberta | 74 | Indiana | 61 | Oklahoma | 63
—British Columbia | 72 | Iowa | 67 | Oregon | 71
—Labrador | 77 | Kansas | 64 | Pennsylvania | 60
—Manitoba | 72 | Kentucky | 61 | Rhode Island | 61
—New Brunswick | 65 | Louisiana | 59 | South Carolina | 59
—Newfoundland | 72 | Maine | 62 | South Dakota | 69
—Northwest Terr | 72 | Maryland | 59 | Tennessee | 61
—Nova Scotia | 67 | Massachusetts | 59 | Texas | 63
—Ontario | 68 | Michigan | 65 | Utah | 66
—Pr. Edward Isl | 68 | Minnesota | 69 | Vermont | 62
—Quebec | 66 | Mississippi | 60 | Virginia | 60
—Saskatchewan | 72 | Missouri | 62 | Washington | 67
—Yukon | 67 | Montana | 69 | West Virginia | 59
Colorado | 64 | Nebraska | 66 | Wisconsin | 63
Connecticut | 61 | Nevada | 67 | Wyoming | 69
|  | New Hampshire | 62
Between MOZAMBIQUE and
Alabama | 62 | Delaware | 61 | New Jersey | 64
Alaska | 65 | District of Columbia | 61 | New Mexico | 70
Arizona | 68 | Florida | 64 | New York | 64
Arkansas | 65 | Georgia | 62 | North Carolina | 63
California | 69 | Idaho | 67 | North Dakota | 67
Canada |  | Illinois | 67 | Ohio | 67
—Alberta | 75 | Indiana | 67 | Oklahoma | 66
—British Columbia | 73 | Iowa | 64 | Oregon | 70
—Labrador | 82 | Kansas | 68 | Pennsylvania | 64
—Manitoba | 70 | Kentucky | 66 | Rhode Island | 64
—New Brunswick | 70 | Louisiana | 63 | South Carolina | 63
—Newfoundland | 77 | Maine | 67 | South Dakota | 66
—Northwest Terr | 75 | Maryland | 61 | Tennessee | 65
—Nova Scotia | 72 | Massachusetts | 64 | Texas | 62
—Ontario | 69 | Michigan | 66 | Utah | 66
—Pr. Edward Isl | 73 | Minnesota | 67 | Vermont | 68
—Quebec | 69 | Mississippi | 63 | Virginia | 61
—Saskatchewan | 73 | Missouri | 67 | Washington | 68
—Yukon | 70 | Montana | 70 | West Virginia | 66
Colorado | 66 | Nebraska | 66 | Wisconsin | 69
Connecticut | 64 | Nevada | 68 | Wyoming | 69
|  | New Hampshire | 68
Between NAMIBIA and
Alabama | 64 | Delaware | 61 | New Jersey | 69
Alaska | 71 | District of Columbia | 61 | New Mexico | 76
Arizona | 74 | Florida | 69 | New York | 69
Arkansas | 71 | Georgia | 68 | North Carolina | 69
California | 75 | Idaho | 75 | North Dakota | 75
Canada |  | Illinois | 73 | Ohio | 73
—Alberta | 84 | Indiana | 73 | Oklahoma | 72
—British Columbia | 81 | Iowa | 74 | Oregon | 78
—Labrador | 87 | Kansas | 74 | Pennsylvania | 70
—Manitoba | 78 | Kentucky | 71 | Rhode Island | 69
—New Brunswick | 75 | Louisiana | 64 | South Carolina | 69
—Newfoundland | 82 | Maine | 72 | South Dakota | 74
—Northwest Terr | 81 | Maryland | 68 | Tennessee | 71
—Nova Scotia | 77 | Massachusetts | 72 | Texas | 70
—Ontario | 77 | Michigan | 74 | Utah | 74
—Pr. Edward Isl | 78 | Minnesota | 75 | Vermont | 70
—Quebec | 74 | Mississippi | 64 | Virginia | 67
—Saskatchewan | 82 | Missouri | 70 | Washington | 76
—Yukon | 76 | Montana | 79 | West Virginia | 66
Colorado | 74 | Nebraska | 74 | Wisconsin | 75
Connecticut | 69 | Nevada | 72 | Wyoming | 75
|  | New Hampshire | 70
Between NEPAL and
Alabama | 77 | Delaware | 77 | New Jersey | 81
Alaska | 53 | District of Columbia | 77 | New Mexico | 72
Arizona | 73 | Florida | 80 | New York | 81
Arkansas | 77 | Georgia | 79 | North Carolina | 81
California | 69 | Idaho | 76 | North Dakota | 79
Canada |  | Illinois | 79 | Ohio | 78
—Alberta | 83 | Indiana | 79 | Oklahoma | 78
—British Columbia | 76 | Iowa | 80 | Oregon | 71
—Labrador | 97 | Kansas | 79 | Pennsylvania | 80
—Manitoba | 82 | Kentucky | 80 | Rhode Island | 81
—New Brunswick | 85 | Louisiana | 77 | South Carolina | 77
—Newfoundland | 92 | Maine | 82 | South Dakota | 80
—Northwest Terr | 63 | Maryland | 79 | Tennessee | 77
—Nova Scotia | 87 | Massachusetts | 80 | Texas | 77
—Ontario | 82 | Michigan | 79 | Utah | 73
—Pr. Edward Isl | 88 | Minnesota | 79 | Vermont | 82
—Quebec | 86 | Mississippi | 79 | Virginia | 79
—Saskatchewan | 81 | Missouri | 80 | Washington | 71
—Yukon | 58 | Montana | 78 | West Virginia | 81
Colorado | 76 | Nebraska | 79 | Wisconsin | 78
Connecticut | 81 | Nevada | 71 | Wyoming | 76
|  | New Hampshire | 82
Between NETHERLANDS ANTILLES and
Alabama | 52 | Delaware | 61 | New Jersey | 64
Alaska | 61 | District of Columbia | 61 | New Mexico | 59
Arizona | 59 | Florida | 57 | New York | 64
Arkansas | 58 | Georgia | 57 | North Carolina | 60
California | 64 | Idaho | 64 | North Dakota | 64
Canada |  | Illinois | 63 | Ohio | 62
—Alberta | 69 | Indiana | 62 | Oklahoma | 60
—British Columbia | 69 | Iowa | 60 | Oregon | 63
—Labrador | 79 | Kansas | 61 | Pennsylvania | 63
—Manitoba | 67 | Kentucky | 61 | Rhode Island | 64
—New Brunswick | 67 | Louisiana | 56 | South Carolina | 58
—Newfoundland | 74 | Maine | 64 | South Dakota | 64
—Northwest Terr | 71 | Maryland | 61 | Tennessee | 58
—Nova Scotia | 69 | Massachusetts | 61 | Texas | 60
—Ontario | 67 | Michigan | 64 | Utah | 62
—Pr. Edward Isl | 70 | Minnesota | 64 | Vermont | 64
—Quebec | 69 | Mississippi | 58 | Virginia | 61
—Saskatchewan | 67 | Missouri | 60 | Washington | 64
—Yukon | 66 | Montana | 64 | West Virginia | 61
Colorado | 62 | Nebraska | 62 | Wisconsin | 63
Connecticut | 64 | Nevada | 61 | Wyoming | 64
|  | New Hampshire | 64
Between THE NETHERLANDS and
Alabama | 62 | Delaware | 56 | New Jersey | 57
Alaska | 63 | District of Columbia | 56 | New Mexico | 64
Arizona | 65 | Florida | 61 | New York | 58
Arkansas | 64 | Georgia | 57 | North Carolina | 57
California | 63 | Idaho | 65 | North Dakota | 69
Canada |  | Illinois | 59 | Ohio | 57
—Alberta | 75 | Indiana | 58 | Oklahoma | 63
—British Columbia | 69 | Iowa | 67 | Oregon | 64
—Labrador | 75 | Kansas | 64 | Pennsylvania | 57
—Manitoba | 74 | Kentucky | 65 | Rhode Island | 57
—New Brunswick | 64 | Louisiana | 61 | South Carolina | 57
—Newfoundland | 70 | Maine | 59 | South Dakota | 69
—Northwest Terr | 72 | Maryland | 56 | Tennessee | 59
—Nova Scotia | 66 | Massachusetts | 56 | Texas | 63
—Ontario | 67 | Michigan | 62 | Utah | 66
—Pr. Edward Isl | 67 | Minnesota | 62 | Vermont | 59
—Quebec | 65 | Mississippi | 62 | Virginia | 57
—Saskatchewan | 73 | Missouri | 64 | Washington | 63
—Yukon | 68 | Montana | 69 | West Virginia | 56
Colorado | 64 | Nebraska | 66 | Wisconsin | 60
Connecticut | 58 | Nevada | 67 | Wyoming | 69
|  | New Hampshire | 57
Between NEW ZEALAND and
Alabama | 76 | Delaware | 75 | New Jersey | 77
Alaska | 49 | District of Columbia | 74 | New Mexico | 69
Arizona | 69 | Florida | 76 | New York | 77
Arkansas | 77 | Georgia | 76 | North Carolina | 76
California | 71 | Idaho | 73 | North Dakota | 76
Canada |  | Illinois | 72 | Ohio | 75
—Alberta | 83 | Indiana | 72 | Oklahoma | 73
—British Columbia | 65 | Iowa | 72 | Oregon | 66
—Labrador | 93 | Kansas | 77 | Pennsylvania | 76
—Manitoba | 79 | Kentucky | 78 | Rhode Island | 77
—New Brunswick | 81 | Louisiana | 72 | South Carolina | 76
—Newfoundland | 88 | Maine | 78 | South Dakota | 76
—Northwest Terr | 59 | Maryland | 76 | Tennessee | 77
—Nova Scotia | 83 | Massachusetts | 76 | Texas | 73
—Ontario | 80 | Michigan | 77 | Utah | 73
—Pr. Edward Isl | 84 | Minnesota | 77 | Vermont | 78
—Quebec | 82 | Mississippi | 73 | Virginia | 76
—Saskatchewan | 81 | Missouri | 76 | Washington | 60
—Yukon | 54 | Montana | 78 | West Virginia | 77
Colorado | 69 | Nebraska | 73 | Wisconsin | 75
Connecticut | 77 | Nevada | 69 | Wyoming | 76
|  | New Hampshire | 78
Between NICARAGUA and
Alabama | 47 | Delaware | 56 | New Jersey | 57
Alaska | 55 | District of Columbia | 56 | New Mexico | 54
Arizona | 53 | Florida | 53 | New York | 57
Arkansas | 52 | Georgia | 53 | North Carolina | 56
California | 54 | Idaho | 57 | North Dakota | 59
Canada |  | Illinois | 57 | Ohio | 56
—Alberta | 64 | Indiana | 56 | Oklahoma | 55
—British Columbia | 67 | Iowa | 54 | Oregon | 61
—Labrador | 73 | Kansas | 56 | Pennsylvania | 55
—Manitoba | 62 | Kentucky | 56 | Rhode Island | 57
—New Brunswick | 61 | Louisiana | 48 | South Carolina | 53
—Newfoundland | 68 | Maine | 58 | South Dakota | 59
—Northwest Terr | 65 | Maryland | 56 | Tennessee | 52
—Nova Scotia | 63 | Massachusetts | 56 | Texas | 52
—Ontario | 64 | Michigan | 61 | Utah | 57
—Pr. Edward Isl | 64 | Minnesota | 61 | Vermont | 60
—Quebec | 62 | Mississippi | 49 | Virginia | 56
—Saskatchewan | 62 | Missouri | 54 | Washington | 62
—Yukon | 60 | Montana | 59 | West Virginia | 56
Colorado | 54 | Nebraska | 57 | Wisconsin | 58
Connecticut | 57 | Nevada | 55 | Wyoming | 59
|  | New Hampshire | 60 |  |
Between NIGERIA and
Alabama | 64 | Delaware | 61 | New Jersey | 69
Alaska | 71 | District of Columbia | 61 | New Mexico | 76
Arizona | 74 | Florida | 69 | New York | 69
Arkansas | 71 | Georgia | 68 | North Carolina | 69
California | 75 | Idaho | 75 | North Dakota | 75
Canada |  | Illinois | 73 | Ohio | 73
—Alberta | 84 | Indiana | 73 | Oklahoma | 72
—British Columbia | 81 | Iowa | 74 | Oregon | 78
—Labrador | 87 | Kansas | 74 | Pennsylvania | 70
—Manitoba | 78 | Kentucky | 71 | Rhode Island | 69
—New Brunswick | 75 | Louisiana | 64 | South Carolina | 69
—Newfoundland | 82 | Maine | 72 | South Dakota | 74
—Northwest Terr | 81 | Maryland | 68 | Tennessee | 71
—Nova Scotia | 77 | Massachusetts | 72 | Texas | 70
—Ontario | 77 | Michigan | 74 | Utah | 74
—Pr. Edward Isl | 78 | Minnesota | 75 | Vermont | 70
—Quebec | 74 | Mississippi | 64 | Virginia | 67
—Saskatchewan | 82 | Missouri | 70 | Washington | 76
—Yukon | 76 | Montana | 79 | West Virginia | 66
Colorado | 74 | Nebraska | 74 | Wisconsin | 75
Connecticut | 69 | Nevada | 72 | Wyoming | 75
|  | New Hampshire | 70 |
Between N. IRELAND and
Alabama | 61 | Delaware | 57 | New Jersey | 59
Alaska | 61 | District of Columbia | 57 | New Mexico | 63
Arizona | 64 | Florida | 57 | New York | 59
Arkansas | 61 | Georgia | 55 | North Carolina | 59
California | 70 | Idaho | 68 | North Dakota | 68
Canada |  | Illinois | 60 | Ohio | 58
—Alberta | 83 | Indiana | 59 | Oklahoma | 62
—British Columbia | 75 | Iowa | 67 | Oregon | 71
—Labrador | 75 | Kansas | 63 | Pennsylvania | 58
—Manitoba | 71 | Kentucky | 59 | Rhode Island | 59
—New Brunswick | 63 | Louisiana | 60 | South Carolina | 54
—Newfoundland | 70 | Maine | 60 | South Dakota | 68
—Northwest Terr | 71 | Maryland | 57 | Tennessee | 61
—Nova Scotia | 65 | Massachusetts | 57 | Texas | 62
—Ontario | 66 | Michigan | 63 | Utah | 65
—Pr. Edward Isl | 66 | Minnesota | 63 | Vermont | 60
—Quebec | 64 | Mississippi | 61 | Virginia | 58
—Saskatchewan | 81 | Missouri | 63 | Washington | 70
—Yukon | 66 | Montana | 78 | West Virginia | 57
Colorado | 63 | Nebraska | 65 | Wisconsin | 61
Connecticut | 59 | Nevada | 71 | Wyoming | 68
|  | New Hampshire | 60
Between NORWAY and
Alabama | 61 | Delaware | 55 | New Jersey | 58
Alaska | 60 | District of Columbia | 55 | New Mexico | 64
Arizona | 64 | Florida | 57 | New York | 58
Arkansas | 61 | Georgia | 58 | North Carolina | 58
California | 65 | Idaho | 64 | North Dakota | 65
Canada |  | Illinois | 59 | Ohio | 59
—Alberta | 71 | Indiana | 59 | Oklahoma | 63
—British Columbia | 70 | Iowa | 64 | Oregon | 65
—Labrador | 75 | Kansas | 62 | Pennsylvania | 57
—Manitoba | 68 | Kentucky | 60 | Rhode Island | 58
—New Brunswick | 63 | Louisiana | 61 | South Carolina | 58
—Newfoundland | 70 | Maine | 60 | South Dakota | 65
—Northwest Terr | 70 | Maryland | 55 | Tennessee | 61
—Nova Scotia | 65 | Massachusetts | 55 | Texas | 63
—Ontario | 63 | Michigan | 60 | Utah | 66
—Pr. Edward Isl | 66 | Minnesota | 61 | Vermont | 59
—Quebec | 63 | Mississippi | 61 | Virginia | 56
—Saskatchewan | 69 | Missouri | 63 | Washington | 65
—Yukon | 65 | Montana | 66 | West Virginia | 58
Colorado | 63 | Nebraska | 63 | Wisconsin | 61
Connecticut | 58 | Nevada | 64 | Wyoming | 67
|  | New Hampshire | 59
Between OKINAWA and
Alabama | 66 | Delaware | 65 | New Jersey | 63
Alaska | 47 | District of Columbia | 65 | New Mexico | 62
Arizona | 60 | Florida | 67 | New York | 67
Arkansas | 68 | Georgia | 68 | North Carolina | 70
California | 58 | Idaho | 60 | North Dakota | 65
Canada |  | Illinois | 68 | Ohio | 66
—Alberta | 77 | Indiana | 67 | Oklahoma | 66
—British Columbia | 69 | Iowa | 70 | Oregon | 59
—Labrador | 94 | Kansas | 67 | Pennsylvania | 66
—Manitoba | 81 | Kentucky | 69 | Rhode Island | 67
—New Brunswick | 82 | Louisiana | 65 | South Carolina | 68
—Newfoundland | 89 | Maine | 68 | South Dakota | 67
—Northwest Terr | 61 | Maryland | 65 | Tennessee | 72
—Nova Scotia | 84 | Massachusetts | 65 | Texas | 65
—Ontario | 85 | Michigan | 71 | Utah | 61
—Pr. Edward Isl | 85 | Minnesota | 67 | Vermont | 68
—Quebec | 83 | Mississippi | 66 | Virginia | 66
—Saskatchewan | 75 | Missouri | 68 | Washington | 58
—Yukon | 56 | Montana | 66 | West Virginia | 65
Colorado | 64 | Nebraska | 69 | Wisconsin | 69
Connecticut | 67 | Nevada | 60 | Wyoming | 65
|  | New Hampshire | 66
Between OMAN and
Alabama | 63 | Delaware | 62 | New Jersey | 65
Alaska | 67 | District of Columbia | 62 | New Mexico | 72
Arizona | 71 | Florida | 64 | New York | 65
Arkansas | 66 | Georgia | 62 | North Carolina | 66
California | 72 | Idaho | 72 | North Dakota | 68
Canada |  | Illinois | 67 | Ohio | 68
—Alberta | 78 | Indiana | 67 | Oklahoma | 68
—British Columbia | 75 | Iowa | 68 | Oregon | 72
—Labrador | 82 | Kansas | 68 | Pennsylvania | 65
—Manitoba | 71 | Kentucky | 66 | Rhode Island | 65
—New Brunswick | 70 | Louisiana | 64 | South Carolina | 65
—Newfoundland | 77 | Maine | 67 | South Dakota | 71
—Northwest Terr | 77 | Maryland | 62 | Tennessee | 66
—Nova Scotia | 72 | Massachusetts | 65 | Texas | 66
—Ontario | 71 | Michigan | 68 | Utah | 70
—Pr. Edward Isl | 73 | Minnesota | 69 | Vermont | 69
—Quebec | 70 | Mississippi | 64 | Virginia | 63
—Saskatchewan | 76 | Missouri | 68 | Washington | 70
—Yukon | 72 | Montana | 73 | West Virginia | 62
Colorado | 71 | Nebraska | 70 | Wisconsin | 70
Connecticut | 65 | Nevada | 70 | Wyoming | 71
|  | New Hampshire | 69
Between PAKISTAN and
Alabama | 75 | Delaware | 75 | New Jersey | 77
Alaska | 51 | District of Columbia | 74 | New Mexico | 74
Arizona | 72 | Florida | 77 | New York | 77
Arkansas | 76 | Georgia | 77 | North Carolina | 76
California | 70 | Idaho | 74 | North Dakota | 77
Canada |  | Illinois | 77 | Ohio | 78
—Alberta | 80 | Indiana | 77 | Oklahoma | 76
—British Columbia | 76 | Iowa | 80 | Oregon | 74
—Labrador | 95 | Kansas | 77 | Pennsylvania | 77
—Manitoba | 80 | Kentucky | 78 | Rhode Island | 77
—New Brunswick | 83 | Louisiana | 74 | South Carolina | 77
—Newfoundland | 90 | Maine | 80 | South Dakota | 77
—Northwest Terr | 61 | Maryland | 76 | Tennessee | 76
—Nova Scotia | 85 | Massachusetts | 77 | Texas | 75
—Ontario | 83 | Michigan | 80 | Utah | 74
—Pr. Edward Isl | 86 | Minnesota | 81 | Vermont | 79
—Quebec | 82 | Mississippi | 78 | Virginia | 76
—Saskatchewan | 78 | Missouri | 78 | Washington | 71
—Yukon | 56 | Montana | 75 | West Virginia | 76
Colorado | 74 | Nebraska | 78 | Wisconsin | 78
Connecticut | 77 | Nevada | 72 | Wyoming | 76
|  | New Hampshire | 79
Between PANAMA and
Alabama | 51 | Delaware | 58 | New Jersey | 60
Alaska | 58 | District of Columbia | 58 | New Mexico | 58
Arizona | 59 | Florida | 54 | New York | 60
Arkansas | 52 | Georgia | 55 | North Carolina | 58
California | 62 | Idaho | 63 | North Dakota | 63
Canada |  | Illinois | 61 | Ohio | 59
—Alberta | 67 | Indiana | 60 | Oklahoma | 57
—British Columbia | 68 | Iowa | 54 | Oregon | 64
—Labrador | 76 | Kansas | 58 | Pennsylvania | 59
—Manitoba | 65 | Kentucky | 60 | Rhode Island | 60
—New Brunswick | 64 | Louisiana | 50 | South Carolina | 55
—Newfoundland | 72 | Maine | 61 | South Dakota | 63
—Northwest Terr | 68 | Maryland | 58 | Tennessee | 55
—Nova Scotia | 66 | Massachusetts | 58 | Texas | 56
—Ontario | 67 | Michigan | 64 | Utah | 60
—Pr. Edward Isl | 68 | Minnesota | 64 | Vermont | 61
—Quebec | 65 | Mississippi | 51 | Virginia | 59
—Saskatchewan | 65 | Missouri | 53 | Washington | 63
—Yukon | 63 | Montana | 63 | West Virginia | 58
Colorado | 58 | Nebraska | 60 | Wisconsin | 62
Connecticut | 61 | Nevada | 61 | Wyoming | 63
|  | New Hampshire | 62
Between PAPUA NEW GUINEA and
Alabama | 73 | Delaware | 74 | New Jersey | 78
Alaska | 49 | District of Columbia | 73 | New Mexico | 73
Arizona | 69 | Florida | 78 | New York | 78
Arkansas | 77 | Georgia | 75 | North Carolina | 77
California | 57 | Idaho | 70 | North Dakota | 76
Canada |  | Illinois | 76 | Ohio | 75
—Alberta | 75 | Indiana | 75 | Oklahoma | 75
—British Columbia | 71 | Iowa | 70 | Oregon | 67
—Labrador | 93 | Kansas | 75 | Pennsylvania | 77
—Manitoba | 79 | Kentucky | 75 | Rhode Island | 78
—New Brunswick | 81 | Louisiana | 73 | South Carolina | 76
—Newfoundland | 88 | Maine | 78 | South Dakota | 76
—Northwest Terr | 59 | Maryland | 73 | Tennessee | 77
—Nova Scotia | 83 | Massachusetts | 74 | Texas | 76
—Ontario | 79 | Michigan | 76 | Utah | 72
—Pr. Edward Isl | 84 | Minnesota | 77 | Vermont | 78
—Quebec | 83 | Mississippi | 75 | Virginia | 75
—Saskatchewan | 73 | Missouri | 76 | Washington | 66
—Yukon | 54 | Montana | 70 | West Virginia | 77
Colorado | 71 | Nebraska | 77 | Wisconsin | 77
Connecticut | 78 | Nevada | 70 | Wyoming | 75
|  | New Hampshire | 78
Between PARAGUAY and
Alabama | 56 | Delaware | 63 | New Jersey | 64
Alaska | 61 | District of Columbia | 62 | New Mexico | 57
Arizona | 53 | Florida | 56 | New York | 64
Arkansas | 60 | Georgia | 55 | North Carolina | 59
California | 59 | Idaho | 62 | North Dakota | 65
Canada |  | Illinois | 64 | Ohio | 63
—Alberta | 70 | Indiana | 63 | Oklahoma | 61
—British Columbia | 69 | Iowa | 65 | Oregon | 64
—Labrador | 80 | Kansas | 64 | Pennsylvania | 64
—Manitoba | 68 | Kentucky | 61 | Rhode Island | 64
—New Brunswick | 68 | Louisiana | 57 | South Carolina | 60
—Newfoundland | 75 | Maine | 65 | South Dakota | 65
—Northwest Terr | 71 | Maryland | 63 | Tennessee | 60
—Nova Scotia | 70 | Massachusetts | 63 | Texas | 60
—Ontario | 67 | Michigan | 64 | Utah | 63
—Pr. Edward Isl | 71 | Minnesota | 64 | Vermont | 62
—Quebec | 69 | Mississippi | 58 | Virginia | 63
—Saskatchewan | 68 | Missouri | 61 | Washington | 64
—Yukon | 66 | Montana | 65 | West Virginia | 65
Colorado | 62 | Nebraska | 63 | Wisconsin | 65
Connecticut | 64 | Nevada | 56 | Wyoming | 64
|  | New Hampshire | 62
Between PERU and
Alabama | 51 | Delaware | 61 | New Jersey | 61
Alaska | 59 | District of Columbia | 61 | New Mexico | 57
Arizona | 56 | Florida | 52 | New York | 61
Arkansas | 57 | Georgia | 55 | North Carolina | 57
California | 58 | Idaho | 63 | North Dakota | 63
Canada |  | Illinois | 62 | Ohio | 51
—Alberta | 68 | Indiana | 61 | Oklahoma | 57
—British Columbia | 70 | Iowa | 58 | Oregon | 66
—Labrador | 77 | Kansas | 61 | Pennsylvania | 61
—Manitoba | 66 | Kentucky | 57 | Rhode Island | 61
—New Brunswick | 65 | Louisiana | 54 | South Carolina | 55
—Newfoundland | 72 | Maine | 62 | South Dakota | 63
—Northwest Terr | 69 | Maryland | 61 | Tennessee | 56
—Nova Scotia | 67 | Massachusetts | 61 | Texas | 57
—Ontario | 66 | Michigan | 63 | Utah | 60
—Pr. Edward Isl | 68 | Minnesota | 63 | Vermont | 62
—Quebec | 66 | Mississippi | 56 | Virginia | 60
—Saskatchewan | 66 | Missouri | 57 | Washington | 65
—Yukon | 64 | Montana | 63 | West Virginia | 61
Colorado | 57 | Nebraska | 61 | Wisconsin | 63
Connecticut | 61 | Nevada | 59 | Wyoming | 63
|  | New Hampshire | 62
Between PHILLIPINES and
Alabama | 78 | Delaware | 77 | New Jersey | 79
Alaska | 52 | District of Columbia | 77 | New Mexico | 79
Arizona | 72 | Florida | 79 | New York | 79
Arkansas | 84 | Georgia | 80 | North Carolina | 82
California | 72 | Idaho | 67 | North Dakota | 79
Canada |  | Illinois | 80 | Ohio | 78
Alberta | 78 | Indiana | 79 | Oklahoma | 78
—British Columbia | 70 | Iowa | 84 | Oregon | 66
—Labrador | 95 | Kansas | 79 | Pennsylvania | 78
—Manitoba | 82 | Kentucky | 79 | Rhode Island | 79
—New Brunswick | 83 | Louisiana | 77 | South Carolina | 80
—Newfoundland | 90 | Maine | 80 | South Dakota | 79
—Northwest Terr | 62 | Maryland | 77 | Tennessee | 84
—Nova Scotia | 85 | Massachusetts | 77 | Texas | 77
—Ontario | 86 | Michigan | 83 | Utah | 73
—Pr. Edward Isl | 86 | Minnesota | 84 | Vermont | 80
—Quebec | 84 | Mississippi | 78 | Virginia | 78
—Saskatchewan | 76 | Missouri | 80 | Washington | 65
—Yukon | 57 | Montana | 73 | West Virginia | 77
Colorado | 76 | Nebraska | 81 | Wisconsin | 81
Connecticut | 79 | Nevada | 72 | Wyoming | 77
|  | New Hampshire | 80
Between POLAND and
Alabama | 65 | Delaware | 59 | New Jersey | 61
Alaska | 64 | District of Columbia | 59 | New Mexico | 67
Arizona | 68 | Florida | 61 | New York | 61
Arkansas | 62 | Georgia | 60 | North Carolina | 60
California | 66 | Idaho | 68 | North Dakota | 72
Canada |  | Illinois | 62 | Ohio | 60
—Alberta | 77 | Indiana | 61 | Oklahoma | 66
—British Columbia | 71 | Iowa | 70 | Oregon | 67
—Labrador | 77 | Kansas | 67 | Pennsylvania | 60
—Manitoba | 75 | Kentucky | 61 | Rhode Island | 61
—New Brunswick | 65 | Louisiana | 64 | South Carolina | 60
—Newfoundland | 72 | Maine | 62 | South Dakota | 72
—Northwest Terr | 74 | Maryland | 59 | Tennessee | 62
—Nova Scotia | 67 | Massachusetts | 59 | Texas | 66
—Ontario | 68 | Michigan | 65 | Utah | 69
—Pr. Edward Isl | 68 | Minnesota | 65 | Vermont | 62
—Quebec | 66 | Mississippi | 65 | Virginia | 60
—Saskatchewan | 75 | Missouri | 67 | Washington | 66
—Yukon | 69 | Montana | 72 | West Virginia | 59
Colorado | 67 | Nebraska | 69 | Wisconsin | 63
Connecticut | 61 | Nevada | 66 | Wyoming | 72
|  | New Hampshire | 62
Between PORTUGAL and
Alabama | 64 | Delaware | 60 | New Jersey | 61
Alaska | 62 | District of Columbia | 60 | New Mexico | 62
Arizona | 63 | Florida | 62 | New York | 62
Arkansas | 66 | Georgia | 57 | North Carolina | 57
California | 64 | Idaho | 67 | North Dakota | 67
Canada |  | Illinois | 63 | Ohio | 61
—Alberta | 74 | Indiana | 62 | Oklahoma | 61
—British Columbia | 72 | Iowa | 65 | Oregon | 68
—Labrador | 77 | Kansas | 62 | Pennsylvania | 61
—Manitoba | 72 | Kentucky | 62 | Rhode Island | 61
—New Brunswick | 65 | Louisiana | 63 | South Carolina | 57
—Newfoundland | 72 | Maine | 63 | South Dakota | 67
—Northwest Terr | 72 | Maryland | 60 | Tennessee | 59
—Nova Scotia | 67 | Massachusetts | 60 | Texas | 61
—Ontario | 68 | Michigan | 66 | Utah | 64
—Pr. Edward Isl | 68 | Minnesota | 67 | Vermont | 63
—Quebec | 66 | Mississippi | 64 | Virginia | 61
—Saskatchewan | 72 | Missouri | 66 | Washington | 67
—Yukon | 67 | Montana | 67 | West Virginia | 60
Colorado | 62 | Nebraska | 64 | Wisconsin | 64
Connecticut | 61 | Nevada | 65 | Wyoming | 67
|  | New Hampshire | 61
Between PUERTO RICO and
Alabama | 42 | Delaware | 40 | New Jersey | 39
Alaska | 48 | District of Columbia | 40 | New Mexico | 46
Arizona | 46 | Florida | 43 | New York | 39
Arkansas | 42 | Georgia | 41 | North Carolina | 41
California | 48 | Idaho | 48 | North Dakota | 48
Canada |  | Illinois | 43 | Ohio | 43
—Alberta | 53 | Indiana | 43 | Oklahoma | 44
—British Columbia | 56 | Iowa | 45 | Oregon | 51
—Labrador | 56 | Kansas | 45 | Pennsylvania | 39
—Manitoba | 51 | Kentucky | 43 | Rhode Island | 39
—New Brunswick | 44 | Louisiana | 42 | South Carolina | 41
—Newfoundland | 51 | Maine | 41 | South Dakota | 48
—Northwest Terr | 58 | Maryland | 40 | Tennessee | 42
—Nova Scotia | 46 | Massachusetts | 39 | Texas | 44
—Ontario | 48 | Michigan | 45 | Utah | 48
—Pr. Edward Isl | 47 | Minnesota | 45 | Vermont | 41
—Quebec | 44 | Mississippi | 42 | Virginia | 40
—Saskatchewan | 51 | Missouri | 45 | Washington | 51
—Yukon | 53 | Montana | 48 | West Virginia | 40
Colorado | 47 | Nebraska | 45 | Wisconsin | 45
Connecticut | 39 | Nevada | 48 | Wyoming | 48
|  | New Hampshire | 41
Between QATAR and
Alabama | 61 | Delaware | 60 | New Jersey | 62
Alaska | 64 | District of Columbia | 59 | New Mexico | 67
Arizona | 68 | Florida | 61 | New York | 62
Arkansas | 64 | Georgia | 60 | North Carolina | 61
California | 69 | Idaho | 69 | North Dakota | 67
Canada |  | Illinois | 65 | Ohio | 64
—Alberta | 77 | Indiana | 65 | Oklahoma | 65
—British Columbia | 73 | Iowa | 66 | Oregon | 69
—Labrador | 80 | Kansas | 66 | Pennsylvania | 63
—Manitoba | 70 | Kentucky | 63 | Rhode Island | 62
—New Brunswick | 68 | Louisiana | 62 | South Carolina | 61
—Newfoundland | 75 | Maine | 65 | South Dakota | 67
—Northwest Terr | 74 | Maryland | 59 | Tennessee | 64
—Nova Scotia | 70 | Massachusetts | 62 | Texas | 64
—Ontario | 68 | Michigan | 65 | Utah | 69
—Pr. Edward Isl | 71 | Minnesota | 66 | Vermont | 66
—Quebec | 67 | Mississippi | 61 | Virginia | 60
—Saskatchewan | 75 | Missouri | 65 | Washington | 68
—Yukon | 69 | Montana | 72 | West Virginia | 64
Colorado | 66 | Nebraska | 66 | Wisconsin | 66
Connecticut | 62 | Nevada | 67 | Wyoming | 68
|  | New Hampshire | 66
Between ROMANIA and
Alabama | 68 | Delaware | 66 | New Jersey | 68
Alaska | 69 | District of Columbia | 66 | New Mexico | 70
Arizona | 72 | Florida | 67 | New York | 68
Arkansas | 68 | Georgia | 67 | North Carolina | 68
California | 73 | Idaho | 72 | North Dakota | 74
Canada |  | Illinois | 69 | Ohio | 67
—Alberta | 80 | Indiana | 68 | Oklahoma | 71
—British Columbia | 78 | Iowa | 72 | Oregon | 74
—Labrador | 85 | Kansas | 70 | Pennsylvania | 69
—Manitoba | 77 | Kentucky | 66 | Rhode Island | 68
—New Brunswick | 73 | Louisiana | 69 | South Carolina | 64
—Newfoundland | 80 | Maine | 70 | South Dakota | 74
—Northwest Terr | 79 | Maryland | 66 | Tennessee | 068
—Nova Scotia | 75 | Massachusetts | 67 | Texas | 71
—Ontario | 74 | Michigan | 71 | Utah | 75
—Pr. Edward Isl | 76 | Minnesota | 72 | Vermont | 69
—Quebec | 73 | Mississippi | 68 | Virginia | 67
—Saskatchewan | 78 | Missouri | 71 | Washington | 73
—Yukon | 74 | Montana | 75 | West Virginia | 66
Colorado | 71 | Nebraska | 72 | Wisconsin | 69
Connecticut | 68 | Nevada | 74 | Wyoming | 75
|  | New Hampshire | 69
Between RUSSIA and
Alabama | 65 | Delaware | 59 | New Jersey | 61
Alaska | 64 | District of Columbia | 59 | New Mexico | 67
Arizona | 68 | Florida | 61 | New York | 61
Arkansas | 62 | Georgia | 60 | North Carolina | 60
California | 66 | Idaho | 68 | North Dakota | 72
Canada |  | Illinois | 62 | Ohio | 60
—Alberta | 77 | Indiana | 61 | Oklahoma | 66
—British Columbia | 71 | Iowa | 70 | Oregon | 67
—Labrador | 77 | Kansas | 67 | Pennsylvania | 60
—Manitoba | 75 | Kentucky | 61 | Rhode Island | 61
—New Brunswick | 65 | Louisiana | 64 | South Carolina | 60
—Newfoundland | 72 | Maine | 62 | South Dakota | 72
—Northwest Terr | 74 | Maryland | 59 | Tennessee | 62
—Nova Scotia | 67 | Massachusetts | 59 | Texas | 66
—Ontario | 68 | Michigan | 65 | Utah | 69
—Pr. Edward Isl | 68 | Minnesota | 65 | Vermont | 62
—Quebec | 66 | Mississippi | 65 | Virginia | 60
—Saskatchewan | 75 | Missouri | 67 | Washington | 66
—Yukon | 69 | Montana | 72 | West Virginia | 59
Colorado | 67 | Nebraska | 69 | Wisconsin | 63
Connecticut | 61 | Nevada | 66 | Wyoming | 72
|  | New Hampshire | 62
Between SAIPAN and
Alabama | 78 | Delaware | 77 | New Jersey | 79
Alaska | 52 | District of Columbia | 77 | New Mexico | 79
Arizona | 72 | Florida | 79 | New York | 79
Arkansas | 84 | Georgia | 80 | North Carolina | 82
California | 72 | Idaho | 67 | North Dakota | 79
Canada |  | Illinois | 80 | Ohio | 78
—Alberta | 78 | Indiana | 79 | Oklahoma | 78
—British Columbia | 70 | Iowa | 84 | Oregon | 66
—Labrador | 95 | Kansas | 79 | Pennsylvania | 78
—Manitoba | 82 | Kentucky | 79 | Rhode Island | 79
—New Brunswick | 83 | Louisiana | 77 | South Carolina | 80
—Newfoundland | 90 | Maine | 80 | South Dakota | 79
—Northwest Terr | 62 | Maryland | 77 | Tennessee | 84
—Nova Scotia | 85 | Massachusetts | 77 | Texas | 77
—Ontario | 86 | Michigan | 83 | Utah | 73
—Pr. Edward Isl | 86 | Minnesota | 84 | Vermont | 80
—Quebec | 84 | Mississippi | 78 | Virginia | 78
—Saskatchewan | 76 | Missouri | 80 | Washington | 65
—Yukon | 57 | Montana | 73 | West Virginia | 77
Colorado | 76 | Nebraska | 81 | Wisconsin | 81
Connecticut | 79 | Nevada | 72 | Wyoming | 77
|  | New Hampshire | 80
Between SAINT LUCIA and
Alabama | 44 | Delaware | 45 | New Jersey | 48
Alaska | 48 | District of Columbia | 45 | New Mexico | 47
Arizona | 45 | Florida | 40 | New York | 48
Arkansas | 46 | Georgia | 42 | North Carolina | 42
California | 51 | Idaho | 52 | North Dakota | 52
Canada |  | Illinois | 50 | Ohio | 50
—Alberta | 55 | Indiana | 50 | Oklahoma | 47
—British Columbia | 61 | Iowa | 47 | Oregon | 57
—Labrador | 65 | Kansas | 47 | Pennsylvania | 51
—Manitoba | 55 | Kentucky | 45 | Rhode Island | 48
—New Brunswick | 53 | Louisiana | 44 | South Carolina | 44
—Newfoundland | 60 | Maine | 50 | South Dakota | 52
—Northwest Terr | 58 | Maryland | 45 | Tennessee | 46
—Nova Scotia | 55 | Massachusetts | 48 | Texas | 49
—Ontario | 55 | Michigan | 52 | Utah | 52
—Pr. Edward Isl | 56 | Minnesota | 53 | Vermont | 51
—Quebec | 53 | Mississippi | 45 | Virginia | 47
—Saskatchewan | 53 | Missouri | 46 | Washington | 56
—Yukon | 53 | Montana | 50 | West Virginia | 51
Colorado | 49 | Nebraska | 51 | Wisconsin | 52
Connecticut | 48 | Nevada | 48 | Wyoming | 52
|  | New Hampshire | 51
Between SAUDI ARABIA and
Alabama | 62 | Delaware | 61 | New Jersey | 64
Alaska | 65 | District of Columbia | 61 | New Mexico | 70
Arizona | 68 | Florida | 64 | New York | 64
Arkansas | 65 | Georgia | 62 | North Carolina | 63
California | 69 | Idaho | 67 | North Dakota | 67
Canada |  | Illinois | 67 | Ohio | 67
—Alberta | 75 | Indiana | 67 | Oklahoma | 66
—British Columbia | 73 | Iowa | 64 | Oregon | 70
—Labrador | 82 | Kansas | 68 | Pennsylvania | 64
—Manitoba | 70 | Kentucky | 66 | Rhode Island | 64
—New Brunswick | 70 | Louisiana | 63 | South Carolina | 63
—Newfoundland | 77 | Maine | 67 | South Dakota | 66
—Northwest Terr | 75 | Maryland | 61 | Tennessee | 65
—Nova Scotia | 72 | Massachusetts | 64 | Texas | 62
—Ontario | 69 | Michigan | 66 | Utah | 66
—Pr. Edward Isl | 73 | Minnesota | 67 | Vermont | 68
—Quebec | 69 | Mississippi | 63 | Virginia | 61
—Saskatchewan | 73 | Missouri | 67 | Washington | 68
—Yukon | 70 | Montana | 70 | West Virginia | 66
Colorado | 66 | Nebraska | 66 | Wisconsin | 69
Connecticut | 64 | Nevada | 68 | Wyoming | 69
|  | New Hampshire | 68
Between SCOTLAND and
Alabama | 65 | Delaware | 60 | New Jersey | 62
Alaska | 66 | District of Columbia | 60 | New Mexico | 67
Arizona | 68 | Florida | 61 | New York | 62
Arkansas | 67 | Georgia | 63 | North Carolina | 63
California | 74 | Idaho | 72 | North Dakota | 72
Canada |  | Illinois | 63 | Ohio | 61
—Alberta | 87 | Indiana | 62 | Oklahoma | 66
—British Columbia | 78 | Iowa | 71 | Oregon | 75
—Labrador | 79 | Kansas | 67 | Pennsylvania | 61
—Manitoba | 75 | Kentucky | 62 | Rhode Island | 61
—New Brunswick | 67 | Louisiana | 64 | South Carolina | 61
—Newfoundland | 74 | Maine | 63 | South Dakota | 72
—Northwest Terr | 75 | Maryland | 60 | Tennessee | 65
—Nova Scotia | 69 | Massachusetts | 60 | Texas | 66
—Ontario | 70 | Michigan | 66 | Utah | 69
—Pr. Edward Isl | 70 | Minnesota | 66 | Vermont | 63
—Quebec | 68 | Mississippi | 65 | Virginia | 61
—Saskatchewan | 85 | Missouri | 67 | Washington | 74
—Yukon | 70 | Montana | 82 | West Virginia | 60
Colorado | 67 | Nebraska | 69 | Wisconsin | 64
Connecticut | 62 | Nevada | 75 | Wyoming | 72
|  | New Hampshire | 62
Between SENEGAL and
Alabama | 64 | Delaware | 61 | New Jersey | 69
Alaska | 71 | District of Columbia | 61 | New Mexico | 76
Arizona | 74 | Florida | 69 | New York | 69
Arkansas | 71 | Georgia | 68 | North Carolina | 69
California | 75 | Idaho | 75 | North Dakota | 75
—Canada |  | Illinois | 73 | Ohio | 73
—Alberta | 84 | Indiana | 73 | Oklahoma | 72
—British Columbia | 81 | Iowa | 74 | Oregon | 78
—Labrador | 87 | Kansas | 74 | Pennsylvania | 70
—Manitoba | 78 | Kentucky | 71 | Rhode Island | 69
—New Brunswick | 75 | Louisiana | 64 | South Carolina | 69
—Newfoundland | 82 | Maine | 72 | South Dakota | 74
—Northwest Terr | 81 | Maryland | 68 | Tennessee | 71
—Nova Scotia | 77 | Massachusetts | 72 | Texas | 70
—Ontario | 77 | Michigan | 74 | Utah | 74
—Pr. Edward Isl | 78 | Minnesota | 75 | Vermont | 70
—Quebec | 74 | Mississippi | 64 | Virginia | 67
—Saskatchewan | 82 | Missouri | 70 | Washington | 76
—Yukon | 76 | Montana | 79 | West Virginia | 66
Colorado | 74 | Nebraska | 74 | Wisconsin | 75
Connecticut | 69 | Nevada | 72 | Wyoming | 75
|  | New Hampshire | 70
Between SIERRA LEONE and
Alabama | 64 | Delaware | 61 | New Jersey | 69
Alaska | 71 | District of Columbia | 61 | New Mexico | 76
Arizona | 74 | Florida | 69 | New York | 69
Arkansas | 71 | Georgia | 68 | North Carolina | 69
California | 75 | Idaho | 75 | North Dakota | 75
Canada |  | Illinois | 73 | Ohio | 73
—Alberta | 84 | Indiana | 73 | Oklahoma | 72
—British Columbia | 81 | Iowa | 74 | Oregon | 78
—Labrador | 87 | Kansas | 74 | Pennsylvania | 70
—Manitoba | 78 | Kentucky | 71 | Rhode Island | 69
—New Brunswick | 75 | Louisiana | 64 | South Carolina | 69
—Newfoundland | 82 | Maine | 72 | South Dakota | 74
—Northwest Terr | 81 | Maryland | 68 | Tennessee | 71
—Nova Scotia | 77 | Massachusetts | 72 | Texas | 70
—Ontario | 77 | Michigan | 74 | Utah | 74
—Pr. Edward Isl | 78 | Minnesota | 75 | Vermont | 70
—Quebec | 74 | Mississippi | 64 | Virginia | 67
—Saskatchewan | 82 | Missouri | 70 | Washington | 76
—Yukon | 76 | Montana | 79 | West Virginia | 66
Colorado | 74 | Nebraska | 74 | Wisconsin | 75
Connecticut | 69 | Nevada | 72 | Wyoming | 75
|  | New Hampshire | 70
Between SINGAPORE and
Alabama | 70 | Delaware | 71 | New Jersey | 73
Alaska | 45 | District of Columbia | 71 | New Mexico | 69
Arizona | 66 | Florida | 72 | New York | 73
Arkansas | 71 | Georgia | 72 | North Carolina | 73
California | 64 | Idaho | 66 | North Dakota | 72
Canada |  | Illinois | 72 | Ohio | 71
—Alberta | 73 | Indiana | 72 | Oklahoma | 71
—British Columbia | 68 | Iowa | 74 | Oregon | 63
—Labrador | 89 | Kansas | 72 | Pennsylvania | 71
—Manitoba | 75 | Kentucky | 72 | Rhode Island | 73
—New Brunswick | 77 | Louisiana | 68 | South Carolina | 72
—Newfoundland | 84 | Maine | 74 | South Dakota | 72
—Northwest Terr | 55 | Maryland | 70 | Tennessee | 71
—Nova Scotia | 79 | Massachusetts | 72 | Texas | 71
—Ontario | 77 | Michigan | 74 | Utah | 67
—Pr. Edward Isl | 80 | Minnesota | 75 | Vermont | 72
—Quebec | 78 | Mississippi | 72 | Virginia | 72
—Saskatchewan | 71 | Missouri | 73 | Washington | 63
—Yukon | 50 | Montana | 68 | West Virginia | 70
Colorado | 68 | Nebraska | 73 | Wisconsin | 73
Connecticut | 73 | Nevada | 66 | Wyoming | 71
|  | New Hampshire | 72
Between SLOVENIA and
Alabama | 65 | Delaware | 59 | New Jersey | 61
Alaska | 64 | District of Columbia | 59 | New Mexico | 67
Arizona | 68 | Florida | 61 | New York | 61
Arkansas | 62 | Georgia | 60 | North Carolina | 60
California | 66 | Idaho | 68 | North Dakota | 72
Canada |  | Illinois | 62 | Ohio | 60
—Alberta | 77 | Indiana | 61 | Oklahoma | 66
—British Columbia | 71 | Iowa | 70 | Oregon | 67
—Labrador | 77 | Kansas | 67 | Pennsylvania | 60
—Manitoba | 75 | Kentucky | 61 | Rhode Island | 61
—New Brunswick | 65 | Louisiana | 64 | South Carolina | 60
—Newfoundland | 72 | Maine | 62 | South Dakota | 72
—Northwest Terr | 74 | Maryland | 59 | Tennessee | 62
—Nova Scotia | 67 | Massachusetts | 59 | Texas | 66
—Ontario | 68 | Michigan | 65 | Utah | 69
—Pr. Edward Isl | 68 | Minnesota | 65 | Vermont | 62
—Quebec | 66 | Mississippi | 65 | Virginia | 60
—Saskatchewan | 75 | Missouri | 67 | Washington | 66
—Yukon | 69 | Montana | 72 | West Virginia | 59
Colorado | 67 | Nebraska | 69 | Wisconsin | 63
Connecticut | 61 | Nevada | 66 | Wyoming | 72
|  | New Hampshire | 62
Between SOLOMON ISLANDS and
2Alabama | 73 | Delaware | 74 | New Jersey | 78
Alaska | 49 | District of Columbia | 73 | New Mexico | 73
2Arizona | 69 | Florida | 78 | New York | 78
Arkansas | 77 | Georgia | 75 | North Carolina | 77
California | 57 | Idaho | 70 | North Dakota | 76
Canada |  | Illinois | 76 | Ohio | 75
—Alberta | 75 | Indiana | 75 | Oklahoma | 75
—British Columbia | 71 | Iowa | 70 | Oregon | 67
—Labrador | 93 | Kansas | 75 | Pennsylvania | 77
—Manitoba | 79 | Kentucky | 75 | Rhode Island | 78
—New Brunswick | 81 | Louisiana | 73 | South Carolina | 76
—Newfoundland | 88 | Maine | 78 | South Dakota | 76
—Northwest Terr | 59 | Maryland | 73 | Tennessee | 77
—Nova Scotia | 83 | Massachusetts | 74 | Texas | 76
—Ontario | 79 | Michigan | 76 | Utah | 72
—Pr. Edward Isl | 84 | Minnesota | 77 | Vermont | 78
—Quebec | 83 | Mississippi | 75 | Virginia | 75
—Saskatchewan | 73 | Missouri | 76 | Washington | 66
—Yukon | 54 | Montana | 70 | West Virginia | 77
Colorado | 71 | Nebraska | 77 | Wisconsin | 77
Connecticut | 78 | Nevada | 70 | Wyoming | 75
|  | New Hampshire | 78
Between SOUTH AFRICA and
Alabama | 64 | Delaware | 61 | New Jersey | 69
Alaska | 71 | District of Columbia | 61 | New Mexico | 76
Arizona | 74 | Florida | 69 | New York | 69
Arkansas | 71 | Georgia | 68 | North Carolina | 69
California | 75 | Idaho | 75 | North Dakota | 75
Canada |  | Illinois | 73 | Ohio | 73
—Alberta | 84 | Indiana | 73 | Oklahoma | 72
—British Columbia | 81 | Iowa | 74 | Oregon | 78
—Labrador | 87 | Kansas | 74 | Pennsylvania | 70
—Manitoba | 78 | Kentucky | 71 | Rhode Island | 69
—New Brunswick | 75 | Louisiana | 64 | South Carolina | 69
—Newfoundland | 82 | Maine | 72 | South Dakota | 74
—Northwest Terr | 81 | Maryland | 68 | Tennessee | 71
—Nova Scotia | 77 | Massachusetts | 72 | Texas | 70
—Ontario | 77 | Michigan | 74 | Utah | 74
—Pr. Edward Isl | 78 | Minnesota | 75 | Vermont | 70
—Quebec | 74 | Mississippi | 64 | Virginia | 67
—Saskatchewan | 82 | Missouri | 70 | Washington | 76
—Yukon | 76 | Montana | 79 | West Virginia | 66
Colorado | 74 | Nebraska | 74 | Wisconsin | 75
Connecticut | 69 | Nevada | 72 | Wyoming | 75
|  | New Hampshire | 70
Between SPAIN and
Alabama | 60 | Delaware | 59 | New Jersey | 61
Alaska | 62 | District of Columbia | 59 | New Mexico | 64
Arizona | 65 | Florida | 61 | New York | 61
Arkansas | 61 | Georgia | 60 | North Carolina | 59
California | 66 | Idaho | 63 | North Dakota | 69
Canada |  | Illinois | 62 | Ohio | 60
—Alberta | 74 | Indiana | 61 | Oklahoma | 63
—British Columbia | 72 | Iowa | 67 | Oregon | 71
—Labrador | 77 | Kansas | 64 | Pennsylvania | 60
—Manitoba | 72 | Kentucky | 61 | Rhode Island | 61
—New Brunswick | 65 | Louisiana | 59 | South Carolina | 59
—Newfoundland | 72 | Maine | 62 | South Dakota | 69
—Northwest Terr | 72 | Maryland | 59 | Tennessee | 61
—Nova Scotia | 67 | Massachusetts | 59 | Texas | 63
—Ontario | 68 | Michigan | 65 | Utah | 66
—Pr. Edward Isl | 68 | Minnesota | 69 | Vermont | 62
—Quebec | 66 | Mississippi | 60 | Virginia | 60
—Saskatchewan | 72 | Missouri | 62 | Washington | 67
—Yukon | 67 | Montana | 69 | West Virginia | 59
Colorado | 64 | Nebraska | 66 | Wisconsin | 63
Connecticut | 61 | Nevada | 67 | Wyoming | 69
|  | New Hampshire | 62
Between SRI LANKA and
Alabama | 75 | Delaware | 75 | New Jersey | 77
Alaska | 51 | District of Columbia | 74 | New Mexico | 74
Arizona | 72 | Florida | 77 | New York | 77
Arkansas | 76 | Georgia | 77 | North Carolina | 76
California | 70 | Idaho | 74 | North Dakota | 77
Canada |  | Illinois | 77 | Ohio | 78
—Alberta | 80 | Indiana | 77 | Oklahoma | 76
—British Columbia | 76 | Iowa | 80 | Oregon | 74
—Labrador | 95 | Kansas | 77 | Pennsylvania | 77
—Manitoba | 80 | Kentucky | 78 | Rhode Island | 77
—New Brunswick | 83 | Louisiana | 74 | South Carolina | 77
—Newfoundland | 90 | Maine | 80 | South Dakota | 77
—Northwest Terr | 61 | Maryland | 76 | Tennessee | 76
—Nova Scotia | 85 | Massachusetts | 77 | Texas | 75
—Ontario | 83 | Michigan | 80 | Utah | 74
—Pr. Edward Isl | 86 | Minnesota | 81 | Vermont | 79
—Quebec | 82 | Mississippi | 78 | Virginia | 76
—Saskatchewan | 78 | Missouri | 78 | Washington | 71
—Yukon | 56 | Montana | 75 | West Virginia | 76
Colorado | 74 | Nebraska | 78 | Wisconsin | 78
Connecticut | 77 | Nevada | 72 | Wyoming | 76
|  | New Hampshire | 79
Between SUDAN and
Alabama | 61 | Delaware | 60 | New Jersey | 61
Alaska | 65 | District of Columbia | 60 | New Mexico | 67
Arizona | 69 | Florida | 62 | New York | 61
Arkansas | 65 | Georgia | 61 | North Carolina | 63
California | 72 | Idaho | 69 | North Dakota | 67
Canada |  | Illinois | 67 | Ohio | 67
—Alberta | 76 | Indiana | 69 | Oklahoma | 66
—British Columbia | 73 | Iowa | 70 | Oregon | 69
—Labrador | 86 | Kansas | 70 | Pennsylvania | 61
—Manitoba | 70 | Kentucky | 68 | Rhode Island | 61
—New Brunswick | 74 | Louisiana | 63 | South Carolina | 63
—Newfoundland | 81 | Maine | 71 | South Dakota | 67
—Northwest Terr | 75 | Maryland | 62 | Tennessee | 65
—Nova Scotia | 76 | Massachusetts | 68 | Texas | 62
—Ontario | 70 | Michigan | 67 | Utah | 69
—Pr. Edward Isl | 77 | Minnesota | 68 | Vermont | 66
—Quebec | 66 | Mississippi | 63 | Virginia | 59
—Saskatchewan | 74 | Missouri | 68 | Washington | 68
—Yukon | 70 | Montana | 71 | West Virginia | 65
Colorado | 68 | Nebraska | 66 | Wisconsin | 69
Connecticut | 61 | Nevada | 68 | Wyoming | 67
|  | New Hampshire | 66
Between SURINAME and
Alabama | 52 | Delaware | 61 | New Jersey | 64
Alaska | 61 | District of Columbia | 61 | New Mexico | 59
Arizona | 59 | Florida | 57 | New York | 64
Arkansas | 58 | Georgia | 57 | North Carolina | 60
California | 64 | Idaho | 64 | North Dakota | 64
Canada |  | Illinois | 63 | Ohio | 62
—Alberta | 69 | Indiana | 62 | Oklahoma | 60
—British Columbia | 69 | Iowa | 60 | Oregon | 63
—Labrador | 79 | Kansas | 61 | Pennsylvania | 63
—Manitoba | 67 | Kentucky | 61 | Rhode Island | 64
—New Brunswick | 67 | Louisiana | 56 | South Carolina | 58
—Newfoundland | 74 | Maine | 64 | South Dakota | 64
—Northwest Terr | 71 | Maryland | 61 | Tennessee | 58
—Nova Scotia | 69 | Massachusetts | 61 | Texas | 60
—Ontario | 67 | Michigan | 64 | Utah | 62
—Pr. Edward Isl | 70 | Minnesota | 64 | Vermont | 64
—Quebec | 69 | Mississippi | 58 | Virginia | 61
—Saskatchewan | 67 | Missouri | 60 | Washington | 64
—Yukon | 66 | Montana | 64 | West Virginia | 61
Colorado | 62 | Nebraska | 62 | Wisconsin | 63
Connecticut | 64 | Nevada | 61 | Wyoming | 64
|  | New Hampshire | 64
Between SWEDEN and
Alabama | 61 | Delaware | 55 | New Jersey | 58
Alaska | 60 | District of Columbia | 55 | New Mexico | 64
Arizona | 64 | Florida | 57 | New York | 58
Arkansas | 61 | Georgia | 58 | North Carolina | 58
California | 65 | Idaho | 64 | North Dakota | 65
Canada |  | Illinois | 59 | Ohio | 59
—Alberta | 71 | Indiana | 59 | Oklahoma | 63
—British Columbia | 70 | Iowa | 64 | Oregon | 65
—Labrador | 75 | Kansas | 62 | Pennsylvania | 57
—Manitoba | 68 | Kentucky | 60 | Rhode Island | 58
—New Brunswick | 63 | Louisiana | 61 | South Carolina | 58
—Newfoundland | 70 | Maine | 60 | South Dakota | 65
—Northwest Terr | 70 | Maryland | 55 | Tennessee | 61
—Nova Scotia | 65 | Massachusetts | 55 | Texas | 63
—Ontario | 63 | Michigan | 60 | Utah | 66
—Pr. Edward Isl | 66 | Minnesota | 61 | Vermont | 59
—Quebec | 63 | Mississippi | 61 | Virginia | 56
—Saskatchewan | 69 | Missouri | 63 | Washington | 65
—Yukon | 65 | Montana | 66 | West Virginia | 58
Colorado | 63 | Nebraska | 63 | Wisconsin | 61
Connecticut | 58 | Nevada | 64 | Wyoming | 67
|  | New Hampshire | 59
Between SWITZERLAND and
Alabama | 67 | Delaware | 63 | New Jersey | 63
Alaska | 64 | District of Columbia | 62 | New Mexico | 69
Arizona | 68 | Florida | 64 | New York | 62
Arkansas | 66 | Georgia | 63 | North Carolina | 62
California | 69 | Idaho | 67 | North Dakota | 72
Canada |  | Illinois | 64 | Ohio | 64
—Alberta | 77 | Indiana | 64 | Oklahoma | 68
—British Columbia | 71 | Iowa | 68 | Oregon | 71
—Labrador | 77 | Kansas | 67 | Pennsylvania | 63
—Manitoba | 75 | Kentucky | 64 | Rhode Island | 63
—New Brunswick | 65 | Louisiana | 65 | South Carolina | 62
—Newfoundland | 72 | Maine | 65 | South Dakota | 71
—Northwest Terr | 74 | Maryland | 62 | Tennessee | 66
—Nova Scotia | 67 | Massachusetts | 63 | Texas | 67
—Ontario | 68 | Michigan | 66 | Utah | 72
—Pr. Edward Isl | 68 | Minnesota | 66 | Vermont | 65
—Quebec | 66 | Mississippi | 66 | Virginia | 63
—Saskatchewan | 75 | Missouri | 67 | Washington | 67
—Yukon | 69 | Montana | 72 | West Virginia | 64
Colorado | 68 | Nebraska | 69 | Wisconsin | 67
Connecticut | 63 | Nevada | 69 | Wyoming | 73
|  | New Hampshire | 63
Between SYRIA and
Alabama | 62 | Delaware | 61 | New Jersey | 64
Alaska | 65 | District of Columbia | 61 | New Mexico | 70
Arizona | 68 | Florida | 64 | New York | 64
Arkansas | 65 | Georgia | 62 | North Carolina | 63
California | 69 | Idaho | 67 | North Dakota | 67
Canada |  | Illinois | 67 | Ohio | 67
—Alberta | 75 | Indiana | 67 | Oklahoma | 66
—British Columbia | 73 | Iowa | 64 | Oregon | 70
—Labrador | 82 | Kansas | 68 | Pennsylvania | 64
—Manitoba | 70 | Kentucky | 66 | Rhode Island | 64
—New Brunswick | 70 | Louisiana | 63 | South Carolina | 63
—Newfoundland | 77 | Maine | 67 | South Dakota | 66
—Northwest Terr | 75 | Maryland | 61 | Tennessee | 65
—Nova Scotia | 72 | Massachusetts | 64 | Texas | 62
—Ontario | 69 | Michigan | 66 | Utah | 66
—Pr. Edward Isl | 73 | Minnesota | 67 | Vermont | 68
—Quebec | 69 | Mississippi | 63 | Virginia | 61
—Saskatchewan | 73 | Missouri | 67 | Washington | 68
—Yukon | 70 | Montana | 70 | West Virginia | 66
Colorado | 66 | Nebraska | 66 | Wisconsin | 69
Connecticut | 64 | Nevada | 68 | Wyoming | 69
|  | New Hampshire | 68
Between TAHITI and
Alabama | 49 | Delaware | 50 | New Jersey | 50
Alaska | 49 | District of Columbia | 50 | New Mexico | 36
Arizona | 36 | Florida | 58 | New York | 50
Arkansas | 49 | Georgia | 51 | North Carolina | 51
California | 34 | Idaho | 40 | North Dakota | 40
Canada |  | Illinois | 52 | Ohio | 52
—Alberta | 45 | Indiana | 52 | Oklahoma | 41
—British Columbia | 41 | Iowa | 41 | Oregon | 36
—Labrador | 68 | Kansas | 41 | Pennsylvania | 50
—Manitoba | 43 | Kentucky | 52 | Rhode Island | 50
—New Brunswick | 56 | Louisiana | 49 | South Carolina | 51
—Newfoundland | 63 | Maine | 53 | South Dakota | 40
—Northwest Terr | 59 | Maryland | 50 | Tennessee | 49
—Nova Scotia | 58 | Massachusetts | 50 | Texas | 41
—Ontario | 49 | Michigan | 46 | Utah | 36
—Pr. Edward Isl | 59 | Minnesota | 46 | Vermont | 53
—Quebec | 55 | Mississippi | 49 | Virginia | 50
—Saskatchewan | 43 | Missouri | 41 | Washington | 36
—Yukon | 54 | Montana | 40 | West Virginia | 50
Colorado | 37 | Nebraska | 41 | Wisconsin | 46
Connecticut | 50 | Nevada | 36 | Wyoming | 40
|  | New Hampshire | 53
Between TAIWAN and
Alabama | 65 | Delaware | 66 | New Jersey | 68
Alaska | 41 | District of Columbia | 64 | New Mexico | 61
Arizona | 60 | Florida | 69 | New York | 68
Arkansas | 68 | Georgia | 66 | North Carolina | 66
California | 59 | Idaho | 64 | North Dakota | 63
Canada |  | Illinois | 67 | Ohio | 66
—Alberta | 69 | Indiana | 67 | Oklahoma | 65
—British Columbia | 64 | Iowa | 64 | Oregon | 62
—Labrador | 84 | Kansas | 67 | Pennsylvania | 69
—Manitoba | 66 | Kentucky | 68 | Rhode Island | 68
—New Brunswick | 72 | Louisiana | 65 | South Carolina | 69
—Newfoundland | 79 | Maine | 69 | South Dakota | 65
—Northwest Terr | 51 | Maryland | 64 | Tennessee | 68
—Nova Scotia | 74 | Massachusetts | 68 | Texas | 67
—Ontario | 72 | Michigan | 69 | Utah | 63
—Pr. Edward Isl | 75 | Minnesota | 68 | Vermont | 70
—Quebec | 73 | Mississippi | 67 | Virginia | 64
—Saskatchewan | 67 | Missouri | 65 | Washington | 59
—Yukon | 46 | Montana | 64 | West Virginia | 67
Colorado | 63 | Nebraska | 67 | Wisconsin | 68
Connecticut | 68 | Nevada | 59 | Wyoming | 66
|  | New Hampshire | 70
Between TANZANIA and
Alabama | 62 | Delaware | 61 | New Jersey | 64
Alaska | 65 | District of Columbia | 61 | New Mexico | 70
Arizona | 68 | Florida | 64 | New York | 64
Arkansas | 65 | Georgia | 62 | North Carolina | 63
California | 69 | Idaho | 67 | North Dakota | 67
Canada |  | Illinois | 67 | Ohio | 67
—Alberta | 75 | Indiana | 67 | Oklahoma | 66
—British Columbia | 73 | Iowa | 64 | Oregon | 70
—Labrador | 82 | Kansas | 68 | Pennsylvania | 64
—Manitoba | 70 | Kentucky | 66 | Rhode Island | 64
—New Brunswick | 70 | Louisiana | 63 | South Carolina | 63
—Newfoundland | 77 | Maine | 67 | South Dakota | 66
—Northwest Terr | 75 | Maryland | 61 | Tennessee | 65
—Nova Scotia | 72 | Massachusetts | 64 | Texas | 62
—Ontario | 69 | Michigan | 66 | Utah | 66
—Pr. Edward Isl | 73 | Minnesota | 67 | Vermont | 68
—Quebec | 69 | Mississippi | 63 | Virginia | 61
—Saskatchewan | 73 | Missouri | 67 | Washington | 68
Yukon | 70 | Montana | 70 | West Virginia | 6
Colorado | 66 | Nebraska | 66 | Wisconsin | 69
Connecticut | 64 | Nevada | 68 | Wyoming | 69
|  | New Hampshire | 68
Between THAILAND and
Alabama | 73 | Delaware | 74 | New Jersey | 75
Alaska | 48 | District of Columbia | 73 | New Mexico | 73
Arizona | 69 | Florida | 75 | New York | 75
Arkansas | 75 | Georgia | 75 | North Carolina | 76
California | 68 | Idaho | 68 | North Dakota | 75
Canada |  | Illinois | 75 | Ohio | 75
—Alberta | 77 | Indiana | 75 | Oklahoma | 74
—British Columbia | 71 | Iowa | 76 | Oregon | 70
—Labrador | 91 | Kansas | 75 | Pennsylvania | 74
—Manitoba | 78 | Kentucky | 74 | Rhode Island | 75
—New Brunswick | 79 | Louisiana | 71 | South Carolina | 75
—Newfoundland | 86 | Maine | 76 | South Dakota | 75
—Northwest Terr | 58 | Maryland | 72 | Tennessee | 75
—Nova Scotia | 81 | Massachusetts | 73 | Texas | 72
—Ontario | 80 | Michigan | 77 | Utah | 71
—Pr. Edward Isl | 82 | Minnesota | 78 | Vermont | 75
—Quebec | 80 | Mississippi | 75 | Virginia | 74
—Saskatchewan | 75 | Missouri | 76 | Washington | 66
—Yukon | 53 | Montana | 72 | West Virginia | 72
Colorado | 70 | Nebraska | 75 | Wisconsin | 76
Connecticut | 75 | Nevada | 69 | Wyoming | 71
|  | New Hampshire | 75
Between TRINIDAD and
Alabama | 52 | Delaware | 61 | New Jersey | 64
Alaska | 61 | District of Columbia | 61 | New Mexico | 59
Arizona | 59 | Florida | 57 | New York | 64
Arkansas | 58 | Georgia | 57 | North Carolina | 60
California | 64 | Idaho | 64 | North Dakota | 64
Canada |  | Illinois | 63 | Ohio | 62
—Alberta | 69 | Indiana | 62 | Oklahoma | 60
—British Columbia | 69 | Iowa | 60 | Oregon | 63
—Labrador | 79 | Kansas | 61 | Pennsylvania | 63
—Manitoba | 67 | Kentucky | 61 | Rhode Island | 64
—New Brunswick | 67 | Louisiana | 56 | South Carolina | 58
—Newfoundland | 74 | Maine | 64 | South Dakota | 64
—Northwest Terr | 71 | Maryland | 61 | Tennessee | 58
—Nova Scotia | 69 | Massachusetts | 61 | Texas | 60
—Ontario | 67 | Michigan | 64 | Utah | 62
—Pr. Edward Isl | 70 | Minnesota | 64 | Vermont | 64
—Quebec | 69 | Mississippi | 58 | Virginia | 61
—Saskatchewan | 67 | Missouri | 60 | Washington | 64
—Yukon | 66 | Montana | 64 | West Virginia | 61
Colorado | 62 | Nebraska | 62 | Wisconsin | 63
Connecticut | 64 | Nevada | 61 | Wyoming | 64
|  | New Hampshire | 64
Between TUNISIA and
Alabama | 60 | Delaware | 56 | New Jersey | 58
Alaska | 60 | District of Columbia | 56 | New Mexico | 63
Arizona | 64 | Florida | 55 | New York | 58
Arkansas | 55 | Georgia | 53 | North Carolina | 56
California | 62 | Idaho | 68 | North Dakota | 68
Canada |  | Illinois | 59 | Ohio | 57
—Alberta | 73 | Indiana | 58 | Oklahoma | 62
—British Columbia | 69 | Iowa | 66 | Oregon | 69
—Labrador | 74 | Kansas | 63 | Pennsylvania | 57
—Manitoba | 71 | Kentucky | 58 | Rhode Island | 58
—New Brunswick | 62 | Louisiana | 59 | South Carolina | 53
—Newfoundland | 69 | Maine | 59 | South Dakota | 68
—Northwest Terr | 70 | Maryland | 56 | Tennessee | 55
—Nova Scotia | 64 | Massachusetts | 56 | Texas | 62
—Ontario | 65 | Michigan | 62 | Utah | 65
—Pr. Edward Isl | 65 | Minnesota | 68 | Vermont | 59
—Quebec | 63 | Mississippi | 60 | Virginia | 57
—Saskatchewan | 71 | Missouri | 62 | Washington | 64
—Yukon | 65 | Montana | 68 | West Virginia | 56
Colorado | 63 | Nebraska | 65 | Wisconsin | 60
Connecticut | 58 | Nevada | 66 | Wyoming | 68
|  | New Hampshire | 59
Between TURKEY and
Alabama | 73 | Delaware | 76 | New Jersey | 78
Alaska | 79 | District of Columbia | 76 | New Mexico | 81
Arizona | 81 | Florida | 75 | New York | 78
Arkansas | 75 | Georgia | 73 | North Carolina | 76
California | 82 | Idaho | 86 | North Dakota | 84
Canada |  | Illinois | 79 | Ohio | 77
—Alberta | 91 | Indiana | 78 | Oklahoma | 79
—British Columbia | 91 | Iowa | 80 | Oregon | 86
—Labrador | 94 | Kansas | 79 | Pennsylvania | 77
—Manitoba | 87 | Kentucky | 78 | Rhode Island | 78
—New Brunswick | 82 | Louisiana | 76 | South Carolina | 73
—Newfoundland | 89 | Maine | 79 | South Dakota | 84
—Northwest Terr | 89 | Maryland | 76 | Tennessee | 75
—Nova Scotia | 84 | Massachusetts | 76 | Texas | 79
—Ontario | 85 | Michigan | 82 | Utah | 85
—Pr. Edward Isl | 85 | Minnesota | 82 | Vermont | 79
—Quebec | 83 | Mississippi | 75 | Virginia | 77
—Saskatchewan | 89 | Missouri | 82 | Washington | 86
—Yukon | 84 | Montana | 86 | West Virginia | 76
Colorado | 81 | Nebraska | 83 | Wisconsin | 80
Connecticut | 78 | Nevada | 86 | Wyoming | 85
|  | New Hampshire | 79
Between UGANDA and
Alabama | 61 | Delaware | 60 | New Jersey | 61
Alaska | 65 | District of Columbia | 60 | New Mexico | 67
Arizona | 69 | Florida | 62 | New York | 61
Arkansas | 65 | Georgia | 61 | North Carolina | 63
California | 72 | Idaho | 69 | North Dakota | 67
Canada |  | Illinois | 67 | Ohio | 67
—Alberta | 76 | Indiana | 69 | Oklahoma | 66
—British Columbia | 73 | Iowa | 70 | Oregon | 69
—Labrador | 86 | Kansas | 70 | Pennsylvania | 61
—Manitoba | 70 | Kentucky | 68 | Rhode Island | 61
—New Brunswick | 74 | Louisiana | 63 | South Carolina | 63
—Newfoundland | 81 | Maine | 71 | South Dakota | 67
—Northwest Terr | 75 | Maryland | 62 | Tennessee | 65
—Nova Scotia | 76 | Massachusetts | 68 | Texas | 62
—Ontario | 70 | Michigan | 67 | Utah | 69
—Pr. Edward Isl | 77 | Minnesota | 68 | Vermont | 66
—Quebec | 66 | Mississippi | 63 | Virginia | 59
—Saskatchewan | 74 | Missouri | 68 | Washington | 68
—Yukon | 70 | Montana | 71 | West Virginia | 65
Colorado | 68 | Nebraska | 66 | Wisconsin | 69
Connecticut | 61 | Nevada | 68 | Wyoming | 67
|  | New Hampshire | 66
Between UKRAINE and
Alabama | 73 | Delaware | 76 | New Jersey | 78
Alaska | 79 | District of Columbia | 76 | New Mexico | 81
Arizona | 81 | Florida | 75 | New York | 78
Arkansas | 75 | Georgia | 73 | North Carolina | 76
California | 82 | Idaho | 86 | North Dakota | 84
Canada |  | Illinois | 79 | Ohio | 77
—Alberta | 91 | Indiana | 78 | Oklahoma | 79
—British Columbia | 91 | Iowa | 80 | Oregon | 86
—Labrador | 94 | Kansas | 79 | Pennsylvania | 77
—Manitoba | 87 | Kentucky | 78 | Rhode Island | 78
—New Brunswick | 82 | Louisiana | 76 | South Carolina | 73
—Newfoundland | 89 | Maine | 79 | South Dakota | 84
—Northwest Terr | 89 | Maryland | 76 | Tennessee | 75
—Nova Scotia | 84 | Massachusetts | 76 | Texas | 79
—Ontario | 85 | Michigan | 82 | Utah | 85
—Pr. Edward Isl | 85 | Minnesota | 82 | Vermont | 79
—Quebec | 83 | Mississippi | 75 | Virginia | 77
—Saskatchewan | 89 | Missouri | 82 | Washington | 86
—Yukon | 84 | Montana | 86 | West Virginia | 76
Colorado | 81 | Nebraska | 83 | Wisconsin | 80
Connecticut | 78 | Nevada | 86 | Wyoming | 85
|  | New Hampshire | 79 |
Between UNITED ARAB DEM. and
Alabama | 63 | Delaware | 62 | New Jersey | 65
Alaska | 67 | District of Columbia | 62 | New Mexico | 72
Arizona | 71 | Florida | 64 | New York | 65
Arkansas | 66 | Georgia | 62 | North Carolina | 66
California | 72 | Idaho | 72 | North Dakota | 68
Canada |  | Illinois | 67 | Ohio | 68
—Alberta | 78 | Indiana | 67 | Oklahoma | 68
—British Columbia | 75 | Iowa | 68 | Oregon | 72
—Labrador | 82 | Kansas | 68 | Pennsylvania | 65
—Manitoba | 71 | Kentucky | 66 | Rhode Island | 65
—New Brunswick | 70 | Louisiana | 64 | South Carolina | 65
—Newfoundland | 77 | Maine | 67 | South Dakota | 71
—Northwest Terr | 77 | Maryland | 62 | Tennessee | 66
—Nova Scotia | 72 | Massachusetts | 65 | Texas | 66
—Ontario | 71 | Michigan | 68 | Utah | 70
—Pr. Edward Isl | 73 | Minnesota | 69 | Vermont | 69
—Quebec | 70 | Mississippi | 64 | Virginia | 63
—Saskatchewan | 76 | Missouri | 68 | Washington | 70
—Yukon | 72 | Montana | 73 | West Virginia | 62
Colorado | 71 | Nebraska | 70 | Wisconsin | 70
Connecticut | 65 | Nevada | 70 | Wyoming | 71
|  | New Hampshire | 69 |
Between UNITED KINGDOM and
Alabama | 61 | Delaware | 57 | New Jersey | 59
Alaska | 61 | District of Columbia | 57 | New Mexico | 63
Arizona | 64 | Florida | 57 | New York | 59
Arkansas | 61 | Georgia | 55 | North Carolina | 59
California | 70 | Idaho | 68 | North Dakota | 68
Canada |  | Illinois | 60 | Ohio | 58
—Alberta | 83 | Indiana | 59 | Oklahoma | 62
—British Columbia | 75 | Iowa | 67 | Oregon | 71
—Labrador | 75 | Kansas | 63 | Pennsylvania | 58
—Manitoba | 71 | Kentucky | 59 | Rhode Island | 59
—New Brunswick | 63 | Louisiana | 60 | South Carolina | 54
—Newfoundland | 70 | Maine | 60 | South Dakota | 68
—Northwest Terr | 71 | Maryland | 57 | Tennessee | 61
—Nova Scotia | 65 | Massachusetts | 57 | Texas | 62
—Ontario | 66 | Michigan | 63 | Utah | 65
—Pr. Edward Isl | 66 | Minnesota | 63 | Vermont | 60
—Quebec | 64 | Mississippi | 61 | Virginia | 58
—Saskatchewan | 81 | Missouri | 63 | Washington | 70
—Yukon | 66 | Montana | 78 | West Virginia | 57
Colorado | 63 | Nebraska | 65 | Wisconsin | 61
Connecticut | 59 | Nevada | 71 | Wyoming | 68
|  | New Hampshire | 60 |
Between URUGUAY and
Alabama | 55 | Delaware | 63 | New Jersey | 63
Alaska | 60 | District of Columbia | 63 | New Mexico | 60
Arizona | 60 | Florida | 58 | New York | 64
Arkansas | 61 | Georgia | 60 | North Carolina | 62
California | 65 | Idaho | 64 | North Dakota | 64
Canada |  | Illinois | 64 | Ohio | 64
—Alberta | 70 | Indiana | 64 | Oklahoma | 63
—British Columbia | 69 | Iowa | 63 | Oregon | 66
—Labrador | 80 | Kansas | 64 | Pennsylvania | 64
—Manitoba | 68 | Kentucky | 64 | Rhode Island | 63
—New Brunswick | 68 | Louisiana | 57 | South Carolina | 60
—Newfoundland | 75 | Maine | 66 | South Dakota | 65
—Northwest Terr | 71 | Maryland | 63 | Tennessee | 61
—Nova Scotia | 70 | Massachusetts | 64 | Texas | 61
—Ontario | 67 | Michigan | 64 | Utah | 66
—Pr. Edward Isl | 71 | Minnesota | 64 | Vermont | 65
—Quebec | 69 | Mississippi | 59 | Virginia | 62
—Saskatchewan | 68 | Missouri | 62 | Washington | 68
—Yukon | 66 | Montana | 65 | West Virginia | 64
Colorado | 66 | Nebraska | 64 | Wisconsin | 67
Connecticut | 63 | Nevada | 61 | Wyoming | 67
|  | New Hampshire | 64
Between VENEZUELA and
Alabama | 52 | Delaware | 61 | New Jersey | 64
Alaska | 61 | District of Columbia | 61 | New Mexico | 59
Arizona | 59 | Florida | 57 | New York | 64
Arkansas | 58 | Georgia | 57 | North Carolina | 60
California | 64 | Idaho | 64 | North Dakota | 64
Canada |  | Illinois | 63 | Ohio | 62
—Alberta | 69 | Indiana | 62 | Oklahoma | 60
—British Columbia | 69 | Iowa | 60 | Oregon | 63
—Labrador | 79 | Kansas | 61 | Pennsylvania | 63
—Manitoba | 67 | Kentucky | 61 | Rhode Island | 64
—New Brunswick | 67 | Louisiana | 56 | South Carolina | 58
—Newfoundland | 74 | Maine | 64 | South Dakota | 64
—Northwest Terr. | 71 | Maryland | 61 | Tennessee | 58
—Nova Scotia | 69 | Massachusetts | 61 | Texas | 60
—Ontario | 67 | Michigan | 64 | Utah | 62
—Pr. Edward Isl. | 70 | Minnesota | 64 | Vermont | 64
—Quebec | 69 | Mississippi | 58 | Virginia | 61
—Saskatchewan | 67 | Missouri | 60 | Washington | 64
—Yukon | 66 | Montana | 64 | West Virginia | 61
Colorado | 62 | Nebraska | 62 | Wisconsin | 63
Connecticut | 64 | Nevada | 61 | Wyoming | 64
|  | New Hampshire | 64
Between VIETNAM and
Alabama | 73 | Delaware | 74 | New Jersey | 75
Alaska | 48 | District of Columbia | 73 | New Mexico | 73
Arizona | 69 | Florida | 75 | New York | 75
Arkansas | 75 | Georgia | 75 | North Carolina | 76
California | 68 | Idaho | 68 | North Dakota | 75
Canada |  | Illinois | 75 | Ohio | 75
—Alberta | 77 | Indiana | 75 | Oklahoma | 74
—British Columbia | 71 | Iowa | 76 | Oregon | 70
—Labrador | 91 | Kansas | 75 | Pennsylvania | 74
—Manitoba | 78 | Kentucky | 74 | Rhode Island | 75
—New Brunswick | 79 | Louisiana | 71 | South Carolina | 75
—Newfoundland | 86 | Maine | 76 | South Dakota | 75
—Northwest Terr. | 58 | Maryland | 72 | Tennessee | 75
—Nova Scotia | 81 | Massachusetts | 73 | Texas | 72
—Ontario | 80 | Michigan | 77 | Utah | 71
—Pr. Edward Isl. | 82 | Minnesota | 78 | Vermont | 75
—Quebec | 80 | Mississippi | 75 | Virginia | 74
—Saskatchewan | 75 | Missouri | 76 | Washington | 66
—Yukon | 53 | Montana | 72 | West Virginia | 72
Colorado | 70 | Nebraska | 75 | Wisconsin | 76
Connecticut | 75 | Nevada | 69 | Wyoming | 71
|  | New Hampshire | 75
Between VIRGIN ISLANDS (St. Croix/St. Thomas) and
Alabama | 42 | Delaware | 40 | New Jersey | 39
Alaska | 48 | District of Columbia | 40 | New Mexico | 46
Arizona | 46 | Florida | 43 | New York | 39
Arkansas | 42 | Georgia | 41 | North Carolina | 41
California | 48 | Idaho | 48 | North Dakota | 48
Canada |  | Illinois | 43 | Ohio | 43
—Alberta | 53 | Indiana | 43 | Oklahoma | 44
—British Columbia | 56 | Iowa | 45 | Oregon | 51
—Labrador | 56 | Kansas | 45 | Pennsylvania | 39
—Manitoba | 51 | Kentucky | 43 | Rhode Island | 39
—New Brunswick | 44 | Louisiana | 42 | South Carolina | 41
—Newfoundland | 51 | Maine | 41 | South Dakota | 48
—Northwest Terr. | 58 | Maryland | 40 | Tennessee | 42
—Nova Scotia | 46 | Massachusetts | 39 | Texas | 44
—Ontario | 48 | Michigan | 45 | Utah | 48
—Pr. Edward Isl. | 47 | Minnesota | 45 | Vermont | 41
—Quebec | 44 | Mississippi | 42 | Virginia | 40
—Saskatchewan | 51 | Missouri | 45 | Washington | 51
—Yukon | 53 | Montana | 48 | West Virginia | 40
Colorado | 47 | Nebraska | 45 | Wisconsin | 45
Connecticut | 39 | Nevada | 48 | Wyoming | 48
|  | New Hampshire | 41
Between VIRGIN ISLANDS (St. John) and
Alabama | 42 | Delaware | 40 | New Jersey | 39
Alaska | 48 | District of Columbia | 40 | New Mexico | 46
Arizona | 46 | Florida | 43 | New York | 39
Arkansas | 42 | Georgia | 41 | North Carolina | 41
California | 48 | Idaho | 48 | North Dakota | 48
Canada |  | Illinois | 43 | Ohio | 43
—Alberta | 53 | Indiana | 43 | Oklahoma | 44
—British Columbia | 56 | Iowa | 45 | Oregon | 51
—Labrador | 56 | Kansas | 45 | Pennsylvania | 39
—Manitoba | 51 | Kentucky | 43 | Rhode Island | 39
—New Brunswick | 44 | Louisiana | 42 | South Carolina | 41
—Newfoundland | 51 | Maine | 41 | South Dakota | 48
—Northwest Terr. | 58 | Maryland | 40 | Tennessee | 42
—Nova Scotia | 46 | Massachusetts | 39 | Texas | 44
—Ontario | 48 | Michigan | 45 | Utah | 48
—Pr. Edward Isl. | 47 | Minnesota | 45 | Vermont | 41
—Quebec | 44 | Mississippi | 42 | Virginia | 40
—Saskatchewan | 51 | Missouri | 45 | Washington | 51
—Yukon | 53 | Montana | 48 | West Virginia | 40
Colorado | 47 | Nebraska | 45 | Wisconsin | 45
Connecticut | 39 | Nevada | 48 | Wyoming | 48
|  | New Hampshire | 41
Between WESTERN SAMOA
Alabama | 49 | Delaware | 50 | New Jersey | 50
Alaska | 49 | District of Columbia | 50 | New Mexico | 36
Arizona | 36 | Florida | 58 | New York | 50
Arkansas | 49 | Georgia | 51 | North Carolina | 51
California | 34 | Idaho | 40 | North Dakota | 40
Canada |  | Illinois | 52 | Ohio | 52
—Alberta | 45 | Indiana | 52 | Oklahoma | 41
—British Columbia | 41 | Iowa | 41 | Oregon | 36
—Labrador | 68 | Kansas | 41 | Pennsylvania | 50
—Manitoba | 43 | Kentucky | 52 | Rhode Island | 50
—New Brunswick | 56 | Louisiana | 49 | South Carolina | 51
—Newfoundland | 63 | Maine | 53 | South Dakota | 40
—Northwest Terr | 59 | Maryland | 50 | Tennessee | 49
—Nova Scotia | 58 | Massachusetts | 50 | Texas | 41
—Ontario | 49 | Michigan | 46 | Utah | 36
—Pr. Edward Isl | 59 | Minnesota | 46 | Vermont | 53
—Quebec | 55 | Mississippi | 49 | Virginia | 50
—Saskatchewan | 43 | Missouri | 41 | Washington | 36
—Yukon | 54 | Montana | 40 | West Virginia | 50
Colorado | 37 | Nebraska | 41 | Wisconsin | 46
Connecticut | 50 | Nevada | 36 | Wyoming | 40
|  | New Hampshire | 53
Between YEMEN and
Alabama | 62 | Delaware | 61 | New Jersey | 64
Alaska | 65 | District of Columbia | 61 | New Mexico | 70
Arizona | 68 | Florida | 64 | New York | 64
Arkansas | 65 | Georgia | 62 | North Carolina | 63
California | 69 | Idaho | 67 | North Dakota | 67
Canada |  | Illinois | 67 | Ohio | 67
—Alberta | 75 | Indiana | 67 | Oklahoma | 66
—British Columbia | 73 | Iowa | 64 | Oregon | 70
—Labrador | 82 | Kansas | 68 | Pennsylvania | 64
—Manitoba | 70 | Kentucky | 66 | Rhode Island | 64
—New Brunswick | 70 | Louisiana | 63 | South Carolina | 63
—Newfoundland | 77 | Maine | 67 | South Dakota | 66
—Northwest Terr | 75 | Maryland | 61 | Tennessee | 65
—Nova Scotia | 72 | Massachusetts | 64 | Texas | 62
—Ontario | 69 | Michigan | 66 | Utah | 66
—Pr. Edward Isl | 73 | Minnesota | 67 | Vermont | 68
—Quebec | 69 | Mississippi | 63 | Virginia | 61
—Saskatchewan | 73 | Missouri | 67 | Washington | 68
—Yukon | 70 | Montana | 70 | West Virginia | 66
Colorado | 66 | Nebraska | 66 | Wisconsin | 69
Connecticut | 64 | Nevada | 68 | Wyoming | 69
|  | New Hampshire | 68
Between YUGOSLAVIA and
Alabama | 68 | Delaware | 66 | New Jersey | 68
Alaska | 69 | District of Columbia | 66 | New Mexico | 70
Arizona | 72 | Florida | 67 | New York | 68
Arkansas | 68 | Georgia | 67 | North Carolina | 68
California | 73 | Idaho | 72 | North Dakota | 74
Canada |  | Illinois | 69 | Ohio | 67
—Alberta | 80 | Indiana | 68 | Oklahoma | 71
—British Columbia | 78 | Iowa | 72 | Oregon | 74
—Labrador | 85 | Kansas | 70 | Pennsylvania | 69
—Manitoba | 77 | Kentucky | 66 | Rhode Island | 68
—New Brunswick | 73 | Louisiana | 69 | South Carolina | 64
—Newfoundland | 80 | Maine | 70 | South Dakota | 74
—Northwest Terr | 79 | Maryland | 66 | Tennessee | 68
—Nova Scotia | 75 | Massachusetts | 67 | Texas | 71
—Ontario | 74 | Michigan | 71 | Utah | 75
—Pr. Edward Isl | 76 | Minnesota | 72 | Vermont | 69
—Quebec | 73 | Mississippi | 68 | Virginia | 67
—Saskatchewan | 78 | Missouri | 71 | Washington | 73
—Yukon | 74 | Montana | 75 | West Virginia | 66
Colorado | 71 | Nebraska | 72 | Wisconsin | 69
Connecticut | 68 | Nevada | 74 | Wyoming | 75
|  | New Hampshire | 69
Between ZAIRE and
Alabama | 64 | Delaware | 61 | New Jersey | 69
Alaska | 71 | District of Columbia | 61 | New Mexico | 76
Arizona | 74 | Florida | 69 | New York | 69
Arkansas | 71 | Georgia | 68 | North Carolina | 69
California | 75 | Idaho | 75 | North Dakota | 75
Canada |  | Illinois | 73 | Ohio | 73
—Alberta | 84 | Indiana | 73 | Oklahoma | 72
—British Columbia | 81 | Iowa | 74 | Oregon | 78
—Labrador | 87 | Kansas | 74 | Pennsylvania | 70
—Manitoba | 78 | Kentucky | 71 | Rhode Island | 69
—New Brunswick | 75 | Louisiana | 64 | South Carolina | 69
—Newfoundland | 82 | Maine | 72 | South Dakota | 74
—Northwest Terr | 81 | Maryland | 68 | Tennessee | 71
—Nova Scotia | 77 | Massachusetts | 72 | Texas | 70
—Ontario | 77 | Michigan | 74 | Utah | 74
—Pr. Edward Isl | 78 | Minnesota | 75 | Vermont | 70
—Quebec | 74 | Mississippi | 64 | Virginia | 67
—Saskatchewan | 82 | Missouri | 70 | Washington | 76
—Yukon | 76 | Montana | 79 | West Virginia | 66
Colorado | 74 | Nebraska | 74 | Wisconsin | 75
Connecticut | 69 | Nevada | 72 | Wyoming | 75
|  | New Hampshire | 70
Between ZAMBIA and
Alabama | 64 | Delaware | 61 | New Jersey | 69
Alaska | 71 | District of Columbia | 61 | New Mexico | 76
Arizona | 74 | Florida | 69 | New York | 69
Arkansas | 71 | Georgia | 68 | North Carolina | 69
California | 75 | Idaho | 75 | North Dakota | 75
Canada |  | Illinois | 73 | Ohio | 73
—Alberta | 84 | Indiana | 73 | Oklahoma | 72
—British Columbia | 81 | Iowa | 74 | Oregon | 78
—Labrador | 87 | Kansas | 74 | Pennsylvania | 70
—Manitoba | 78 | Kentucky | 71 | Rhode Island | 69
—New Brunswick | 75 | Louisiana | 64 | South Carolina | 69
—Newfoundland | 82 | Maine | 72 | South Dakota | 74
—Northwest Terr | 81 | Maryland | 68 | Tennessee | 71
—Nova Scotia | 77 | Massachusetts | 72 | Texas | 70
—Ontario | 77 | Michigan | 74 | Utah | 74
—Pr. Edward Isl | 78 | Minnesota | 75 | Vermont | 70
—Quebec | 74 | Mississippi | 64 | Virginia | 67
—Saskatchewan | 82 | Missouri | 70 | Washington | 76
—Yukon | 76 | Montana | 79 | West Virginia | 66
Colorado | 74 | Nebraska | 74 | Wisconsin | 75
Connecticut | 69 | Nevada | 72 | Wyoming | 75
|  | New Hampshire | 70
Between ZIMBABWE and
Alabama | 64 | Delaware | 61 | New Jersey | 69
Alaska | 71 | District of Columbia | 61 | New Mexico | 76
Arizona | 74 | Florida | 69 | New York | 69
Arkansas | 71 | Georgia | 68 | North Carolina | 69
California | 75 | Idaho | 75 | North Dakota | 75
Canada |  | Illinois | 73 | Ohio | 73
—Alberta | 84 | Indiana | 73 | Oklahoma | 72
—British Columbia | 81 | Iowa | 74 | Oregon | 78
—Labrador | 87 | Kansas | 74 | Pennsylvania | 70
—Manitoba | 78 | Kentucky | 71 | Rhode Island | 69
—New Brunswick | 75 | Louisiana | 64 | South Carolina | 69
—Newfoundland | 82 | Maine | 72 | South Dakota | 74
—Northwest Terr | 81 | Maryland | 68 | Tennessee | 71
—Nova Scotia | 77 | Massachusetts | 72 | Texas | 70
—Ontario | 77 | Michigan | 74 | Utah | 74
—Pr. Edward Isl | 78 | Minnesota | 75 | Vermont | 70
—Quebec | 74 | Mississippi | 64 | Virginia | 67
—Saskatchewan | 82 | Missouri | 70 | Washington | 76
—Yukon | 76 | Montana | 79 | West Virginia | 66
Colorado | 74 | Nebraska | 74 | Wisconsin | 75
Connecticut | 69 | Nevada | 72 | Wyoming | 75
|  | New Hampshire | 70

12-2 Special POV Transit Times

This HTOS paragraph 12-2 applies for shipments of POV's between CONUS locations and locations in Alaska, Guam, Hawaiian Islands, Puerto Rico and the Virgin Islands AND between locations in Alaska, Guam, Hawaiian Islands, Puerto Rico and the Virgin Islands.

Between and | *Alaskan points | Guam | Hawaiian Islands | Puerto Rico | Virgin Islands-St. Thomas/ St. Croix | Virgin Islands-St. John
| Days | Days | Days | Days | Days | Days
AK |  | 25 | 15 | 20 | 20 | 20
AL | 20 | 28 | 20 | 15 | 15 | 15
AR | 20 | 28 | 20 | 15 | 15 | 15
AZ | 15 | 26 | 15 | 20 | 20 | 20
CA | 15 | 25 | 15 | 20 | 20 | 20
CO | 15 | 26 | 15 | 20 | 20 | 20
CT | 20 | 28 | 20 | 15 | 15 | 15
DC | 20 | 28 | 20 | 15 | 15 | 15
DE | 20 | 28 | 20 | 15 | 15 | 15
FL | 20 | 29 | 20 | 15 | 15 | 15
GA | 20 | 29 | 20 | 15 | 15 | 15
IA | 20 | 29 | 20 | 20 | 20 | 20
ID | 15 | 28 | 15 | 20 | 20 | 20
IL | 20 | 29 | 20 | 15 | 15 | 15
IN | 20 | 29 | 20 | 15 | 15 | 15
KS | 15 | 29 | 15 | 20 | 20 | 20
KY | 20 | 29 | 20 | 15 | 15 | 15
LA | 20 | 28 | 20 | 15 | 15 | 15
MA | 20 | 28 | 20 | 15 | 15 | 15
MD | 20 | 28 | 20 | 15 | 15 | 15
ME | 20 | 29 | 20 | 15 | 15 | 15
MI | 20 | 30 | 20 | 20 | 20 | 20
MN | 20 | 30 | 20 | 20 | 20 | 20
MO | 15 | 29 | 15 | 20 | 20 | 20
MS | 20 | 28 | 20 | 15 | 15 | 15
MT | 15 | 28 | 15 | 20 | 20 | 20
NC | 20 | 29 | 20 | 15 | 15 | 15
ND | 20 | 28 | 20 | 20 | 20 | 20
NE | 15 | 29 | 15 | 20 | 20 | 20
NH | 20 | 29 | 20 | 15 | 15 | 15
NJ | 20 | 28 | 20 | 15 | 15 | 15
NM | 15 | 26 | 15 | 20 | 20 | 20
NV | 15 | 26 | 15 | 20 | 20 | 20
NY | 20 | 28 | 20 | 15 | 15 | 15
OH | 20 | 29 | 20 | 15 | 15 | 15
OK | 20 | 28 | 20 | 20 | 20 | 20
OR | 15 | 25 | 15 | 20 | 20 | 20
PA | 20 | 28 | 20 | 15 | 15 | 15
RI | 20 | 28 | 20 | 15 | 15 | 15
SC | 20 | 29 | 20 | 15 | 15 | 15
SD | 20 | 28 | 20 | 20 | 20 | 20
TN | 20 | 28 | 20 | 15 | 15 | 15
TX | 15 | 28 | 15 | 15 | 15 | 15
UT | 15 | 26 | 15 | 20 | 20 | 20
VA | 20 | 28 | 20 | 15 | 15 | 15
VT | 20 | 29 | 20 | 15 | 15 | 15
WA | 15 | 25 | 15 | 20 | 20 | 20
WI | 20 | 30 | 20 | 20 | 20 | 20
WV | 20 | 28 | 20 | 15 | 15 | 15
WY | 15 | 28 | 15 | 20 | 20 | 20
GUAM | 25 |  | 20 | 30 | 30 | 30
HAWAII | 20 | 15 |  | 20 | 20 | 20
PUERTO RICO | 20 | 30 | 25 |  | 10 | 10
VIRGIN ISL., ST. THOMAS/ST. CROIX | 25 | 30 | 25 | 10 |  | 10
VIRGIN ISL., ST. JOHN | 25 | 30 | 25 | 10 | 10 |
*Alaskan points include the following cities: Anchorage, Cordova, Fairbanks, Juneau, Ketchikan, Kodiak, Petersburg, Sitka, and Wrangell.

Section 14—Geographic Coverage

14-1. Geographic Coverage

14-1.1. Domestic

The geographic coverage included in domestic offers is from/to points in the continental United States (CONUS), interstate and intrastate first proviso household goods movements. Offers for service within Alaska or between Alaska and all other points defined as domestic will include only those points identified in the RFO. Offers for all other domestic service must be for all points within the defined service areas for interstate and for the full state for intrastate.

Service Area 1 | Points in the State of California
Service Area 2 | Points in the States of Washington and Oregon
Service Area 3 | Points in the States of Nevada and Utah
Service Area 4 | Points in the States of Idaho, Montana, North Dakota, South Dakota, and Wyoming
Service Area 5 | Points in the State of Colorado
Service Area 6 | Points in the States of Arizona and New Mexico
Service Area 7 | Points in the States of Oklahoma and Texas
Service Area 8 | Points in the States of Iowa, Kansas, Missouri, and Nebraska
Service Area 9 | Points in the States of Michigan, Minnesota, and Wisconsin
Service Area 10 | Points in the States of Illinois, Indiana, Kentucky, and Ohio
Service Area 11 | Points in the States of Arkansas, Alabama, Louisiana, Mississippi, and Tennessee
Service Area 12 | Points in the State of Florida
Service Area 13 | Points in the States of Georgia, North Carolina, and South Carolina
Service Area 14 | Points in the States of Delaware, Maryland, Virginia, and West Virginia, and the District of Columbia
Service Area 15 | Points in the States of Connecticut, Rhode Island, Massachusetts, New Jersey, New York, and Pennsylvania
Service Area 16 | Points in the States of Maine, New Hampshire, and Vermont
Service Area 22 | Points in the State of Alaska identified in the RFO
Service Area 2300 | Points in the Canadian Province of Alberta
Service Area 2301 | Points in the Canadian Province of British Columbia
Service Area 2302 | Points in the Canadian Province of Labrador
Service Area 2303 | Points in the Canadian Province of Manitoba
Service Area 2304 | Points in the Canadian Province of New Brunswick
Service Area 2305 | Points in the Canadian Province of Newfoundland
Service Area 2306 | Points in the Canadian Province of Nova Scotia
Service Area 2307 | Points in the Canadian Province of Ontario
Service Area 2308 | Points in the Canadian Province of Prince Edward Island
Service Area 2309 | Points in the Canadian Province of Quebec
Service Area 2310 | Points in the Canadian Province of Saskatchewan
Service Area 2311 | Points in the Canadian Province of Northwest Territory
Service Area 2312 | Points in the Canadian Province of Yukon

14-1.2. International

Offers for all international service may be between international areas or between international and domestic areas. In any case, offers for international service must be for all points within the defined service areas and/or countries. The geographic coverage included in international offers is from/to points within the defined country, as identified below.

Off-shore application | Via port of
Guam | Oakland, CA.
Hawaiian Islands of Hawaii, Kauai, Maui, and Oahu | Oakland, CA.
Puerto Rico | Jacksonville, FL.
Virgin Islands | Jacksonville, FL.

14-2. Named Localities Within Off-Shore States, Territories, or Possessions of The United States of America

Agana, Guam (International Program)

Anchorage, Alaska (Domestic Program)

Honolulu, Hawaii (International Program)

San Juan, Puerto (International Program)

St. Thomas, Virgin Islands (International Program)

14-3. Named Localities In Central America

Panama City, Panama

Republic of Mexico, all points

Guatemala City, Guatemala

Quito, Ecuador

San Jose, Costa Rica

The Bahamas

14-4. Named Localities Within Europe

Adana, Turkey

Amsterdam, The Netherlands

Ankara, Turkey

Athens, Greece

Barcelona, Spain

Belfast, Northern Ireland

Berlin, Germany

Bern, Switzerland

Bilboa, Spain

Bonn, Germany

Bordeaux, France

Brussels, Belgium

Copenhagen, Denmark

Edinburgh, Scotland

Florence, Italy

Frankfurt, Germany

Geneva, Switzerland

Genoa, Italy

Hamburg, Germany

Istanbul, Turkey

Izmir, Turkey

Leipzig, Germany

Leon, France

Lisbon, Portugal

London, England

Madrid, Spain

Marseille, France

Milan, Italy

Munich, Germany

Naples, Italy

Palermo, Italy

Paris, France

Reykjavik, Iceland

Rome, Italy

Strasbourg, France

Stuttgart, Germany

The Hague, The Netherlands

Thessaloniki, Greece

Zurich, Switzerland

14-5. Named Localities Within Asia.

Bangkok, Thailand

Beijing, China

Cebu, Philippines

Chiang Mai, Thailand

Fukuoka, Japan

Hong Kong, United Kingdom

Islamabad, Pakistan

Jakarta, Indonesia

Karachie, Pakistan

Manila, Philippines

Naha, Okinawa

New Delhi, India

Osaka-Kobe, Japan

Pusan, Korea

Sapporo, Japan

Sengapore, Singapore

Seoul, Korea

Songkhia, Thailand

Tokyo, Japan

Udorn, Thailand

14-6. Named Localities Within Australia.

Brisbane, Australia

Canberra, Australia

Melbourne, Australia

Sydney, Australia

Perth, Australia

14-7. Named Localities In South America.

Bogota, Colombia

La Paz, Bolivia

Lima, Peru

Montevideo, Uruguay

Santiago, Chile

14-8. Named Localities In The Middle East

Cairo, Egypt

Dakar, Senegal

Jeddah, Saudi Arabia

Manama, Bahrain

Ripadh, Saudi Arabia

United Arab Emerit

14-9. Named Localities by City

14-9.1. Cities Beginning With A

Adana, Turkey

Amsterdam, The Netherlands

Ankara, Turkey

Athens, Greece

14-9.2. Cities Beginning With B

Bangkok, Thailand

Barcelona, Spain

Beijing, China

Belfast, Northern Ireland

Berlin, Germany

Bern, Switzerland

Bilboa, Spain

Bogota, Colombia

Bonn, Germany

Bordeaux, France

Brisbane, Australia

Brussels, Belgium

14-9.3. Cities Beginning With C

Cairo, Egypt

Canberra, Australia

Cebu, Philippines

Chiang Mai, Thailand

Copenhagen, Denmark

14-9.4 Cities Beginning With D

Dakar, Senegal

14-9.5 Cities Beginning With E

Edinburgh, Scotland

14-9.6. Cities Beginning With F

Florence, Italy

Frankfurt, Germany

Fukuoka, Japan

14-9.7. Cities Beginning With G

Geneva, Switzerland

Genoa, Italy

Guatemala City, Guatemala

14-9.8. Cities Beginning With H

The Hague, The Netherlands

Hamburg, Germany

Hong Kong, United Kingdom

14-9.9. Cities Beginning With I

Islamabad, Pakistan

Istanbul, Turkey

Izmir, Turkey

14-9.10. Beginning With J-K

Jakarta, Indonesia

Jeddah, Saudi Arabia

Karachie, Pakistan

14-9.11. Cities Beginning With L

La Paz, Bolivia

Leipzig, Germany

Leon, France

Lima, Peru

Lisbon, Portugal

London, England

14-9.12. Cities Beginning With M

Madrid, Spain

Manama, Bahrain

Manila, Philippines

Marseille, France

Melbourne, Australia

Milan, Italy

Montevideo, Uruguay

Munich, Germany

14-9.13. Cities Beginning With N

Naha, Okinawa

Naples, Italy

New Delhi, India

14-9.14. Cities Beginning With O

Osaka-Kobe, Japan

14-9.15. Cities Beginning With P

Palermo, Italy

Panama City, Panama

Paris, France

Perth, Australia

Pusan, Korea

14-9.16. Cities Beginning With Q

Quito, Ecuador

14-9.17. Cities Beginning With R

Republic of Mexico, all points

Reykjavik, Iceland

Ripadh, Saudi Arabia

Rome, Italy

14-9.18. Cities Beginning With S

San Jose, Costa Rica

Santiago, Chile

Sapporo, Japan

Sengapore, Singapore

Seoul, Korea

Songkhia, Thailand

Strasbourg, France

Stuttgart, Germany

Sydney, Australia

14-9.19. Cities Beginning With T

The Hague,

The Netherlands

Thessaloniki, Greece

Tokyo, Japan

14-9.20. Cities Beginning With U

Udorn, Thailand

14-9.21. Cities Beginning With Z

Zurich, Switzerland

Country | Code
Albania | 120A
Algeria | 1250
American Samoa | 060A
Angola | 1410
Antigua | 1490
Argentina | 150A
Australia | 160A
Austria | 1650
Azores | 735A
Bahamas | 1800
Bahrain | 1810
Bangladesh | 1820
Barbados | 1840
Belgium | 1900
Belize | 2270
Bermuda | 1950
Bolivia | 2050
Botswana | 2100
Brazil | 220A
Brunei | 2320
Bulgaria | 2450
Burkina Faso | 9270
Burma | 2500
Burundi | 2520
Cambodia | 2550
Cameroon | 2570
Canary Islands | 830C
Cayman Islands | 2680
Central African Republic | 2690
Chad | 2730
Chile | 2750
China | 2800
Colombia | 2850
Costa Rica | 2950
Croatia | 4400
Cuba | 3000
Cyprus | 3050
Czechoslovakia | 3100
Denmark | 3150
Djibouti | 3170
Dominican Republic | 3200
Ecuador | 3250
Egypt | 9220
El Salvador | 3300
England | 925E
Ethiopia | 3350
Fiji | 3380
Finland | 3400
France | 3500
Gabon | 3880
Germany | 3940
Ghana | 3960
Greece | 4000
Guadeloupe | 4070
Guatemala | 4150
Guinea | 4170
Guyana | 4180
Haiti | 4200
Honduras | 4300
Hong Kong | 4350
Hungary | 4450
Iceland | 4500
India | 4550
Indonesia | 4580
Ireland | 4700
Israel | 4750
Italy | 4800
Ivory Coast | 4850
Jamaica | 4870
Japan | 490J
Jordan | 5000
Kazakhstan | 5250
Kenya | 5050
Korea (South) | 5150
Kuwait | 5200
Laos | 5300
Lebanon | 5400
Lithuania | 5420
Luxembourg | 5700
Madagascar | 5750
Malawi | 5770
Malaysia | 5800
Mali | 5850
Malta | 5900
Marinas Island | 591M
Mauritania | 5920
Mauritius | 5930
Mexico | 5950
Micronesia | 0630
Monaco | 6070
Morocco | 6100
Mozambique | 6150
Namibia | 8210
Nepal | 6250
Netherlands | 6300
Netherlands Antilles | 6400
New Zealand | 6600
Nicaragua | 6650
Nigeria | 6700
Northern Ireland | 925I
Northern Mariana Islands | 0690
Norway | 6850
Okinawa | 490K
Oman | 6160
Pakistan | 7000
Panama | 7100
Papua New Guinea | 7120
Paraguay | 7150
Peru | 7200
Philippines | 7250
Poland | 7300
Portugal | 7350
Qatar | 7470
Romania | 7550
Russia | 8250
Saipan | 069S
Santa Lucia | 7700
Saudi Arabia | 7850
Scotland | 925S
Senegal | 7870
Sierra Leone | 7900
Singapore | 7950
Slovenia | 7890
Solomon Islands | 789S
South Africa | 8010
Spain | 8300
Sri Lanka | 2720
Sudan | 8350
Suriname | 8400
Sweden | 8500
Switzerland | 8550
Syria | 8580
Tahiti | 350T
Taiwan | 2810
Tanzania | 8650
Thailand | 8750
Trinidad | 205T
Tunisia | 8900
Turkey | 9050
Uganda | 9100
Venezuela | 9400
Vietnam | 9450
Western Samoa | 9630
Yemen | 9650
Yugoslavia | 9700
Zaire | 2910
Zambia | 9900
Zimbabwe | 8180

Section 15—Forms

15-1. Carrier Request To Participate And Agreement.

CARRIER REQUEST TO PARTICIPATE AND AGREEMENT TO ABIDE BY THE TERMS AND CONDITIONS OF THE GENERAL SERVICES ADMINISTRATION'S CENTRALIZED HOUSEHOLD GOODS TRAFFIC MANAGEMENT PROGRAM (CHAMP)

This requests approval to participate in the General Services Administration's (GSA) Centralized Household Goods Traffic Management Program (CHAMP). I agree to abide by the terms and conditions set forth in the GSA Household Goods Tender of Service (HTOS), dated [insert date], revisions and supplements thereto or reissues thereof.

I understand that participation in GSA's CHAMP is contingent upon our performance or service as stated in the GSA HTOS. I certify that the information presented herein is completed and correct to the best of my knowledge, understanding that willful submission of false information in my application or on any document furnished pursuant to this HTOS is punishable by fines, imprisonment, or both (US Code, Title 18, Section 1001). I further understand that GSA may terminate my participation in the program upon notice to me of such intent, based upon evidence of my non-compliance with the terms and conditions of the GSA HTOS.

I certify and acknowledge receipt of the HTOS, dated [INSERT DATE] consisting of Sections 1 through 17.

Company Name:

Signature and Title of Authorized Official Date

Carrier/Forwarder Contact Information:

Name

Title

Address

City/State

Telephone Number

Fax Number:

Internet E-Mail Address

15.2. Carrier Commercial Port Level Report.

COMMERCIAL PORT LEVEL REPORT

Port of:________________—Port Agent:_______________

Period Ending:_______________—Date of Report:_______________

PART 1.—SHIPMENTS ON HAND.

Data Required.

A. Number of import shipments that have not been picked up for line-haul movement

B. Number of import shipments that are past the RDD.

C. Number of export shipments on hand.

D. Number of export shipments on hand that are past the RDD.

PART 2.—NARRATIVE COMMENTS.

Provide comments regarding the following:

Processing Problems

Availability and Responsiveness of Truckers

Customs Problems

Responsiveness of Vessel Operators

Other Issues

PART 3.—MISSED REQUIRED DELIVERY DATE.

Provide the following information for all on-hand shipments that have missed the RDD:

Relocation Employee's Name | Bill of Lading | Final Destination

PART 4.—MISCELLANEOUS.

Report any specific problems anticipated or encountered in moving personal property to the applicable port.

I certify this to be a true and accurate report

Company Name:

Signature and Title of Authorized Official Date

Carrier Contact Information

Name:

Title:

Address:

City/State:

Telephone No.:

Fax Number:

Internet E-Mail Address:

15.3.—Justification Certificate for Use of Foreign Flag Vessel.

GENERAL SERVICES ADMINISTRATION CENTRALIZED HOUSEHOLD GOODS TRAFFIC MANAGEMENT PROGRAM

JUSTIFICATION CERTIFICATE FOR USE OF FOREIGN FLAG VESSEL.

Date:

ITGBL Carrier:

I certify that it (is)(was) necessary to transport the household goods of

GBL#

between

and

enroute from

to

via the

a foreign flag vessel for the following reasons.

Explanation (A full explanation is required):

Required Delivery Date:

Departure Date:

Arrival Date:

Cubic Feet:

Gross Weight:

Net Weight:

Freight Charges:

Per:

The Thru/GBL rate on file with the General Services Administration will be protected under the terms and conditions of the General Services Administration Household Goods Tender of Service.

Signature of Authorized Participant Representative Date

Title V, GAO Manual—RESPONSIBILITY OF CERTIFYING OFFICER. Certifying officers have the responsibility in the first instance of determining the acceptability of the foregoing certificate which must be attached to bills involving movements by foreign flag vessels prior to the certification of such bills.

Agency:

Authorizing Official:

Title:

Date:

15.4 Participant Carrier Certification Statement Of Eligibility.

CARRIER CERTIFICATION STATEMENT OF ELIGIBILITY FOR THE AWARD OF CONTRACTS FOR TRANSPORTATION

A. By submitting this rate tender, the participant certifies that:

(1) Neither the participant, nor any of its subsidiaries, officers, directors, principal owners, or principal employees is currently suspended, debarred,) or in receipt of a notice of proposed debarment from any agency as a result of a civil judgment or criminal conviction or for any cause from GSA), or has been placed in temporary nonuse status by GSA for the routes covered by this tender as of the date that this rate tender is offered.

(2) The participant is not a corporation, partnership, sole proprietorship or any other business entity which has been formed or organized following the suspension or debarment of, a subsidiary, officer, director, principal owner, or principal employee thereof (or from such an entity formed after receipt of a notice of proposed debarment).

B. The following definitions are applicable to this certification:

(1) A subsidiary is a business entity whose management decisions are influenced by the participant through legal or equitable ownership of a controlling interest in the firm's stock, assets, or otherwise.

(2) A principal owner is an individual or company which owns a controlling interest in the participant's stock, or an individual who can control, or substantially influence, the participant's management, through the ownership interest of family members or close associates.

(3) A principal employee is a person(s) acting in a managerial or supervisory capacity (including consultants and business advisors) who is able to direct, or substantially influence, the participant's performance of its obligations under its contracts for transportation with the Federal Government.

C. Knowledge required.

The knowledge of the person who executes this certification is not required to exceed the knowledge which that person can reasonably be expected to possess, following inquiry, regarding the suspended or debarred status of the parties defined in (B), above.

D. Obligation to inform.

The participant has a continuing obligation to inform the GSA office to which this rate tender is submitted of any change in circumstances which results in its ineligibility for the receipt of contracts for transportation.

E. Erroneous certification.

An erroneous certification of eligibility or failure to notify the GSA transportation zone office receiving this tender of a change in eligibility, may result in a recommendation for administrative action against the participant. Additionally, false statements to an agency of the Federal Government are subject to criminal prosecution pursuant to 18 USC 1001, as well as possible civil penalties.

COMPANY NAME

SIGNATURE AND TITLE OF AUTHORIZED OFFICIAL DATE

PARTICIPANT CONTACT

NAME:

TITLE:

ADDRESS:

CITY/STATE:

TELEPHONE NO:(____)

General Services Administration—Basic Transportation Trading Partner Agreement

Applicability: Check the box below which represents the activity of your firm under this Trading Partner Agreement:

☐ Freight Common Carrier (All paragraphs, except Paragraph 4, of this agreement will apply and are binding.)

☐ Household Goods Common Carrier (All paragraphs, except Paragraphs 3 and 5G, of this agreement will apply and are binding.)

☐ Freight Forwarder (All paragraphs, except Paragraph 4, of this agreement will apply and are binding.)

☐ Household Goods Freight Forwarder (All paragraphs, except Paragraphs 3 and 5G, of this agreement will apply and are binding.)

☐ Freight Broker (All paragraphs, except Paragraphs 4 and 5G, of this agreement will apply and are binding.)

☐ Freight Shipper Agent/Intermodal Marketing Company (All paragraphs, except Paragraphs 4 and 5G, of this agreement will apply and are binding.)

☐ Rate Filing Service Provider (All paragraphs, except Paragraph 5G, of this agreement will apply and are binding.)

1. Introduction

This agreement prescribes the general procedures and policies to be followed when Electronic Commerce (EC) is used for transmitting and receiving requests for offers, rate tenders, or other business information in lieu of creating one or more paper documents normally associated with conducting business with the General Services Administration. The General Services Administration (GSA or the agency) will transmit and receive using the File Transfer Protocol (FTP) of the Internet network (I-FTP) such transaction sets (documents) as it chooses and as established by the governing tender of service or the request for offers. These transaction sets will be transmitted to those firms, organizations, agencies, or other entities (trading partners) recognized by GSA that agree to accept such documents and to be bound by the terms and conditions contained in those documents, this agreement, and any applicable tender of service.

2. Purpose

This agreement is to ensure that all EC obligations are legally binding on all trading partners. Further, the use of any electronic equivalent of a standard business document referenced in Paragraphs 3 and 4 will be deemed an acceptable business practice and that no trading partner will challenge the admissibility of the electronic information in evidence, except in circumstances in which an analogous paper document could be challenged. Where participant is used in this agreement it will mean carrier/forwarder as applicable.

3. Freight Reference

This agreement, in addition to the terms and conditions stated in Paragraph 5, is subject to the terms and conditions of the following documents:

• GSA Freight Traffic Management Program Standard Tender of Service.

• Optional Form 280

• GSA Freight Traffic Management Program Request for Offers

4. Household Goods Reference

This agreement, in addition to the terms and conditions stated in Paragraph 5, is subject to the terms and conditions of the following documents:

• GSA Centralized Household Goods Traffic Management Program Tender of Service.

• Optional Form 280

• GSA Centralized Household Goods Traffic Management Program Request for Offers

5. Terms and Conditions

(A) GSA will place electronic documents in a publicly accessible website (www.KC.GSA.GOV/FSST) and when warranted in the directory of a confirmed trading partner (trading partner/<SCA>), hereinafter referred to as directory. It will receive documents from confirmed trading partners in each confirmed trading partner's directory via I-FTP. Receipt by the trading partner is considered to occur when the document is placed and either the public directory or the trading partner's directory, as the case may be.

(B) GSA will bear the costs of maintaining the GSA FTP server and the costs of placing documents issued by GSA in the appropriate directory on the GSA FTP server, and the costs of managing documents put on the GSA FTP server by its trading partners. The agency's trading partners are responsible for all costs associated with getting documents from or putting documents on the GSA FTP server.

(C) When the transmissions are submission or fate tenders, the submitting firm must have first met all applicable approval requirements set out in the applicable, governing Tender of Service.

(D) GSA will be responsible for the accuracy of documents issued by it and placed in the GSA FTP server directory. GSA will not be responsible for errors occurring in documents put on the GSA FTP server, nor will GSA be responsible for errors occurring in documents gotten from the GSA FTP server.

(E) GSA will not be responsible for any damages incurred by a trading partner as a result of missing or delayed transmissions when the problem is not with or caused by GSA or the agency's FTP server.

(F) Any document placed in a directory maintained on the GSA FTP server is to be considered a valid and authentic document backed by the same guarantees of legitimacy as are found in a paper transaction. Likewise, any document from a trading partner put into a directory on the GSA FTP server will be considered a valid and authentic document backed by the same guarantees of legitimacy as are found in a paper transaction.

(G) If a participant uses a broker, shipper agent/Intermodal Marketing Company, or filing service to file its rates with GSA, documents submitted on behalf of the participant will be accepted as though submitted by the participant and GSA. The use of a broker, shipper agent/Intermodal Marketing Company, or filing service does not relieve the participant of any of its rights or obligations under the terms of this agreement, including the maintenance of a valid trading partner agreement with GSA.

6. Force Majeure

None of the parties in this agreement will be liable for failure to properly conduct EC in the event of war, accident, riot, fire, flood, epidemic, power outage, labor dispute, act of God, act of public enemy, malfunction or inappropriate design of hardware or software, or any other cause beyond such party's control. If standard business cannot be conducted by EC, GSA, will, at its discretion, return to a paper based system.

7. Effective Date

The effective date of this agreement will be the latest of the date(s) shown on the signature page of this document

8. Agreement Review

The agreement will be affective on a continuing basis, except as provided in Paragraph 9, below; provided, however, that GSA may from time to time make such changes to the agreement as are necessary, and the trading partner may request review of the agreement at any time.

9. Termination

(A) If GSA terminates a participant's participation in the GSA Freight Traffic Management Program and/or the GSA Centralized Household Goods Traffic Management Program, this agreement will be considered terminated as of the date notice is given to a firm of its participation termination.

(B) If a participant terminated its participation in the GSA Freight Traffic Management Program and/or the GSA Centralized Household Goods Traffic Management Program, this agreement will be considered terminated as of the date notice of such termination is received by the GSA.

(C) Except as provided above, this agreement may be terminated by either GSA or its trading partner, effective 30 days after receipt of written notice by either party. Termination will have no effect on transactions occurring before the effective date of termination.

10. Whole Agreement

This agreement and all addenda constitute the entire agreement between the parties. No changes in terms and conditions of this agreement will be effective unless approved and signed by both parties. At the inception of this agreement, Addendum/Addenda (is) (are) not applicable. As the parties develop and implement additional EC capabilities, addenda may be incorporated into this agreement. Each addendum will be signed and dated by both parties. The latest date contained on the signature page will be the effective date of the addenda. The addendum will be appended to this agreement.

Representing the Carrier

Name and Signature

Title

Firm

Street Address

City, State, Zip

Telephone

Fax

Internet E-mail

Electronic Commerce Contact

Telephone

Fax

Internet E-mail

Date

Representing the General Services Administration

Name and Signature

Manager, Centralized Household Goods Traffic Management Program (CHAMP)

Title

Federal Supply Service

Firm

1500 East Bannister Road, Room 1076

Street Address

Kansas City, MO 64131

City, State, Zip

816-823-3646

Telephone

816-823-3656

Fax

Internet E-mail

Electronic Commerce Contact

816-823-3646

Telephone

816-823-3656

Fax

Internet E-mail

Date

Trading Partner Agreement Number

(TO BE COMPLETED BY GSA)

Section 16—Definitions & Explanation of Terms

16-1. Advanced Charges

A charge advanced by the participant for services of others engaged at the request of the RTO, or required by Federal, State or local law.

16.2. Attempted Pickup and/or Delivery [old 16.1]

Is when a participant fails to perform pickup services, through no fault of its own, at a relocating employee's residence. The participant is authorized compensation for labor services and/or vehicle use in accordance with the applicable tariff and/or tender for the origin municipality shown on the bill of lading.

16.3. Attempted Pickup [old 16.1.1]

Is when a participant fails to perform delivery services, through no fault of its own, at a relocating employee's residence. The participant is authorized compensation on direct delivery and from SIT shipments for labor services and/or vehicle use in accordance with the applicable tariff and/or tender for the destination municipality shown on the bill of lading.

16-4. Auxiliary Services

RTO approved labor services and/or non-standard linehaul or delivery vehicles used by the participant to pickup or delivery of shipments when the origin or destination is inaccessible by virtue of building design or roadway nonexistence, design, condition, construction, or obstacles.

16-5. Agency

The Federal shipping or receiving office responsible for shipping a relocating employee's HHG. Any reference in this HTOS made to “agency” will be understood to mean Federal shipping agency, Federal ordering agency, Federal civilian agency or Federal agency.

16-6. Bill of Lading (BL)

An accountable shipping document used for the acquisition of authorized transportation and related services from commercial participants for the movement of GSA sponsored HHG shipments. (See Federal Management Regulation Part 117 (41 CFR Part 102-117) for GBL terms and conditions for all Government shipments moving under this HTOS.)

16-7. BLIO

Bill of Lading Issuing Officer.

16-8. Destination Point [old 16.7]

That city or post shown in the block #5 (destination) on the Government Bill of Lading (International) or the appropriate destination block on the bill of lading (Domestic).

16-9. Diversion [old 16.8]

A change in the original destination of an en route HHG shipment to a new destination more than a 30 mile radius from the original destination point. Shipment requiring further over ocean transportation will be terminated and reshipped.

16-10. Domestic Transportation

The movement of a relocated Government employee's HHG within the conterminous United States (CONUS), including Alaska and Canada.

16-11. Employee

Any reference to “employee” in this HTOS will be understood to mean relocating employee or relocating employee's representative.

16-12. Filing Dates [old 16.9]

Designated dates announced by GSA during which CHAMP rates and other data must be filed.

16-13. Filing Criteria [old 16.10]

The terms and conditions for the filing of rates established in the GSA issued Request for Offers.

16-14. Final Delivery Point [old 16.11]

Place at which participant surrenders possession of property to the relocating employee and no further transportation or services are required under the bill of lading.

16-15. General Services Administration (GSA) [old 16.12]

The Agency responsible for the administration of the Household Goods Tender of Service (HTOS) and the Centralized Household Goods Traffic Management Program (CHAMP). The office is located at 1500 East Bannister Road, Kansas City, MO 64131-3088.

16-16. General Transportation Services

Transportation and accessorial services normally associated with a HHG move as set out in interstate and intrastate tariffs or this HTOS.

16-17. Government Bill of Lading (GBL) [old 16.42]

An accountable shipping document (OF 1203) used for the acquisition of authorized international transportation (including domestic offshore Alaska, Hawaii, Guam, Virgin Islands and Puerto Rico), and related services from commercial participants for the movement of GSA sponsored HHG shipments. For GBL terms and conditions, see Federal Management Regulation Part 102 (41 CFR Part 102-117). The GBL is being retired for domestic use (in all forms) March 31, 2002. For domestic shipments, where reference is made in this HTOS to a GBL, it shall be construed as a BL.

16-18. Government Bill of Lading Office Code (GBLOC) [old 16.14]

A designated code consisting of four alpha characters unique to GSA and each overseas post participating in the ITGBL Program. It is found in block 33b of the GBL.

16-19. GBLIO

Government Bill of Lading Issuing Officer.

16-20. Government Rate Tender (GRT)

The Professional Movers Government Rate Tender, STB HGB 415 series and supplements thereto, issued by the Household Goods Carriers' Bureau Committee, Agent.

16-21. Government Storage Warehouse [old 16.15]

Government-owned or leased facility used for storing household effects shipments.

16-22. Gross Weight [old 16.16]

The aggregate weight of all articles plus necessary packing materials and shipping containers.

16-23. Household Goods (HHG) [old 16.17]

The personal effects of Government employee's and their dependants. (Please note that GSA does not consider boats to be Household Effects/HHG).

16-24. International Transportation

Door to door container movement of HHG outside the conterminous United States (OCONUS), including Alaska and Canada, in lift vans. A Participant provides complete through service from origin to destination residence by surface ocean means.

16-25. ITBL International Government Bill of Lading

16-24. Item (Or Article) [old 16.20]

The terms “item” and “article” used in this solicitation shall be interchangeable. Each shipping piece or package and the contents thereof shall constitute one item. Any item taken apart or knocked down for handling or loading shall constitute one item.

16-26. Kilogram [old 16.21]

One kilogram is equal to 2.2046 pounds. To convert kilograms into pounds, multiply kilograms by a 2.2046 factor. To convert pounds into kilograms, multiply pounds by a 0.453 factor.

16-27. Kilometer [old 16.22]

One kilometer is equal to 3,280.8 feet or 0.62137 mile. To convert kilometers into miles, multiply the number of kilometers by a 0.62137 factor. To convert miles into kilometers, multiply the number of miles by a 1.609 factor.

16-28. Miscellaneous Charge

Any cost incurred by the participant performing a service authorized by the RTO that is outside the terms of this HTOS.

16-29. Mistake in Rate Filing (MIRF) [old 16.23]

An error acknowledged by the participant after rate submissions. Participants may obtain relief for mistakes in rate filing upon review and approval by GSA.

16-30. Move Management Services (MMS)

Services performed by a MMS provider to arrange, coordinate, and monitor each relocating employee's HHG move, from initial notification of shipment booking through delivery at destination. Services as identified in Section 4A will be provided within a participant's approved scope of operations.

16-31. Net Weight [old 16.24]

The net weight of shipments transported in containers shall be the difference between the tare weight of the empty container and the gross weight of the packed container.

16-32. Non-Temporary Storage (NTS) [old 16.25]

Service for long-term storage, other than storage-in-transit, or personal property at the relocation employee's or Government's expense.

16-33. One-Time-Only (OTO) Rates [old 16.26]

Rates solicited by GSA from individual participants for the one time movement of personal property.

16-34. Packing Carton [old 16.27]

The carton used for packing articles requiring additional protection prior to placing them inside a shipping container.

16-35. Participant [old 16.3]

Any HHG carrier/forwarder that is approved to participate in the Centralized Household Goods Traffic Management Program (CHAMP) and provide HHG General Transportation Services and/or Move Management Services (MMS).

16-36. Participant's Agent [old 16.4]

A business firm, corporation, or individual acting for or in behalf of a participant. A bona fide agent of a personal property participant, as distinguished from a broker, is a person who, or business enterprise which, represents and acts for a participant and performs its duties under the direction of the participant, pursuant to a preexisting agreement with the participant, providing for a continuing relationship between them.

16-37. Pick-up Point [old 16.28]

The specific location where the participant takes possession of HHG for shipment.

16-38. Point of Diversion [old 16.29]

The location of the shipment when orders are given to change destination point.

16-39. Port of Embarkation/Debarkation [old 16.30]

Includes dock, wharf, pier, berth at which cargo is loaded aboard ship or is discharged from ship, including the participant's port terminal facility or warehouse serving the port.

16-40. Program Management Office (PMO)

The PMO is responsible for providing transportation management services to Federal departments and agencies through out the world including CHAMP carrier approval, price negotiation and participant performance measurement. The PMO responsibilities are managed through five GSA Zone Offices in Washington, DC (National Capital Region), Atlanta, GA (Southeast Sunbelt Region), Kansas City, MO (Heartland Region) and San Francisco, CA (Pacific Rim Region). (See GSA website www.kc.gsa.gov/fsstt for detailed information and points of contact) Any reference to PMO in this HTOS will be understood to mean PMO and or its designees or representatives.

16-41. Property Owner

Any reference made to “property owner” or “property owner's representative” in this HTOS will be understood to mean “relocating employee”.

16-42. Rate Cycle [old 16.31]

A period of time during which rates filed by participants are effective.

16-43. Rate Solicitation Cycle [old 16.32]

The designation assigned to the bill of lading electronic rates filed with GSA which are effective for a specific rate cycle.

16-44. Regular Working Hours [old 16.33]

Regular working hours include the days Monday through Friday, between the hours of 8 a.m. and 5 p.m. local time, and exclude all other hours of the day, days of the week, and officially declared foreign national, U.S. National or State holidays

16-45. Relocating Employee

An employee of an agency relocating to a different duty station. The term “relocating employee” includes a relocating employee's agent, designee or representative.

16-46. Required Delivery Date (RDD) [old 16.34]

A specified calendar date on or before which the participant agrees to offer the entire shipment of personal property for delivery to the employee or employee's agent at destination. If the RDD falls on a Saturday, Sunday, Foreign National, U.S. National, or State holiday, the RDD will be the following working day.

16-47. Responsible Transportation Officer (RTO) [old 16.35]

The individual or its designee or representative or office within the shipping or receiving agency responsible for HHG traffic management functions.

16-48. Shipper. [old 16.36]

The agency responsible for the payment of the bill of lading or GBL, usually the employer of the relocating personnel.

16-49. Shipping Container. [old 16.37]

External container, lift van, crate, tri-wall, bi-wall as specified by the RTO into which individual articles and/or packing cartons are placed.

16-50. Solicitation Period. [old 16.38]

The period of time specified in the rate solicitation during which the rates will be in effect.

16-51. Storage-in-Transit. [old 16.39]

Temporary storage, other than non-temporary storage of a HHG shipment prior to final delivery.

16-52. Supporting Documentation. [old 16.40]

Documentation requiring participant certification and submission to GSA by designated dates provided in each cycle solicitation letter to include participant Tender of Service Signature Sheet, LOI's, etc.

16-53. Tare Weight

14-10. The weight of an empty vehicle or liftvan before loading and after unloading.

16-54. Unaccompanied Air Baggage (UAB). [old 16.41]

The portion of an employee's prescribed weight allowance of HHG including professional books, papers, and equipment, normally shipped separately from the bulk of personal property and designated as such on the employee's application for shipment.

Section 17—Accessorial Rates, Rules, and Charges

17-1. Purpose

This chapter contains general requirements as well as specific rates and charges permissible under the CHAMP International Program.

17-2. Measurement To Metric Measurement

To convert U.S. customary units to metric units, multiply by the conversion factor. To convert metric to U.S. customary units, divide by the conversion factor.

Symbol | When you know | Multiply by | To find | Symbol
Length
in | inches | 2.54 | centimeters | cm
ft | feet | 30.48 | centimeters | cm
ft | feet | 0.3048 | meters | m
yd | yards | 0.9144 | meters | m
mi | miles | 1.6093 | meters | m
Mass
oz | ounces | 28.35 | grams | g
lb | pounds | 0.4536 | kilograms | kg
t | short ton (2,000 lb.) | 0.9072 | metric ton | t
Volume
pt | pints | 0.473 | liters | L
qt | quarts | 0.946 | liters | L
gal | gallons | 3.785 | liters | L

17-3. Rates

Rates as specified herein will apply for accessorial services performed by the carrier in addition to the single factor rate (SFR) for surface transportation from point of origin to point of destination or destination warehouse.

17-4. Minimum Weights

Except as otherwise provided herein, the minimum weight for surface household effects shipments shall be 1,000 pounds (45kg); and the minimum weight of unaccompanied air baggage shipments shall be 45 kilograms (100 lbs).

17-5. Accessorial Services

The accessorial services shown herein, which are not included in the single factor transportation rate will be furnished by the carrier upon request of the shipper at the rates or charges specified herein.

17-6. Additional Services.

A. Geographic application of rates and charges applying to additional services indicated (labor, long caries and storage-related charges at origin) see HTOS paragraph 17-6.1 series.

B. The rates shown opposite the service area and schedule locations in HTOS paragraph 17-7 apply in US dollars and cents for services performed at the named service area locations in HTOS paragraph 17-6.1.

C. Explanations of abbreviations used in HTOS paragraph 17-6-1 series are shown below.

Abbreviation | Meaning | Abbreviation | Meaning
ADDL | Additional | P/D | Pickup Or Delivery
CWT (45KG) | Hundredweight | REG | Regular
EA | Each | SA | Service Area
ELV | Elevator | S/C | Stair Carry
1ST | First | SCH | Schedule
L/C | Long Carry | SIT | Storage-In-Transit
O/T | Overtime | W/H | Warehouse Handling

17-6.1. Service Area Designations

Where reference is made to HTOS paragraph 17-6-1 series, use the service area numbers corresponding to the countries shown therein to determine the applicable rates and charges for services performed at CONUS locations.

17-6.1.1. Alabama Service Areas

County | SA | County | SA | County | SA
2 Autauga | 20 | 46 Dale | 8 | 92 Marengo | 16
4 Baldwin | 16 | 48 Dallas | 20 | 94 Marion | 4
6 Barbour | 212 | 50 De Kalb | 12 | 96 Marshall | 12
8 Bibb | 4 | 52 Elmore | 20 | 98 Mobile | 16
10 Blount | 4 | 54 Escambia | 188 | 100 Monroe | 16
12 Bullock | 20 | 56 Etowah | 4 | 102 Montgomery | 20
14 Butler | 20 | 58 Fayette | 4 | 104 Morgan | 12
16 Calhoun | 4 | 60 Franklin | 12 | 106 Perry | 20
18 Chambers | 212 | 62 Geneva | 8 | 108 Pickens | 436
20 Cherokee | 4 | 64 Greene | 4 | 110 Pike | 20
22 Chilton | 20 | 66 Hale | 4 | 112 Randolph | 4
24 Choctaw | 436 | 68 Henry | 8 | 114 Russell | 212
26 Clarke | 16 | 70 Houston | 8 | 116 Saint Clair | 4
28 Clay | 4 | 72 Jackson | 12 | 118 Shelby | 4
30 Cleburne | 4 | 74 Jefferson | 4 | 120 Sumter | 436
32 Coffee | 8 | 76 Lamar | 4 | 122 Talladega | 4
34 Colbert | 12 | 78 Lauderdale | 12 | 124 Tallapoosa | 20
36 Conecuh | 16 | 80 Lawrence | 12 | 126 Tuscaloosa | 4
38 Coosa | 20 | 82 Lee | 212 | 128 Walker | 4
40 Covington | 188 | 84 Limestone | 12 | 130 Washington | 16
42 Crenshaw | 20 | 86 Lowndes | 20 | 132 Wilcox | 16
44 Cullman | 4 | 88 Macon | 20 | 134 Winston | 4
|  | 90 Madison | 12

17-6.1.2. Arizona Service Areas

County | SA | County | SA | County | SA
2 Apache | 528 | 12 Greenlee | 32 | 22 Pima | 32
4 Cochise | 32 | 14 La Paz | 36 | 24 Pinal | 28
6 Coconino | 24 | 16 Maricopa | 28 | 26 Santa Cruz | 32
8 Gila | 28 | 18 Mohave | 500 | 28 Yavapai | 24
10 Graham | 32 | 20 Navajo | 24 | 30 Yuma | 36

17-6.1.3. Arkansas Service Areas

County | SA | County | SA | County | SA
2 Arkansas | 48 | 52 Garland | 48 | 102 Newton | 40
4 Ashley | 352 | 54 Grant | 48 | 104 Ouachita | 360
6 Baxter | 48 | 56 Greene | 44 | 106 Perry | 48
8 Benton | 40 | 58 Hempstead | 360 | 108 Phillips | 44
10 Boone | 40 | 60 Hot Spring | 48 | 110 Pike | 360
12 Bradley | 352 | 62 Howard | 360 | 112 Poinsett | 44
14 Calhoun | 360 | 64 Independence | 48 | 114 Polk | 40
16 Carroll | 40 | 66 Izard | 48 | 116 Pope | 48
18 Chicot | 424 | 68 Jackson | 44 | 118 Prairie | 48
20 Clark | 48 | 70 Jefferson | 48 | 120 Pulaski | 48
22 Clay | 44 | 72 Johnson | 40 | 122 Randolph | 44
24 Cleburne | 48 | 74 Lafayette | 360 | 124 Saline | 48
26 Cleveland | 48 | 76 Lawrence | 44 | 126 Scott | 40
28 Columbia | 360 | 78 Lee | 44 | 128 Searcy | 48
30 Conway | 48 | 80 Lincoln | 424 | 130 Sebastian | 40
32 Craighead | 44 | 82 Little River | 360 | 132 Sevier | 360
34 Crawford | 40 | 84 Logan | 40 | 134 Sharp | 48
36 Crittenden | 728 | 86 Lonoke | 48 | 136 St. Francis | 44
38 Cross | 44 | 88 Madison | 40 | 138 Stone | 48
40 Dallas | 48 | 90 Marion | 48 | 140 Union | 352
42 Desha | 424 | 92 Miller | 784 | 142 Van Buren | 48
44 Drew | 424 | 94 Mississippi | 44 | 144 Washington | 40
46 Faulkner | 48 | 96 Monroe | 44 | 146 White | 48
48 Franklin | 40 | 98 Montgomery | 40 | 148 Woodruff | 44
50 Fulton | 48 | 100 Nevada | 360 | 150 Yell | 40

17-6.1.4. California Service Areas

County | SA | County | SA | County | SA
2 Alameda | 80 | 40 Madera | 52 | 80 San Luis Obispo | 56
4 Alpine | 68 | 42 Marin | 80 | 82 San Mateo | 80
6 Amador | 68 | 44 Mariposa | 60 | 84 Santa Barbara | 56
8 Butte | 84 | 46 Mendocino | 84 | 86 Santa Clara | 80
10 Calaveras | 68 | 48 Merced | 60 | 88 Santa Cruz | 60
12 Colusa | 84 | 50 Modoc | 64 | 90 Shasta | 64
14 Contra Costa | 80 | 52 Mono | 68 | 92 Sierra | 504
16 Del Norte | 64 | 54 Monterey | 60 | 94 Siskiyou | 64
18 El Dorado | 68 | 56 Napa | 80 | 96 Solano | 68
20 Fresno | 52 | 58 Nevada | 504 | 98 Sonoma | 80
22 Glenn | 84 | 60 Orange | 56 | 100 Stanislaus | 68
24 Humboldt | 64 | 62 Placer | 68 | 102 Sutter | 84
26 Imperial | 76 | 64 Plumas | 84 | 104 Tehama | 64
28 Inyo | 52 | 66 Riverside | 72 | 106 Trinity | 64
30 Kern | 56 | 68 Sacramento | 68 | 108 Tulare | 52
32 Kings | 52 | 70 San Benito | 60 | 110 Tuolumne | 68
34 Lake | 84 | 72 San Bernardino | 72 | 112 Ventura | 56
36 Lassen | 64 | 74 San Diego | 76 | 114 Yolo | 68
38 Los Angeles | 56 | 76 San Francisco | 80 | 116 Yuba | 84
|  | 78 San Joaquin | 68

17-6.1.5. Canada Service Areas

Province | SA | Province | SA | Province | SA
2 Alberta | 88 | 10 New Brunswick | 104 | 20 Quebec | 128
4 British Columbia | 92 | 12 Newfoundland | 108 | 22 Saskatchewan | 132
6 Labrador | 96 | 14 Nova Scotia | 116 | 24 Northwest Territory | 112
8 Manitoba | 100 | 16 Ontario | 120 | 26 Yukon | 136
|  | 18 Prince Edward Isle | 124

17-6.1.6. Colorado Areas

County | SA | County | SA | County | SA
2 Adams | 144 | 44 Fremont | 140 | 86 Montrose | 152
4 Alamosa | 140 | 46 Garfield | 148 | 88 Morgan | 144
6 Arapahoe | 144 | 48 Gilpin | 144 | 90 Otero | 140
8 Archuleta | 156 | 50 Grand | 148 | 92 Ouray | 152
10 Baca | 140 | 52 Gunnison | 156 | 94 Park | 140
12 Bent | 140 | 54 Hinsdale | 156 | 96 Phillips | 144
14 Boulder | 144 | 56 Huerfano | 140 | 98 Pitkin | 156
16 Chaffee | 156 | 58 Jackson | 148 | 100 Prowers | 140
18 Cheyenne | 140 | 60 Jefferson | 144 | 102 Pueblo | 140
20 Clear Creek | 144 | 62 Kiowa | 140 | 104 Rio Blanco | 148
22 Conejos | 156 | 64 Kit Carson | 140 | 106 Rio Grande | 156
24 Costilla | 156 | 66 La Plata | 152 | 108 Routt | 148
26 Crowley | 140 | 68 Lake | 156 | 110 Saguache | 140
28 Custer | 140 | 70 Larimer | 144 | 112 San Juan | 152
30 Delta | 152 | 72 Las Animas | 140 | 114 San Miguel | 152
32 Denver | 144 | 74 Lincoln | 140 | 116 Sedgwick | 144
34 Dolores | 152 | 76 Logan | 144 | 118 Summit | 144
36 Douglas | 144 | 78 Mesa | 152 | 120 Teller | 140
38 Eagle | 148 | 80 Mineral | 156 | 122 Washington | 144
40 El Paso | 140 | 82 Moffat | 148 | 124 Weld | 144
42 Elbert | 144 | 84 Montezuma | 152 | 126 Yuma | 144

17-6.1.7. Connecticut Service Areas

County | SA | County | SA | County | SA
2 Fairfield | 544 | 8 Middlesex | 160 | 14 Tolland | 160
4 Hartford | 160 | 10 New Haven | 160 | 16 Windham | 160
6 Litchfield | 160 | 12 New London | 160

17-6.1.8. Delaware Service Areas

County | SA | County | SA | County | SA
2 Kent | 164 | 4 New Castle | 164 | 6 Sussex | 164

17-6.1.9. District Of Columbia Service Areas

County | SA | County | SA | County | SA
899 Any Point | 168

17-6.1.10. Florida Service Areas

County | SA | County | SA | County | SA
2 Alachua | 176 | 46 Gulf | 188 | 92 Okaloosa | 188
4 Baker | 176 | 48 Hamilton | 192 | 94 Okeechobee | 180
6 Bay | 188 | 50 Hardee | 196 | 96 Orange | 184
8 Bradford | 176 | 52 Hendry | 172 | 98 Osceola | 184
10 Brevard | 184 | 54 Hernando | 196 | 100 Palm Beach | 180
12 Broward | 180 | 56 Highlands | 196 | 102 Pasco | 196
14 Calhoun | 188 | 58 Hillsborough | 196 | 104 Pinellas | 196
16 Charlotte | 172 | 60 Holmes | 188 | 106 Polk | 196
18 Citrus | 196 | 62 Indian River | 184 | 108 Putnam | 176
20 Clay | 176 | 64 Jackson | 8 | 110 Santa Rosa | 188
22 Collier | 172 | 66 Jefferson | 192 | 112 Sarasota | 196
24 Columbia | 176 | 68 Lafayette | 192 | 114 Seminole | 184
26 Dade | 180 | 70 Lake | 184 | 116 St. Johns | 176
28 De Soto | 196 | 72 Lee | 172 | 118 St. Lucie | 180
30 Dixie | 192 | 74 Leon | 192 | 120 Sumter | 196
32 Duval | 176 | 76 Levy | 176 | 122 Suwannee | 192
34 Escambia | 188 | 78 Liberty | 192 | 124 Taylor | 192
36 Flagler | 184 | 80 Madison | 192 | 126 Union | 176
38 Franklin | 192 | 82 Manatee | 196 | 128 Volusia | 184
40 Gadsden | 192 | 84 Marion | 176 | 130 Wakulla | 192
42 Gilchrist | 176 | 86 Martin | 180 | 132 Walton | 188
44 Glades | 172 | 88 Monroe | 180 | 134 Washington | 188
|  | 90 Nassau | 176

17-6.1.11. Georgia Service Areas

County | SA | County | SA | County | SA
2 Appling | 200 | 108 Evans | 216 | 214 Newton | 204
4 Atkinson | 200 | 110 Fannin | 720 | 216 Oconee | 204
6 Bacon | 200 | 112 Fayette | 204 | 218 Oglethorpe | 204
8 Baker | 200 | 114 Floyd | 720 | 220 Paulding | 204
10 Baldwin | 212 | 116 Forsyth | 204 | 222 Peach | 212
12 Banks | 204 | 118 Franklin | 204 | 224 Pickens | 204
14 Barrow | 204 | 120 Fulton | 204 | 226 Pierce | 200
16 Bartow | 204 | 122 Gilmer | 720 | 228 Pike | 212
18 Ben Hill | 200 | 124 Glascock | 208 | 230 Polk | 204
20 Berrien | 200 | 126 Glynn | 176 | 232 Pulaski | 200
22 Bibb | 212 | 128 Gordon | 720 | 234 Putnam | 204
24 Bleckley | 200 | 130 Grady | 192 | 236 Quitman | 212
26 Brantley | 176 | 132 Greene | 204 | 238 Rabun | 204
28 Brooks | 192 | 134 Gwinnett | 204 | 240 Randolph | 200
30 Bryan | 216 | 136 Habersham | 204 | 242 Richmond | 208
32 Bulloch | 216 | 138 Hall | 204 | 244 Rockdale | 204
34 Burke | 208 | 140 Hancock | 204 | 246 Schley | 212
36 Butts | 204 | 142 Haralson | 204 | 248 Screven | 216
38 Calhoun | 200 | 144 Harris | 212 | 250 Seminole | 8
40 Camden | 176 | 146 Hart | 204 | 252 Spalding | 204
42 Candler | 216 | 148 Heard | 204 | 254 Stephens | 204
44 Carroll | 204 | 150 Henry | 204 | 256 Stewart | 212
46 Catoosa | 720 | 152 Houston | 212 | 258 Sumter | 200
48 Charlton | 176 | 154 Irwin | 200 | 260 Talbot | 212
50 Chatham | 216 | 156 Jackson | 204 | 262 Taliaferro | 208
52 Chattahoochee | 212 | 158 Jasper | 204 | 264 Tattnall | 216
54 Chattooga | 720 | 160 Jeff Davis | 200 | 266 Taylor | 212
56 Cherokee | 204 | 162 Jefferson | 208 | 268 Telfair | 200
58 Clarke | 204 | 164 Jenkins | 208 | 270 Terrell | 200
60 Clay | 8 | 166 Johnson | 208 | 272 Thomas | 192
62 Clayton | 204 | 168 Jones | 212 | 274 Tift | 200
64 Clinch | 200 | 170 Lamar | 212 | 276 Toombs | 200
66 Cobb | 204 | 172 Lanier | 200 | 278 Towns | 204
68 Coffee | 200 | 174 Laurens | 200 | 280 Treutlen | 200
70 Colquitt | 200 | 176 Lee | 200 | 282 Troup | 212
72 Columbia | 208 | 178 Liberty | 216 | 284 Turner | 200
74 Cook | 200 | 180 Lincoln | 208 | 286 Twiggs | 212
76 Coweta | 204 | 182 Long | 216 | 288 Union | 204
78 Crawford | 212 | 184 Lowndes | 192 | 290 Upson | 212
80 Crisp | 200 | 186 Lumpkin | 204 | 292 Walker | 720
82 Dade | 720 | 188 Macon | 212 | 294 Walton | 204
84 Dawson | 204 | 190 Madison | 204 | 296 Ware | 200
86 De Kalb | 204 | 192 Marion | 212 | 298 Warren | 208
88 Decatur | 192 | 194 McDuffie | 208 | 300 Washington | 208
90 Dodge | 200 | 196 McIntosh | 216 | 302 Wayne | 216
92 Dooly | 200 | 198 Meriwether | 212 | 304 Webster | 212
94 Dougherty | 200 | 200 Miller | 8 | 306 Wheeler | 200
96 Douglas | 204 | 202 Mitchell | 200 | 308 White | 204
98 Early | 8 | 204 Monroe | 212 | 310 Whitfield | 720
100 Echols | 192 | 206 Montgomery | 200 | 312 Wilcox | 200
102 Effingham | 216 | 208 Morgan | 204 | 314 Wilkes | 208
104 Elbert | 204 | 210 Murray | 720 | 316 Wilkinson | 212
106 Emanuel | 208 | 212 Muscogee | 212 | 318 Worth | 200

17-6.1.12. Hawaii Service Areas

County | SA | County | SA | County | SA
2 Hawaii | 220 | 4 Honolulu | 224 | 8 Maui | 232
|  | 6 Kauai | 228

17-6.1.13. Idaho Service Areas

County | SA | County | SA | County | SA
2 Ada | 236 | 32 Cassia | 244 | 62 Lewis | 836
4 Adams | 236 | 34 Clark | 240 | 64 Lincoln | 244
6 Bannock | 240 | 36 Clearwater | 836 | 66 Madison | 240
8 Bear Lake | 240 | 38 Custer | 244 | 68 Minidoka | 244
10 Benewah | 844 | 40 Elmore | 236 | 70 Nez Perce | 836
12 Bingham | 240 | 42 Franklin | 240 | 72 Oneida | 240
14 Blaine | 244 | 44 Fremont | 240 | 74 Owyhee | 236
16 Boise | 236 | 46 Gem | 236 | 76 Payette | 236
18 Bonner | 844 | 48 Gooding | 244 | 78 Power | 240
20 Bonneville | 240 | 50 Idaho | 836 | 80 Shoshone | 844
22 Boundary | 844 | 52 Jefferson | 240 | 82 Teton | 240
24 Butte | 240 | 54 Jerome | 244 | 84 Twin Falls | 244
26 Camas | 244 | 56 Kootenai | 844 | 86 Valley | 236
28 Canyon | 236 | 58 Latah | 844 | 88 Washington | 236
30 Caribou | 240 | 60 Lemhi | 464

17-6.1.14. Illinois Service Areas.

County | SA | County | SA | County | SA
2 Adams | 264 | 70 Hardin | 336 | 138 Morgan | 264
4 Alexander | 336 | 72 Henderson | 260 | 140 Moultrie | 264
6 Bond | 256 | 74 Henry | 260 | 142 Ogle | 252
8 Boone | 252 | 76 Iroquois | 248 | 144 Peoria | 260
10 Brown | 264 | 78 Jackson | 336 | 146 Perry | 256
12 Bureau | 260 | 80 Jasper | 256 | 148 Piatt | 248
14 Calhoun | 456 | 82 Jefferson | 256 | 150 Pike | 264
16 Carroll | 260 | 84 Jersey | 456 | 152 Pope | 336
18 Cass | 264 | 86 Jo Daviess | 252 | 154 Pulaski | 336
20 Champaign | 248 | 88 Johnson | 336 | 156 Putnam | 260
22 Christian | 264 | 90 Kane | 252 | 158 Randolph | 256
24 Clark | 288 | 92 Kankakee | 252 | 160 Richland | 256
26 Clay | 256 | 94 Kendall | 252 | 162 Rock Island | 260
28 Clinton | 456 | 96 Knox | 260 | 164 Saline | 336
30 Coles | 288 | 98 La Salle | 252 | 166 Sangamon | 264
32 Cook | 252 | 100 Lake | 252 | 168 Schuyler | 264
34 Crawford | 288 | 102 Lawrence | 288 | 170 Scott | 264
36 Cumberland | 288 | 104 Lee | 260 | 172 Shelby | 264
38 De Kalb | 252 | 106 Livingston | 248 | 174 St. Clair | 456
40 De Witt | 264 | 108 Logan | 264 | 176 Stark | 260
42 Douglas | 288 | 110 Macon | 264 | 178 Stephenson | 252
44 Du Page | 252 | 112 Macoupin | 264 | 180 Tazewell | 260
46 Edgar | 288 | 114 Madison | 456 | 182 Union | 336
48 Edwards | 256 | 116 Marion | 256 | 184 Vermilion | 248
50 Effingham | 256 | 118 Marshall | 260 | 186 Wabash | 256
52 Fayette | 256 | 120 Mason | 260 | 188 Warren | 260
54 Ford | 248 | 122 Massac | 336 | 190 Washington | 256
56 Franklin | 256 | 124 McDonough | 260 | 192 Wayne | 256
58 Fulton | 260 | 126 McHenry | 252 | 194 White | 256
60 Gallatin | 336 | 128 McLean | 248 | 196 Whiteside | 260
62 Greene | 264 | 130 Menard | 264 | 198 Will | 252
64 Grundy | 252 | 132 Mercer | 260 | 200 Williamson | 336
66 Hamilton | 256 | 134 Monroe | 456 | 202 Winnebago | 252
68 Hancock | 260 | 136 Montgomery | 264 | 204 Woodford | 260

17-6.1.15. Indiana Service Areas

County | SA | County | SA | County | SA
2 Adams | 276 | 64 Hendricks | 280 | 126 Pike | 272
4 Allen | 276 | 66 Henry | 280 | 128 Porter | 252
6 Bartholomew | 280 | 68 Howard | 284 | 130 Posey | 272
8 Benton | 284 | 70 Huntington | 276 | 132 Pulaski | 284
10 Blackford | 276 | 72 Jackson | 280 | 134 Putnam | 288
12 Boone | 284 | 74 Jasper | 252 | 136 Randolph | 280
14 Brown | 280 | 76 Jay | 276 | 138 Ripley | 608
16 Carroll | 284 | 78 Jefferson | 608 | 140 Rush | 280
18 Cass | 284 | 80 Jennings | 280 | 142 Scott | 608
20 Clark | 332 | 82 Johnson | 280 | 144 Shelby | 280
22 Clay | 288 | 84 Knox | 288 | 146 Spencer | 272
24 Clinton | 284 | 86 Kosciusko | 268 | 148 St. Joseph | 268
26 Crawford | 272 | 88 Lagrange | 276 | 150 Starke | 268
28 Daviess | 288 | 90 Lake | 252 | 152 Steuben | 276
30 Dearborn | 608 | 92 La Porte | 268 | 154 Sullivan | 288
32 Decatur | 280 | 94 Lawrence | 288 | 156 Switzerland | 608
34 De Kalb | 276 | 96 Madison | 280 | 158 Tippecanoe | 284
36 Delaware | 280 | 98 Marion | 280 | 160 Tipton | 280
38 Dubois | 272 | 100 Marshall | 268 | 162 Union | 280
40 Elkhart | 268 | 102 Martin | 288 | 164 Vanderburgh | 272
42 Fayette | 280 | 104 Miami | 284 | 166 Vermillion | 288
44 Floyd | 332 | 106 Monroe | 288 | 168 Vigo | 288
46 Fountain | 284 | 108 Montgomery | 284 | 170 Wabash | 276
48 Franklin | 608 | 110 Morgan | 280 | 172 Warren | 284
50 Fulton | 284 | 112 Newton | 252 | 174 Warrick | 272
52 Gibson | 272 | 114 Noble | 276 | 176 Washington | 272
54 Grant | 280 | 116 Ohio | 608 | 178 Wayne | 280
56 Greene | 288 | 118 Orange | 272 | 180 Wells | 276
58 Hamilton | 280 | 120 Owen | 288 | 182 White | 284
60 Hancock | 280 | 122 Parke | 288 | 184 Whitley | 276
62 Harrison | 332 | 124 Perry | 272

17-6.1.16. Iowa Service Areas

County | SA | County | SA | County | SA
2 Adair | 296 | 68 Floyd | 304 | 134 Monona | 300
4 Adams | 488 | 70 Franklin | 304 | 136 Monroe | 296
6 Allamakee | 304 | 72 Fremont | 488 | 138 Montgomery | 488
8 Appanoose | 296 | 74 Greene | 296 | 140 Muscatine | 292
10 Audubon | 488 | 76 Grundy | 304 | 142 O'Brien | 300
12 Benton | 292 | 78 Guthrie | 296 | 144 Osceola | 300
14 Black Hawk | 304 | 80 Hamilton | 304 | 146 Page | 488
16 Boone | 296 | 82 Hancock | 304 | 148 Palo Alto | 300
18 Bremer | 304 | 84 Hardin | 304 | 150 Plymouth | 300
20 Buchanan | 304 | 86 Harrison | 488 | 152 Pocahontas | 300
22 Buena Vista | 300 | 88 Henry | 292 | 154 Polk | 296
24 Butler | 304 | 90 Howard | 304 | 156 Pottawattamie | 488
26 Calhoun | 300 | 92 Humboldt | 304 | 158 Poweshiek | 296
28 Carroll | 300 | 94 Ida | 300 | 160 Ringgold | 296
30 Cass | 488 | 96 Iowa | 292 | 162 Sac | 300
32 Cedar | 292 | 98 Jackson | 292 | 164 Scott | 292
34 Cerro Gordo | 304 | 100 Jasper | 296 | 166 Shelby | 488
36 Cherokee | 300 | 102 Jefferson | 296 | 168 Sioux | 712
38 Chickasaw | 304 | 104 Johnson | 292 | 170 Story | 296
40 Clarke | 296 | 106 Jones | 292 | 172 Tama | 296
42 Clay | 300 | 108 Keokuk | 296 | 174 Taylor | 488
44 Clayton | 304 | 110 Kossuth | 304 | 176 Union | 296
46 Clinton | 292 | 112 Lee | 292 | 178 Van Buren | 296
48 Crawford | 300 | 114 Linn | 292 | 180 Wapello | 296
50 Dallas | 296 | 116 Louisa | 292 | 182 Warren | 296
52 Davis | 296 | 118 Lucas | 296 | 184 Washington | 292
54 Decatur | 296 | 120 Lyon | 712 | 186 Wayne | 296
56 Delaware | 304 | 122 Madison | 296 | 188 Webster | 304
58 Des Moines | 292 | 124 Mahaska | 296 | 190 Winnebago | 304
60 Dickinson | 300 | 126 Marion | 296 | 192 Winneshiek | 304
62 Dubuque | 304 | 128 Marshall | 296 | 194 Woodbury | 300
64 Emmet | 300 | 130 Mills | 488 | 196 Worth | 304
66 Fayette | 304 | 132 Mitchell | 304 | 198 Wright | 304

17-6.1.17.Kansas Service Areas

County | SA | County | SA | County | SA
2 Allen | 320 | 72 Greeley | 312 | 142 Osborne | 312
4 Anderson | 316 | 74 Greenwood | 320 | 144 Ottawa | 320
6 Atchison | 316 | 76 Hamilton | 308 | 146 Pawnee | 308
8 Barber | 632 | 78 Harper | 320 | 148 Phillips | 312
10 Barton | 312 | 80 Harvey | 320 | 150 Pottawatomie | 316
12 Bourbon | 320 | 82 Haskell | 308 | 152 Pratt | 308
14 Brown | 316 | 84 Hodgeman | 308 | 154 Rawlins | 312
16 Butler | 320 | 86 Jackson | 316 | 156 Reno | 320
18 Chase | 320 | 88 Jefferson | 448 | 158 Republic | 316
20 Chautauqua | 320 | 90 Jewell | 312 | 160 Rice | 312
22 Cherokee | 320 | 92 Johnson | 448 | 162 Riley | 316
24 Cheyenne | 312 | 94 Kearny | 308 | 164 Rooks | 312
26 Clark | 308 | 96 Kingman | 320 | 166 Rush | 312
28 Clay | 316 | 98 Kiowa | 308 | 168 Russell | 312
30 Cloud | 316 | 100 Labette | 320 | 170 Saline | 320
32 Coffey | 316 | 102 Lane | 312 | 172 Scott | 312
34 Comanche | 308 | 104 Leavenworth | 448 | 174 Sedgwick | 320
36 Cowley | 320 | 106 Lincoln | 312 | 176 Seward | 308
38 Crawford | 320 | 108 Linn | 316 | 178 Shawnee | 316
40 Decatur | 312 | 110 Logan | 312 | 180 Sheridan | 312
42 Dickinson | 320 | 112 Lyon | 316 | 182 Sherman | 312
44 Doniphan | 316 | 114 Marion | 320 | 184 Smith | 312
46 Douglas | 448 | 116 Marshall | 316 | 186 Stafford | 308
48 Edwards | 308 | 118 McPherson | 320 | 188 Stanton | 308
50 Elk | 320 | 120 Meade | 308 | 190 Stevens | 308
52 Ellis | 312 | 122 Miami | 448 | 192 Sumner | 320
54 Ellsworth | 312 | 124 Mitchell | 312 | 194 Thomas | 312
56 Finney | 308 | 126 Montgomery | 320 | 196 Trego | 312
58 Ford | 308 | 128 Morris | 316 | 198 Wabaunsee | 316
60 Franklin | 448 | 130 Morton | 308 | 200 Wallace | 312
62 Geary | 316 | 132 Nemaha | 316 | 202 Washington | 316
64 Gove | 312 | 134 Neosho | 320 | 204 Wichita | 312
66 Graham | 312 | 136 Ness | 312 | 206 Wilson | 320
68 Grant | 308 | 138 Norton | 312 | 208 Woodson | 320
70 Gray | 308 | 140 Osage | 316 | 210 Wyandotte | 448

17-6.1.18. Kentucky Service Areas

County | SA | County | SA | County | SA
2 Adair | 324 | 82 Grant | 608 | 162 McLean | 324
4 Allen | 324 | 84 Graves | 336 | 164 Meade | 332
6 Anderson | 332 | 86 Grayson | 324 | 166 Menifee | 860
8 Ballard | 336 | 88 Green | 324 | 168 Mercer | 328
10 Barren | 324 | 90 Greenup | 860 | 170 Metcalfe | 324
12 Bath | 328 | 92 Hancock | 272 | 172 Monroe | 324
14 Bell | 340 | 94 Hardin | 332 | 174 Montgomery | 328
16 Boone | 608 | 96 Harlan | 340 | 176 Morgan | 860
18 Bourbon | 328 | 98 Harrison | 328 | 178 Muhlenberg | 324
20 Boyd | 860 | 100 Hart | 324 | 180 Nelson | 332
22 Boyle | 328 | 102 Henderson | 272 | 182 Nicholas | 328
24 Bracken | 608 | 104 Henry | 332 | 184 Ohio | 324
26 Breathitt | 860 | 106 Hickman | 336 | 186 Oldham | 332
28 Breckinridge | 332 | 108 Hopkins | 324 | 188 Owen | 608
30 Bullitt | 332 | 110 Jackson | 340 | 190 Owsley | 340
32 Butler | 324 | 112 Jefferson | 332 | 192 Pendleton | 608
34 Caldwell | 324 | 114 Jessamine | 328 | 194 DPerry | 340
36 Calloway | 336 | 116 Johnson | 860 | 196 Pike | 860
38 Campbell | 608 | 118 Kenton | 608 | 198 Powell | 860
40 Carlisle | 336 | 120 Knott | 860 | 200 Pulaski | 340
42 Carroll | 608 | 122 Knox | 340 | 202 Robertson | 328
44 Carter | 860 | 124 Larue | 332 | 204 Rockcastle | 340
46 Casey | 340 | 126 Laurel | 340 | 206 Rowan | 860
48 Christian | 324 | 128 Lawrence | 860 | 208 Russell | 340
50 Clark | 328 | 130 Lee | 860 | 210 Scott | 328
52 Clay | 340 | 132 Leslie | 340 | 212 helby | 332
54 Clinton | 340 | 134 Letcher | 860 | 214 Simpson | 324
56 Crittenden | 324 | 136 Lewis | 860 | 216 Spencer | 332
58 Cumberland | 324 | 138 Lincoln | 340 | 218 Taylor | 324
60 Daviess | 272 | 140 Livingston | 336 | 220 Todd | 324
62 Edmonson | 324 | 142 Logan | 324 | 222 Trigg | 324
64 Elliott | 860 | 144 Lyon | 324 | 224 Trimble | 608
66 Estill | 860 | 146 Madison | 328 | 226 Union | 272
68 Fayette | 328 | 148 Magoffin | 860 | 228 Warren | 324
70 Fleming | 328 | 150 Marion | 332 | 230 Washington | 332
72 Floyd | 860 | 152 Marshall | 336 | 232 Wayne | 340
74 Franklin | 332 | 154 Martin | 860 | 234 Webster | 324
76 Fulton | 336 | 156 Mason | 608 | 236 DWhitley | 340
78 Gallatin | 608 | 158 McCracken | 336 | 238 Wolfe | 860
80 Garrard | 328 | 160 McCreary | 340 | 240 DWoodford | 328

17-6.1.19. Louisiana Service Areas

County | SA | County | SA | County | SA
2 Acadia | 348 | 44 Grant | 344 | 88 St. Bernard | 356
4 Allen | 348 | 46 Iberia | 348 | 90 St. Charles | 356
6 Ascension | 356 | 48 Iberville | 356 | 92 St. Helena | 356
8 Assumption | 356 | 50 Jackson | 352 | 94 St. James | 356
0 Avoyelles | 344 | 52 Jefferson | 356 | 96 St. John The Baptist | 356
12 Beauregard | 348 | 54 Jefferson Davis | 348 | 98 St. Landry | 348
14 Bienville | 352 | 56 La Salle | 344 | 100 St. Martin | 348
16 Bossier | 360 | 58 Lafayette | 348 | 102 St. Mary | 348
18 Caddo | 360 | 60 Lafourche | 356 | 104 St. Tammany | 356
20 Calcasieu | 764 | 62 Lincoln | 352 | 106 Tangipahoa | 356
22 Caldwell | 352 | 64 Livingston | 356 | 108 Tensas | 352
24 Cameron | 764 | 66 Madison | 352 | 110 Terrebonne | 356
26 Catahoula | 344 | 68 Morehouse | 352 | 112 Union | 352
28 Claiborne | 352 | 70 Natchitoches | 344 | 114 Vermilion | 348
30 Concordia | 344 | 72 Orleans | 356 | 116 Vernon | 344
32 De Soto | 360 | 74 Ouachita | 352 | 118 Washington | 356
34 East Baton Rouge | 356 | 76 Plaquemines | 356 | 120 Webster | 360
36 East Carroll | 352 | 78 Pointe Coupee | 356 | 122 West Baton Rouge | 356
38 East Feliciana | 356 | 80 Rapides | 344 | 124 West Carroll | 352
40 Evangeline | 348 | 82 Red River | 360 | 126 West Feliciana | 356
42 Franklin | 352 | 84 Richland | 352 | 128 Winn | 344
|  | 86 Sabine | 344

17-6.1.20. Maine Service Areas

County | SA | County | SA | County | SA
2 Androscoggin | 364 | 12 Kennebec | 364 | 24 Sagadahoc | 364
4 Aroostook | 376 | 14 Knox | 364 | 26 Somerset | 368
6 Cumberland | 372 | 16 Lincoln | 364 | 28 Waldo | 364
8 Franklin | 364 | 18 Oxford | 364 | 30 Washington | 368
10 Hancock | 368 | 20 Penobscot | 368 | 32 York | 372
|  | 22 Piscataquis | 368

17-6.1.21. Maryland Service Areas

County | SA | County | SA | County | SA
2 Allegany | 828 | 18 Dorchester | 164 | 34 Queen Annes | 164
4 Anne Arundel | 380 | 20 Frederick | 380 | 36 Somerset | 164
6 Baltimore | 380 | 22 Garrett | 828 | 38 St. Marys | 168
8 Calvert | 168 | 24 Harford | 380 | 40 Talbot | 164
10 Caroline | 164 | 26 Howard | 380 | 42 Washington | 828
12 Carroll | 380 | 28 Kent | 164 | 44 Wicomico | 164
14 Cecil | 380 | 30 Montgomery | 168 | 46 Worcester | 164
16 Charles | 168 | 32 Prince Georges | 168 | 610 Baltimore | 380

17-6.1.22.064 Massachusetts Service Areas

County | SA | County | SA | County | SA
2 Barnstable | 684 | 12 Franklin | 388 | 22 Norfolk | 384
4 Berkshire | 388 | 14 Hampden | 388 | 24 Plymouth | 384
6 Bristol | 684 | 16 Hampshire | 388 | 26 Suffolk | 384
8 Dukes | 684 | 18 Middlesex | 384 | 28 Worcester | 384
10 Essex | 384 | 20 Nantucket | 684

17-6.1.23. Michigan Service Areas

County | SA | County | SA | County | SA
2 Alcona | 396 | 58 Gratiot | 404 | 114 Missaukee | 396
4 Alger | 408 | 60 Hillsdale | 400 | 116 Monroe | 400
6 Allegan | 404 | 62 Houghton | 408 | 118 Montcalm | 404
8 Alpena | 396 | 64 Huron | 400 | 120 Montmorency | 396
10 Antrim | 396 | 66 Ingham | 400 | 122 Muskegon | 404
12 Arenac | 396 | 68 Ionia | 404 | 124 Newaygo | 404
14 Baraga | 408 | 70 Iosco | 396 | 126 Oakland | 400
16 Barry | 404 | 72 Iron | 408 | 128 Oceana | 404
18 Bay | 400 | 74 Isabella | 404 | 130 Ogemaw | 396
20 Benzie | 396 | 76 Jackson | 400 | 132 Ontonagon | 412
22 Berrien | 268 | 78 Kalamazoo | 404 | 134 Osceola | 396
24 Branch | 404 | 80 Kalkaska | 396 | 136 Oscoda | 396
26 Calhoun | 404 | 82 Kent | 404 | 138 Otsego | 396
28 Cass | 268 | 84 Keweenaw | 408 | 140 Ottawa | 404
30 Charlevoix | 396 | 86 Lake | 396 | 142 Presque Isle | 396
32 Cheboygan | 396 | 88 Lapeer | 400 | 144 Roscommon | 396
34 Chippewa | 408 | 90 Leelanau | 396 | 146 Saginaw | 400
36 Clare | 396 | 92 Lenawee | 400 | 148 Sanilac | 400
38 Clinton | 404 | 94 Livingston | 400 | 150 Schoolcraft | 408
40 Crawford | 396 | 96 Luce | 408 | 152 Shiawassee | 400
42 Delta | 408 | 98 Mackinac | 408 | 154 St. Clair | 400
44 Dickinson | 408 | 100 Macomb | 400 | 156 St. Joseph | 404
46 Eaton | 404 | 102 Manistee | 396 | 158 Tuscola | 400
48 Emmet | 396 | 104 Marquette | 408 | 160 Van Buren | 404
50 Genesee | 400 | 106 Mason | 396 | 162 Washtenaw | 400
52 Gladwin | 396 | 108 Mecosta | 404 | 164 Wayne | 400
54 Gogebic | 412 | 110 Menominee | 408 | 166 Wexford | 396
56 Grand Traverse | 396 | 112 Midland | 400

17-6.1.24. Minnesota Service Areas

County | SA | County | SA | County | SA
2 Aitkin | 412 | 60 Isanti | 416 | 118 Pipestone | 712
4 Anoka | 416 | 62 Itasca | 412 | 120 Polk | 600
6 Becker | 596 | 64 Jackson | 712 | 122 Pope | 712
8 Beltrami | 412 | 66 Kanabec | 416 | 124 Ramsey | 416
10 Benton | 416 | 68 Kandiyohi | 712 | 126 Red Lake | 600
12 Big Stone | 712 | 70 Kittson | 600 | 128 Redwood | 712
14 Blue Earth | 420 | 72 Koochiching | 412 | 130 Renville | 712
16 Brown | 420 | 74 Lac Qui Parle | 712 | 132 Rice | 420
18 Carlton | 412 | 76 Lake | 412 | 134 Rock | 712
20 Carver | 416 | 78 Lake Of The Woods | 412 | 136 Roseau | 600
22 Cass | 412 | 80 Le Sueur | 420 | 138 Scott | 416
24 Chippewa | 712 | 82 Lincoln | 712 | 140 Sherburne | 416
26 Chisago | 416 | 84 Lyon | 712 | 142 Sibley | 416
28 Clay | 596 | 86 Mahnomen | 600 | 144 St. Louis | 412
30 Clearwater | 412 | 88 Marshall | 600 | 146 Stearns | 416
32 Cook | 412 | 90 Martin | 420 | 148 Steele | 420
34 Cottonwood | 712 | 92 McLeod | 416 | 150 Stevens | 712
36 Crow Wing | 412 | 94 Meeker | 416 | 152 Swift | 712
38 Dakota | 416 | 96 Mille Lacs | 416 | 154 Todd | 412
40 Dodge | 420 | 98 Morrison | 416 | 156 Traverse | 712
42 Douglas | 596 | 100 Mower | 420 | 158 Wabasha | 420
44 Faribault | 420 | 102 Murray | 712 | 160 Wadena | 412
46 Fillmore | 420 | 104 Nicollet | 420 | 162 Waseca | 420
48 Freeborn | 420 | 106 Nobles | 712 | 164 Washington | 416
50 Goodhue | 420 | 108 Norman | 596 | 166 Watonwan | 420
52 Grant | 596 | 110 Olmsted | 420 | 168 Wilkin | 596
54 Hennepin | 416 | 112 Otter Tail | 596 | 170 Winona | 420
56 Houston | 420 | 114 Pennington | 600 | 172 Wright | 416
58 Hubbard | 412 | 116 Pine | 416 | 174 Yellow Medicine | 712

17-6.1.25. Mississippi Service Areas

County | SA | County | SA | County | SA
2 Adams | 344 | 56 Issaquena | 432 | 112 Perry | 428
4 Alcorn | 440 | 58 Itawamba | 440 | 114 Pike | 432
6 Amite | 432 | 60 Jackson | 428 | 116 Pontotoc | 440
8 Attala | 432 | 62 Jasper | 436 | 118 Prentiss | 440
10 Benton | 440 | 64 Jefferson | 432 | 120 Quitman | 440
12 Bolivar | 424 | 66 Jefferson Davis | 432 | 122 Rankin | 432
14 Calhoun | 440 | 68 Jones | 436 | 124 Scott | 432
16 Carroll | 424 | 70 Kemper | 436 | 126 Sharkey | 432
18 Chickasaw | 440 | 72 Lafayette | 440 | 128 Simpson | 432
20 Choctaw | 440 | 74 Lamar | 428 | 130 Smith | 432
22 Claiborne | 432 | 76 Lauderdale | 436 | 132 Stone | 428
24 Clarke | 436 | 78 Lawrence | 432 | 134 Sunflower | 424
26 Clay | 440 | 80 Leake | 432 | 136 Tallahatchie | 424
28 Coahoma | 440 | 82 Lee | 440 | 138 Tate | 440
30 Copiah | 432 | 84 Leflore | 424 | 140 Tippah | 440
32 Covington | 432 | 86 Lincoln | 432 | 142 Tishomingo | 440
34 De Soto | 728 | 88 Lowndes | 436 | 144 Tunica | 440
36 Forrest | 428 | 90 Madison | 432 | 146 Union | 440
38 Franklin | 432 | 92 Marion | 432 | 148 Walthall | 432
40 George | 428 | 94 Marshall | 440 | 150 Warren | 432
42 Greene | 428 | 96 Monroe | 440 | 152 Washington | 424
44 Grenada | 424 | 98 Montgomery | 424 | 154 Wayne | 436
46 Hancock | 428 | 100 Neshoba | 436 | 156 Webster | 440
48 Harrison | 428 | 102 Newton | 436 | 158 Wilkinson | 344
50 Hinds | 432 | 104 Noxubee | 436 | 160 Winston | 436
52 Holmes | 432 | 106 Oktibbeha | 440 | 162 Yalobusha | 424
54 Humphreys | 424 | 108 Panola | 440 | 164 Yazoo | 432
|  | 110 Pearl River | 428

17-6.1.26. Missouri Service Areas

County | SA | County | SA | County | SA
2 Adair | 444 | 78 Greene | 452 | 156 Pemiscot | 728
4 Andrew | 448 | 80 Grundy | 448 | 158 Perry | 456
6 Atchison | 448 | 82 Harrison | 448 | 160 Pettis | 448
8 Audrain | 444 | 84 Henry | 448 | 162 Phelps | 444
10 Barry | 452 | 86 Hickory | 452 | 164 Pike | 456
12 Barton | 452 | 88 Holt | 448 | 166 Platte | 448
14 Bates | 448 | 90 Howard | 444 | 168 Polk | 452
16 Benton | 448 | 92 Howell | 452 | 170 Pulaski | 444
18 Bollinger | 456 | 94 Iron | 456 | 172 Putnam | 448
20 Boone | 444 | 96 Jackson | 448 | 174 Ralls | 444
22 Buchanan | 448 | 98 Jasper | 452 | 176 Randolph | 444
24 Butler | 456 | 100 Jefferson | 456 | 178 Ray | 448
26 Caldwell | 448 | 102 Johnson | 448 | 180 Reynolds | 456
28 Callaway | 444 | 104 Knox | 444 | 182 Ripley | 456
30 Camden | 452 | 106 Laclede | 452 | 184 Saline | 448
32 Cape Girardeau | 456 | 108 Lafayette | 448 | 186 Schuyler | 444
34 Carroll | 448 | 110 Lawrence | 452 | 188 Scotland | 444
36 Carter | 456 | 112 Lewis | 444 | 190 Scott | 456
38 Cass | 448 | 114 Lincoln | 456 | 192 Shannon | 456
40 Cedar | 452 | 116 Linn | 448 | 194 Shelby | 444
42 Chariton | 448 | 118 Livingston | 448 | 196 St. Charles | 456
44 Christian | 452 | 120 Macon | 444 | 198 St. Clair | 452
46 Clark | 444 | 122 Madison | 456 | 200 St. Francois | 456
48 Clay | 448 | 124 Maries | 444 | 202 St. Louis | 456
50 Clinton | 448 | 126 Marion | 444 | 204 Ste. Genevieve | 456
52 Cole | 444 | 128 McDonald | 452 | 206 Stoddard | 456
54 Cooper | 444 | 130 Mercer | 448 | 208 Stone | 452
56 Crawford | 456 | 132 Miller | 444 | 210 Sullivan | 448
58 Dade | 452 | 134 Mississippi | 336 | 212 Taney | 452
60 Dallas | 452 | 136 Moniteau | 444 | 214 Texas | 452
62 Daviess | 448 | 138 Monroe | 444 | 216 Vernon | 452
64 De Kalb | 448 | 140 Montgomery | 456 | 218 Warren | 456
66 Dent | 456 | 142 Morgan | 448 | 220 Washington | 456
68 Douglas | 452 | 144 New Madrid | 336 | 222 Wayne | 456
70 Dunklin | 728 | 146 Newton | 452 | 224 Webster | 452
72 Franklin | 456 | 148 Nodaway | 448 | 226 Worth | 448
74 Gasconade | 456 | 150 Oregon | 456 | 228 Wright | 452
76 Gentry | 448 | 152 Osage | 444 | 610 St. Louis | 456
| — | 154 Ozark | 452

17-6.1.27. Montana Service Areas

County | SA | County | SA | County | SA
2 Beaverhead | 464 | 40 Granite | 476 | 78 Powell | 472
4 Big Horn | 460 | 42 Hill | 472 | 80 Prairie | 468
6 Blaine | 468 | 44 Jefferson | 464 | 82 Ravalli | 476
8 Broadwater | 464 | 46 Judith Basin | 472 | 84 Richland | 468
10 Carbon | 460 | 48 Lake | 476 | 86 Roosevelt | 468
12 Carter | 460 | 50 Lewis and Clark | 472 | 88 Rosebud | 460
14 Cascade | 472 | 52 Liberty | 472 | 90 Sanders | 476
16 Chouteau | 472 | 54 Lincoln | 476 | 92 Sheridan | 468
18 Custer | 460 | 56 Madison | 464 | 94 Silver Bow | 464
20 Daniels | 468 | 58 McCone | 468 | 96 Stillwater | 460
22 Dawson | 468 | 60 Meagher | 472 | 98 Sweet Grass | 460
24 Deer Lodge | 464 | 62 Mineral | 476 | 100 Teton | 472
26 Fallon | 460 | 64 Missoula | 476 | 102 Toole | 472
28 Fergus | 472 | 66 Musselshell | 460 | 104 Treasure | 460
30 Flathead | 476 | 68 Park | 464 | 106 Valley | 468
32 Gallatin | 464 | 70 Petroleum | 468 | 108 Wheatland | 472
34 Garfield | 468 | 72 Phillips | 468 | 110 Wibaux | 468
36 Glacier | 472 | 74 Pondera | 472 | 112 Yellowstone | 460
38 Golden Valley | 460 | 76 Powder River | 460

17-6.1.28. Nebraska Service Areas

County | SA | County | SA | County | SA
2 Adams | 480 | 64 Frontier | 484 | 126 Nance | 480
4 Antelope | 480 | 66 Furnas | 484 | 128 Nemaha | 488
6 Arthur | 484 | 68 Gage | 488 | 130 Nuckolls | 480
8 Banner | 492 | 70 Garden | 492 | 132 Otoe | 488
10 Blaine | 484 | 72 Garfield | 480 | 134 Pawnee | 488
12 Boone | 480 | 74 Gosper | 484 | 136 Perkins | 484
14 Box Butte | 492 | 76 Grant | 484 | 138 Phelps | 480
16 Boyd | 480 | 78 Greeley | 480 | 140 Pierce | 480
18 Brown | 484 | 80 Hall | 480 | 142 Platte | 480
20 Buffalo | 480 | 82 Hamilton | 480 | 144 Polk | 480
22 Burt | 488 | 84 Harlan | 480 | 146 Red Willow | 484
24 Butler | 488 | 86 Hayes | 484 | 148 Richardson | 488
26 Cass | 488 | 88 Hitchcock | 484 | 150 Rock | 484
28 Cedar | 300 | 90 Holt | 480 | 152 Saline | 488
30 Chase | 484 | 92 Hooker | 484 | 154 Sarpy | 488
32 Cherry | 484 | 94 Howard | 480 | 156 Saunders | 488
34 Cheyenne | 492 | 96 Jefferson | 488 | 158 Scotts Bluff | 492
36 Clay | 480 | 98 Johnson | 488 | 160 Seward | 488
38 Colfax | 488 | 100 Kearney | 480 | 162 Sheridan | 492
40 Cuming | 488 | 102 Keith | 484 | 164 Sherman | 480
42 Custer | 484 | 104 Keya Paha | 484 | 166 Sioux | 492
44 Dakota | 300 | 106 Kimball | 492 | 168 Stanton | 488
46 Dawes | 492 | 108 Knox | 480 | 170 Thayer | 480
48 Dawson | 484 | 110 Lancaster | 488 | 172 Thomas | 484
50 Deuel | 492 | 112 Lincoln | 484 | 174 Thurston | 300
52 Dixon | 300 | 114 Logan | 484 | 176 Valley | 480
54 Dodge | 488 | 116 Loup | 484 | 178 Washington | 488
56 Douglas | 488 | 118 Madison | 480 | 180 Wayne | 300
58 Dundy | 484 | 120 McPherson | 484 | 182 Webster | 480
60 Fillmore | 480 | 122 Merrick | 480 | 184 Wheeler | 480
62 Franklin | 480 | 124 Morrill | 492 | 186 York | 480

17-6.1.29. Nevada Service Areas

County | SA | County | SA | County | SA
2 Carson City | 504 | 14 Eureka | 496 | 26 Nye | 496
4 Churchill | 504 | 16 Humboldt | 496 | 30 Pershing | 496
6 Clark | 500 | 18 Lander | 496 | 32 Storey | 504
8 Douglas | 504 | 20 Lincoln | 500 | 34 Washoe | 504
10 Elko | 496 | 22 Lyon | 504 | 36 White Pine | 496
12 Esmeralda | 496 | 24 Mineral | 504

17-6.1.30. New Hampshire Service Areas

County | SA | County | SA | County | SA
2 Belknap | 508 | 8 Coos | 508 | 16 Rockingham | 384
4 Carroll | 508 | 10 Grafton | 508 | 18 Strafford | 372
6 Cheshire | 372 | 12 Hillsboro | 384 | 20 Sullivan | 372
|  | 14 Merrimack | 372

17-6.1.31. New Jersey Service Areas

County | SA | County | SA | County | SA
2 Atlantic | 512 | 16 Gloucester | 672 | 30 Ocean | 512
4 Bergen | 544 | 18 Hudson | 544 | 32 Passaic | 544
6 Burlington | 672 | 20 Hunterdon | 544 | 34 Salem | 672
8 Camden | 672 | 22 Mercer | 672 | 36 Somerset | 544
10 Cape May | 512 | 24 Middlesex | 544 | 38 Sussex | 544
12 Cumberland | 512 | 26 Monmouth | 544 | 40 Union | 544
14 Essex | 544 | 28 Morris | 544 | 42 Warren | 672

17-6.1.32.New Mexico Service Areas

County | SA | County | SA | County | SA
2 Bernalillo | 516 | 24 Harding | 740 | 46 Roosevelt | 524
4 Catron | 528 | 26 Hidalgo | 532 | 48 San Juan | 528
6 Chaves | 520 | 28 Lea | 520 | 50 San Miguel | 516
8 Cibola | 528 | 30 Lincoln | 520 | 52 Sandoval | 516
10 Colfax | 516 | 32 Los Alamos | 516 | 54 Santa Fe | 516
12 Curry | 524 | 34 Luna | 532 | 56 Sierra | 532
14 De Baca | 524 | 36 McKinley | 528 | 58 Socorro | 516
16 Dona Ana | 532 | 38 Mora | 516 | 60 Taos | 516
18 Eddy | 520 | 40 Otero | 532 | 62 Torrance | 516
20 Grant | 532 | 42 Quay | 740 | 64 Union | 740
22 Guadalupe | 524 | 44 Rio Arriba | 516 | 66 Valencia | 516

17-6.1.33. New York Service Areas

County | SA | County | SA | County | SA
2 Albany | 536 | 44 Herkimer | 556 | 86 Richmond | 544
4 Allegany | 540 | 46 Jefferson | 556 | 88 Rockland | 544
6 Bronx | 544 | 48 Kings | 544 | 90 Saratoga | 556
8 Broome | 680 | 50 Lewis | 556 | 92 Schenectady | 536
10 Cattaraugus | 540 | 52 Livingston | 540 | 94 Schoharie | 536
12 Cayuga | 552 | 54 Madison | 552 | 96 Schuyler | 552
14 Chautauqua | 668 | 56 Monroe | 540 | 98 Seneca | 552
16 Chemung | 680 | 58 Montgomery | 536 | 100 St. Lawrence | 548
18 Chenango | 552 | 60 Nassau | 544 | 102 Steuben | 540
20 Clinton | 548 | 62 New York | 544 | 104 Suffolk | 544
22 Columbia | 536 | 64 Niagara | 540 | 106 Sullivan | 536
24 Cortland | 552 | 66 Oneida | 556 | 108 Tioga | 680
26 Delaware | 536 | 68 Onondaga | 552 | 110 Tompkins | 552
28 Dutchess | 544 | 70 Ontario | 540 | 112 Ulster | 544
30 Erie | 540 | 72 Orange | 544 | 114 Warren | 556
32 Essex | 548 | 74 Orleans | 540 | 116 Washington | 556
34 Franklin | 548 | 76 Oswego | 556 | 118 Wayne | 540
36 Fulton | 556 | 78 Otsego | 536 | 120 Westchester | 544
38 Genesee | 540 | 80 Putnam | 544 | 122 Wyoming | 540
40 Greene | 536 | 82 Queens | 544 | 124 Yates | 552
42 Hamilton | 556 |  |  | 84 Rensselaer | 536

17-6.1.34. North Carolina Service Areas

County | SA | County | SA | County | SA
2 Alamance | 584 | 68 Forsyth | 584 | 136 Orange | 580
4 Alexander | 564 | 70 Franklin | 580 | 138 Pamlico | 576
6 Alleghany | 584 | 72 Gaston | 564 | 140 Pasquotank | 816
8 Anson | 564 | 74 Gates | 816 | 142 Pender | 576
10 Ashe | 584 | 76 Graham | 560 | 144 Perquimans | 816
12 Avery | 584 | 78 Granville | 580 | 146 Person | 580
14 Beaufort | 572 | 80 Greene | 572 | 148 Pitt | 572
16 Bertie | 572 | 82 Guilford | 584 | 150 Polk | 560
18 Bladen | 568 | 84 Halifax | 572 | 152 Randolph | 584
20 Brunswick | 576 | 86 Harnett | 568 | 154 Richmond | 564
22 Buncombe | 560 | 88 Haywood | 560 | 156 Robeson | 568
24 Burke | 564 | 90 Henderson | 560 | 158 Rockingham | 584
26 Cabarrus | 564 | 92 Hertford | 572 | 160 Rowan | 564
28 Caldwell | 584 | 94 Hoke | 568 | 162 Rutherford | 560
30 Camden | 816 | 96 Hyde | 572 | 164 Sampson | 568
32 Carteret | 576 | 98 Iredell | 564 | 166 Scotland | 568
34 Caswell | 580 | 100 Jackson | 560 | 168 Stanly | 564
36 Catawba | 564 | 102 Johnston | 580 | 170 Stokes | 584
38 Chatham | 580 | 104 Jones | 576 | 172 Surry | 584
40 Cherokee | 720 | 106 Lee | 568 | 174 Swain | 560
42 Chowan | 816 | 108 Lenoir | 572 | 176 Transylvania | 560
44 Clay | 560 | 110 Lincoln | 564 | 178 Tyrrell | 572
46 Cleveland | 564 | 112 Macon | 560 | 180 Union | 564
48 Columbus | 568 | 114 Madison | 560 | 182 Vance | 580
50 Craven | 576 | 116 Martin | 572 | 184 Wake | 580
52 Cumberland | 568 | 118 McDowell | 560 | 186 Warren | 580
54 Currituck | 816 | 120 Mecklenburg | 564 | 188 Washington | 572
56 Dare | 572 | 122 Mitchell | 560 | 190 Watauga | 584
58 Davidson | 584 | 124 Montgomery | 564 | 192 Wayne | 572
60 Davie | 584 | 126 Moore | 568 | 194 Wilkes | 584
62 Duplin | 576 | 128 Nash | 572 | 196 Wilson | 572
64 Durham | 580 | 130 New Hanover | 576 | 198 Yadkin | 584
66 Edgecombe | 572 | 132 Northampton | 572 | 200 Yancey | 560
|  | 134 Onslow | 576

17-6.1.35. North Dakota Service Areas

County | SA | County | SA | County | SA
2 Adams | 592 | 38 Grant | 588 | 74 Ransom | 596
4 Barnes | 596 | 40 Griggs | 596 | 76 Renville | 604
6 Benson | 600 | 42 Hettinger | 592 | 78 Richland | 596
8 Billings | 592 | 44 Kidder | 588 | 80 Rolette | 604
10 Bottineau | 604 | 46 La Moure | 596 | 82 Sargent | 596
12 Bowman | 592 | 48 Logan | 588 | 84 Sheridan | 588
14 Burke | 604 | 50 McHenry | 604 | 86 Sioux | 588
16 Burleigh | 588 | 52 McIntosh | 588 | 88 Slope | 592
18 Cass | 596 | 54 McKenzie | 592 | 90 Stark | 592
20 Cavalier | 600 | 56 McLean | 588 | 92 Steele | 596
22 Dickey | 596 | 58 Mercer | 588 | 94 Stutsman | 596
24 Divide | 604 | 60 Morton | 588 | 96 Towner | 600
26 Dunn | 592 | 62 Mountrail | 604 | 98 Traill | 596
28 Eddy | 600 | 64 Nelson | 600 | 100 Walsh | 600
30 Emmons | 588 | 66 Oliver | 588 | 102 Ward | 604
32 Foster | 596 | 68 Pembina | 600 | 104 Wells | 588
34 Golden Valley | 592 | 70 Pierce | 604 | 106 Williams | 604
36 Grand Forks | 600 | 72 Ramsey | 600

17-6.1.36. Ohio Service Areas

County | SA | County | SA | County | SA
2 Adams | 608 | 60 Guernsey | 624 | 120 Muskingum | 616
4 Allen | 628 | 62 Hamilton | 608 | 122 Noble | 624
6 Ashland | 612 | 64 Hancock | 628 | 124 Ottawa | 628
8 Ashtabula | 668 | 66 Hardin | 628 | 126 Paulding | 628
10 Athens | 624 | 68 Harrison | 676 | 128 Perry | 616
12 Auglaize | 628 | 70 Henry | 628 | 130 Pickaway | 616
14 Belmont | 676 | 72 Highland | 608 | 132 Pike | 624
16 Brown | 608 | 74 Hocking | 624 | 134 Portage | 612
18 Butler | 608 | 76 Holmes | 612 | 136 Preble | 620
20 Carroll | 676 | 78 Huron | 612 | 138 Putnam | 628
22 Champaign | 620 | 80 Jackson | 860 | 140 Richland | 612
24 Clark | 620 | 82 Jefferson | 676 | 142 Ross | 624
26 Clermont | 608 | 84 Knox | 616 | 144 Sandusky | 628
28 Clinton | 608 | 86 Lake | 612 | 146 Scioto | 860
30 Columbiana | 676 | 88 Lawrence | 860 | 148 Seneca | 628
32 Coshocton | 616 | 90 Licking | 616 | 150 Shelby | 628
34 Crawford | 628 | 92 Logan | 628 | 152 Stark | 612
36 Cuyahoga | 612 | 94 Lorain | 612 | 154 Summit | 612
38 Darke | 620 | 96 Lucas | 628 | 156 Trumbull | 612
40 Defiance | 628 | 98 Madison | 616 | 158 Tuscarawas | 612
42 Delaware | 616 | 100 Mahoning | 612 | 160 Union | 616
44 Erie | 612 | 102 Marion | 616 | 162 Van Wert | 628
46 Fairfield | 616 | 104 Medina | 612 | 164 Vinton | 624
48 Fayette | 616 | 106 Meigs | 624 | 166 Warren | 608
50 Franklin | 616 | 108 Mercer | 628 | 168 Washington | 624
52 Fulton | 628 | 110 Miami | 620 | 170 Wayne | 612
54 Gallia | 860 | 112 Monroe | 624 | 172 Williams | 628
56 Geauga | 612 | 114 Montgomery | 620 | 174 Wood | 628
58 Greene | 620 | 116 Morgan | 624 | 176 Wyandot | 628
|  | 118 Morrow | 616 |  |

17-6.1.37. Oklahoma Service Areas

County | SA | County | SA | County | SA
2 Adair | 640 | 54 Grant | 632 | 106 Nowata | 640
4 Alfalfa | 632 | 56 Greer | 788 | 108 Okfuskee | 636
6 Atoka | 636 | 58 Harmon | 788 | 110 Oklahoma | 636
8 Beaver | 308 | 60 Harper | 632 | 112 Okmulgee | 640
10 Beckham | 636 | 62 Haskell | 40 | 114 Osage | 640
12 Blaine | 632 | 64 Hughes | 636 | 116 Ottawa | 452
14 Bryan | 636 | 66 Jackson | 788 | 118 Pawnee | 640
16 Caddo | 636 | 68 Jefferson | 636 | 120 Payne | 636
18 Canadian | 636 | 70 Johnston | 636 | 122 Pittsburg | 40
20 Carter | 636 | 72 Kay | 632 | 124 Pontotoc | 636
22 Cherokee | 640 | 74 Kingfisher | 632 | 126 Pottawatomie | 636
24 Choctaw | 360 | 76 Kiowa | 636 | 128 Pushmataha | 360
26 Cimarron | 308 | 78 Latimer | 40 | 130 Roger Mills | 632
28 Cleveland | 636 | 80 Le Flore | 40 | 132 Rogers | 640
30 Coal | 636 | 82 Lincoln | 636 | 134 Seminole | 636
32 Comanche | 636 | 84 Logan | 636 | 136 Sequoyah | 640
34 Cotton | 636 | 86 Love | 636 | 138 Stephens | 636
36 Craig | 640 | 88 Major | 632 | 140 Texas | 308
38 Creek | 640 | 90 Marshall | 636 | 142 Tillman | 788
40 Custer | 632 | 92 Mayes | 640 | 144 Tulsa | 640
42 Delaware | 640 | 94 McClain | 636 | 146 Wagoner | 640
44 Dewey | 632 | 96 McCurtain | 360 | 148 Washington | 640
46 Ellis | 632 | 98 McIntosh | 40 | 150 Washita | 636
48 Garfield | 632 | 100 Murray | 636 | 152 Woods | 632
50 Garvin | 636 | 102 Muskogee | 640 | 154 Woodward | 632
52 Grady | 636 | 104 Noble | 632 |  |

17-6.1.38. Oregon Service Areas

County | SA | County | SA | County | SA
2 Baker | 656 | 26 Harney | 644 | 50 Morrow | 656
4 Benton | 648 | 28 Hood River | 660 | 52 Multnomah | 660
6 Clackamas | 660 | 30 Jackson | 652 | 54 Polk | 660
8 Clatsop | 660 | 32 Jefferson | 644 | 56 Sherman | 660
10 Columbia | 660 | 34 Josephine | 652 | 58 Tillamook | 660
12 Coos | 652 | 36 Klamath | 652 | 60 Umatilla | 656
14 Crook | 644 | 38 Lake | 644 | 62 Union | 656
16 Curry | 652 | 40 Lane | 648 | 64 Wallowa | 656
18 Deschutes | 644 | 42 Lincoln | 648 | 66 Wasco | 660
20 Douglas | 652 | 44 Linn | 648 | 68 Washington | 660
22 Gilliam | 660 | 46 Malheur | 236 | 70 Wheeler | 644
24 Grant | 644 | 48 Marion | 660 | 72 Yamhill | 660

17-6.1.39. Pennsylvania Service Areas

County | SA | County | SA | County | SA
2 Adams | 672 | 46 Delaware | 672 | 92 Montgomery | 672
4 Allegheny | 676 | 48 Elk | 668 | 94 Montour | 680
6 Armstrong | 676 | 50 Erie | 668 | 96 Northampton | 672
8 Beaver | 676 | 52 Fayette | 676 | 98 Northumberland | 680
10 Bedford | 664 | 54 Forest | 668 | 100 Perry | 672
12 Berks | 672 | 56 Franklin | 664 | 102 Philadelphia | 672
14 Blair | 664 | 58 Fulton | 664 | 104 Pike | 680
16 Bradford | 680 | 60 Greene | 676 | 106 Potter | 664
18 Bucks | 672 | 62 Huntingdon | 664 | 108 Schuylkill | 680
20 Butler | 676 | 64 Indiana | 676 | 110 Snyder | 664
22 Cambria | 664 | 66 Jefferson | 668 | 112 Somerset | 676
24 Cameron | 668 | 68 Juniata | 664 | 114 Sullivan | 680
26 Carbon | 680 | 70 Lackawanna | 680 | 116 Susquehanna | 680
28 Centre | 664 | 72 Lancaster | 672 | 118 Tioga | 680
30 Chester | 672 | 74 Lawrence | 676 | 120 Union | 664
32 Clarion | 668 | 76 Lebanon | 672 | 122 Venango | 668
34 Clearfield | 664 | 78 Lehigh | 672 | 124 Warren | 668
36 Clinton | 664 | 80 Luzerne | 680 | 126 Washington | 676
38 Columbia | 680 | 82 Lycoming | 680 | 128 Wayne | 680
40 Crawford | 668 | 84 McKean | 668 | 130 Westmoreland | 676
42 Cumberland | 672 | 86 Mercer | 668 | 132 Wyoming | 680
44 Dauphin | 672 | 88 Mifflin | 664 | 134 York | 672
|  | 90 Monroe | 680 |  |

17-6.1.40. Rhode Island Service Areas

County | SA | County | SA | County | SA
2 Bristol | 684 | 6 Newport | 684 | 10 Washington | 684
4 Kent | 684 | 8 Providence | 684 |  |

17-6.1.41. South Carolina Service Areas

County | SA | County | SA | County | SA
2 Abbeville | 688 | 32 Darlington | 696 | 64 Lexington | 696
4 Aiken | 208 | 34 Dillon | 696 | 66 Marion | 696
6 Allendale | 692 | 36 Dorchester | 692 | 68 Marlboro | 564
8 Anderson | 688 | 38 Edgefield | 208 | 70 McCormick | 208
10 Bamberg | 692 | 40 Fairfield | 696 | 72 Newberry | 688
12 Barnwell | 692 | 42 Florence | 696 | 74 Oconee | 688
14 Beaufort | 692 | 44 Georgetown | 696 | 76 Orangeburg | 696
16 Berkeley | 692 | 46 Greenville | 688 | 78 Pickens | 688
18 Calhoun | 696 | 48 Greenwood | 688 | 80 Richland | 696
20 Charleston | 692 | 50 Hampton | 692 | 82 Saluda | 688
22 Cherokee | 688 | 52 Horry | 696 | 84 Spartanburg | 688
24 Chester | 564 | 54 Jasper | 692 | 86 Sumter | 696
26 Chesterfield | 564 | 56 Kershaw | 696 | 88 Union | 688
28 Clarendon | 696 | 58 Lancaster | 564 | 90 Williamsburg | 696
30 Colleton | 692 | 60 Laurens | 688 | 92 York | 564
|  | 62 Lee | 696 |  |

17-6.1.42. South Dakota Service Areas

County | SA | County | SA | County | SA
2 Aurora | 704 | 46 Fall River | 708 | 90 McPherson | 700
4 Beadle | 712 | 48 Faulk | 700 | 92 Meade | 708
6 Bennett | 704 | 50 Grant | 700 | 94 Mellette | 704
8 Bon Homme | 712 | 52 Gregory | 704 | 96 Miner | 712
10 Brookings | 712 | 54 Haakon | 704 | 98 Minnehaha | 712
12 Brown | 700 | 56 Hamlin | 700 | 100 Moody | 712
14 Brule | 704 | 58 Hand | 704 | 102 Pennington | 708
16 Buffalo | 704 | 60 Hanson | 712 | 104 Perkins | 708
18 Butte | 708 | 62 Harding | 708 | 106 Potter | 700
20 Campbell | 700 | 64 Hughes | 704 | 108 Roberts | 700
22 Charles Mix | 704 | 66 Hutchinson | 712 | 110 Sanborn | 712
24 Clark | 700 | 68 Hyde | 704 | 112 Shannon | 708
26 Clay | 712 | 70 Jackson | 704 | 114 Spink | 700
28 Codington | 700 | 72 Jerauld | 704 | 116 Stanley | 704
30 Corson | 708 | 74 Jones | 704 | 118 Sully | 704
32 Custer | 708 | 76 Kingsbury | 712 | 120 Todd | 704
34 Davison | 712 | 78 Lake | 712 | 122 Tripp | 704
36 Day | 700 | 80 Lawrence | 708 | 124 Turner | 712
38 Deuel | 712 | 82 Lincoln | 712 | 126 Union | 712
40 Dewey | 708 | 84 Lyman | 704 | 128 Walworth | 700
42 Douglas | 704 | 86 Marshall | 700 | 132 Yankton | 712
44 Edmunds | 700 | 88 McCook | 712 | 134 Ziebach | 708

17-6.1.43. Tennessee Service Areas

County | SA | County | SA | County | SA
2 Anderson | 724 | 66 Hamilton | 720 | 130 Morgan | 724
4 Bedford | 732 | 68 Hancock | 716 | 132 Obion | 728
6 Benton | 728 | 70 Hardeman | 728 | 134 Overton | 732
8 Bledsoe | 720 | 72 Hardin | 728 | 136 Perry | 732
10 Blount | 724 | 74 Hawkins | 716 | 138 Pickett | 724
12 Bradley | 720 | 76 Haywood | 728 | 140 Polk | 720
14 Campbell | 724 | 78 Henderson | 728 | 142 Putnam | 732
16 Cannon | 732 | 80 Henry | 728 | 144 Rhea | 720
18 Carroll | 728 | 82 Hickman | 732 | 146 Roane | 724
20 Carter | 716 | 84 Houston | 732 | 148 Robertson | 732
22 Cheatham | 732 | 86 Humphreys | 732 | 150 Rutherford | 732
24 Chester | 728 | 88 Jackson | 732 | 152 Scott | 724
26 Claiborne | 724 | 90 Jefferson | 724 | 154 Sequatchie | 720
28 Clay | 732 | 92 Johnson | 716 | 156 Sevier | 724
30 Cocke | 724 | 94 Knox | 724 | 158 Shelby | 728
32 Coffee | 12 | 96 Lake | 728 | 160 Smith | 732
34 Crockett | 728 | 98 Lauderdale | 728 | 162 Stewart | 732
36 Cumberland | 724 | 100 Lawrence | 732 | 164 Sullivan | 716
38 Davidson | 732 | 102 Lewis | 732 | 166 Sumner | 732
40 De Kalb | 732 | 104 Lincoln | 12 | 168 Tipton | 728
42 Decatur | 732 | 106 Loudon | 724 | 170 Trousdale | 732
44 Dickson | 732 | 108 Macon | 732 | 172 Unicoi | 716
46 Dyer | 728 | 110 Madison | 728 | 174 Union | 724
48 Fayette | 728 | 112 Marion | 720 | 176 Van Buren | 720
50 Fentress | 724 | 114 Marshall | 732 | 178 Warren | 732
52 Franklin | 12 | 116 Maury | 732 | 180 Washington | 716
54 Gibson | 728 | 118 McMinn | 720 | 182 Wayne | 732
56 Giles | 732 | 120 McNairy | 728 | 184 Weakley | 728
58 Grainger | 724 | 122 Meigs | 720 | 186 White | 732
60 Greene | 716 | 124 Monroe | 720 | 188 Williamson | 732
62 Grundy | 720 | 126 Montgomery | 732 | 190 Wilson | 732
64 Hamblen | 724 | 128 Moore | 12 |  |

17-6.1.44. Texas Service Areas

County | SA | County | SA | County | SA
2 Anderson | 784 | 172 Gillespie | 744 | 342 Moore | 740
4 Andrews | 776 | 174 Glasscock | 776 | 344 Morris | 784
6 Angelina | 764 | 176 Goliad | 748 | 346 Motley | 772
8 Aransas | 748 | 178 Gonzales | 780 | 348 Nacogdoches | 784
10 Archer | 788 | 180 Gray | 740 | 350 Navarro | 752
12 Armstrong | 740 | 182 Grayson | 752 | 352 Newton | 764
14 Atascosa | 780 | 184 Gregg | 784 | 354 Nolan | 776
16 Austin | 744 | 186 Grimes | 764 | 356 Nueces | 748
18 Bailey | 772 | 188 Guadalupe | 780 | 358 Ochiltree | 740
20 Bandera | 780 | 190 Hale | 772 | 360 Oldham | 740
22 Bastrop | 744 | 192 Hall | 772 | 362 Orange | 764
24 Baylor | 788 | 194 Hamilton | 736 | 364 Palo Pinto | 736
26 Bee | 748 | 196 Hansford | 740 | 366 Panola | 784
28 Bell | 744 | 198 Hardeman | 788 | 368 Parker | 752
30 Bexar | 780 | 200 Hardin | 764 | 370 Parmer | 772
32 Blanco | 744 | 202 Harris | 764 | 372 Pecos | 756
34 Borden | 776 | 204 Harrison | 784 | 374 Polk | 764
36 Bosque | 752 | 206 Hartley | 740 | 376 Potter | 740
38 Bowie | 784 | 208 Haskell | 788 | 378 Presidio | 760
40 Brazoria | 764 | 210 Hays | 744 | 380 Rains | 784
42 Brazos | 744 | 212 Hemphill | 740 | 382 Randall | 740
44 Brewster | 760 | 214 Henderson | 784 | 384 Reagan | 776
46 Briscoe | 772 | 216 Hidalgo | 748 | 386 Real | 756
48 Brooks | 748 | 218 Hill | 752 | 388 Red River | 784
50 Brown | 736 | 220 Hockley | 772 | 390 Reeves | 760
52 Burleson | 744 | 222 Hood | 752 | 392 Refugio | 748
54 Burnet | 744 | 224 Hopkins | 784 | 394 Roberts | 740
56 Caldwell | 744 | 226 Houston | 764 | 396 Robertson | 744
58 Calhoun | 748 | 228 Howard | 776 | 398 Rockwall | 752
60 Callahan | 736 | 230 Hudspeth | 760 | 400 Runnels | 736
62 Cameron | 748 | 232 Hunt | 752 | 402 Rusk | 784
64 Camp | 784 | 234 Hutchinson | 740 | 404 Sabine | 784
66 Carson | 740 | 236 Irion | 776 | 406 San Augustine | 784
68 Cass | 784 | 238 Jack | 788 | 408 San Jacinto | 764
70 Castro | 772 | 240 Jackson | 764 | 410 San Patricio | 748
72 Chambers | 764 | 242 Jasper | 764 | 412 San Saba | 736
74 Cherokee | 784 | 244 Jeff Davis | 760 | 414 Schleicher | 756
76 Childress | 772 | 246 Jefferson | 764 | 416 Scurry | 776
78 Clay | 788 | 248 Jim Hogg | 768 | 418 Shackelford | 736
80 Cochran | 772 | 250 Jim Wells | 748 | 420 Shelby | 784
82 Coke | 776 | 252 Johnson | 752 | 422 Sherman | 740
84 Coleman | 736 | 254 Jones | 736 | 424 Smith | 784
86 Collin | 752 | 256 Karnes | 780 | 426 Somervell | 752
88 Collingsworth | 740 | 258 Kaufman | 752 | 428 Starr | 768
90 Colorado | 744 | 260 Kendall | 780 | 430 Stephens | 736
92 Comal | 780 | 262 Kenedy | 748 | 432 Sterling | 776
94 Comanche | 736 | 264 Kent | 772 | 434 Stonewall | 772
96 Concho | 736 | 266 Kerr | 780 | 436 Sutton | 756
98 Cooke | 752 | 268 Kimble | 736 | 438 Swisher | 772
100 Coryell | 744 | 270 King | 772 | 440 Tarrant | 752
102 Cottle | 772 | 272 Kinney | 756 | 442 Taylor | 736
104 Crane | 776 | 274 Kleberg | 748 | 444 Terrell | 756
106 Crockett | 756 | 276 Knox | 788 | 446 Terry | 772
108 Crosby | 772 | 278 La Salle | 768 | 448 Throckmorton | 788
110 Culberson | 760 | 280 Lamar | 784 | 450 Titus | 784
112 Dallam | 740 | 282 Lamb | 772 | 452 Tom Green | 776
114 Dallas | 752 | 284 Lampasas | 744 | 454 Travis | 744
116 Dawson | 776 | 286 Lavaca | 780 | 456 Trinity | 764
118 De Witt | 780 | 288 Lee | 744 | 458 Tyler | 764
120 Deaf Smith | 740 | 290 Leon | 764 | 460 Upshur | 784
122 Delta | 784 | 292 Liberty | 764 | 462 Upton | 776
124 Denton | 752 | 294 Limestone | 752 | 464 Uvalde | 756
126 Dickens | 772 | 296 Lipscomb | 740 | 466 Val Verde | 756
128 Dimmit | 768 | 298 Live Oak | 748 | 468 Van Zandt | 784
130 Donley | 740 | 300 Llano | 744 | 470 Victoria | 748
132 Duval | 768 | 302 Loving | 760 | 472 Walker | 764
134 Eastland | 736 | 304 Lubbock | 772 | 474 Waller | 764
136 Ector | 776 | 306 Lynn | 772 | 476 Ward | 776
138 Edwards | 756 | 308 Madison | 764 | 478 Washington | 744
140 El Paso | 760 | 310 Marion | 784 | 480 Webb | 768
142 Ellis | 752 | 312 Martin | 776 | 482 Wharton | 764
144 Erath | 736 | 314 Mason | 736 | 484 Wheeler | 740
146 Falls | 744 | 316 Matagorda | 764 | 486 Wichita | 788
148 Fannin | 752 | 318 Maverick | 768 | 488 Wilbarger | 788
150 Fayette | 744 | 320 McCulloch | 736 | 490 Willacy | 748
152 Fisher | 776 | 322 McLennan | 744 | 492 Williamson | 744
154 Floyd | 772 | 324 McMullen | 768 | 494 Wilson | 780
156 Foard | 788 | 326 Medina | 780 | 496 Winkler | 776
158 Fort Bend | 764 | 328 Menard | 736 | 498 Wise | 752
160 Franklin | 784 | 330 Midland | 776 | 500 Wood | 784
162 Freestone | 752 | 332 Milam | 744 | 502 Yoakum | 772
164 Frio | 780 | 334 Mills | 736 | 504 Young | 788
166 Gaines | 776 | 336 Mitchell | 776 | 506 Zapata | 768
168 Galveston | 764 | 338 Montague | 752 | 508 Zavala | 768
170 Garza | 772 | 340 Montgomery | 764 |  |

17-6.1.45 Utah Service Areas

County | SA | County | SA | County | SA
2 Beaver | 792 | 22 Iron | 792 | 42 Sevier | 792
4 Box Elder | 800 | 24 Juab | 796 | 44 Summit | 800
6 Cache | 800 | 26 Kane | 792 | 46 Tooele | 800
8 Carbon | 796 | 28 Millard | 792 | 48 Uintah | 796
10 Daggett | 888 | 30 Morgan | 800 | 50 Utah | 796
12 Davis | 800 | 32 Piute | 792 | 52 Wasatch | 796
14 Duchesne | 796 | 34 Rich | 800 | 54 Washington | 792
16 Emery | 796 | 36 Salt Lake | 800 | 56 Wayne | 792
18 Garfield | 792 | 38 San Juan | 792 | 58 Weber | 800
20 Grand | 152 | 40 Sampete | 796

17-6.1.46 Vermont Service Areas

County | SA | County | SA | County | SA
2 Addison | 808 | 12 Franklin | 808 | 22 Rutland | 804
4 Bennington | 804 | 14 Grand Isle | 808 | 24 Washington | 808
6 Caledonia | 804 | 16 Lamoille | 808 | 26 Windham | 804
8 Chittenden | 808 | 18 Orange | 804 | 28 Windsor | 804
10 Essex | 804 | 20 Orleans | 804

17-6.1.47 Virginia Service Areas

County | SA | County | SA | County | SA
2 Accomack | 164 | 92 Isle of Wight | 816 | 184 Westmoreland | 820
4 Albemarle | 812 | 94 James City | 820 | 186 Wise | 716
6 Alleghany | 812 | 96 King and Queen | 820 | 188 Wythe | 824
8 Amelia | 820 | 98 King George | 168 | 190 York | 816
10 Amherst | 812 | 100 King William | 820 | 610 Alexandria | 168
12 Appomattox | 812 | 102 Lancaster | 820 | 612 Bedford | 824
14 Arlington | 168 | 104 Lee | 716 | 614 Bristol | 716
16 Augusta | 812 | 106 Loudon | 168 | 616 Buena Vista | 812
18 Bath | 812 | 108 Louisa | 812 | 618 Charlottesville | 812
20 Bedford | 824 | 110 Lunenburg | 820 | 620 Chesapeake | 816
22 Bland | 824 | 112 Madison | 168 | 622 Clifton forge | 812
24 Botetourt | 824 | 114 Mathews | 820 | 630 Colonial Heights | 820
26 Brunswick | 820 | 116 Mecklenburg | 820 | 632 Covington | 812
28 Buchanan | 716 | 118 Middlesex | 820 | 635 Danville | 824
30 Buckingham | 820 | 120 Montgomery | 824 | 638 Emporia | 816
32 Campbell | 824 | 122 Nelson | 812 | 640 Fairfax | 168
34 Caroline | 168 | 124 New Kent | 820 | 650 Falls Church | 168
36 Carroll | 584 | 126 Northampton | 164 | 660 Franklin | 816
38 Charles City | 820 | 128 Northumberland | 820 | 670 Fredericksburg | 168
40 Charlotte | 820 | 130 Nottoway | 820 | 674 Galax | 824
42 Chesterfield | 820 | 132 Orange | 168 | 680 Hampton | 816
44 Clarke | 828 | 134 Page | 168 | 682 Harrisonburg | 168
46 Craig | 824 | 136 Patrick | 584 | 690 Hopewell | 820
48 Culpeper | 168 | 138 Pittsylvania | 824 | 692 Lexington | 812
50 Cumberland | 820 | 140 Powhatan | 820 | 695 Lynchburg | 824
52 Dickenson | 716 | 142 Prince Edward | 820 | 700 Manassas | 168
54 Dinwiddie | 820 | 144 Prince George | 820 | 710 Manassas Park | 168
56 Essex | 820 | 146 Prince William | 168 | 715 Martinsville | 824
58 Fairfax | 168 | 148 Pulaski | 824 | 720 Newport News | 816
60 Fauquier | 168 | 150 Rappahannock | 168 | 730 Norfolk | 816
62 Floyd | 824 | 152 Richmond | 820 | 735 Norton | 716
64 Fluvanna | 812 | 154 Roanoke | 824 | 740 Petersburg | 820
66 Franklin | 824 | 156 Rockbridge | 812 | 750 Poquoson | 816
68 Frederick | 828 | 158 Rockingham | 168 | 760 Portsmouth | 816
70 Giles | 824 | 160 Russell | 716 | 765 Radford | 824
72 Gloucester | 820 | 162 Scott | 716 | 770 Richmond | 820
74 Goochland | 820 | 164 Shenandoah | 828 | 780 Roanoke | 824
76 Grayson | 584 | 166 Smyth | 824 | 790 Salem | 824
78 Greene | 812 | 168 Southampton | 816 | 795 South Boston | 820
80 Greensville | 816 | 170 Spotsylvania | 168 | 797 Staunton | 812
82 Halifax | 820 | 172 Stafford | 168 | 800 Suffolk | 816
84 Hanover | 820 | 174 Surry | 816 | 820 Virginia Beach | 816
86 Henrico | 820 | 176 Sussex | 816 | 825 Waynesboro | 812
88 Henry | 824 | 178 Tazewell | 824 | 830 Williamsburg | 820
90 Highland | 812 | 180 Warren | 828 | 840 Winchester | 828
|  | 182 Washington | 716

17-6.1.48. Washington Service Areas

County | SA | County | SA | County | SA
2 Adams | 844 | 28 Grays Harbor | 840 | 54 Pierce | 840
4 Asotin | 836 | 30 Island | 840 | 56 San Juan | 832
6 Benton | 836 | 32 Jefferson | 840 | 58 Skagit | 832
8 Chelan | 848 | 34 King | 840 | 60 Skamania | 660
10 Clallam | 840 | 36 Kitsap | 840 | 62 Snohomish | 840
12 Clark | 660 | 38 Kittitas | 848 | 64 Spokane | 844
14 Columbia | 836 | 40 Klickitat | 660 | 66 Stevens | 844
16 Cowlitz | 660 | 42 Lewis | 840 | 68 Thurston | 840
18 Douglas | 848 | 44 Lincoln | 844 | 70 Wahkiakum | 660
20 Ferry | 844 | 46 Mason | 840 | 72 Walla Walla | 836
22 Franklin | 836 | 48 Okanogan | 832 | 74 Whatcom | 832
24 Garfield | 836 | 50 Pacific | 840 | 76 Whitman | 844
26 Grant | 848 | 52 Pend Oreille | 844 | 78 Yakima | 848

17-6.1.49. West Virginia Service Areas

County | SA | County | SA | County | SA
2 Barbour | 856 | 38 Jefferson | 828 | 76 Pocahontas | 852
4 Berkeley | 828 | 40 Kanawha | 852 | 78 Preston | 856
6 Boone | 852 | 42 Lewis | 856 | 80 Putnam | 852
8 Braxton | 852 | 44 Lincoln | 860 | 82 Raleigh | 852
10 Brooke | 676 | 46 Logan | 860 | 84 Randolph | 856
12 Cabell | 860 | 48 Marion | 856 | 86 Ritchie | 624
14 Calhoun | 852 | 50 Marshall | 676 | 88 Roane | 852
16 Clay | 852 | 52 Mason | 860 | 90 Summers | 852
18 Doddridge | 856 | 54 McDowell | 824 | 92 Taylor | 856
20 Fayette | 852 | 56 Mercer | 824 | 94 Tucker | 856
22 Gilmer | 856 | 58 Mineral | 828 | 96 Tyler | 624
24 Grant | 828 | 60 Mingo | 860 | 98 Upshur | 856
26 Greenbrier | 852 | 62 Monongalia | 856 | 100 Wayne | 860
28 Hampshire | 828 | 64 Monroe | 852 | 102 Webster | 852
30 Hancock | 676 | 66 Morgan | 828 | 104 Wetzel | 856
32 Hardy | 828 | 68 Nicholas | 852 | 106 Wirt | 624
34 Harrison | 856 | 70 Ohio | 676 | 108 Wood | 624
36 Jackson | 624 | 72 Pendleton | 828 | 110 Wyoming | 852
|  | 74 Pleasants | 624

17-6.1.50. Wisconsin Service Areas

County | SA | County | SA | County | SA
2 Adams | 868 | 50 Iowa | 868 | 98 Polk | 864
4 Ashland | 412 | 52 Iron | 412 | 100 Portage | 876
6 Barron | 864 | 54 Jackson | 864 | 102 Price | 876
8 Bayfield | 412 | 56 Jefferson | 868 | 104 Racine | 872
10 Brown | 876 | 58 Juneau | 868 | 106 Richland | 868
12 Buffalo | 864 | 60 Kenosha | 872 | 108 Rock | 868
14 Burnett | 412 | 62 Kewaunee | 876 | 110 Rusk | 864
16 Calumet | 868 | 64 La Crosse | 868 | 112 Sauk | 868
18 Chippewa | 864 | 66 Lafayette | 868 | 114 Sawyer | 412
20 Clark | 864 | 68 Langlade | 876 | 116 Shawano | 876
22 Columbia | 868 | 70 Lincoln | 876 | 118 Sheboygan | 872
24 Crawford | 868 | 72 Manitowoc | 868 | 120 St. Croix | 416
26 Dane | 868 | 74 Marathon | 876 | 122 Taylor | 876
28 Dodge | 872 | 76 Marinette | 876 | 124 Trempealeau | 864
30 Door | 876 | 78 Marquette | 868 | 126 Vernon | 868
32 Douglas | 412 | 80 Menominee | 876 | 128 Vilas | 876
34 Dunn | 864 | 82 Milwaukee | 872 | 130 Walworth | 872
36 Eau Claire | 864 | 84 Monroe | 868 | 132 Washburn | 412
38 Florence | 876 | 86 Oconto | 876 | 134 Washington | 872
40 Fond Du Lac | 872 | 88 Oneida | 876 | 136 Waukesha | 872
42 Forest | 876 | 90 Outagamie | 876 | 138 Waupaca | 876
44 Grant | 868 | 92 Ozaukee | 872 | 140 Waushara | 868
46 Green | 868 | 94 Pepin | 864 | 142 Winnebago | 868
48 Green Lake | 868 | 96 Pierce | 864 | 144 Wood | 876

17-6.1.51. Wyoming Service Areas

County | SA | County | SA | County | SA
2 Albany | 880 | 18 Hot Springs | 884 | 34 Sheridan | 884
4 Big Horn | 884 | 20 Johnson | 884 | 36 Sublette | 888
6 Campbell | 708 | 22 Laramie | 880 | 38 Sweetwater | 888
8 Carbon | 880 | 24 Lincoln | 888 | 40 Teton | 884
10 Converse | 880 | 26 Natrona | 880 | 42 Uinta | 888
12 Crook | 708 | 28 Niobrara | 880 | 44 Washakie | 884
14 Fremont | 888 | 30 Park | 884 | 46 Weston | 708
16 Goshen | 880 | 32 Platte | 880

17-6.2. Service Areas. Geographic Application of Rates for Additional Services.

SA No | Service area | HTOS paragraph 17.9: Reg | HTOS paragraph 17.9: OT | HTOS para 17.30: L/C | HTOS paragraph 17.21 storage: 1st day | HTOS paragraph 17.21 storage: EA ADD day | HTOS paragraph 17.21 storage: W/H | HTOS para 17.23: P/D from SIT
4 | Birmingham AL | 27.75 | 42.00 | D | 1.90 | 0.20 | 4.40 | D
8 | Dothan AL | 19.00 | 28.25 | B | 1.15 | 0.16 | 2.10 | B
12 | Huntsville AL | 23.25 | 35.00 | C | 1.30 | 0.20 | 3.35 | C
16 | Mobile AL | 19.00 | 28.25 | B | 1.15 | 0.16 | 2.10 | B
20 | Montgomery AL | 19.00 | 28.25 | B | 1.45 | 0.20 | 2.95 | B
24 | Flagstaff AZ | 37.00 | 55.75 | F | 1.40 | 0.17 | 2.35 | F
28 | Phoenix AZ | 32.50 | 48.75 | E | 1.60 | 0.20 | 3.35 | E
32 | Tucson AZ | 37.00 | 55.75 | F | 1.40 | 0.17 | 2.45 | F
36 | Yuma AZ | 32.50 | 48.75 | E | 1.15 | 0.15 | 2.05 | E
40 | Ft. Smith/Fayetteville AR | 23.25 | 35.00 | C | 1.15 | 0.16 | 2.20 | C
44 | Jonesboro AR | 19.00 | 28.25 | B | 1.05 | 0.15 | 1.90 | B
48 | Little Rock AR | 27.75 | 42.00 | D | 1.40 | 0.17 | 2.20 | D
52 | Fresno CA | 45.75 | 68.50 | H | 1.50 | 0.20 | 4.10 | H
56 | Los Angeles CA | 45.75 | 68.50 | H | 2.00 | 0.21 | 5.25 | H
60 | Monterey CA | 45.75 | 68.50 | H | 1.75 | 0.20 | 4.60 | H
64 | Redding CA | 37.00 | 55.75 | F | 1.40 | 0.17 | 1.90 | F
68 | Sacramento CA | 45.75 | 68.50 | H | 1.70 | 0.20 | 4.65 | H
72 | San Bernadino CA | 41.25 | 62.00 | G | 2.00 | 0.21 | 5.25 | G
76 | San Diego CA | 45.75 | 68.50 | H | 2.00 | 0.21 | 5.25 | H
80 | San Francisco CA | 45.75 | 68.50 | H | 2.15 | 0.22 | 5.25 | H
84 | Yuba City CA | 45.75 | 68.50 | G | 1.40 | 0.17 | 1.90 | G
88 | Alberta Prov., CN | 50.75 | 76.00 | H | 2.25 | 0.25 | 5.10 | H
92 | British Columbia, CN | 50.75 | 76.00 | H | 2.25 | .025 | 5.40 | H
96 | Labrador Prov., CN | 50.75 | 76.00 | H | 2.25 | 0.25 | 5.40 | H
100 | Manitoba Prov., CN | 45.75 | 68.50 | G | 2.10 | 0.25 | 5.05 | G
104 | New Brunswick, CN | 45.75 | 68.50 | G | 2.10 | 0.25 | 5.05 | G
108 | Newfoundland, CN | 45.75 | 68.50 | G | 2.10 | 0.25 | 5.05 | G
112 | Northwest Terr., CN | 50.75 | 76.00 | H | 2.25 | 0.25 | 5.40 | H
116 | Nova Scotia, CN | 45.75 | 68.50 | G | 2.10 | 0.25 | 5.05 | G
120 | Ontario Prov., CN | 50.75 | 76.00 | H | 2.25 | 0.25 | 5.40 | H
124 | Pr. Edward Isl., CN | 45.75 | 68.50 | G | 2.10 | 0.25 | 5.05 | G
128 | Quebec Prov., CN | 50.75 | 76.00 | H | 2.25 | 0.25 | 5.40 | H
132 | Saskatchewan, CN | 45.75 | 76.00 | G | 2.10 | 0.25 | 5.05 | G
136 | Yukon Prov., CN | 50.75 | 76.00 | H | 2.25 | 0.25 | 5.40 | H
140 | Colorado Springs CO | 37.00 | 55.75 | F | 1.45 | 0.20 | 5.25 | F
144 | Denver CO | 32.50 | 48.75 | E | 1.60 | 0.20 | 5.50 | E
148 | Glenwood Springs CO | 32.50 | 48.75 | E | 1.05 | 0.15 | 1.90 | E
152 | Grand Junction CO | 37.00 | 55.75 | F | 1.60 | 0.20 | 3.80 | F
156 | Gunnison CO | 32.50 | 48.75 | E | 1.25 | 0.17 | 2.75 | E
160 | Hartford CT | 45.75 | 68.50 | H | 1.60 | 0.20 | 3.75 | H
164 | Dover DE | 41.25 | 62.00 | G | 1.45 | 0.20 | 3.80 | G
168 | Washington DC | 32.50 | 48.75 | E | 1.75 | 0.20 | 3.85 | E
172 | Ft. Myers FL | 32.50 | 48.75 | E | 1.45 | 0.20 | 2.70 | E
176 | Jacksonville FL | 19.00 | 28.25 | B | 1.40 | 0.17 | 2.35 | B
180 | Miami FL | 37.00 | 55.75 | F | 1.60 | 0.20 | 4.85 | F
184 | Orlando FL | 27.75 | 42.00 | D | 1.25 | 0.17 | 2.95 | D
188 | Pensacola FL | 27.75 | 42.00 | D | 1.45 | 0.20 | 2.95 | D
192 | Tallahassee FL | 27.75 | 42.00 | D | 1.60 | 0.20 | 2.95 | D
196 | Tampa FL | 27.75 | 42.00 | D | 1.50 | 0.20 | 4.05 | D
200 | Albany GA | 27.75 | 42.00 | D | 1.15 | 0.16 | 2.10 | D
204 | Atlanta GA | 32.50 | 48.75 | E | 1.70 | 0.20 | 3.10 | E
208 | Augusta GA | 23.25 | 35.00 | C | 1.25 | 0.17 | 2.35 | C
212 | Columbus GA | 14.25 | 21.25 | A | 1.25 | 0.17 | 2.05 | A
216 | Savannah GA | 27.75 | 42.00 | D | 1.70 | 0.20 | 3.10 | D
220 | Hawaii, HI | 25.75 | 38.75 | C | 1.55 | 0.21 | 3.05 | C
224 | Honolulu, HI | 30.75 | 46.50 | D | 1.90 | 0.22 | 2.25 | D
228 | Kauai, HI | 25.75 | 38.75 | C | 1.55 | 0.21 | 3.05 | C
232 | Maui, HI | 25.75 | 38.75 | C | 1.55 | 0.21 | 3.05 | C
236 | Boise ID | 37.00 | 55.75 | F | 1.45 | 0.20 | 4.05 | F
240 | Pocatello ID | 37.00 | 55.75 | F | 1.40 | 0.17 | 2.35 | F
244 | Twin Falls ID | 27.75 | 42.00 | D | 1.20 | 0.16 | 3.55 | D
248 | Bloomington IL | 37.00 | 55.75 | F | 1.60 | 0.20 | 4.75 | F
252 | Chicago IL | 45.75 | 68.50 | H | 2.25 | 0.25 | 5.20 | H
256 | Mount Vernon IL | 45.75 | 68.50 | H | 1.45 | 0.20 | 3.55 | H
260 | Peoria IL | 32.50 | 48.75 | E | 1.50 | 0.20 | 4.30 | E
264 | Springfield IL | 37.00 | 55.75 | F | 1.45 | 0.20 | 4.60 | F
268 | Elkhart IN | 41.25 | 62.00 | G | 1.50 | 0.20 | 4.10 | G
272 | Evansville IN | 27.75 | 42.00 | D | 1.40 | 0.17 | 3.05 | D
276 | Ft. Wayne IN | 37.00 | 55.75 | F | 1.40 | 0.17 | 2.85 | F
280 | Indianapolis IN | 32.50 | 48.75 | E | 1.25 | 0.17 | 2.45 | E
284 | Lafayette IN | 32.50 | 48.75 | E | 1.40 | 0.17 | 2.85 | E
288 | Terre Haute IN | 37.00 | 55.75 | F | 1.30 | 0.17 | 2.80 | F
292 | Davenport IA | 32.50 | 48.75 | E | 1.50 | 0.20 | 4.10 | E
296 | Des Moines IA | 27.75 | 42.00 | D | 1.60 | 0.20 | 4.10 | D
300 | Sioux City IA | 37.00 | 55.75 | F | 1.40 | 0.17 | 3.55 | F
304 | Waterloo IA | 32.50 | 48.75 | E | 1.50 | 0.20 | 4.10 | E
308 | Dodge City KS | 32.50 | 48.75 | E | 1.05 | 0.15 | 1.90 | E
312 | Great Bend KS | 32.50 | 48.75 | E | 1.05 | 0.15 | 1.90 | E
316 | Topeka KS | 27.75 | 42.00 | D | 1.40 | 0.17 | 3.80 | D
320 | Wichita KS | 32.50 | 48.75 | E | 1.25 | 0.17 | 3.05 | E
324 | Bowling Green KY | 23.25 | 35.00 | C | 1.15 | 0.16 | 2.35 | C
328 | Lexington KY | 19.00 | 28.25 | B | 1.25 | 0.17 | 2.45 | B
332 | Louisville KY | 27.75 | 42.00 | D | 1.70 | 0.21 | 4.85 | D
336 | Paducah KY | 23.25 | 35.00 | C | 1.15 | 0.15 | 1.90 | C
340 | Somerset KY | 23.25 | 35.00 | C | 1.05 | 0.15 | 1.90 | C
344 | Alexandria LA | 32.50 | 48.75 | E | 1.25 | 0.17 | 2.35 | E
348 | Lafayette LA | 27.75 | 42.00 | D | 1.45 | 0.20 | 2.75 | D
352 | Monroe LA | 41.25 | 62.00 | G | 1.15 | 0.16 | 2.35 | G
356 | New Orleans LA | 19.00 | 28.25 | B | 1.25 | 0.17 | 2.35 | B
360 | Shreveport LA | 19.00 | 28.25 | B | 1.25 | 0.17 | 2.35 | B
364 | Augusta ME | 32.50 | 48.75 | E | 1.25 | 0.17 | 2.95 | E
368 | Bangor ME | 32.50 | 48.75 | E | 1.25 | 0.17 | 3.35 | E
372 | Portland ME | 37.00 | 55.75 | F | 1.50 | 0.20 | 3.35 | F
376 | Presque Isle ME | 32.50 | 48.75 | E | 1.40 | 0.17 | 3.35 | E
380 | Baltimore MD | 37.00 | 55.75 | F | 1.50 | 0.20 | 2.70 | F
384 | Boston MA | 45.75 | 68.50 | H | 1.75 | 0.20 | 4.20 | H
388 | Springfield MA | 41.25 | 62.00 | G | 1.45 | 0.20 | 3.10 | G
392 | Not Applicable |  |  |  |  |  |  |
396 | Cadillac MI | 41.25 | 62.00 | G | 1.40 | 0.17 | 3.85 | G
400 | Detroit MI | 45.75 | 68.50 | H | 1.75 | 0.20 | 5.25 | H
404 | Grand Rapids MI | 45.75 | 68.50 | H | 1.45 | 0.20 | 2.85 | H
408 | Marquette MI | 41.25 | 62.00 | G | 1.40 | 0.17 | 2.45 | G
412 | Duluth MN | 45.75 | 68.50 | H | 1.50 | 0.20 | 4.40 | H
416 | Minneapolis MN | 45.75 | 68.50 | H | 2.00 | 0.21 | 4.75 | H
420 | Rochester MN | 41.25 | 62.00 | G | 1.40 | 0.20 | 2.95 | G
424 | Greenville MS | 27.75 | 42.00 | D | 1.15 | 0.16 | 1.90 | D
428 | Gulfport MS | 27.75 | 42.00 | D | 1.40 | 0.17 | 2.20 | D
432 | Jackson MS | 37.00 | 55.75 | F | 1.20 | 0.16 | 2.45 | F
436 | Meridian MS | 19.00 | 28.25 | B | 1.05 | 0.15 | 1.90 | B
440 | Tupelo MS | 27.75 | 42.00 | D | 1.05 | 0.15 | 1.90 | D
444 | Columbia MO | 19.00 | 28.25 | B | 1.45 | 0.20 | 2.85 | B
448 | Kansas City MO | 32.50 | 48.75 | E | 1.45 | 0.20 | 4.10 | E
452 | Springfield MO | 19.00 | 28.25 | B | 1.05 | 0.15 | 1.90 | B
456 | St. Louis MO | 37.00 | 55.75 | F | 1.40 | 0.17 | 3.35 | F
460 | Billings MT | 23.25 | 35.00 | C | 1.45 | 0.20 | 5.25 | C
464 | Butte MT | 32.50 | 48.75 | E | 1.25 | 0.16 | 3.55 | E
468 | Glasgow MT | 32.50 | 48.75 | E | 1.05 | 0.15 | 2.70 | E
472 | Great Falls MT | 41.25 | 62.00 | G | 1.45 | 0.20 | 5.25 | G
476 | Missoula MT | 37.00 | 55.75 | F | 1.40 | 0.17 | 3.05 | F
480 | Grand Island NE | 23.25 | 35.00 | C | 1.05 | 0.15 | 2.35 | C
484 | North Platte NE | 23.25 | 35.00 | C | 1.15 | 0.16 | 2.25 | C
488 | Omaha NE | 27.75 | 42.00 | D | 1.40 | 0.17 | 2.80 | D
492 | Scottsbluff NE | 14.25 | 21.25 | A | 1.15 | 0.16 | 2.10 | A
496 | Elko NV | 45.75 | 68.50 | H | 1.05 | 0.15 | 1.90 | H
500 | Las Vegas NV | 45.75 | 68.50 | H | 1.85 | 0.21 | 5.05 | H
504 | Reno NV | 41.25 | 62.00 | G | 2.15 | 0.22 | 3.80 | G
508 | Laconia NH | 32.50 | 48.75 | E | 1.25 | 0.17 | 2.65 | E
512 | Lakewood NJ | 37.00 | 55.75 | F | 1.75 | 0.21 | 4.10 | F
516 | Albuquerque NM | 32.50 | 48.75 | E | 1.25 | 0.17 | 3.05 | E
520 | Carlsbad NM | 32.50 | 48.75 | E | 1.25 | 0.17 | 2.00 | E
524 | Clovis NM | 27.75 | 42.00 | D | 1.15 | 0.15 | 2.25 | D
528 | Gallup NM | 32.50 | 48.75 | E | 1.25 | 0.17 | 3.05 | E
532 | Las Cruces NM | 27.75 | 42.00 | D | 1.05 | 0.15 | 2.05 | D
536 | Albany NY | 37.00 | 55.75 | F | 1.45 | 0.20 | 3.55 | F
540 | Buffalo NY | 45.75 | 68.50 | H | 1.60 | 0.20 | 4.80 | H
544 | New York NY | 45.75 | 68.50 | H | 2.25 | 0.22 | 5.20 | H
548 | Plattsburgh NY | 32.50 | 48.75 | E | 1.25 | 0.17 | 3.10 | E
552 | Syracuse NY | 41.25 | 62.00 | G | 1.45 | 0.20 | 3.80 | G
556 | Utica NY | 27.75 | 42.00 | D | 1.25 | 0.17 | 2.25 | D
560 | Asheville NC | 23.25 | 35.00 | C | 1.15 | 0.16 | 2.35 | C
564 | Charlotte NC | 27.75 | 42.00 | D | 1.25 | 0.17 | 2.25 | D
568 | Fayetteville NC | 14.25 | 21.25 | A | 1.15 | 0.16 | 2.35 | A
572 | Greenville NC | 23.25 | 25.00 | C | 1.05 | 0.15 | 1.90 | C
576 | Jacksonville NC | 19.00 | 28.25 | B | 1.15 | 0.16 | 2.10 | B
580 | Raleigh Durham NC | 27.75 | 42.00 | D | 1.20 | 0.16 | 2.25 | D
584 | Winston Salem NC | 27.75 | 42.00 | D | 1.15 | 0.16 | 2.45 | D
588 | Bismarck ND | 23.25 | 35.00 | C | 1.75 | 0.20 | 4.40 | C
592 | Dickinson ND | 23.25 | 35.00 | C | 1.75 | 0.20 | 4.40 | C
596 | Fargo ND | 27.75 | 42.00 | D | 1.75 | 0.20 | 4.40 | D
600 | Grand Forks ND | 41.25 | 62.00 | G | 1.45 | 0.20 | 3.15 | G
604 | Minot ND | 23.25 | 35.00 | C | 1.75 | 0.20 | 4.40 | C
608 | Cincinnati OH | 37.00 | 55.75 | F | 1.70 | 0.20 | 4.35 | F
612 | Cleveland OH | 45.75 | 68.50 | H | 1.75 | 0.21 | 4.75 | H
616 | Columbus OH | 27.75 | 42.00 | D | 1.25 | 0.17 | 3.10 | D
620 | Dayton OH | 37.00 | 55.75 | F | 1.85 | 0.20 | 2.70 | F
624 | Marietta OH | 27.75 | 42.00 | D | 1.50 | 0.17 | 4.35 | D
628 | Toledo OH | 32.50 | 48.75 | E | 1.75 | 0.20 | 4.20 | E
632 | Enid OK | 37.00 | 55.75 | F | 1.20 | 0.16 | 2.80 | F
636 | Oklahoma City OK | 19.00 | 28.25 | B | 1.70 | 0.20 | 4.00 | B
640 | Tulsa OK | 32.50 | 48.75 | E | 1.70 | 0.20 | 3.35 | E
644 | Bend OR | 37.00 | 55.75 | F | 1.60 | 0.20 | 4.85 | F
648 | Eugene OR | 37.00 | 55.75 | F | 2.05 | 0.21 | 5.05 | F
652 | Medford OR | 41.25 | 62.00 | G | 1.45 | 0.20 | 4.20 | G
656 | Pendleton OR | 32.50 | 48.75 | E | 1.45 | 0.20 | 4.20 | E
660 | Portland OR | 45.75 | 68.50 | H | 2.05 | 0.21 | 5.05 | H
664 | Altoona PA | 32.50 | 48.75 | E | 1.40 | 0.17 | 2.45 | E
668 | Erie PA | 37.00 | 55.75 | F | 1.25 | 0.17 | 3.80 | F
672 | Philadelphia PA | 41.25 | 62.00 | G | 1.85 | 0.20 | 5.25 | G
676 | Pittsburgh PA | 32.50 | 55.75 | F | 2.05 | 0.21 | 4.65 | F
680 | Scranton PA | 41.25 | 62.00 | G | 1.25 | 0.17 | 2.05 | G
684 | Providence RI | 45.75 | 68.50 | H | 1.45 | 0.17 | 3.15 | H
688 | Anderson SC | 23.25 | 35.00 | C | 1.25 | 0.17 | 2.25 | C
692 | Charleston SC | 32.50 | 48.75 | E | 1.25 | 0.17 | 2.25 | E
696 | Columbia SC | 23.25 | 35.00 | C | 1.25 | 0.17 | 2.35 | C
700 | Aberdeen SD | 27.75 | 42.00 | D | 1.20 | 0.16 | 2.70 | D
704 | Pierre SD | 27.75 | 42.00 | D | 1.20 | 0.16 | 2.20 | D
708 | Rapid City SD | 19.00 | 28.25 | B | 1.40 | 0.17 | 2.45 | B
712 | Sioux Falls SD | 32.50 | 48.75 | E | 1.40 | 0.17 | 3.05 | E
716 | Bristol TN | 37.00 | 55.75 | F | 1.05 | 0.15 | 2.35 | F
720 | Chattanooga TN | 23.25 | 35.00 | C | 1.25 | 0.17 | 2.80 | C
724 | Knoxville TN | 27.75 | 42.00 | D | 1.05 | 0.15 | 2.65 | D
728 | Memphis TN | 37.00 | 55.75 | F | 1.75 | 0.20 | 4.95 | F
732 | Nashville TN | 23.25 | 35.00 | C | 1.25 | 0.17 | 2.35 | C
736 | Abilene TX | 27.75 | 42.00 | D | 1.25 | 0.17 | 2.10 | D
740 | Amarillo TX | 27.75 | 42.00 | D | 1.05 | 0.15 | 2.65 | D
744 | Austin TX | 32.50 | 48.75 | E | 1.20 | 0.16 | 2.45 | E
748 | Corpus Christi TX | 37.00 | 55.75 | F | 1.05 | 0.15 | 1.90 | F
752 | Dallas TX | 32.50 | 48.75 | E | 2.20 | 0.25 | 4.75 | E
756 | Del Rio TX | 27.75 | 42.00 | D | 1.05 | 0.15 | 1.90 | D
760 | El Paso TX | 23.25 | 35.00 | C | 1.05 | 0.15 | 1.90 | C
764 | Houston TX | 27.75 | 42.00 | D | 1.50 | 0.20 | 4.00 | D
768 | Laredo TX | 27.75 | 42.00 | D | 1.05 | 0.15 | 1.90 | D
772 | Lubbock TX | 27.75 | 42.00 | D | 1.40 | 0.17 | 2.65 | D
776 | Midland TX | 23.25 | 35.00 | C | 1.70 | 0.20 | 4.35 | C
780 | San Antonio TX | 23.25 | 35.00 | C | 1.40 | 0.17 | 3.55 | C
784 | Tyler TX | 27.75 | 42.00 | D | 1.05 | 0.15 | 2.35 | D
788 | Wichita Falls TX | 37.00 | 55.75 | F | 1.40 | 0.17 | 2.70 | F
792 | Cedar City UT | 27.75 | 42.00 | D | 1.25 | 0.17 | 3.05 | D
796 | Provo UT | 27.75 | 42.00 | D | 1.40 | 0.17 | 2.70 | D
800 | Salt Lake City UT | 27.75 | 42.00 | D | 1.40 | 0.17 | 2.70 | D
804 | Bennington VT | 27.75 | 42.00 | D | 1.05 | 0.20 | 2.90 | D
808 | Burlington VT | 27.75 | 42.00 | D | 1.45 | 0.20 | 2.85 | D
812 | Charlottesville VA | 27.75 | 42.00 | D | 1.15 | 0.16 | 2.35 | D
816 | Norfolk VA | 23.25 | 35.00 | C | 1.25 | 0.17 | 2.25 | C
820 | Richmond VA | 32.50 | 48.75 | E | 1.05 | 0.16 | 3.80 | E
824 | Roanoke VA | 27.75 | 42.00 | D | 1.05 | 0.16 | 3.80 | D
828 | Winchester VA | 32.50 | 48.75 | E | 1.05 | 0.15 | 1.90 | E
832 | Bellingham WA | 41.25 | 62.00 | G | 1.60 | 0.20 | 4.40 | G
836 | Richland WA | 41.25 | 62.00 | G | 1.40 | 0.17 | 3.90 | G
840 | Seattle WA | 41.25 | 62.00 | G | 2.10 | 0.21 | 5.25 | G
844 | Spokane WA | 41.25 | 62.00 | G | 1.40 | 0.17 | 3.90 | G
848 | Yakima WA | 37.00 | 55.75 | F | 1.50 | 0.20 | 3.90 | F
852 | Charleston WV | 32.50 | 48.75 | E | 1.50 | 0.17 | 4.35 | E
856 | Clarksburg WV | 32.50 | 48.75 | E | 1.40 | 0.17 | 3.05 | E
860 | Huntington WV | 27.75 | 42.00 | D | 1.50 | 0.20 | 4.35 | D
864 | Eau Claire WI | 32.50 | 48.75 | E | 1.05 | 0.15 | 3.05 | E
868 | Madison WI | 37.00 | 55.75 | F | 1.40 | 0.17 | 3.05 | F
872 | Milwaukee WI | 37.00 | 55.75 | F | 1.60 | 0.20 | 4.20 | F
876 | Wausau/Green Bay WI | 37.00 | 55.75 | F | 1.40 | 0.17 | 4.05 | F
880 | Casper WY | 32.50 | 48.75 | E | 1.25 | 0.17 | 2.35 | E
884 | Cody WY | 27.75 | 42.00 | D | 1.25 | 0.15 | 2.45 | D
888 | Rock Springs WY | 45.75 | 68.50 | H | 1.90 | 0.22 | 4.20 | H

17-7 Reserved for Future Use

17-8. Auxiliary Services

A. Auxiliary services rates will be applied under the conditions stated in this HTOS Paragraph 17-8.

B. Charges for auxiliary service:

(1) Per additional vehicle: US$29.45 per hour.

(2) Labor: Apply labor rates contained in HTOS Paragraph 17-9.

17-9. Labor Charges

A. Covers all services for which no charges are otherwise provided in the solicitation when such services are authorized and confirmed in writing on a DD Form 619 (Statement of Assessorial Services Performed) or comparable commercial form by the RTO.

B. Charges based on time are computed by multiplying the hourly rate by the time involved. When fractions of an hour are used, charges will be as follows: 15 minutes or less, one quarter of an hour; 16 to 30 minutes, one-half hour; 31 to 45 minutes, three-quarters of an hour; and in excess of 45 minutes, 1 hour.

C. See HTOS Paragraph 17-6, Geographical Application of Rates and Schedules, for Labor Rates to apply to HHG and UB shipments WHEN SERVICE IS PERFORMED AT POINTS WITHIN CONUS, CANADA, AND HAWAII.

D. Applicable rates are shown below:

| Rates (In dollars and cents): Regular hour per man | Rates (In dollars and cents): Overtime hour per man
WHEN Services is Performed at all points outside Conus, Canada, and Hawaii, Except as Provided below | US$11.90 | US$17.85
Germany, Belgium, and The Netherlands | $17.90 | $26.85
Alaska | $42.00 | $50.00

17-10. Waiting Time

A. This HTOS Paragraph 17-10 will not apply when waiting time is the fault of the carrier.

B. Loading and unloading or pickup and delivery will be performed during regular working hours. (See definition in Chapter II). Waiting time charges will be applicable only between these hours at rate of US$29.45 per hour per vehicle less free waiting time.

C. Free waiting time is allowed as follows: For direct deliveries, 3 hours; for deliveries from storage-in-transit, 1 hour, for attempted pickup of HHG only, 1 hour.

D. Additional waiting time, after expiration of the free waiting time, requires RTO prior approval and is subject to carrier's convenience.

E. Charges based on time are computed by multiplying the hourly rate by the time involved. When fractions of an hour are used, the charges will be as follows: 15 minutes or less, one quarter of an hour; 16 to 30 minutes, one-half hour; 31 to 45 minutes, three quarters of an hour; and in excess of 45 minutes, one hour.

F. Labor charges for the vehicle driver and helper(s) will be at the hourly labor rate in HTOS Paragraph 17.9.

17-11. Overtime Loading and Unloading

A. Except as otherwise provided for and subject to applicable notes below, an additional charge of US$2.35 per net CWT (45kg) will apply for each overtime loading or each overtime unloading when this service is performed other than during regular working hours and when authorized and confirmed, in writing, by the RTO.

B. Overtime loading and unloading charges apply when: the service is performed other than during regular working hours when this service is made necessary by landlord requirements, or is required by prevailing laws or ordinances, or is rendered at the specific request of RTO or its agent, made in writing, and the shipper or its agent is notified of the additional charge specified in this HTOS Paragraph 17.11 for this service before the loading and/or unloading begins. (See notes below.)

Note 1: Overtime loading and unloading charges will be based on the net hundredweight (45 kg) of the shipments subject to a minimum of 500 pounds (227 kg).

Note 2: Overtime loading and unloading charges will not apply when service is performed for carrier's convenience or when shipments are delivered to a warehouse at destination.

Note 3: Overtime loading and unloading services will be rendered only at the option of the carrier. Service involving loading or unloading at a warehouse must be agreed to by the warehouseman.

Note 4: Other than regular working hours is defined as follows:

(a) Between 5 p.m. and 8 a.m., except Saturdays, Sundays, and holidays.

(b) During any hour on Saturday.

(c) During any hour on Sunday.

(d) During any hour on officially declared Foreign National, U.S. National or State holidays, except such charges apply on State holidays ONLY when service is rendered within that State on such holiday.

17-12. Reweigh—Household Effects

A. The carrier will reweigh the shipment prior to delivery when requested to do so by the RTO. The lower of the two net scales weights will be used for determining transportation charges. No reweigh service charge will apply.

B. Reweigh provisions are not applicable when constructive weight is used in accordance with HTOS Paragraph 4-10.5.

17-13. Reserved for Future Use.

17-14. Unpacking Service Unaccompanied Air Baggage Only.

A. Additional charges apply when unpacking service is requested by the RTO and verified by the employee.

(1) When carrier unpacks the external container/crate, and places each article in the residence or other building, a US$.60 per cubic foot (US$20.00 per cubic meter) charge will apply.

(2) When a carrier unpacks the internal cartons and places each article in the residence or other building, the carrier has the option of billing a per cubic foot (cubic meters) charge as outlined in (1) above; or a per carton charge, whichever is greater. Carrier cannot bill for both.

B. Charges. Charges shall be in accordance with the following.

Description | Per | Unpacking rate (In US dollars and cents)
CFFT = Cubic Foot (Cubic Meter) or Fraction Thereof.
BARRELS
Barrel, dish-pack, drum or specially designed containers for use in lieu of barrel, dish-pack or drum of not less than 5 cubic feet (0.15 cubic meters) capacity | Each | US$3.40
BOXES
Not over 5 cubic feet (0.15 cubic meters) | Each | US$1.90
Over 5 but not over 8 cubic feet (over 0.15 but not over 0.24 cubic meters) | Each | US$3.25
Over 8 cubic feet ( 0.24 cubic meters) | CFFT | US$.60 (US$20.00 per cubic meter)
CARTONS
Double or Triple-Wall (Federal Specifications PPP-B-1364 or PPP-B-640
Not over 4 cubic feet (0.12 cubic meters) | Each | US$3.50
Over 4 but not over 6 cubic feet (0.12 cubic meters) | Each | US$3.85
Over 6 but not over 8 cubic feet (over 0.18 but not over 0.24 cubic meters) | Each | US$4.35
Over 8 cubic feet ( 0.24 cubic meters) | CFFT | US$0.60 (US$20.00 per cubic meter)
When cartons of more than 1½ cubic feet (0.045 cubic meters) are used and no rate is shown for the size carton used, charges will be based on the rate for the next lower size carton shown.
Cubic content must be shown on all cartons.
WARDROBE CARTON
Not less than 10 cubic feet (0.3 cubic meters) | Each | None.
CONTAINERS OR CRATES
specifically designated for mirrors, painting, glass or marble tops and similar fragile articles.
Gross measurement of specially designed container or crate | CFFT | US$.60 ( US$20.00 per cubic meter)
Minimum charge per specially designed container or crate | Each | US$2.15

17-15. Crates/Special Containers.

A. Compensation to the carrier is authorized for construction of crates/containers necessary for safe transit of motorcycles, mopeds, minibikes and items of unusual nature such as but not limited to, hang gliders, sail boards, hot tubs, slate pool tables, marble/glass table tops and certain grandfather clocks (protruding glass faces), and other similar articles requiring special protection.

B. External shipping containers are authorized for items that will not fit into standard household effects shipping containers.

(1) Compensation: US$4.55 per cubic foot, (US$152.00 per cubic meter) no minimum charge.

(2) Container becomes property of the Government.

C. Internal crates are authorized for items that will fit not standard household effects shipping containers but require additional protection for safe transit.

(1) Compensation: US$14.45 per crate or US$3.35 per cubic foot (US$112.00 per cubic meter) whichever is greater.

(2) Crates remain the property of employee.

D. Carriers are responsible for notifying the RTO of any property requiring crates/containers prior to performing service. RTO must provide written authorization prior to construction of crates/containers.

E. With the exception of vehicular equipment, such as motorcycles, mopeds, minibikes, the RTO is responsible for determining the necessity of carrier's, as well as employees', requests for crating. Vehicular items are not automatically approved for crating. See HTOS Paragraph 4.7.1.4. Note: Some countries require that motorcycles be crated separately. It is the responsibility of the carrier to determine which destinations have this requirement.

F. If a carrier utilizes crates retained by the employee from a previous move, compensation for service performed will be made under labor costs.

17-16. Extra Pickup or Delivery

A. Portions of a shipment may be picked up or delivered at one or more places, origins, destinations, or enroute, provided all portions of the shipment are made available to the carrier at the same time. Service under this HTOS Paragraph 17-16 will be authorized by proper entry on the GBL or by ordering of service and certification on DD Form 619 or comparable commercial form by the RTO.

B. Charges for extra pickup or delivery of HHG will be computed as follows:

Contiguous United States and Hawaii | Overseas, excluding Alaska | Alaska
Within A 50 Mile Radius Of The Extra Origin/Destination
US $57.10 per extra pickup/delivery | US $57.10 per extra pickup/delivery | US $38.60 per extra pickup/delivery;
51-150 Miles Of The Origin/Destination Point
US $57.10 per shipment plus US $0.05 net per CWT (45kg) per highway mile from 51 miles to 150 miles inclusive (subject to a 50 mile minimum) | US $57.10 per shipment plus US$0.03 net per CWT (45kg) per highway mile from 51 miles to 150 miles inclusive (subject to a 50 mile minimum) | US $77.20 per shipment plus US $0.85 for each 20 miles or fraction thereof.
151 Miles And Over Of The Origin/Destination Point
US$57.10 per shipment plus US $0.05 net CWT (US $.05) (45kg) per highway mile from 51 miles to 150 miles inclusive plus US $0.01 net CWT (45kg) per highway mile from 151 miles and over | US$57.10 per shipment plus US $0.03 net CWT (45kg) per highway mile from 51 miles to 150 miles inclusive plus US$0.01 net CWT (45kg) per highway mile from 151 miles and over | US $77.20 per shipment plus US$0.85 net CWT (45kg) for each 20 miles or fraction thereof from 51 miles and over.

C. Land transportation rates, when applicable, will be calculated on the weight of the additional pickup or delivery. When the carrier is required to unstuff and restuff containers to affect the extra pickup/delivery, the labor rates in HTOS Paragraph 17-9 will apply.

D. Charges for Extra Pickup or Delivery of UB will be as follows:

(1) Portions of a shipment may be picked up or delivered at one or more places at origin or destination, provided that all portions of the shipment are made available to the carrier at the same time. Services performed under this HTOS Paragraph 17-16 will be ordered on a DD Form 619 or comparable commercial form and certified by the RTO.

(2) An additional charge of US$12.85 per extra pickup or delivery per shipment will apply.

17-17. Attempted Delivery to Residence From SIT

A. Compensation to the carriers for attempted delivery to residence from Storage-In-Transit when failure to deliver is not the fault of the carrier, will be as follows:

(1) Round trip mileage from the warehouse to residence and return.

(a) If total mileage is 50 miles (80 km) or less, Pickup or Delivery Transportation Rate on storage-in-transit shipments will apply.

(b) If total mileage is greater than 50 miles, (80 km) applicable provisions of HTOS Paragraphs 17-33 17-47 will apply.

(2) Warehouse Handling: A second warehouse handling charge will apply if the shipment is again placed into SIT.

Note: If the shipment remains on the vehicle until delivered, this additional warehouse handling charge WILL NOT APPLY.

(3) Waiting Time: The provisions of HTOS Paragraph 17.9 will apply if carrier is required to wait at residence.

(4) Storage-In-Transit: If property is again placed into SIT, the same SIT control number will apply. Storage charges in CONUS and CANADA will continue at the additional daily rate. Storage charges in overseas areas will continue on a 30-day basis for HHG and a 15-day basis for UB.

17-18. Attempted Pickup and Direct Delivery Charges

A. Whenever attempted pick-up or direct delivery occurs, under conditions stated in definition of the term in HTOS paragraph 16-1, service will be supported by DD Form 619 or comparable commercial form certified by the RTO.

B. Charges for this service will be computed as follows:

(1) Per vehicle: US$29.45 per hour.

(2) Labor: Apply labor rates contained in HTOS Paragraph 17-9.

(3) Waiting Time: One hour free time in accordance with HTOS Paragraph 17-10 (Household Goods only).

17-19. Delivery to Storage in Government Facilities

Shipment delivered to nontemporary storage in Government facilities will be considered as terminated. Such Government facilities will be considered the final delivery point for the shipment.

17-20. Reserved for Future Use

17-21. Storage-in-Transit and Warehouse Handling Charge Household Goods Surface Shipment

A. Storage-in-transit and warehouse handling charges are in dollars and cents per net cwt (45kg) and apply based on location of warehouse where storage-in-transit service is provided. Charges for these services will be based on actual weight of goods stored in transit, subject to a 1000 pound (454 kg) minimum. Rates in effect on the date of initial pick-up at origin will apply.

B. This HTOS Paragraph 17-21 applies when SIT is ordered by RTO and performed by a carrier or its agent.

(1) CONUS and CANADA locations: Storage charges apply for each day of storage, and apply exact time storage-in-transit service is rendered. Storage days will include the day goods are placed in storage, and the day goods are removed from storage. If the goods are removed from storage on the same day they are placed in storage, one (1) day storage will apply.

(2) OVERSEAS locations: Storage charges apply for 30 days of storage or fraction thereof, and each time storage-in-transit service is rendered. Storage days will include the day goods are placed in storage, but not the day removed from storage. If the goods are removed from storage on the same day they are placed in storage, one 30 day storage period will apply.

C. Warehouse handling charge applies once each time shipment is placed in storage-in-transit.

D. Except as provided below, a shipment or portion thereof may be placed in storage-in-transit one or more times for an aggregate period not to exceed 180 days unless additional storage is authorized by the RTO, who will notify carrier of the extension of the projected termination date. When not removed from SIT at the expiration of the time limit specified herein, liability of the carrier shall terminate at midnight on the 180th day or at the end of the extended SIT period authorized by the RTO. The through GBL character of the shipment will cease, the warehouse will be considered the destination of the shipment, the warehouseman will become the agent for the shipper and the shipment becomes subject to the rules, regulations and charges of the warehouseman.

Exception: When the shipper has requested final delivery of their property, on a date five days preceding the expiration of storage, and when the carrier, through no fault of the shipper, does not deliver the property prior to the end of the 180 day period, or any extension thereof, then storage-in-transit charges will not apply after the 180 days or at the end of the extended SIT period. All other provisions under the original tender will continue in effect until property is delivered to final residence.

E. Delivery to residence will be made on the date requested. If prior commitments prevent the carrier from delivery on that date, then delivery will be made as soon as possible thereafter. In any event, storage charges will cease on the following date, whichever is earlier:

(1) Requested delivery date, or five working days following the date of notification to deliver, whichever is later; or

(2) Date of actual delivery for CONUS and CANADA locations, or the date immediately prior to the date of actual delivery for overseas locations.

F. See HTOS Paragraph 17-6 Geographical Application of Rates and Schedules, for Storage-In-Transit and Warehouse Handling Rate to apply WHEN SERVICE IS PERFORMED AT POINTS WITHIN CONUS, CANADA, AND HAWAII (other than points listed below).

Overseas

Application: Rates apply as shown below based on the location of warehouse when Storage-In-Transit service is provided. Also see HTOS Paragraph 4-18.

Location | Overseas storage for each 30 days or fraction thereof per cwt (45kg) | Warehouse handling charge per cwt. (45kg)
At any point other than those listed below | US$2.45 | US$2.80
Alaska | US$4.90 | US$3.85
Australia (both East and West) | US$2.95 | US$3.70
Beligum | US$2.60 | US$3.30
Germany, United Kingdom, and Scotland, Switzerland | US$1.95 | US$1.95
Netherlands, The | US$3.70 | US$4.90
Iceland | US$3.24 | US$3.24
Japan (less Okinawa) | US$7.39 | US$6.58
Okinawa | US$4.33 | US$4.32

17-22. Storage-in-Transit and Warehouse Handling Charge Household Goods, Unaccompanied Air Baggage

Rates are in dollars and cents per gross CWT (45 kg) and apply in territory or areas shown below, based on location of warehouse where SIT service is provided:

When warehouse is located at | Sit for each 15 days or fraction thereof: Per gross Cwt (45kg) | Sit for each 15 days or fraction thereof: Minimum charge per each 15 days or fraction thereof | Warehouse handling charge: Per gross Cwt (45kg) | Warehouse handling charge: Minimum charge per shipment
Any point within CONUS and CANADA | US$1.45 | US$7.55 | US$1.45 | US$7.55
Any overseas point not listed below | US$1.15 | US$5.95 | US$1.15 | US$5.95
Alaska | US$2.35 | US$11.85 | US$2.35 | US$11.85
Hawaii | US$2.10 | US$10.70 | US$3.00 | US$12.90
Puerto Rico | US$2.00 | US$10.10 | US$2.00 | US$10.10

Note 1: Delivery to residence will be made on the date specified by the RTO provided the RTO has given the carrier 3 working days notice. The carrier must deliver the shipment no later than 3 working days after RTO notification. If notification is given before noon of a working day, that day will be considered day one. If notification is given after noon of a working day, the following day will be considered day one. Storage charges will cease as shown below:

(a) After day 3, when the shipment is delivered beyond the 3rd working day at the convenience of the carrier.

(b) The day after the shipment is removed from storage, when the shipment is delivered beyond the 3rd working day at the RTO's request.

Note 2: This HTOS Paragraph 17-22 applies when SIT is ordered by a RTO and performed by a carrier or its agent. Storage days will include the day goods are placed in storage and the day goods are removed from storage. If the goods are removed from storage on the same day they are placed in storage, one 15-day storage period will apply.

Note 3: Warehouse Handling Charge applies once each time shipment is placed in SIT.

17-23. Pick-Up or Delivery Transportation Rates To Apply on Storage-in-Transit Shipment Household Effects, Surface

A. Rates in this HTOS Paragraph 17-23 apply to drayage of SIT shipments as follows:

(1) From residence to SIT facility at origin.

(2) From destination SIT facility to final residence.

Note: Applies to shipments stored at either a commercial or Government facility.

B. Shipments stored within CONUS, CANADA, or HAWAII:

(1) Pick-up or delivery within 50 miles (80 km) radius of SIT facility, apply the rates in applicable schedule in this item.

(2) Pick-up or delivery beyond 50 miles (80 km) radius of SIT facility, apply the schedules in this item, plus the rate for additional mileage beyond 50 miles, refer to HTOS Paragraphs 17-33-17.47.

C. Shipments stored within overseas area refer to HTOS Paragraphs 17-33-17.47.

D. RTO may order, subject to carrier's concurrence, the services provided by this HTOS Paragraph 17-23 during other than regular working hours. The rates specified below plus overtime loading and/or unloading charges will apply. These additional charges will not apply when service is performed for the convenience of the carrier. When such service is ordered, it must be confirmed in writing. Rates in effect on date of initial pickup at origin will apply.

E. See HTOS Paragraph 17-6, Geographical Application of Rates and Schedules for Pick-up or Delivery Transportation Schedules to apply WHEN SERVICE IS PERFORMED AT POINTS WITHIN CONUS AND CANADA.

Note 1: Rates are expressed in terms of dollars per shipment and in terms of dollars per cwt (45 kg) for each 100 pounds (45 kg) or fraction thereof, in excess of 22,999 pounds (10,432 kg). The “Add'l CWT. (45 kg)” rate applies for each additional 100 pounds (45 kg), or fraction thereof, in excess of 22,999 pounds (10,432 kg), plus the base rate per shipment.

Note 2: For rates applicable for Hawaii, apply Schedule D; for Alaska apply Schedule H.

Pickup or delivery transportation rates on storage-in-transit shipments
Weight: From | Weight: Thru | Schedules: A | Schedules: B | Schedules: C | Schedules: D | Schedules: E | Schedules: F | Schedules: G | Schedules: H
1000 | 1099 | 125 | 139 | 154 | 171 | 190 | 211 | 234 | 260
1100 | 1199 | 135 | 150 | 166 | 185 | 205 | 227 | 252 | 280
1200 | 1299 | 145 | 161 | 178 | 198 | 220 | 244 | 271 | 301
1300 | 1399 | 155 | 172 | 191 | 212 | 235 | 261 | 289 | 321
1400 | 1499 | 165 | 183 | 203 | 225 | 250 | 277 | 308 | 342
1500 | 1599 | 175 | 194 | 215 | 239 | 265 | 294 | 326 | 362
1600 | 1699 | 184 | 205 | 227 | 252 | 280 | 311 | 345 | 383
1700 | 1799 | 194 | 216 | 239 | 266 | 295 | 327 | 363 | 403
1800 | 1899 | 204 | 227 | 252 | 279 | 310 | 344 | 382 | 424
1900 | 1999 | 214 | 238 | 264 | 293 | 325 | 361 | 400 | 445
2000 | 2199 | 226 | 251 | 279 | 310 | 344 | 382 | 424 | 470
2200 | 2399 | 241 | 268 | 297 | 330 | 366 | 407 | 451 | 501
2400 | 2599 | 256 | 284 | 316 | 350 | 389 | 432 | 479 | 532
2600 | 2799 | 271 | 301 | 334 | 371 | 411 | 457 | 507 | 563
2800 | 2999 | 286 | 317 | 352 | 391 | 434 | 482 | 535 | 593
3000 | 3199 | 301 | 334 | 371 | 411 | 456 | 507 | 562 | 624
3200 | 3399 | 316 | 350 | 389 | 432 | 479 | 532 | 590 | 655
3400 | 3599 | 330 | 367 | 407 | 452 | 502 | 557 | 618 | 686
3600 | 3799 | 345 | 383 | 425 | 472 | 524 | 582 | 646 | 717
3800 | 3999 | 360 | 400 | 444 | 492 | 547 | 607 | 673 | 748
4000 | 4199 | 374 | 416 | 461 | 512 | 568 | 631 | 700 | 777
4200 | 4399 | 388 | 431 | 478 | 531 | 589 | 654 | 726 | 806
4400 | 4599 | 402 | 446 | 495 | 550 | 610 | 678 | 752 | 835
4600 | 4799 | 416 | 462 | 513 | 569 | 632 | 701 | 778 | 864
4800 | 4999 | 430 | 477 | 530 | 588 | 653 | 724 | 804 | 892
5000 | 5199 | 444 | 493 | 547 | 607 | 674 | 748 | 830 | 921
5200 | 5399 | 458 | 508 | 564 | 626 | 695 | 771 | 856 | 950
5400 | 5599 | 471 | 523 | 581 | 645 | 716 | 794 | 882 | 979
5600 | 5799 | 485 | 539 | 598 | 664 | 737 | 818 | 908 | 1007
5800 | 5999 | 499 | 554 | 615 | 683 | 758 | 841 | 934 | 1036
6000 | 6199 | 513 | 569 | 632 | 702 | 779 | 864 | 959 | 1065
6200 | 6399 | 527 | 585 | 649 | 720 | 800 | 888 | 985 | 1094
6400 | 6599 | 541 | 600 | 666 | 739 | 821 | 911 | 1011 | 1123
6600 | 6799 | 555 | 616 | 683 | 758 | 842 | 934 | 1037 | 1151
6800 | 6999 | 568 | 631 | 700 | 777 | 863 | 958 | 1063 | 1180
7000 | 7199 | 582 | 646 | 717 | 796 | 884 | 981 | 1089 | 1209
7200 | 7399 | 596 | 662 | 734 | 815 | 905 | 1004 | 1115 | 1238
7400 | 7599 | 610 | 677 | 752 | 834 | 926 | 1028 | 1141 | 1266
7600 | 7799 | 624 | 692 | 769 | 853 | 947 | 1051 | 1167 | 1295
7800 | 7999 | 638 | 708 | 786 | 872 | 968 | 1074 | 1193 | 1324
8000 | 8499 | 661 | 733 | 814 | 904 | 1003 | 1113 | 1236 | 1372
8500 | 8999 | 693 | 769 | 854 | 948 | 1052 | 1167 | 1296 | 1438
9000 | 9499 | 725 | 805 | 893 | 992 | 1101 | 1222 | 1356 | 1505
9500 | 9999 | 757 | 840 | 933 | 1035 | 1149 | 1276 | 1416 | 1572
10000 | 10499 | 789 | 876 | 972 | 1079 | 1198 | 1330 | 1476 | 1639
10500 | 10999 | 821 | 911 | 1011 | 1123 | 1246 | 1383 | 1535 | 1704
11000 | 11499 | 854 | 948 | 1052 | 1167 | 1296 | 1438 | 1597 | 1772
11500 | 11999 | 886 | 983 | 1091 | 1211 | 1345 | 1493 | 1657 | 1839
12000 | 12499 | 917 | 1018 | 1129 | 1254 | 1392 | 1545 | 1715 | 1903
12500 | 12999 | 946 | 1050 | 1166 | 1294 | 1437 | 1595 | 1770 | 1965
13000 | 13499 | 976 | 1083 | 1203 | 1335 | 1482 | 1645 | 1826 | 2027
13500 | 13999 | 1006 | 1116 | 1239 | 1376 | 1527 | 1695 | 1881 | 2088
14000 | 14499 | 1035 | 1149 | 1276 | 1416 | 1572 | 1745 | 1937 | 2150
14500 | 14999 | 1065 | 1182 | 1312 | 1457 | 1617 | 1795 | 1992 | 2211
15000 | 15499 | 1095 | 1215 | 1349 | 1497 | 1662 | 1845 | 2048 | 2273
15500 | 15999 | 1125 | 1248 | 1386 | 1538 | 1707 | 1895 | 2103 | 2335
16000 | 16499 | 1153 | 1280 | 1421 | 1577 | 1750 | 1943 | 2157 | 2394
16500 | 16999 | 1180 | 1310 | 1454 | 1614 | 1792 | 1989 | 2207 | 2450
17000 | 17499 | 1207 | 1340 | 1488 | 1651 | 1833 | 2035 | 2258 | 2507
17500 | 17999 | 1235 | 1370 | 1521 | 1688 | 1874 | 2080 | 2309 | 2563
18000 | 18499 | 1262 | 1401 | 1555 | 1726 | 1916 | 2126 | 2360 | 2620
18500 | 18999 | 1289 | 1431 | 1588 | 1763 | 1957 | 2172 | 2411 | 2676
19000 | 19499 | 1316 | 1461 | 1622 | 1800 | 1998 | 2218 | 2462 | 2733
19500 | 19999 | 1343 | 1491 | 1655 | 1837 | 2039 | 2264 | 2513 | 2789
20000 | 20499 | 1371 | 1521 | 1689 | 1875 | 2081 | 2310 | 2564 | 2846
20500 | 20999 | 1398 | 1552 | 1722 | 1912 | 2122 | 2356 | 2615 | 2902
21000 | 21499 | 1425 | 1582 | 1756 | 1949 | 2163 | 2401 | 2666 | 2959
21500 | 21999 | 1452 | 1612 | 1789 | 1986 | 2205 | 2447 | 2716 | 3015
22000 | 22499 | 1480 | 1642 | 1823 | 2023 | 2246 | 2493 | 2767 | 3072
22500 | 22999 | 1507 | 1672 | 1856 | 2061 | 2287 | 2539 | 2818 | 3128
Add'l Cwt. (45 kg) |  | 5 | 6 | 7 | 7 | 8 | 9 | 10 | 11

17-24. Pickup or Delivery Transportation Rates To Apply on Storage-in-Transit Shipment Unaccompanied Air Baggage

A. Rates apply for pickup of shipments at residence and transportation to origin agents warehouse for SIT or for delivery from SIT at destination agent's warehouse to residence or other final delivery point.

Note: This HTOS Paragraph 17-24 applies when either a commercial or Government storage facility is used.

B. Rates apply in territory or areas shown below based on location of warehouse where SIT service is provided. Charges are subject to a US$32.55 minimum per shipment.

C. The following rates apply within 50-mile (80 km) radius of warehouse:

Applicable rates when warehouse is located at | Rates per gross Cwt (45kg)
Any point within CONUS and CANADA | US$8.85
Any overseas point not listed below | US$4.40
Alaska | US$12.55
Germany | US$7.80
Hawaii | US$11.15

D. For distances over a 50-mile (80 km) radius:

(1) Within CONUS, CANADA and the Island of Oahu, Hawaii, apply the rates in the applicable linehaul rate tables or the above rates, whichever is greater, subject to a US$37.00 minimum charge per shipment.

(2) Overseas (except Germany, Alaska, and the Island of Oahu, Hawaii), apply the rates in the applicable linehaul rate tables or the above rate, whichever is greater, subject to a US$30.65 minimum charge per shipment.

(3) Within Alaska, apply the rates in the applicable linehaul rate tables or the above rate, whichever is greater, subject to a US$37.00 minimum charge per shipment.

(4) Germany (either origin and/or destination) apply rates in the applicable linehaul rate tables or the above rate, whichever is greater, subject to a US$30.65 minimum charge per shipment.

(5) An administrative fee of US$15.00 per shipment will apply.

E. For delivery or pickup of shipments from/to SIT to Islands of Hawaii other than Oahu, the rate of US$8.20 per gross CWT (45kg) in addition to the above will apply.

F. Pickups and/or deliveries may be made after regular hours or days at the written request of the RTO, subject to the carrier's concurrence and additional charges. If this service is provided for the convenience of the carrier with the member's concurrence, additional charges WILL NOT APPLY.

G. Charges noted above are in addition to the SFR.

17-25. Termination of Shipment Household Effects, Surface.

A. A shipment will be terminated when appropriate and ordered by the RTO or other authorized Government representative.

B. When an order for termination is received, the carrier will locate the shipment, advise RTO of shipment's location and effect the required change. RTO will issue a GBL correction notice to reflect the termination point.

C. The following will apply to shipment terminated for the convenience of the Government:

(1) Shipments terminated prior to departure from the origin area (both CONUS, CANADA and overseas). Applicable payments are authorized as follows:

(a) US$54.00 per net cwt (45kg) including the use of packing materials and stuffing into household effects containers.

(b) SIT Charges, warehouse handling charges and delivery to SIT when required and authorized.

(c) When SIT is not ordered, apply applicable line haul rate table to cover local drayage charges, when applicable.

(2) Shipments terminated subsequent to movement from origin but prior to commencement of ocean or air transportation. Applicable payments are authorized as follows:

(a) US$54.00 per new cwt (45kg) including the use of packing materials and stuffing into household effects containers.

(b) See HTOS Paragraphs 17-33-17-47 below regarding rates to cover local drayage from residence to warehouse.

(c) See HTOS Paragraphs 17-33-17-47 below regarding rates from origin warehouse to point of termination.

(d) SIT and warehouse handling charges apply when required and authorized.

(3) Shipments terminated during or subsequent to the completion of overwater transportation. Applicable payments are authorized as follows:

(a) Carrier's SFR to rate area of the termination point or carrier's SFR to the rate area of the original destination point whichever is less, minus US$3.00 per cwt (45kg) for non-performance of the unpacking services. The GBL correction notice will reflect this reduction.

(b) If the shipment is to be delivered to a residence or warehouse also within the rate area of the termination point, the carrier's SFR as specified above in paragraph c (1) plus appropriate charges for additional services as ordered by DOS on a DD Form 619 or comparable commercial form will apply.

(4) A termination charge of US$40.00 per shipment will apply in addition to other charges authorized herein. The termination charge will be supported by the GBL correction notice.

D. When shipments are terminated through the fault of the carrier, the provisions of the HTOS Paragraph 8-1.1.17, Shipment Termination, apply.

Note: Any charges for services performed after the termination of the shipment will be in accordance with applicable rules and rates.

17-26. Termination of Shipment Unaccompanied Air Baggage

A. A shipment will be terminated when appropriate and ordered by a RTO or other authorized Government representative.

B. When an order for termination is received, the carrier will locate the shipment, advise the RTO of shipment's location and effect the required change. The RTO will issue a GBL correction notice to reflect the termination point.

C. The following will apply to shipment terminated for the convenience of the Government:

(1) Shipments terminated prior to departure from the origin area (both CONUS, CANADA and overseas). Applicable payments are authorized as follows:

(a) US$5.00 per gross CWT (45kg) for packing, including the use of packing materials and stuffing into containers, if used.

(b) SIT charges, warehouse handling charges, and delivery to or from SIT, when required and authorized.

(c) Unpacking charges, if applicable.

(d) When SIT is not ordered, apply applicable linehaul rate table to cover local drayage charges.

(2) Shipments terminated subsequent to movement from origin but prior to commencement of ocean or air transportation. Applicable payments are authorized as follows:

(a) US$5.00 per gross CWT (45kg) for packing, including the use of packing materials and stuffing into containers, if used.

(b) Applicable linehaul rates for mileage from origin to point of termination.

(c) SIT and warehouse handling charges, when required and authorized.

(d) Unpacking charges, if applicable.

(3) Shipments terminated during or subsequent to the completion of overwater transportation. Applicable payments are authorized as follows:

(a) Carrier's SFR to rate area of the termination point or carrier's SFR to the rate area of the original destination point, whichever is less.

(b) If the shipment is to be delivered to a residence also within the rate area of the termination point, the carrier's SFR rate as specified above, plus appropriate charges for additional services as ordered by the RTO on a DD Form 619 or comparable commercial form, will apply.

(4) A termination charge of US$10.00 per shipment will apply in addition to other charges authorized herein. The termination charge will be supported by the GBL correction notice.

D. When shipments are terminated through the fault of the carrier, the provisions of HTOS Paragraph 8-1.1.17, Shipment Termination, apply. The termination charge of US$10.00 will not apply.

17-27. Reshipments-Household Effects, Surface

A. This HTOS Paragraph 17-27 applies to shipments which are terminated for the convenience of the government and which require over ocean transportation either by air or water. A reshipment normally will be handled by the carrier originally tendered the shipment if that carrier has a cost effective GSA approved rate on file.

B. The point of termination will be considered the final destination of the original shipment and the GBL will be adjusted accordingly.

C. Onward movement of property will be treated as a new shipment under a new GBL. The following procedures will be followed in determining applicable rates for the new GBL.

(1) If the carrier originally handling the shipment has a cost effective GSA approved rate on file to the new destination, that SFR, less US$54.00 per net cwt (45kg) will apply. The reduction will be supported by DOS annotation on the original GBL.

(2) If the carrier originally handling the shipment does not have a cost effective rate on file to the new destination, an acceptable rate wail be negotiated with RTO or the shipment will be tendered to another carrier.

(3) If the shipment is tendered to another carrier with a cost effective GSA approved rate on file, the SFR will be reduced by US$49.00 per net cwt (45kg) for non-performance of packing services. The shipment will be decontainerized and restuffed into other containers and original containers returned to owner.

(D) The above procedures are not applicable to those shipments terminated and retendered due to the fault of the carrier, such as carrier bankruptcy or failure to complete movement as defined in HTOS Paragraph 8-1.1.17. In these instances, due to the need to expedite onward movement, shipments will remain in the original carrier's containers. These containers will be made available to the original carrier by the new carrier at destination.

(E) Old and new GBLs will be cross-referenced.

17-28. Reshipments—Unaccompanied Air Baggage

(A) this HTOS Paragraph 17-28 applies to shipments which are terminated for convenience of the Government and which require over ocean transportation either by air or water. A reshipment normally will be handled by the carrier originally tendered the shipment if that carriers has a cost effective, GSA approved rate on file or negotiates an acceptable OTO rate with GSA.

(B) The point of termination will be considered the final destination and the original GBL will be terminated at that point.

(C) Onward movement of property will be treated as a new shipment under a new GBL. The following procedures will be followed in determining applicable rates for the new GBL y

(1) If the carrier originally handling the shipment has a cost effective, GSA approved rate on file to the new destination, that SFR, less US$5.00 per gross CWT (45kg) for nonperformance of packing will apply. The reduction will be supported by a RTO annotation on the original GBL.

(2) If the carrier originally handling the shipment does not have a cost effective, GSA approved rate on file to the new destination, an acceptable OTO SFR will be negotiated or the shipment will be tendered to another carrier.

(3) If the shipment is tendered to another carrier, this SFR will be reduced by US$5.00 per gross CWT (45kg) for nonperformance of packing services.

D. Old and new GBLs will be cross-referenced.

17-29. Shipments Diverted After Commencement Of Transportation Service

A. Upon instructions made and confirmed in writing by RTO, shipments will be diverted subject to the provisions and charges shown below. However, when charges are assessed in accordance with the provisions of this item, the charges associated with delivery from SIT herein, will not apply.

B. The term “diverted” or “diversion” as used herein, means a change to a new destination point more than fifty (50) (80 km) miles from the original destination point. A diversion will be made only at an ocean port of embarkation, an ocean port of debarkation, or at destination point. If the RTO directs the movement of the shipment to a place which is less than 50 (80 km) miles from the original destination point of the shipment, the shipment will be terminated at the point designated by the RTO and no diversion will occur. In such instance, the SFR will be that applicable to the original destination point. If the RTO directs the movement of the shipment to a place which is more than 50 (80 km) miles from the original destination point, the transportation charges as stated below in this HTOS Paragraph 17-29 will apply.

Exception: The provisions of this HTOS Paragraph 17-29 will not apply if instructions are received to change the destination of a shipment that is in SIT as destination. In such instances, transportation charges to the new destination point from the SIT warehouse will be computed under the provisions of Pickup/Delivery Transportation Rate to apply on SIT shipments.

C. When an order for diversion is received by carrier, diligent effort will be made by carrier to locate the shipment at the ocean port of embarkation or debarkation, or destination and effect the change desired. The carrier will not be responsible for failure to effect the change ordered, unless such failure is due to error or negligence of the carrier or its employees.

D. Upon receipt of a diversion certificate from the RTO, and properly affixed to carrier's bill to support billing for diversion charges, a US$40.00 per shipment charge will apply and when applicable the following additional provisions, and associated rates and charges will apply:

Shipments Originating In Conus and Canada
Shipment diverted at CONUS AND CANADA ocean port of embarkation (POE) | Diverted to a CONUS AND CANADA destination point | There will be no diversions to a CONUS AND CANADA destination point. Shipment will be terminated at the POE and the international nature of the movement will cease (See Termination of Shipment Movement to the CONUS AND CANADA destination point will be affected under domestic shipping procedures.
Shipment diverted at CONUS AND CANADA ocean port of embarkation (POE) | Diverted to a different overseas rate area using the same (original) POE where diversion is effected. | Use the carrier's SFR from origin to new overseas rate area (See Note below).
Shipment diverted at CONUS AND CANADA ocean port of embarkation (POE) | Diverted to a different overseas rate area using a different (new) POE | Use applicable line haul rate table from the origin to the original POE where diversion is effected. Use the carrier's SFR from the original POE where diversion is effected to the new overseas rate area (See Note below).
Shipment diverted at overseas ocean port of debarkation (POD) | Diverted to a CONUS AND CANADA destination point | There will be no diversion to a CONUS AND CANADA destination point. The shipment will be terminated at the POD and reshipped to CONUS AND CANADA. (See Reshipments and Termination of Shipment).
Shipment diverted at overseas ocean port of debarkation (POD) | Diverted to an overseas destination point in the same overseas rate area as the original destination point | Use the carrier's SFR from origin to destination rate area (no change in SFR).
Shipment diverted at overseas ocean port of debarkation (POD) | Diverted to an overseas destination point in another overseas rate area which uses the same (original) POD. | Use the carrier's SFR from origin to new overseas rate area (See Note below).
Shipment diverted at overseas ocean port of debarkation (POD) | Diverted to an overseas destination point in another overseas rate area which uses a different POD but no further overwater transportation is required | Use carrier's SFR to the original POD where diversion is effected. Rate will be negotiated with GSA or the RTO.
Shipment diverted at overseas ocean port of debarkation (POD) | Diverted to an overseas destination point in another overseas rate area which uses a different (new) POD and where further over water transportation is required | There will be no diversion to a new overseas rate area requiring further over water transportation. Shipment will be terminated at the POD in accordance with Termination of Shipment procedures. Rate will be negotiated with GSA or RTO.
Shipment diverted at overseas destination | There will be no diversion from overseas destination. Shipments will terminate at destination and reshipment will be made as a new shipment.
Note: If the carrier does not have a SFR on file from the POE or POD when diversion is effected to the new destination, the carrier will contact GSA or appropriate GSO for further guidance.

Shipments Originating Overseas
Shipment diverted at overseas ocean port of embarkation (POE) | Diverted at the overseas POE enroute to a CONUS OR CANADA destination | There will be no diversion. The shipment will be terminated at the overseas POE. Reshipment to new destination will be made as a new shipment.
Shipment diverted at overseas ocean port of embarkation (POE) | Diverted at overseas POE to an overseas destination point in the same overseas rate area as the POE where diversion is effected | There will be no diversion. Shipment will be terminated at the overseas POE. Reshipment to new destination will be made as a new shipment.
Shipment diverted at overseas ocean port of embarkation (POE) | Diverted at the overseas POE to another overseas destination point in another overseas rate area | There will be no diversion. Shipment will be terminated at the overseas POE. Reshipment to new destination will be made as a new shipment.
Shipment diverted at CONUS OR CANADA/overseas port of debarkation (POD). | Diverted at CONUS OR CANADA POD to a new destination point in CONUS OR CANADA | There will be no diversion. Shipment will be terminated at the CONUS OR CANADA POD. Reshipment to new destination will be made as a new shipment.
Shipment diverted at CONUS OR CANADA/overseas port of debarkation (POD). | Diverted at CONUS OR CANADA POD to a destination point overseas | There will be no diversion. Shipment will be terminated at the POD. Reshipment to new destination will be made as a new shipment.
Shipment diverted at CONUS OR CANADA/overseas port of debarkation (POD). | Diverted at an overseas POD to a destination point in CONUS OR CANADA | There will be no diversion. Shipment will be terminated at the overseas POD. Reshipment to new destination will be made as a new shipment.
Shipment diverted at CONUS OR CANADA/overseas port of debarkation (POD). | Diverted at overseas POD to a new destination point overseas | There will be no diversion. Shipment will be terminated at the overseas POD. Reshipment to new destination will be made as a new shipment.
Shipment diverted at CONUS OR CANADA destination. | Diverted at CONUS OR CANADA POD to a new destination point in CONUS OR CANADA | There will be no diversion of shipment at CONUS OR CANADA destination. Shipment will be terminated at CONUS OR CANADA destination. Reshipment to new destination will be made under domestic procedures as a new shipment.

17-30. Excessive Distance Carry Charges To and From Mini-Warehouse Storage (Long Carries)

On shipments picked up at or delivered to a mini-warehouse which involve a carry in excess of 75 feet (23 meters) between the carrier's vehicle and the outside entrance door of the actual storage area. An additional long carry charge will apply as follows:

Rates in Dollars and Cents per CWT (45KG) Schedules
A | B | C | D | E | F | G | H
US$0.70 | US$0.70 | US$0.85 | US$0.90 | US$1.00 | US$1.05 | US$1.10 | US$1.20

Note 1: Refer to HTOS Paragraph 17-6 for application of charges.

Note 2: Refer to HTOS Paragraph 17-6 for CONUS geographic application of rate schedules in this item. Apply Schedule H at all overseas points.

17-31. Reserved for Future Use

17-32. Surface Linehaul Rate Table for Overseas Areas Not Otherwise Specified

The following table will be used for all overseas areas not otherwise specified for delivery in/out of SIT, diversions, terminations, alternate ports, etc., involving surface household goods shipments. “Break points” indicate weight at which lower charge develops by use of lowest weight and applicable rate in next higher weight bracket.

Miles | Less than 2,000 lbs. incl. | Break point | 2,000 to 3,999 lbs. incl. | Break point | 4,000 lbs. and over
1-50 | 3.80 | 1,737 | 3.30 | 3,637 | 3.00
51-75 | 5.40 | 1,723 | 4.65 | 3,613 | 4.20
76-100 | 6.15 | 1,724 | 5.30 | 3,623 | 4.80
101-150 | 6.90 | 1,740 | 6.00 | 3,567 | 5.35
151-200 | 7.65 | 1,752 | 6.70 | 3,583 | 6.00
201—250 | 8.45 | 1,740 | 7.35 | 3,592 | 6.60
251—300 | 9.20 | 1,740 | 8.00 | 3,601 | 7.20
301—350 | 10.00 | 1,741 | 8.70 | 3,587 | 7.80
351—400 | 10.75 | 1,740 | 9.35 | 3,573 | 8.35
401—450 | 11.50 | 1,740 | 10.00 | 3,581 | 8.95
451—500 | 12.30 | 1,740 | 10.70 | 3,589 | 9.60
501—550 | 13.05 | 1,740 | 11.35 | 3,595 | 10.20
551—600 | 13.80 | 1,740 | 12.00 | 3,601 | 10.80
601—650 | 14.55 | 1,739 | 12.65 | 3,605 | 11.40
651—700 | 15.35 | 1,740 | 13.35 | 3,596 | 12.00
701—750 | 16.10 | 1,740 | 14.00 | 3,601 | 12.60
751—800 | 16.90 | 1,734 | 14.65 | 3,605 | 13.20
801—850 | 17.65 | 1,740 | 15.35 | 3,597 | 13.80
851—900 | 18.40 | 1,740 | 16.00 | 3,601 | 14.40
Note: Over 900 miles, add US$1.35 for each additional 100 miles or fraction thereof, to 900-mile rate shown above.

17-33. Surface Linehaul Rate Table for Belgium, Italy, The Netherlands, and West Germany

The following table will be used for Belgium, Italy, The Netherlands, and West Germany for delivery in/out of SIT, diversions, terminations, alternate ports, etc., involving surface household goods shipments. “Break points” indicate weight at which lower charge develops by use of lowest weight and applicable rate in next higher weight bracket.

Miles | Less than 2,000 lbs. incl. | Break point | 2,000 to 3,999 lbs. incl. | Break point | 4,000 lbs. and over
1—50 | 3.95 | 1,747 | 3.45 | 3,595 | 3.10
51—75 | 6.35 | 1,733 | 5.50 | 3,637 | 5.00
76—100 | 7.95 | 1,736 | 6.90 | 3,595 | 6.20
101—150 | 9.50 | 1,748 | 8.30 | 3,591 | 7.45
151—200 | 11.10 | 1,739 | 9.65 | 3,607 | 8.70
201—250 | 12.20 | 1,746 | 10.65 | 3,587 | 9.55
251—300 | 13.35 | 1,738 | 11.60 | 3,587 | 10.40
301—350 | 14.45 | 1,738 | 12.55 | 3,602 | 11.30
351—400 | 15.55 | 1,737 | 13.50 | 3,601 | 12.15
401—450 | 16.65 | 1,742 | 14.50 | 3,601 | 13.05
451—500 | 17.80 | 1,736 | 15.45 | 3,599 | 13.90
501—550 | 18.85 | 1,741 | 16.40 | 3,610 | 14.80
551—600 | 20.00 | 1,736 | 17.35 | 3,609 | 15.65
601—650 | 21.10 | 1,740 | 18.35 | 3,597 | 16.50
651—700 | 22.20 | 1,739 | 19.30 | 3,596 | 17.35
701—750 | 23.30 | 1,743 | 20.30 | 3,597 | 18.25
751—800 | 24.45 | 1,739 | 21.25 | 3,596 | 19.10
801—850 | 25.55 | 1,738 | 22.20 | 3,604 | 20.00
851—900 | 26.65 | 1,738 | 23.15 | 3,603 | 20.85
901—950 | 27.75 | 1,741 | 24.15 | 3,562 | 21.50
951—1000 | 28.85 | 1,741 | 25.10 | 3,602 | 22.60
1001—1100 | 29.95 | 1,740 | 26.05 | 3,601 | 23.45
1101—1200 | 33.35 | 1,737 | 28.95 | 3,600 | 26.05
1201—1300 | 35.50 | 1,741 | 30.90 | 3,599 | 27.80
1301—1400 | 37.75 | 1,738 | 32.80 | 3,604 | 29.55
1401—1500 | 40.00 | 1,738 | 34.75 | 3,603 | 31.30
1501—1600 | 42.15 | 1,742 | 36.70 | 3,603 | 33.05
Note: Over 1,600 miles, add US$2.00 for each additional 100 miles or fraction thereof, to 600-mile rate shown above.

17-34. Surface Linehaul Rate Table for CONUS, Canada, Alaska, and Hawaii

The following table will be used for CONUS, Canada, Alaska, and Hawaii for delivery in/out of SIT, diversions, terminations, alternate ports, etc., involving surface household goods shipments. “Break points” indicate weight at which lower charge develops by use of lowest weight and applicable rate in next higher weight bracket.

Miles | Less than 1,000 lbs. incl. | Brk pt. | 1,000 to 1,999 lbs. incl. | Brk pt. | 2,000 to 3,999 lbs. incl. | Brk pt. | 4,000 to 7,999 lbs. incl. | Brk pt. | 8,000 to 11,999 lbs. incl. | Brk pt. | 12,000 lbs. and over
1-10 | 14.95 | 653 | 9.75 | 1,683 | 8.20 | 3,464 | 7.10 | 6,536 | 5.80 | 11,690 | 5.65
11-20 | 15.50 | 668 | 10.35 | 1,653 | 8.55 | 3,369 | 7.20 | 6,667 | 6.00 | 11,501 | 5.75
21-30 | 16.30 | 672 | 10.95 | 1,644 | 9.00 | 3,356 | 7.55 | 6,464 | 6.10 | 11,410 | 5.80
31-40 | 17.20 | 652 | 11.20 | 1,643 | 9.20 | 3,348 | 7.70 | 6,598 | 6.35 | 11,528 | 6.10
41-50 | 18.05 | 649 | 11.70 | 1,659 | 9.70 | 3,382 | 8.20 | 6,244 | 6.40 | 11,532 | 6.15
51-60 | 18.80 | 636 | 11.95 | 1,657 | 9.90 | 3,374 | 8.35 | 6,611 | 6.90 | 11,131 | 6.40
61-70 | 19.60 | 641 | 12.55 | 1,650 | 10.35 | 3,305 | 8.55 | 6,737 | 7.20 | 11,501 | 6.90
71-80 | 20.30 | 648 | 13.15 | 1,613 | 10.60 | 3,378 | 8.95 | 6,749 | 7.55 | 11,444 | 7.20
81-90 | 21.30 | 639 | 13.60 | 1,618 | 11.00 | 3,346 | 9.20 | 6,696 | 7.70 | 11,767 | 7.55
91-100 | 22.10 | 629 | 13.90 | 1,619 | 11.25 | 3,432 | 9.65 | 6,881 | 8.30 | 11,133 | 7.70
101-110 | 22.90 | 634 | 14.50 | 1,614 | 11.70 | 3,317 | 9.70 | 6,887 | 8.35 | 11,138 | 7.75
111-120 | 23.60 | 634 | 14.95 | 1,592 | 11.90 | 3,278 | 9.75 | 6,934 | 8.45 | 11,787 | 8.30
121-130 | 24.30 | 636 | 15.45 | 1,573 | 12.15 | 3,260 | 9.90 | 6,910 | 8.55 | 11,720 | 8.35
131-140 | 24.90 | 639 | 15.90 | 1,579 | 12.55 | 3,251 | 10.20 | 6,942 | 8.85 | 11,458 | 8.45
141-150 | 25.60 | 637 | 16.30 | 1,589 | 12.95 | 3,182 | 10.30 | 6,952 | 8.95 | 11,866 | 8.85
151-160 | 26.15 | 643 | 16.80 | 1,572 | 13.20 | 3,197 | 10.55 | 6,863 | 9.05 | 11,934 | 9.00
161-170 | 26.80 | 648 | 17.35 | 1,534 | 13.30 | 3,294 | 10.95 | 7,051 | 9.65 | 11,254 | 9.05
171-180 | 27.40 | 646 | 17.70 | 1,549 | 13.70 | 3,241 | 11.10 | 7,028 | 9.75 | 11,324 | 9.20
181-190 | 27.95 | 646 | 18.05 | 1,563 | 14.10 | 3,192 | 11.25 | 7,254 | 10.20 | 11,236 | 9.55
191-200 | 28.65 | 639 | 18.30 | 1,574 | 14.40 | 3,251 | 11.70 | 7,077 | 10.35 | 11,305 | 9.75
201-220 | 29.45 | 639 | 18.80 | 1,575 | 14.80 | 3,230 | 11.95 | 7,331 | 10.95 | 11,179 | 10.20
221-240 | 30.25 | 640 | 19.35 | 1,597 | 15.45 | 3,211 | 12.40 | 7,226 | 11.20 | 11,304 | 10.55
241-260 | 30.85 | 650 | 20.05 | 1,582 | 15.85 | 3,168 | 12.55 | 7,267 | 11.40 | 11,685 | 11.10
261-280 | 31.70 | 641 | 20.30 | 1,621 | 16.45 | 3,210 | 13.20 | 7,243 | 11.95 | 11,448 | 11.40
281-300 | 32.35 | 645 | 20.85 | 1,641 | 17.10 | 3,182 | 13.60 | 7,353 | 12.50 | 11,473 | 11.95
301-320 | 33.20 | 647 | 21.45 | 1,628 | 17.45 | 3,187 | 13.90 | 7,454 | 12.95 | 11,584 | 12.50
321-340 | 33.85 | 653 | 22.10 | 1,634 | 18.05 | 3,214 | 14.50 | 7,338 | 13.30 | 11,685 | 12.95
341-360 | 34.45 | 664 | 22.85 | 1,637 | 18.70 | 3,198 | 14.95 | 7,412 | 13.85 | 11,524 | 13.30
361-380 | 35.10 | 666 | 23.35 | 1,658 | 19.35 | 3,205 | 15.50 | 7,433 | 14.40 | 11,542 | 13.85
381-400 | 35.75 | 662 | 23.65 | 1,675 | 19.80 | 3,213 | 15.90 | 7,523 | 14.95 | 11,559 | 14.40
401-420 | 36.35 | 672 | 24.40 | 1,656 | 20.20 | 3,258 | 16.45 | 7,538 | 15.50 | 11,459 | 14.80
421-440 | 37.15 | 667 | 24.75 | 1,669 | 20.65 | 3,274 | 16.90 | 7,527 | 15.90 | 11,661 | 15.45
441-460 | 37.95 | 661 | 25.05 | 1,701 | 21.30 | 3,259 | 17.35 | 7,586 | 16.45 | 11,417 | 15.65
461-480 | 38.60 | 668 | 25.75 | 1,678 | 21.60 | 3,278 | 17.70 | 7,594 | 16.80 | 11,358 | 15.90
481-500 | 39.35 | 665 | 26.15 | 1,691 | 22.10 | 3,267 | 18.05 | 7,579 | 17.10 | 11,544 | 16.45
501-520 | 39.95 | 671 | 26.80 | 1,691 | 22.65 | 3,232 | 18.30 | 7,585 | 17.35 | 11,620 | 16.80
521-540 | 40.55 | 668 | 27.05 | 1,705 | 23.05 | 3,263 | 18.80 | 7,532 | 17.70 | 11,594 | 17.10
541-560 | 40.95 | 670 | 27.40 | 1,716 | 23.50 | 3,252 | 19.10 | 7,561 | 18.05 | 11,535 | 17.35
561-580 | 41.60 | 669 | 27.80 | 1,702 | 23.65 | 3,290 | 19.45 | 7,527 | 18.30 | 11,443 | 17.45
581-600 | 41.90 | 670 | 28.05 | 1,730 | 24.25 | 3,242 | 19.65 | 7,614 | 18.70 | 11,583 | 18.05
601-620 | 42.50 | 673 | 28.60 | 1,707 | 24.40 | 3,287 | 20.05 | 7,542 | 18.90 | 11,620 | 18.30
621-640 | 42.95 | 672 | 28.85 | 1,709 | 24.65 | 3,278 | 20.20 | 7,703 | 19.45 | 11,445 | 18.55
641-660 | 43.35 | 673 | 29.15 | 1,709 | 24.90 | 3,318 | 20.65 | 7,613 | 19.65 | 11,481 | 18.80
661-680 | 43.65 | 672 | 29.30 | 1,748 | 25.60 | 3,266 | 20.90 | 7,675 | 20.05 | 11,432 | 19.10
681-700 | 44.20 | 670 | 29.60 | 1,747 | 25.85 | 3,296 | 21.30 | 7,587 | 20.20 | 11,644 | 19.60
701-725 | 44.55 | 674 | 30.00 | 1,744 | 26.15 | 3,282 | 21.45 | 7,628 | 20.45 | 11,619 | 19.80
726-750 | 44.95 | 680 | 30.55 | 1,729 | 26.40 | 3,281 | 21.65 | 7,723 | 20.90 | 11,541 | 20.10
751-775 | 45.45 | 679 | 30.85 | 1,738 | 26.80 | 3,284 | 22.00 | 7,746 | 21.30 | 11,437 | 20.30
776-800 | 45.80 | 683 | 31.25 | 1,732 | 27.05 | 3,350 | 22.65 | 7,630 | 21.60 | 11,584 | 20.85
801-825 | 46.25 | 686 | 31.70 | 1,729 | 27.40 | 3,365 | 23.05 | 7,636 | 22.00 | 11,646 | 21.35
826-850 | 46.40 | 689 | 31.95 | 1,741 | 27.80 | 3,353 | 23.30 | 7,691 | 22.40 | 11,599 | 21.65
851-875 | 46.55 | 690 | 32.10 | 1,742 | 27.95 | 3,364 | 23.50 | 7,779 | 22.85 | 11,554 | 22.00
876-900 | 46.95 | 690 | 32.35 | 1,744 | 28.20 | 3,355 | 23.65 | 7,814 | 23.10 | 11,533 | 22.20
901-925 | 47.15 | 695 | 32.75 | 1,747 | 28.60 | 3,399 | 24.30 | 7,688 | 23.35 | 11,641 | 22.65
926-950 | 47.60 | 695 | 33.05 | 1,746 | 28.85 | 3,418 | 24.65 | 7,660 | 23.60 | 11,721 | 23.05
951-975 | 47.75 | 698 | 33.30 | 1,757 | 29.25 | 3,426 | 25.05 | 7,745 | 24.25 | 11,555 | 23.35
976-1000 | 48.95 | 684 | 33.45 | 1,770 | 29.60 | 3,473 | 25.70 | 7,627 | 24.50 | 11,584 | 23.65
1001-1050 | 50.15 | 686 | 34.40 | 1,768 | 30.40 | 3,448 | 26.20 | 7,817 | 25.60 | 11,602 | 24.75
1051-1100 | 51.60 | 684 | 35.25 | 1,774 | 31.25 | 3,489 | 27.25 | 7,692 | 26.20 | 11,726 | 25.60
1101-1150 | 52.90 | 680 | 35.95 | 1,786 | 32.10 | 3,477 | 27.90 | 7,757 | 27.05 | 11,623 | 26.20
1151-1200 | 54.20 | 686 | 37.15 | 1,780 | 33.05 | 3,462 | 28.60 | 7,805 | 27.90 | 11,635 | 27.05
1201-1250 | 55.35 | 685 | 37.90 | 1,771 | 33.55 | 3,494 | 29.30 | 7,809 | 28.60 | 11,707 | 27.90
1251-1300 | 56.60 | 682 | 38.60 | 1,783 | 34.40 | 3,489 | 30.00 | 7,814 | 29.30 | 11,714 | 28.60
1301-1350 | 57.35 | 688 | 39.40 | 1,787 | 35.20 | 3,506 | 30.85 | 7,780 | 30.00 | 11,701 | 29.25
1351-1400 | 58.15 | 694 | 40.35 | 1,772 | 35.75 | 3,519 | 31.45 | 7,784 | 30.60 | 11,726 | 29.90
1401-1450 | 59.00 | 696 | 41.05 | 1,779 | 36.50 | 3,507 | 32.00 | 7,863 | 31.45 | 11,676 | 30.60
1451-1500 | 59.75 | 700 | 41.80 | 1,780 | 37.20 | 3,522 | 32.75 | 7,842 | 32.10 | 11,683 | 31.25
1501-1550 | 60.40 | 704 | 42.50 | 1,786 | 37.95 | 3,526 | 33.45 | 7,845 | 32.80 | 11,744 | 32.10
1551-1600 | 61.20 | 705 | 43.10 | 1,792 | 38.60 | 3,539 | 34.15 | 7,813 | 33.35 | 11,803 | 32.80
1601-1650 | 61.85 | 705 | 43.60 | 1,801 | 39.25 | 3,547 | 34.80 | 7,817 | 34.00 | 11,771 | 33.35
1651-1700 | 62.55 | 707 | 44.20 | 1,808 | 39.95 | 3,555 | 35.50 | 7,809 | 34.65 | 11,775 | 34.00
1701-1750 | 63.25 | 708 | 44.75 | 1,813 | 40.55 | 3,547 | 35.95 | 7,845 | 35.25 | 11,796 | 34.65
1751-1800 | 63.85 | 712 | 45.45 | 1,820 | 41.35 | 3,560 | 36.80 | 7,805 | 35.90 | 11,783 | 35.25
1801-1850 | 64.55 | 717 | 46.25 | 1,804 | 41.70 | 3,578 | 37.30 | 7,840 | 36.55 | 11,787 | 35.90
1851-1900 | 65.05 | 721 | 46.85 | 1,796 | 42.05 | 3,620 | 38.05 | 7,822 | 37.20 | 11,791 | 36.55
1901-1950 | 65.90 | 723 | 47.60 | 1,803 | 42.90 | 3,595 | 38.55 | 7,866 | 37.90 | 11,763 | 37.15
1951-2000 | 66.50 | 725 | 48.20 | 1,799 | 43.35 | 3,599 | 39.00 | 7,857 | 38.30 | 11,875 | 37.90
2001-2050 | 67.25 | 728 | 48.95 | 1,794 | 43.90 | 3,618 | 39.70 | 7,849 | 38.95 | 11,877 | 38.55
2051-2100 | 67.85 | 728 | 49.35 | 1,806 | 44.55 | 3,632 | 40.45 | 7,793 | 39.40 | 11,879 | 39.00
2101-2150 | 68.55 | 732 | 50.15 | 1,803 | 45.20 | 3,633 | 41.05 | 7,815 | 40.10 | 11,821 | 39.50
2151-2200 | 69.20 | 730 | 50.50 | 1,814 | 45.80 | 3,642 | 41.70 | 7,789 | 40.60 | 11,853 | 40.10
2201-2250 | 69.75 | 733 | 51.10 | 1,817 | 46.40 | 3,634 | 42.15 | 7,849 | 41.35 | 11,783 | 40.60
2251-2300 | 70.25 | 737 | 51.75 | 1,815 | 46.95 | 3,647 | 42.80 | 7,814 | 41.80 | 11,785 | 41.05
2301-2350 | 70.75 | 736 | 52.05 | 1,826 | 47.50 | 3,634 | 43.15 | 7,815 | 42.15 | 11,872 | 41.70
2351-2400 | 71.30 | 741 | 52.80 | 1,809 | 47.75 | 3,657 | 43.65 | 7,863 | 42.90 | 11,791 | 42.15
2401-2450 | 72.00 | 741 | 53.30 | 1,809 | 48.20 | 3,677 | 44.30 | 7,793 | 43.15 | 11,931 | 42.90
2451-2500 | 72.45 | 744 | 53.90 | 1,813 | 48.85 | 3,665 | 44.75 | 7,804 | 43.65 11,918 | 43.35
2501-2550 | 72.65 | 747 | 54.20 | 1,812 | 49.10 | 3,662 | 44.95 | 7,885 | 44.30 | 11,824 | 43.65
2551-2600 | 72.85 | 747 | 54.40 | 1,822 | 49.55 | 3,670 | 45.45 | 7,877 | 44.75 | 11,866 | 44.25
2601-2650 | 73.50 | 746 | 54.80 | 1,831 | 50.15 | 3,654 | 45.80 | 7,878 | 45.10 | 11,828 | 44.45
2651-2700 | 73.65 | 751 | 55.25 | 1,827 | 50.45 | 3,671 | 46.30 | 7,888 | 45.65 | 11,764 | 44.75
2701-2750 | 73.95 | 750 | 55.45 | 1,827 | 50.65 | 3,669 | 46.45 | 7,906 | 45.90 | 11,791 | 45.10
2751-2800 | 74.10 | 755 | 55.90 | 1,829 | 51.10 | 3,676 | 46.95 | 7,907 | 46.40 | 11,807 | 45.65
2801-2850 | 74.75 | 752 | 56.20 | 1,828 | 51.35 | 3,701 | 47.50 | 7,891 | 46.85 | 11,757 | 45.90
2851-2900 | 74.95 | 756 | 56.65 | 1,828 | 51.75 | 3,691 | 47.75 | 7,892 | 47.10 | 11,822 | 46.40
2901-2950 | 75.15 | 756 | 56.80 | 1,831 | 52.00 | 3,708 | 48.20 | 7,884 | 47.50 | 11,836 | 46.85
2951-3000 | 75.50 | 760 | 57.35 | 1,828 | 52.40 | 3,699 | 48.45 | 7,885 | 47.75 | 11,850 | 47.15
3001-3050 | 76.00 | 761 | 57.80 | 1,831 | 52.90 | 3,702 | 48.95 | 7,878 | 48.20 | 11,864 | 47.65
3051-3100 | 76.25 | 761 | 58.00 | 1,837 | 53.25 | 3,689 | 49.10 | 7,943 | 48.75 | 11,767 | 47.80
3101-3150 | 76.40 | 762 | 58.20 | 1,842 | 53.60 | 3,698 | 49.55 | 7,904 | 48.95 | 11,829 | 48.25
3151-3200 | 76.90 | 765 | 58.80 | 1,837 | 54.00 | 3,719 | 50.20 | 7,841 | 49.20 | 11,891 | 48.75
3201-3250 | 77.05 | 766 | 59.00 | 1,838 | 54.20 | 3,724 | 50.45 | 7,874 | 49.65 | 11,831 | 48.95
3251-3300 | 77.50 | 768 | 59.45 | 1,844 | 54.80 | 3,698 | 50.65 | 7,929 | 50.20 | 11,738 | 49.10
3301-3350 | 77.55 | 768 | 59.55 | 1,848 | 55.00 | 3,713 | 51.05 | 7,899 | 50.40 | 11,751 | 49.35
3351-3400 | 77.80 | 767 | 59.65 | 1,855 | 55.30 | 3,715 | 51.35 | 7,891 | 50.65 | 11,847 | 50.00
3401-3450 | 78.15 | 765 | 59.75 | 1,857 | 55.45 | 3,734 | 51.75 | 7,892 | 51.05 | 11,801 | 50.20
3451-3500 | 78.20 | 770 | 60.15 | 1,846 | 55.50 | 3,734 | 51.80 | 7,892 | 51.10 | 11,848 | 50.45
3501-3550 | 78.40 | 770 | 60.30 | 1,858 | 56.00 | 3,715 | 52.00 | 7,901 | 51.35 | 11,837 | 50.65
3551-3600 | 78.60 | 772 | 60.65 | 1,854 | 56.20 | 3,730 | 52.40 | 7,901 | 51.75 | 11,838 | 51.05
3601-3650 | 78.90 | 773 | 60.95 | 1,858 | 56.60 | 3,718 | 52.60 | 7,902 | 51.95 | 11,816 | 51.15
3651-3700 | 79.15 | 774 | 61.20 | 1,853 | 56.70 | 3,732 | 52.90 | 7,872 | 52.05 | 11,897 | 51.60
3701-3750 | 79.60 | 773 | 61.50 | 1,849 | 56.85 | 3,747 | 53.25 | 7,880 | 52.45 | 11,852 | 51.80
3751-3800 | 79.75 | 775 | 61.75 | 1,858 | 57.35 | 3,732 | 53.50 | 7,896 | 52.80 | 11,819 | 52.00

17-35. Surface Linehaul Rate Table for Greece, Spain, and Other European Countries Not Otherwise Specified

The following table will be used for Greece, Spain, and other European Countries not otherwise specified for delivery in/out of SIT, diversions, terminations, alternate ports, etc., involving surface household goods shipments. “Break points” indicate weight at which lower charge develops by use of lowest weight and applicable rate in next higher weight bracket.

Miles | Less than 2,000 lbs. incl. | Break point | 2,000 to 3,999 lbs. incl. | Break point | 4,000 lbs. and over
1-50 | 4.80 | 1,751 | 4.20 | 3,572 | 3.75
51-75 | 6.75 | 1,734 | 5.85 | 3,624 | 5.30
76-100 | 7.70 | 1,728 | 6.65 | 3,640 | 6.05
101-150 | 8.65 | 1,735 | 7.50 | 3,627 | 6.80
151-200 | 9.60 | 1,740 | 8.35 | 3,593 | 7.50
201-250 | 10.55 | 1,745 | 9.20 | 3,587 | 8.25
251-300 | 11.55 | 1,741 | 10.05 | 3,602 | 9.05
301-350 | 12.50 | 1,737 | 10.85 | 3,613 | 9.80
351-400 | 13.45 | 1,740 | 11.70 | 3,590 | 10.50
401-450 | 14.40 | 1,744 | 12.55 | 3,602 | 11.30
451-500 | 15.40 | 1,734 | 13.35 | 3,611 | 12.05
501-550 | 16.30 | 1,743 | 14.20 | 3,606 | 12.80
551-600 | 17.30 | 1,740 | 15.05 | 3,589 | 13.50
601-650 | 18.25 | 1,737 | 15.85 | 3,609 | 14.30
651-700 | 19.20 | 1,740 | 16.70 | 3,605 | 15.05
701-750 | 20.15 | 1,742 | 17.55 | 3,602 | 15.80
751-800 | 21.15 | 1,740 | 18.40 | 3,598 | 16.55
801-850 | 22.10 | 1,738 | 19.20 | 3,605 | 17.30
851-900 | 23.05 | 1,740 | 20.05 | 3,601 | 18.05
Note: Over 900 miles, add US$1.70 for each additional 100 miles or fraction thereof, to 900-mile rate shown above.

17-36. Surface Linehaul Rate Table for Japan

The following table will be used for Japan for delivery in/out of SIT, diversions, terminations, alternate ports, etc., involving surface household goods shipments. “Break points” indicate weight at which lower charge develops by use of lowest weight and applicable rate in next higher weight bracket.

Miles | Less than 2,000 lbs. incl. | Break point | 2,000 to 3,999 lbs. incl. | Break point | 4,000 lbs. and over
1-50 | 2.55 | 1,765 | 2.25 | 3,556 | 2.00
51-75 | 5.20 | 1,731 | 4.50 | 3,601 | 4.05
76-100 | 7.50 | 1,681 | 6.30 | 3,620 | 5.70
101-150 | 9.35 | 1,744 | 8.15 | 3,583 | 7.30
151-200 | 10.40 | 1,741 | 9.05 | 3,603 | 8.15
201-250 | 11.45 | 1,730 | 9.90 | 3,617 | 8.95
251-300 | 12.45 | 1,743 | 10.85 | 3,503 | 9.50
301-350 | 13.50 | 1,741 | 11.75 | 3,592 | 10.55
351-400 | 14.55 | 1,739 | 12.65 | 3,589 | 11.35
401-450 | 15.55 | 1,743 | 13.55 | 3,602 | 12.20
451-500 | 16.60 | 1,741 | 14.45 | 3,599 | 13.00
501-550 | 17.65 | 1,740 | 15.35 | 3,597 | 13.80
551-600 | 18.70 | 1,738 | 16.25 | 3,594 | 14.60
601-650 | 19.70 | 1,742 | 17.15 | 3,604 | 15.45
651-700 | 20.75 | 1,740 | 18.05 | 3,602 | 16.25
701-750 | 21.80 | 1,739 | 18.95 | 3,599 | 17.05
751-800 | 22.85 | 1,738 | 19.85 | 3,597 | 17.85
801-850 | 23.90 | 1,737 | 20.75 | 3,605 | 18.70
851-900 | 24.90 | 1,739 | 21.65 | 3,603 | 19.50
Note: Over 900 miles, add US$1.80 for each additional 100 miles or fraction thereof, to 900-mile rate shown above.

17-37. Surface Linehaul Rate Table for Korea, Philippines, and Other Pacific Areas

The following table will be used for Korea, Philippines, and other Pacific areas for delivery in/out of SIT, diversions, terminations, alternate ports, etc., involving surface household goods shipments. “Break points” indicate weight at which lower charge develops by use of lowest weight and applicable rate in next higher weight bracket.

Miles | Less than 2,000 lbs. incl. | Break point | 2,000 to 3,999 lbs incl. | Break point | 4,000 lbs. and over
1-50 | 3.20 | 1,751 | 2.80 | 3,572 | 2.50
51-75 | 6.45 | 1,737 | 5.60 | 3,608 | 5.05
76-100 | 9.00 | 1,745 | 7.85 | 3,593 | 7.05
101-150 | 11.60 | 1,742 | 10.10 | 3,585 | 9.05
151-200 | 12.90 | 1,729 | 11.15 | 3,624 | 10.10
201-250 | 14.15 | 1,739 | 12.30 | 3,610 | 11.10
251-300 | 15.45 | 1,742 | 13.45 | 3,599 | 12.10
301-350 | 16.75 | 1,738 | 14.55 | 3,602 | 13.10
351-400 | 18.05 | 1,740 | 15.70 | 3,593 | 14.10
Note: Over 400 miles, add US$2.25 for each additional 100 miles or fraction thereof, to 400-mile rate shown above.

17-38. Surface Linehaul Rate Table for the United Kingdom

The following table will be used for the United Kingdom for delivery in/out of SIT, diversions, terminations, alternate ports, etc., involving surface household goods shipments. “Break points” indicate weight at which lower charge develops by use of lowest weight and applicable rate in next higher weight bracket.

Miles | Less than 2,000 Lbs. Incl. | Break point | 2,000 to 3,999 lbs. include. | Break point | 4,000 Lbs. and over
1-50 | 4.60 | 1,740 | 4.00 | 3,651 | 3.65
51-75 | 6.55 | 1,726 | 5.65 | 3,611 | 5.10
76-100 | 7.45 | 1,732 | 6.45 | 3,597 | 5.80
101-150 | 8.40 | 1,727 | 7.25 | 3,587 | 6.50
151-200 | 9.30 | 1,742 | 8.10 | 3,605 | 7.30
201-250 | 10.25 | 1,737 | 8.90 | 3,596 | 8.00
251-300 | 11.15 | 1,740 | 9.70 | 3,609 | 8.75
301-350 | 12.10 | 1,736 | 10.50 | 3,601 | 9.45
351-400 | 13.05 | 1,740 | 11.35 | 3,595 | 10.20
401-450 | 13.95 | 1,742 | 12.15 | 3,573 | 10.85
451-500 | 14.90 | 1,739 | 12.95 | 3,599 | 11.65
501-550 | 15.80 | 1,741 | 13.75 | 3,608 | 12.40
551-600 | 16.75 | 1,738 | 14.55 | 3,602 | 13.10
601-650 | 17.65 | 1,740 | 15.35 | 3,610 | 13.85
651-700 | 18.60 | 1,742 | 16.20 | 3,593 | 14.55
701-750 | 19.55 | 1,740 | 17.00 | 3,601 | 15.30
751-800 | 20.50 | 1,737 | 17.80 | 3,607 | 16.05
801-850 | 21.40 | 1,739 | 18.60 | 3,603 | 16.75
851-900 | 22.35 | 1,737 | 19.40 | 3,598 | 17.45
Note: Over 900 miles, add US$1.60 for each additional 100 miles or fraction thereof, to 900-mile rate shown above.

17-39. Unaccompanied Air Baggage Linehaul Rate Table for Alaska

The following table will be used for Alaska for delivery in/out of SIT, diversions, terminations, alternate ports, etc., involving unaccompanied air baggage household goods shipments. “Break points” indicate weight at which lower charge develops by use of lowest weight and applicable rate in next higher weight bracket.

Miles | Less than 1,000 lbs. incl. | Brk pt. | 1,000 to 1,999 lbs. incl. | Brk pt. | 2,000 to 3,999 lbs. incl. | Brk pt. | 4,000 to 7,999 lbs. incl. | Brk pt. | 8,000 to 11,999 lbs. incl. | Brk pt. | 12,000 lbs. and over
1-10 | 16.45 | 653 | 10.73 | 1,683 | 9.02 | 3,464 | 7.81 | 6,536 | 6.38 | 11,690 | 6.22
11-20 | 17.05 | 668 | 11.39 | 1,653 | 9.41 | 3,369 | 7.92 | 6,667 | 6.60 | 11,501 | 6.33
21-30 | 17.93 | 672 | 12.05 | 1,644 | 9.90 | 3,356 | 8.31 | 6,464 | 6.71 | 11,410 | 6.38
31-40 | 18.92 | 652 | 12.32 | 1,643 | 10.12 | 3,348 | 8.47 | 6,598 | 6.99 | 11,528 | 6.71
41-50 | 19.86 | 649 | 12.87 | 1,659 | 10.67 | 3,382 | 9.02 | 6,244 | 7.04 | 11,532 | 6.77
51-60 | 20.68 | 636 | 13.15 | 1,657 | 10.89 | 3,374 | 9.19 | 6,611 | 7.59 | 11,131 | 7.04
61-70 | 21.56 | 641 | 13.81 | 1,650 | 11.39 | 3,305 | 9.41 | 6,737 | 7.92 | 11,501 | 7.59
71-80 | 22.33 | 648 | 14.47 | 1,613 | 11.66 | 3,378 | 9.85 | 6,749 | 8.31 | 11,444 | 7.92
81-90 | 23.43 | 639 | 14.96 | 1,618 | 12.10 | 3,346 | 10.12 | 6,696 | 8.47 | 11,767 | 8.31
91-100 | 24.31 | 629 | 15.29 | 1,619 | 12.38 | 3,432 | 10.62 | 6,881 | 9.13 | 11,133 | 8.47
101-110 | 25.19 | 634 | 15.95 | 1,614 | 12.87 | 3,317 | 10.67 | 6,887 | 9.19 | 11,138 | 8.53
111-120 | 25.96 | 634 | 16.45 | 1,592 | 13.09 | 3,278 | 10.73 | 6,934 | 9.30 | 11,787 | 9.13
121-130 | 26.73 | 636 | 17.00 | 1,573 | 13.37 | 3,260 | 10.89 | 6,910 | 9.41 | 11,720 | 9.19
131-140 | 27.39 | 639 | 17.49 | 1,579 | 13.81 | 3,251 | 11.22 | 6,942 | 9.74 | 11,458 | 9.30
141-150 | 28.16 | 637 | 17.93 | 1,589 | 14.25 | 3,182 | 11.33 | 6,952 | 9.85 | 11,866 | 9.74
151-160 | 28.77 | 643 | 18.48 | 1,572 | 14.52 | 3,197 | 11.61 | 6,863 | 9.96 | 11,934 | 9.90
161-170 | 29.48 | 648 | 19.09 | 1,534 | 14.63 | 3,294 | 12.05 | 7,051 | 10.62 | 11,254 | 9.96
171-180 | 30.14 | 646 | 19.47 | 1,549 | 15.07 | 3,241 | 12.21 | 7,028 | 10.73 | 11,324 | 10.12
181-190 | 30.75 | 646 | 19.86 | 1,563 | 15.51 | 3,192 | 12.38 | 7,254 | 11.22 | 11,236 | 10.51
191-200 | 31.52 | 639 | 20.13 | 1,574 | 15.84 | 3,251 | 12.87 | 7,077 | 11.39 | 11,305 | 10.73
201-220 | 32.40 | 639 | 20.68 | 1,575 | 16.28 | 3,230 | 13.15 | 7,331 | 12.05 | 11,179 | 11.22
221-240 | 33.28 | 640 | 21.29 | 1,597 | 17.00 | 3,211 | 13.64 | 7,226 | 12.32 | 11,304 | 11.61
241-260 | 33.94 | 650 | 22.06 | 1,582 | 17.44 | 3,168 | 13.81 | 7,267 | 12.54 | 11,685 | 12.21
261-280 | 34.87 | 641 | 22.33 | 1,621 | 18.10 | 3,210 | 14.52 | 7,243 | 13.15 | 11,448 | 12.54
281-300 | 35.59 | 645 | 22.94 | 1,641 | 18.81 | 3,182 | 14.96 | 7,353 | 13.75 | 11,473 | 13.15
301-320 | 36.52 | 647 | 23.60 | 1,628 | 19.20 | 3,187 | 15.29 | 7,454 | 14.25 | 11,584 | 13.75
321-340 | 37.24 | 653 | 24.31 | 1,634 | 19.86 | 3,214 | 15.95 | 7,338 | 14.63 | 11,685 | 14.25
341-360 | 37.90 | 664 | 25.14 | 1,637 | 20.57 | 3,198 | 16.45 | 7,412 | 15.24 | 11,524 | 14.63
361-380 | 38.61 | 666 | 25.69 | 1,658 | 21.29 | 3,205 | 17.05 | 7,433 | 15.84 | 11,542 | 15.24
381-400 | 39.33 | 662 | 26.02 | 1,675 | 21.78 | 3,213 | 17.49 | 7,523 | 16.45 | 11,559 | 15.84
401-420 | 39.99 | 672 | 26.84 | 1,656 | 22.22 | 3,258 | 18.10 | 7,538 | 17.05 | 11,459 | 16.28
421-440 | 40.87 | 667 | 27.23 | 1,669 | 22.72 | 3,274 | 18.59 | 7,527 | 17.49 | 11,661 | 17.00
441-460 | 41.75 | 661 | 27.56 | 1,701 | 23.43 | 3,259 | 19.09 | 7,586 | 18.10 | 11,417 | 17.22
461-480 | 42.46 | 668 | 28.33 | 1,678 | 23.76 | 3,278 | 19.47 | 7,594 | 18.48 | 11,358 | 17.49
481-500 | 43.29 | 665 | 28.77 | 1,691 | 24.31 | 3,267 | 19.86 | 7,579 | 18.81 | 11,544 | 18.10
501-520 | 43.95 | 671 | 29.48 | 1,691 | 24.92 | 3,232 | 20.13 | 7,585 | 19.09 | 11,620 | 18.48
521-540 | 44.61 | 668 | 29.76 | 1,705 | 25.36 | 3,263 | 20.68 | 7,532 | 19.47 | 11,594 | 18.81
541-560 | 45.05 | 670 | 30.14 | 1,716 | 25.85 | 3,252 | 21.01 | 7,561 | 19.86 | 11,535 | 19.09
561-580 | 45.76 | 669 | 30.58 | 1,702 | 26.02 | 3,290 | 21.40 | 7,527 | 20.13 | 11,443 | 19.20
581-600 | 46.09 | 670 | 30.86 | 1,730 | 26.68 | 3,242 | 21.62 | 7,614 | 20.57 | 11,583 | 19.86
601-620 | 46.75 | 673 | 31.46 | 1,707 | 26.84 | 3,287 | 22.06 | 7,542 | 20.79 | 11,620 | 20.13
621-640 | 47.25 | 672 | 31.74 | 1,709 | 27.12 | 3,278 | 22.22 | 7,703 | 21.40 | 11,445 | 20.41
641-660 | 47.69 | 673 | 32.07 | 1,709 | 27.39 | 3,318 | 22.72 | 7,613 | 21.62 | 11,481 | 20.68
661-680 | 48.02 | 672 | 32.23 | 1,748 | 28.16 | 3,266 | 22.99 | 7,675 | 22.06 | 11,432 | 21.01
681-700 | 48.62 | 670 | 32.56 | 1,747 | 28.44 | 3,296 | 23.43 | 7,587 | 22.22 | 11,644 | 21.56
701-725 | 49.01 | 674 | 33.00 | 1,744 | 28.77 | 3,282 | 23.60 | 7,628 | 22.50 | 11,619 | 21.78
726-750 | 49.45 | 680 | 33.61 | 1,729 | 29.04 | 3,281 | 23.82 | 7,723 | 22.99 | 11,541 | 22.11
751-775 | 50.00 | 679 | 33.94 | 1,738 | 29.48 | 3,284 | 24.20 | 7,746 | 23.43 | 11,437 | 22.33
776-800 | 50.38 | 683 | 34.38 | 1,732 | 29.76 | 3,350 | 24.92 | 7,630 | 23.76 | 11,584 | 22.94
801-825 | 50.88 | 686 | 34.87 | 1,729 | 30.14 | 3,365 | 25.36 | 7,636 | 24.20 | 11,646 | 23.49
826-850 | 51.04 | 689 | 35.15 | 1,741 | 30.58 | 3,353 | 25.63 | 7,691 | 24.64 | 11,599 | 23.82
851-875 | 51.21 | 690 | 35.31 | 1,742 | 30.75 | 3,364 | 25.85 | 7,779 | 25.14 | 11,554 | 24.20
876-900 | 51.65 | 690 | 35.59 | 1,744 | 31.02 | 3,355 | 26.02 | 7,814 | 25.41 | 11,533 | 24.42
901-925 | 51.87 | 695 | 36.03 | 1,747 | 31.46 | 3,399 | 26.73 | 7,688 | 25.69 | 11,641 | 24.92
926-950 | 52.36 | 695 | 36.36 | 1,746 | 31.74 | 3,418 | 27.12 | 7,660 | 25.96 | 11,721 | 25.36
951-975 | 52.53 | 698 | 36.63 | 1,757 | 32.18 | 3,426 | 27.56 | 7,745 | 26.68 | 11,555 | 25.69
976-1000 | 53.85 | 684 | 36.80 | 1,770 | 32.56 | 3,473 | 28.27 | 7,627 | 26.95 | 11,584 | 26.02
1001-1050 | 55.17 | 686 | 37.84 | 1,768 | 33.44 | 3,448 | 28.82 | 7,817 | 28.16 | 11,602 | 27.23
1051-1100 | 56.76 | 684 | 38.78 | 1,774 | 34.38 | 3,489 | 29.98 | 7,692 | 28.82 | 11,726 | 28.16
1101-1150 | 58.19 | 680 | 39.55 | 1,786 | 35.31 | 3,477 | 30.69 | 7,757 | 29.76 | 11,623 | 28.82
1151-1200 | 59.62 | 686 | 40.87 | 1,780 | 36.36 | 3,462 | 31.46 | 7,805 | 30.69 | 11,635 | 29.76
1201-1250 | 60.89 | 685 | 41.69 | 1,771 | 36.91 | 3,494 | 32.23 | 7,809 | 31.46 | 11,707 | 30.69
1251-1300 | 62.26 | 682 | 42.46 | 1,783 | 37.84 | 3,489 | 33.00 | 7,814 | 32.23 | 11,714 | 31.46
1301-1350 | 63.09 | 688 | 43.34 | 1,787 | 38.72 | 3,506 | 33.94 | 7,780 | 33.00 | 11,701 | 32.18
1351-1400 | 63.97 | 694 | 44.39 | 1,772 | 39.33 | 3,519 | 34.60 | 7,784 | 33.66 | 11,726 | 32.89
1401-1450 | 64.90 | 696 | 45.16 | 1,779 | 40.15 | 3,507 | 35.20 | 7,863 | 34.60 | 11,676 | 33.66
1451-1500 | 65.73 | 700 | 45.98 | 1,780 | 40.92 | 3,522 | 36.03 | 7,842 | 35.31 | 11,683 | 34.38
1501-1550 | 66.44 | 704 | 46.75 | 1,786 | 41.75 | 3,526 | 36.80 | 7,845 | 36.08 | 11,744 | 35.31
1551-1600 | 67.32 | 705 | 47.41 | 1,792 | 42.46 | 3,539 | 37.57 | 7,813 | 36.69 | 11,803 | 36.08
1601-1650 | 68.04 | 705 | 47.96 | 1,801 | 43.18 | 3,547 | 38.28 | 7,817 | 37.40 | 11,771 | 36.69
1651-1700 | 68.81 | 707 | 48.62 | 1,808 | 43.95 | 3,555 | 39.05 | 7,809 | 38.12 | 11,775 | 37.40
1701-1750 | 69.58 | 708 | 49.23 | 1,813 | 44.61 | 3,547 | 39.55 | 7,845 | 38.78 | 11,796 | 38.12
1751-1800 | 70.24 | 712 | 50.00 | 1,820 | 45.49 | 3,560 | 40.48 | 7,805 | 39.49 | 11,783 | 38.78
1801-1850 | 71.01 | 717 | 50.88 | 1,804 | 45.87 | 3,578 | 41.03 | 7,840 | 40.21 | 11,787 | 39.49
1851-1900 | 71.56 | 721 | 51.54 | 1,796 | 46.26 | 3,620 | 41.86 | 7,822 | 40.92 | 11,791 | 40.21
1901-1950 | 72.49 | 723 | 52.36 | 1,803 | 47.19 | 3,595 | 42.41 | 7,866 | 41.69 | 11,763 | 40.87
1951-2000 | 73.15 | 725 | 53.02 | 1,799 | 47.69 | 3,599 | 42.90 | 7,857 | 42.13 | 11,875 | 41.69
2001-2050 | 73.98 | 728 | 53.85 | 1,794 | 48.29 | 3,618 | 43.67 | 7,849 | 42.85 | 11,877 | 42.41
2051-2100 | 74.64 | 728 | 54.29 | 1,806 | 49.01 | 3,632 | 44.50 | 7,793 | 43.34 | 11,879 | 42.90
2101-2150 | 75.41 | 732 | 55.17 | 1,803 | 49.72 | 3,633 | 45.16 | 7,815 | 44.11 | 11,821 | 43.45
2151-2200 | 76.12 | 730 | 55.55 | 1,814 | 50.38 | 3,642 | 45.87 | 7,789 | 44.66 | 11,853 | 44.11
2201-2250 | 76.73 | 733 | 56.21 | 1,817 | 51.04 | 3,634 | 46.37 | 7,849 | 45.49 | 11,783 | 44.66
2251-2300 | 77.28 | 737 | 56.93 | 1,815 | 51.65 | 3,647 | 47.08 | 7,814 | 45.98 | 11,785 | 45.16
2301-2350 | 77.83 | 736 | 57.26 | 1,826 | 52.25 | 3,634 | 47.47 | 7,815 | 46.37 | 11,872 | 45.87
2351-2400 | 78.43 | 741 | 58.08 | 1,809 | 52.53 | 3,657 | 48.02 | 7,863 | 47.19 | 11,791 | 46.37
2401-2450 | 79.20 | 741 | 58.63 | 1,809 | 53.02 | 3,677 | 48.73 | 7,793 | 47.47 | 11,931 | 47.19
2451-2500 | 79.70 | 744 | 59.29 | 1,813 | 53.74 | 3,665 | 49.23 | 7,804 | 48.02 | 11,918 | 47.69
2501-2550 | 79.92 | 747 | 59.62 | 1,812 | 54.01 | 3,662 | 49.45 | 7,885 | 48.73 | 11,824 | 48.02
2551-2600 | 80.14 | 747 | 59.84 | 1,822 | 54.51 | 3,670 | 50.00 | 7,877 | 49.23 | 11,866 | 48.68
2601-2650 | 80.85 | 746 | 60.28 | 1,831 | 55.17 | 3,654 | 50.38 | 7,878 | 49.61 | 11,828 | 48.90
2651-2700 | 81.02 | 751 | 60.78 | 1,827 | 55.50 | 3,671 | 50.93 | 7,888 | 50.22 | 11,764 | 49.23
2701-2750 | 81.35 | 750 | 61.00 | 1,827 | 55.72 | 3,669 | 51.10 | 7,906 | 50.49 | 11,791 | 49.61
2751-2800 | 81.51 | 755 | 61.49 | 1,829 | 56.21 | 3,676 | 51.65 | 7,907 | 51.04 | 11,807 | 50.22
2801-2850 | 82.23 | 752 | 61.82 | 1,828 | 56.49 | 3,701 | 52.25 | 7,891 | 51.54 | 11,757 | 50.49
2851-2900 | 82.45 | 756 | 62.32 | 1,828 | 56.93 | 3,691 | 52.53 | 7,892 | 51.81 | 11,822 | 51.04
2901-2950 | 82.67 | 756 | 62.48 | 1,831 | 57.20 | 3,708 | 53.02 | 7,884 | 52.25 | 11,836 | 51.54
2951-3000 | 83.05 | 760 | 63.09 | 1,828 | 57.64 | 3,699 | 53.30 | 7,885 | 52.53 | 11,850 | 51.87
3001-3050 | 83.60 | 761 | 63.58 | 1,831 | 58.19 | 3,702 | 53.85 | 7,878 | 53.02 | 11,864 | 52.42
3051-3100 | 83.88 | 761 | 63.80 | 1,837 | 58.58 | 3,689 | 54.01 | 7,943 | 53.63 | 11,767 | 52.58
3101-3150 | 84.04 | 762 | 64.02 | 1,842 | 58.96 | 3,698 | 54.51 | 7,904 | 53.85 | 11,829 | 53.08
3151-3200 | 84.59 | 765 | 64.68 | 1,837 | 59.40 | 3,719 | 55.22 | 7,841 | 54.12 | 11,891 | 53.63
3201-3250 | 84.76 | 766 | 64.90 | 1,838 | 59.62 | 3,724 | 55.50 | 7,874 | 54.62 | 11,831 | 53.85
3251-3300 | 85.25 | 768 | 65.40 | 1,844 | 60.28 | 3,698 | 55.72 | 7,929 | 55.22 | 11,738 | 54.01
3301-3350 | 85.31 | 768 | 65.51 | 1,848 | 60.50 | 3,713 | 56.16 | 7,899 | 55.44 | 11,751 | 54.29
3351-3400 | 85.58 | 767 | 65.62 | 1,855 | 60.83 | 3,715 | 56.49 | 7,891 | 55.72 | 11,847 | 55.00
3401-3450 | 85.97 | 765 | 65.73 | 1,857 | 61.00 | 3,734 | 56.93 | 7,892 | 56.16 | 11,801 | 55.22
3451-3500 | 86.02 | 770 | 66.17 | 1,846 | 61.05 | 3,734 | 56.98 | 7,892 | 56.21 | 11,848 | 55.50
3501-3550 | 86.24 | 770 | 66.33 | 1,858 | 61.60 | 3,715 | 57.20 | 7,901 | 56.49 | 11,837 | 55.72
3551-3600 | 86.46 | 772 | 66.72 | 1,854 | 61.82 | 3,730 | 57.64 | 7,901 | 56.93 | 11,838 | 56.16
3601-3650 | 86.79 | 773 | 67.05 | 1,858 | 62.26 | 3,718 | 57.86 | 7,902 | 57.15 | 11,816 | 56.27
3651-3700 | 87.07 | 774 | 67.32 | 1,853 | 62.37 | 3,732 | 58.19 | 7,872 | 57.26 | 11,897 | 56.76
3701-3750 | 87.56 | 773 | 67.65 | 1,849 | 62.54 | 3,747 | 58.58 | 7,880 | 57.70 | 11,852 | 56.98
3751-3800 | 87.73 | 775 | 67.93 | 1,858 | 63.09 | 3,732 | 58.85 | 7,896 | 58.08 | 11,819 | 57.20

17-40. Unaccompanied Air Baggage Linehaul Rate Table for All Overseas Areas Except Those Otherwise Specified

The following table will be used for all overseas areas except those otherwise specified for delivery in/out of SIT, diversions, terminations, alternate ports, etc., involving unaccompanied air baggage household goods shipments. “Break points” indicate weight at which lower charge develops by use of lowest weight and applicable rate in next higher weight bracket.

Miles | Less than 2,000 lbs. incl. | Break point | 2,000 to 3,999 lbs. incl. | Break point | 4,000 lbs. and over
1-50 | 5.51 | 1,737 | 4.79 | 3,637 | 4.35
51-75 | 7.83 | 1,723 | 6.74 | 3,613 | 6.09
76-100 | 8.92 | 1,724 | 7.69 | 3,623 | 6.96
101-150 | 10.01 | 1,740 | 8.70 | 3,567 | 7.76
151-200 | 11.09 | 1,752 | 9.72 | 3,583 | 8.70
201-250 | 12.25 | 1,740 | 10.66 | 3,592 | 9.57
251-300 | 13.34 | 1,740 | 11.60 | 3,601 | 10.44
301-350 | 14.50 | 1,741 | 12.62 | 3,587 | 11.31
351-400 | 15.59 | 1,740 | 13.56 | 3,573 | 12.11
401-450 | 16.68 | 1,740 | 14.50 | 3,581 | 12.98
451-500 | 17.84 | 1,740 | 15.52 | 3,589 | 13.92
501-550 | 18.92 | 1,740 | 16.46 | 3,595 | 14.79
551-600 | 20.01 | 1,740 | 17.40 | 3,601 | 15.66
601-650 | 21.10 | 1,739 | 18.34 | 3,605 | 16.53
651-700 | 22.26 | 1,740 | 19.36 | 3,596 | 17.40
701-750 | 23.35 | 1,740 | 20.30 | 3,601 | 18.27
751-800 | 24.51 | 1,734 | 21.24 | 3,605 | 19.14
801-850 | 25.59 | 1,740 | 22.26 | 3,597 | 20.01
851-900 | 26.68 | 1,740 | 23.20 | 3,601 | 20.88
Note: Over 900 miles, add US$1.35 for each additional 100 miles or fraction thereof, to 900-mile rate shown above.

17-41. Unaccompanied Air Baggage Linehaul Rate Table for Belgium, Italy, and The Netherlands

The following table will be used for Belgium, Italy, and The Netherlands for delivery in/out of SIT, diversions, terminations, alternate ports, etc., involving unaccompanied air baggage household goods shipments. “Break points” indicate weight at which lower charge develops by use of lowest weight and applicable rate in next higher weight bracket.

Miles | Less than 2,000 lbs. incl. | Break point | 2,000 to 3,999 lbs. incl. | Break point | 4,000 lbs. and over
1-50 | 2.57 | 1,747 | 2.24 | 3,595 | 2.02
51-75 | 4.13 | 1,733 | 3.58 | 3,637 | 3.25
76-100 | 5.17 | 1,736 | 4.49 | 3,595 | 4.03
101-150 | 6.18 | 1,748 | 5.40 | 3,591 | 4.84
151-200 | 7.22 | 1,739 | 6.27 | 3,607 | 5.66
201-250 | 7.93 | 1,746 | 6.92 | 3,587 | 6.21
251-300 | 8.68 | 1,738 | 7.54 | 3,587 | 6.76
301-350 | 9.39 | 1,738 | 8.16 | 3,602 | 7.35
351-400 | 10.11 | 1,737 | 8.78 | 3,601 | 7.90
401-450 | 10.82 | 1,742 | 9.43 | 3,601 | 8.48
451-500 | 11.57 | 1,736 | 10.04 | 3,599 | 9.04
501-550 | 12.25 | 1,741 | 10.66 | 3,610 | 9.62
551-600 | 13.00 | 1,736 | 11.28 | 3,609 | 10.17
601-650 | 13.72 | 1,740 | 11.93 | 3,597 | 10.73
651-700 | 14.43 | 1,739 | 12.55 | 3,596 | 11.28
701-750 | 15.15 | 1,743 | 13.20 | 3,597 | 11.86
751-800 | 15.89 | 1,739 | 13.81 | 3,596 | 12.42
801-850 | 16.61 | 1,738 | 14.43 | 3,604 | 13.00
851-900 | 17.32 | 1,738 | 15.05 | 3,603 | 13.55
901-950 | 18.04 | 1,741 | 15.70 | 3,562 | 13.98
951-1000 | 18.75 | 1,741 | 16.32 | 3,602 | 14.69
1001-1100 | 19.47 | 1,740 | 16.93 | 3,601 | 15.24
1101-1200 | 21.68 | 1,737 | 18.82 | 3,600 | 16.93
1201-1300 | 23.08 | 1,741 | 20.09 | 3,599 | 18.07
1301-1400 | 24.54 | 1,738 | 21.32 | 3,604 | 19.21
1401-1500 | 26.00 | 1,738 | 22.59 | 3,603 | 20.35
1501-1600 | 27.40 | 1,742 | 23.86 | 3,603 | 21.48
Note: Over 1,600 miles, add US$1.30 for each additional 100 miles or fraction thereof, to 600-mile rate shown above.

17-42. Unaccompanied Air Baggage Linehaul Rate Table for CONUS, Canada, and Hawaii

The following table will be used for CONUS, Canada, and Hawaii for delivery in/out of SIT, diversions, terminations, alternate ports, etc., involving unaccompanied air baggage household goods shipments. “Break points” indicate weight at which lower charge develops by use of lowest weight and applicable rate in next higher weight bracket.

Miles | Less than 1,000 lbs. incl. | Brk pt. | 1,000 to 1,999 lbs. incl. | Brk pt. | 2,000 to 3,999 lbs. incl. | Brk pt. | 4,000 to 7,999 lbs. incl. | Brk pt. | 8,000 to 11,999 lbs. incl. | BRK pt. | 12,000 lbs. and over
1-10 | 12.71 | 653 | 8.29 | 1,683 | 6.97 | 3,464 | 6.04 | 6,536 | 4.93 | 11,690 | 4.80
11-20 | 13.18 | 668 | 8.80 | 1,653 | 7.27 | 3,369 | 6.12 | 6,667 | 5.10 | 11,501 | 4.89
21-30 | 13.86 | 672 | 9.31 | 1,644 | 7.65 | 3,356 | 6.42 | 6,464 | 5.19 | 11,410 | 4.93
31-40 | 14.62 | 652 | 9.52 | 1,643 | 7.82 | 3,348 | 6.55 | 6,598 | 5.40 | 11,528 | 5.19
41-50 | 15.34 | 649 | 9.95 | 1,659 | 8.25 | 3,382 | 6.97 | 6,244 | 5.44 | 11,532 | 5.23
51-60 | 15.98 | 636 | 10.16 | 1,657 | 8.42 | 3,374 | 7.10 | 6,611 | 5.87 | 11,131 | 5.44
61-70 | 16.66 | 641 | 10.67 | 1,650 | 8.80 | 3,305 | 7.27 | 6,737 | 6.12 | 11,501 | 5.87
71-80 | 17.26 | 648 | 11.18 | 1,613 | 9.01 | 3,378 | 7.61 | 6,749 | 6.42 | 11,444 | 6.12
81-90 | 18.11 | 639 | 11.56 | 1,618 | 9.35 | 3,346 | 7.82 | 6,696 | 6.55 | 11,767 | 6.42
91-100 | 18.79 | 629 | 11.82 | 1,619 | 9.56 | 3,432 | 8.20 | 6,881 | 7.06 | 11,133 | 6.55
101-110 | 19.47 | 634 | 12.33 | 1,614 | 9.95 | 3,317 | 8.25 | 6,887 | 7.10 | 11,138 | 6.59
111-120 | 20.06 | 634 | 12.71 | 1,592 | 10.12 | 3,278 | 8.29 | 6,934 | 7.18 | 11,787 | 7.06
121-130 | 20.66 | 636 | 13.13 | 1,573 | 10.33 | 3,260 | 8.42 | 6,910 | 7.27 | 11,720 | 7.10
131-140 | 21.17 | 639 | 13.52 | 1,579 | 10.67 | 3,251 | 8.67 | 6,942 | 7.52 | 11,458 | 7.18
141-150 | 21.76 | 637 | 13.86 | 1,589 | 11.01 | 3,182 | 8.76 | 6,952 | 7.61 | 11,866 | 7.52
151-160 | 22.23 | 643 | 14.28 | 1,572 | 11.22 | 3,197 | 8.97 | 6,863 | 7.69 | 11,934 | 7.65
161-170 | 22.78 | 648 | 14.75 | 1,534 | 11.31 | 3,294 | 9.31 | 7,051 | 8.20 | 11,254 | 7.69
171-180 | 23.29 | 646 | 15.05 | 1,549 | 11.65 | 3,241 | 9.44 | 7,028 | 8.29 | 11,324 | 7.82
181-190 | 23.76 | 646 | 15.34 | 1,563 | 11.99 | 3,192 | 9.56 | 7,254 | 8.67 | 11,236 | 8.12
191-200 | 24.35 | 639 | 15.56 | 1,574 | 12.24 | 3,251 | 9.95 | 7,077 | 8.80 | 11,305 | 8.29
201-220 | 25.03 | 639 | 15.98 | 1,575 | 12.58 | 3,230 | 10.16 | 7,331 | 9.31 | 11,179 | 8.67
221-240 | 25.71 | 640 | 16.45 | 1,597 | 13.13 | 3,211 | 10.54 | 7,226 | 9.52 | 11,304 | 8.97
241-260 | 26.22 | 650 | 17.04 | 1,582 | 13.47 | 3,168 | 10.67 | 7,267 | 9.69 | 11,685 | 9.44
261-280 | 26.95 | 641 | 17.26 | 1,621 | 13.98 | 3,210 | 11.22 | 7,243 | 10.16 | 11,448 | 9.69
281-300 | 27.50 | 645 | 17.72 | 1,641 | 14.54 | 3,182 | 11.56 | 7,353 | 10.63 | 11,473 | 10.16
301-320 | 28.22 | 647 | 18.23 | 1,628 | 14.83 | 3,187 | 11.82 | 7,454 | 11.01 | 11,584 | 10.63
321-340 | 28.77 | 653 | 18.79 | 1,634 | 15.34 | 3,214 | 12.33 | 7,338 | 11.31 | 11,685 | 11.01
341-360 | 29.28 | 664 | 19.42 | 1,637 | 15.90 | 3,198 | 12.71 | 7,412 | 11.77 | 11,524 | 11.31
361-380 | 29.84 | 666 | 19.85 | 1,658 | 16.45 | 3,205 | 13.18 | 7,433 | 12.24 | 11,542 | 11.77
381-400 | 30.39 | 662 | 20.10 | 1,675 | 16.83 | 3,213 | 13.52 | 7,523 | 12.71 | 11,559 | 12.24
401-420 | 30.90 | 672 | 20.74 | 1,656 | 17.17 | 3,258 | 13.98 | 7,538 | 13.18 | 11,459 | 12.58
421-440 | 31.58 | 667 | 21.04 | 1,669 | 17.55 | 3,274 | 14.37 | 7,527 | 13.52 | 11,661 | 13.13
441-460 | 32.26 | 661 | 21.29 | 1,701 | 18.11 | 3,259 | 14.75 | 7,586 | 13.98 | 11,417 | 13.30
461-480 | 32.81 | 668 | 21.89 | 1,678 | 18.36 | 3,278 | 15.05 | 7,594 | 14.28 | 11,358 | 13.52
481-500 | 33.45 | 665 | 22.23 | 1,691 | 18.79 | 3,267 | 15.34 | 7,579 | 14.54 | 11,544 | 13.98
501-520 | 33.96 | 671 | 22.78 | 1,691 | 19.25 | 3,232 | 15.56 | 7,585 | 14.75 | 11,620 | 14.28
521-540 | 34.47 | 668 | 22.99 | 1,705 | 19.59 | 3,263 | 15.98 | 7,532 | 15.05 | 11,594 | 14.54
541-560 | 34.81 | 670 | 23.29 | 1,716 | 19.98 | 3,252 | 16.24 | 7,561 | 15.34 | 11,535 | 14.75
561-580 | 35.36 | 669 | 23.63 | 1,702 | 20.10 | 3,290 | 16.53 | 7,527 | 15.56 | 11,443 | 14.83
581-600 | 35.62 | 670 | 23.84 | 1,730 | 20.61 | 3,242 | 16.70 | 7,614 | 15.90 | 11,583 | 15.34
601-620 | 36.13 | 673 | 24.31 | 1,707 | 20.74 | 3,287 | 17.04 | 7,542 | 16.07 | 11,620 | 15.56
621-640 | 36.51 | 672 | 24.52 | 1,709 | 20.95 | 3,278 | 17.17 | 7,703 | 16.53 | 11,445 | 15.77
641-660 | 36.85 | 673 | 24.78 | 1,709 | 21.17 | 3,318 | 17.55 | 7,613 | 16.70 | 11,481 | 15.98
661-680 | 37.10 | 672 | 24.91 | 1,748 | 21.76 | 3,266 | 17.77 | 7,675 | 17.04 | 11,432 | 16.24
681-700 | 37.57 | 670 | 25.16 | 1,747 | 21.97 | 3,296 | 18.11 | 7,587 | 17.17 | 11,644 | 16.66
701-725 | 37.87 | 674 | 25.50 | 1,744 | 22.23 | 3,282 | 18.23 | 7,628 | 17.38 | 11,619 | 16.83
726-750 | 38.21 | 680 | 25.97 | 1,729 | 22.44 | 3,281 | 18.40 | 7,723 | 17.77 | 11,541 | 17.09
751-775 | 38.63 | 679 | 26.22 | 1,738 | 22.78 | 3,284 | 18.70 | 7,746 | 18.11 | 11,437 | 17.26
776-800 | 38.93 | 683 | 26.56 | 1,732 | 22.99 | 3,350 | 19.25 | 7,630 | 18.36 | 11,584 | 17.72
801-825 | 39.31 | 686 | 26.95 | 1,729 | 23.29 | 3,365 | 19.59 | 7,636 | 18.70 | 11,646 | 18.15
826-850 | 39.44 | 689 | 27.16 | 1,741 | 23.63 | 3,353 | 19.81 | 7,691 | 19.04 | 11,599 | 18.40
851-875 | 39.57 | 690 | 27.29 | 1,742 | 23.76 | 3,364 | 19.98 | 7,779 | 19.42 | 11,554 | 18.70
876-900 | 39.91 | 690 | 27.50 | 1,744 | 23.97 | 3,355 | 20.10 | 7,814 | 19.64 | 11,533 | 18.87
901-925 | 40.08 | 695 | 27.84 | 1,747 | 24.31 | 3,399 | 20.66 | 7,688 | 19.85 | 11,641 | 19.25
926-950 | 40.46 | 695 | 28.09 | 1,746 | 24.52 | 3,418 | 20.95 | 7,660 | 20.06 | 11,721 | 19.59
951-975 | 40.59 | 698 | 28.31 | 1,757 | 24.86 | 3,426 | 21.29 | 7,745 | 20.61 | 11,555 | 19.85
976-1000 | 41.61 | 684 | 28.43 | 1,770 | 25.16 | 3,473 | 21.85 | 7,627 | 20.83 | 11,584 | 20.10
1001-1050 | 42.63 | 686 | 29.24 | 1,768 | 25.84 | 3,448 | 22.27 | 7,817 | 21.76 | 11,602 | 21.04
1051-1100 | 43.86 | 684 | 29.96 | 1,774 | 26.56 | 3,489 | 23.16 | 7,692 | 22.27 | 11,726 | 21.76
1101-1150 | 44.97 | 680 | 30.56 | 1,786 | 27.29 | 3,477 | 23.72 | 7,757 | 22.99 | 11,623 | 22.27
1151-1200 | 46.07 | 686 | 31.58 | 1,780 | 28.09 | 3,462 | 24.31 | 7,805 | 23.72 | 11,635 | 22.99
1201-1250 | 47.05 | 685 | 32.22 | 1,771 | 28.52 | 3,494 | 24.91 | 7,809 | 24.31 | 11,707 | 23.72
1251-1300 | 48.11 | 682 | 32.81 | 1,783 | 29.24 | 3,489 | 25.50 | 7,814 | 24.91 | 11,714 | 24.31
1301-1350 | 48.75 | 688 | 33.49 | 1,787 | 29.92 | 3,506 | 26.22 | 7,780 | 25.50 | 11,701 | 24.86
1351-1400 | 49.43 | 694 | 34.30 | 1,772 | 30.39 | 3,519 | 26.73 | 7,784 | 26.01 | 11,726 | 25.42
1401-1450 | 50.15 | 696 | 34.89 | 1,779 | 31.03 | 3,507 | 27.20 | 7,863 | 26.73 | 11,676 | 26.01
1451-1500 | 50.79 | 700 | 35.53 | 1,780 | 31.62 | 3,522 | 27.84 | 7,842 | 27.29 | 11,683 | 26.56
1501-1550 | 51.34 | 704 | 36.13 | 1,786 | 32.26 | 3,526 | 28.43 | 7,845 | 27.88 | 11,744 | 27.29
1551-1600 | 52.02 | 705 | 36.64 | 1,792 | 32.81 | 3,539 | 29.03 | 7,813 | 28.35 | 11,803 | 27.88
1601-1650 | 52.57 | 705 | 37.06 | 1,801 | 33.36 | 3,547 | 29.58 | 7,817 | 28.90 | 11,771 | 28.35
1651-1700 | 53.17 | 707 | 37.57 | 1,808 | 33.96 | 3,555 | 30.18 | 7,809 | 29.45 | 11,775 | 28.90
1701-1750 | 53.76 | 708 | 38.04 | 1,813 | 34.47 | 3,547 | 30.56 | 7,845 | 29.96 | 11,796 | 29.45
1751-1800 | 54.27 | 712 | 38.63 | 1,820 | 35.15 | 3,560 | 31.28 | 7,805 | 30.52 | 11,783 | 29.96
1801-1850 | 54.87 | 717 | 39.31 | 1,804 | 35.45 | 3,578 | 31.71 | 7,840 | 31.07 | 11,787 | 30.52
1851-1900 | 55.29 | 721 | 39.82 | 1,796 | 35.74 | 3,620 | 32.34 | 7,822 | 31.62 | 11,791 | 31.07
1901-1950 | 56.02 | 723 | 40.46 | 1,803 | 36.47 | 3,595 | 32.77 | 7,866 | 32.22 | 11,763 | 31.58
1951-2000 | 56.53 | 725 | 40.97 | 1,799 | 36.85 | 3,599 | 33.15 | 7,857 | 32.56 | 11,875 | 32.22
2001-2050 | 57.16 | 728 | 41.61 | 1,794 | 37.32 | 3,618 | 33.75 | 7,849 | 33.11 | 11,877 | 32.77
2051-2100 | 57.67 | 728 | 41.95 | 1,806 | 37.87 | 3,632 | 34.38 | 7,793 | 33.49 | 11,879 | 33.15
2101-2150 | 58.27 | 732 | 42.63 | 1,803 | 38.42 | 3,633 | 34.89 | 7,815 | 34.09 | 11,821 | 33.58
2151-2200 | 58.82 | 730 | 42.93 | 1,814 | 38.93 | 3,642 | 35.45 | 7,789 | 34.51 | 11,853 | 34.09
2201-2250 | 59.29 | 733 | 43.44 | 1,817 | 39.44 | 3,634 | 35.83 | 7,849 | 35.15 | 11,783 | 34.51
2251-2300 | 59.71 | 737 | 43.99 | 1,815 | 39.91 | 3,647 | 36.38 | 7,814 | 35.53 | 11,785 | 34.89
2301-2350 | 60.14 | 736 | 44.24 | 1,826 | 40.38 | 3,634 | 36.68 | 7,815 | 35.83 | 11,872 | 35.45
2351-2400 | 60.61 | 741 | 44.88 | 1,809 | 40.59 | 3,657 | 37.10 | 7,863 | 36.47 | 11,791 | 35.83
2401-2450 | 61.20 | 741 | 45.31 | 1,809 | 40.97 | 3,677 | 37.66 | 7,793 | 36.68 | 11,931 | 36.47
2451-2500 | 61.58 | 744 | 45.82 | 1,813 | 41.52 | 3,665 | 38.04 | 7,804 | 37.10 | 11,918 | 36.85
2501-2550 | 61.75 | 747 | 46.07 | 1,812 | 41.74 | 3,662 | 38.21 | 7,885 | 37.66 | 11,824 | 37.10
2551-2600 | 61.92 | 747 | 46.24 | 1,822 | 42.12 | 3,670 | 38.63 | 7,877 | 38.04 | 11,866 | 37.61
2601-2650 | 62.48 | 746 | 46.58 | 1,831 | 42.63 | 3,654 | 38.93 | 7,878 | 38.34 | 11,828 | 37.78
2651-2700 | 62.60 | 751 | 46.96 | 1,827 | 42.88 | 3,671 | 39.36 | 7,888 | 38.80 | 11,764 | 38.04
2701-2750 | 62.86 | 750 | 47.13 | 1,827 | 43.05 | 3,669 | 39.48 | 7,906 | 39.02 | 11,791 | 38.34
2751-2800 | 62.99 | 755 | 47.52 | 1,829 | 43.44 | 3,676 | 39.91 | 7,907 | 39.44 | 11,807 | 38.80
2801-2850 | 63.54 | 752 | 47.77 | 1,828 | 43.65 | 3,701 | 40.38 | 7,891 | 39.82 | 11,757 | 39.02
2851-2900 | 63.71 | 756 | 48.15 | 1,828 | 43.99 | 3,691 | 40.59 | 7,892 | 40.04 | 11,822 | 39.44
2901-2950 | 63.88 | 756 | 48.28 | 1,831 | 44.20 | 3,708 | 40.97 | 7,884 | 40.38 | 11,836 | 39.82
2951-3000 | 64.18 | 760 | 48.75 | 1,828 | 44.54 | 3,699 | 41.18 | 7,885 | 40.59 | 11,850 | 40.08
3001-3050 | 64.60 | 761 | 49.13 | 1,831 | 44.97 | 3,702 | 41.61 | 7,878 | 40.97 | 11,864 | 40.50
3051-3100 | 64.81 | 761 | 49.30 | 1,837 | 45.26 | 3,689 | 41.74 | 7,943 | 41.44 | 11,767 | 40.63
3101-3150 | 64.94 | 762 | 49.47 | 1,842 | 45.56 | 3,698 | 42.12 | 7,904 | 41.61 | 11,829 | 41.01
3151-3200 | 65.37 | 765 | 49.98 | 1,837 | 45.90 | 3,719 | 42.67 | 7,841 | 41.82 | 11,891 | 41.44
3201-3250 | 65.49 | 766 | 50.15 | 1,838 | 46.07 | 3,724 | 42.88 | 7,874 | 42.20 | 11,831 | 41.61
3251-3300 | 65.88 | 768 | 50.53 | 1,844 | 46.58 | 3,698 | 43.05 | 7,929 | 42.67 | 11,738 | 41.74
3301-3350 | 65.92 | 768 | 50.62 | 1,848 | 46.75 | 3,713 | 43.39 | 7,899 | 42.84 | 11,751 | 41.95
3351-3400 | 66.13 | 767 | 50.70 | 1,855 | 47.01 | 3,715 | 43.65 | 7,891 | 43.05 | 11,847 | 42.50
3401-3450 | 66.43 | 765 | 50.79 | 1,857 | 47.13 | 3,734 | 43.99 | 7,892 | 43.39 | 11,801 | 42.67
3451-3500 | 66.47 | 770 | 51.13 | 1,846 | 47.18 | 3,734 | 44.03 | 7,892 | 43.44 | 11,848 | 42.88
3501-3550 | 66.64 | 770 | 51.26 | 1,858 | 47.60 | 3,715 | 44.20 | 7,901 | 43.65 | 11,837 | 43.05
3551-3600 | 66.81 | 772 | 51.55 | 1,854 | 47.77 | 3,730 | 44.54 | 7,901 | 43.99 | 11,838 | 43.39
3601-3650 | 67.07 | 773 | 51.81 | 1,858 | 48.11 | 3,718 | 44.71 | 7,902 | 44.16 | 11,816 | 43.48
3651-3700 | 67.28 | 774 | 52.02 | 1,853 | 48.20 | 3,732 | 44.97 | 7,872 | 44.24 | 11,897 | 43.86
3701-3750 | 67.66 | 773 | 52.28 | 1,849 | 48.32 | 3,747 | 45.26 | 7,880 | 44.58 | 11,852 | 44.03
3751-3800 | 67.79 | 775 | 52.49 | 1,858 | 48.75 | 3,732 | 45.48 | 7,896 | 44.88 | 11,819 | 44.20

17-43. Unaccompanied Air Baggage Linehaul Rate Table for Greece, Spain, and Other European Areas

The following table will be used for Greece, Spain, and other European areas for delivery in/out of SIT, diversions, terminations, alternate ports, etc., involving unaccompanied air baggage household goods shipments. “Break points” indicate weight at which lower charge develops by use of lowest weight and applicable rate in next higher weight bracket.

Miles | Less than 2,000 lbs. incl. | Break point | 2,000 to 3,999 lbs. incl. | Break point | 4,000 lbs. and over
1-50 | 5.04 | 1,751 | 4.41 | 3,572 | 3.94
51-75 | 7.09 | 1,734 | 6.14 | 3,624 | 5.57
76-100 | 8.09 | 1,728 | 6.98 | 3,640 | 6.35
101-150 | 9.08 | 1,735 | 7.88 | 3,627 | 7.14
151-200 | 10.08 | 1,740 | 8.77 | 3,593 | 7.88
201-250 | 11.08 | 1,745 | 9.66 | 3,587 | 8.66
251-300 | 12.13 | 1,741 | 10.55 | 3,602 | 9.50
301-350 | 13.13 | 1,737 | 11.39 | 3,613 | 10.29
351-400 | 14.12 | 1,740 | 12.29 | 3,590 | 11.03
401-450 | 15.12 | 1,744 | 13.18 | 3,602 | 11.87
451-500 | 16.17 | 1,734 | 14.02 | 3,611 | 12.65
501-550 | 17.12 | 1,743 | 14.91 | 3,606 | 13.44
551-600 | 18.17 | 1,740 | 15.80 | 3,589 | 14.18
601-650 | 19.16 | 1,737 | 16.64 | 3,609 | 15.02
651-700 | 20.16 | 1,740 | 17.54 | 3,605 | 15.80
701-750 | 21.16 | 1,742 | 18.43 | 3,602 | 16.59
751-800 | 22.21 | 1,740 | 19.32 | 3,598 | 17.38
801-850 | 23.21 | 1,738 | 20.16 | 3,605 | 18.17
851-900 | 24.20 | 1,740 | 21.05 | 3,601 | 18.95
Note: Over 900 miles, add US$1.79 for each additional 100 miles or fraction thereof, to 900-mile rate shown above.

17-44. Unaccompanied Air Baggage Linehaul Rate Table for Japan

The following table will be used for Japan for delivery in/out of SIT, diversions, terminations, alternate ports, etc., involving unaccompanied air baggage household goods shipments. “Break points” indicate weight at which lower charge develops by use of lowest weight and applicable rate in next higher weight bracket.

Miles | Less than 2,000 lbs. incl. | Break point | 2,000 to 3,999 lbs. incl. | Break point | 4,000 lbs. and over
1-50 | 1.91 | 1,765 | 1.69 | 3,556 | 1.50
51-75 | 3.90 | 1,731 | 3.38 | 3,601 | 3.04
76-100 | 5.63 | 1,681 | 4.73 | 3,620 | 4.28
101-150 | 7.01 | 1,744 | 6.11 | 3,583 | 5.48
151-200 | 7.80 | 1,741 | 6.79 | 3,603 | 6.11
201-250 | 8.59 | 1,730 | 7.43 | 3,617 | 6.71
251-300 | 9.34 | 1,743 | 8.14 | 3,503 | 7.13
301-350 | 10.13 | 1,741 | 8.81 | 3,592 | 7.91
351-400 | 10.91 | 1,739 | 9.49 | 3,589 | 8.51
401-450 | 11.66 | 1,743 | 10.16 | 3,602 | 9.15
451-500 | 12.45 | 1,741 | 10.84 | 3,599 | 9.75
501-550 | 13.24 | 1,740 | 11.51 | 3,597 | 10.35
551-600 | 14.03 | 1,738 | 12.19 | 3,594 | 10.95
601-650 | 14.78 | 1,742 | 12.86 | 3,604 | 11.59
651-700 | 15.56 | 1,740 | 13.54 | 3,602 | 12.19
701-750 | 16.35 | 1,739 | 14.21 | 3,599 | 12.79
751-800 | 17.14 | 1,738 | 14.89 | 3,597 | 13.39
801-850 | 17.93 | 1,737 | 15.56 | 3,605 | 14.03
851-900 | 18.68 | 1,739 | 16.24 | 3,603 | 14.63
Note: Over 900 miles, add US$1.35 for each additional 100 miles or fraction thereof, to 900-mile rate shown above.

17-45. Unaccompanied Air Baggage Linehaul Rate Table for Korea, Philippines, and Other Pacific Areas

The following table will be used for Korea, Philippines, and other Pacific areas for delivery in/out of SIT, diversions, terminations, alternate ports, etc., involving unaccompanied air baggage household goods shipments. “Break points” indicate weight at which lower charge develops by use of lowest weight and applicable rate in next higher weight bracket.

Miles | Less than 2,000 lbs. incl. | Break point | 2,000 to 3,999 lbs. incl. | Break point | 4,000 lbs. and over
1-50 | 3.20 | 1,751 | 2.80 | 3,572 | 2.50
51-75 | 6.45 | 1,737 | 5.60 | 3,608 | 5.05
76-100 | 9.00 | 1,745 | 7.85 | 3,593 | 7.05
101-150 | 11.60 | 1,742 | 10.10 | 3,585 | 9.05
151-200 | 12.90 | 1,729 | 11.15 | 3,624 | 10.10
201-250 | 14.15 | 1,739 | 12.30 | 3,610 | 11.10
251-300 | 15.45 | 1,742 | 13.45 | 3,599 | 12.10
301-350 | 16.75 | 1,738 | 14.55 | 3,602 | 13.10
351-400 | 18.05 | 1,740 | 15.70 | 3,593 | 14.10
Note: Over 400 miles, add US$2.25 for each additional 100 miles or fraction thereof, to 400-mile rate shown above.

17-46. Unaccompanied Air Baggage Linehaul Rate Table for the United Kingdom.

The following table will be used for the United Kingdom for delivery in/out of SIT, diversions, terminations, alternate ports, etc., involving unaccompanied air baggage household goods shipments. “Break points” indicate weight at which lower charge develops by use of lowest weight and applicable rate in next higher weight bracket.

Miles | Less than 2,000 lbs. incl. | Break point | 2,000 to 3,999 lbs. incl. | Break point | 4,000 lbs. and over
1-50 | 4.60 | 1,740 | 4.00 | 3,651 | 3.65
51-75 | 6.55 | 1,726 | 5.65 | 3,611 | 5.10
76-100 | 7.45 | 1,732 | 6.45 | 3,597 | 5.80
101-150 | 8.40 | 1,727 | 7.25 | 3,587 | 6.50
151-200 | 9.30 | 1,742 | 8.10 | 3,605 | 7.30
201-250 | 10.25 | 1,737 | 8.90 | 3,596 | 8.00
251-300 | 11.15 | 1,740 | 9.70 | 3,609 | 8.75
301-350 | 12.10 | 1,736 | 10.50 | 3,601 | 9.45
351-400 | 13.05 | 1,740 | 11.35 | 3,595 | 10.20
401-450 | 13.95 | 1,742 | 12.15 | 3,573 | 10.85
451-500 | 14.90 | 1,739 | 12.95 | 3,599 | 11.65
501-550 | 15.80 | 1,741 | 13.75 | 3,608 | 12.40
551-600 | 16.75 | 1,738 | 14.55 | 3,602 | 13.10
601-650 | 17.65 | 1,740 | 15.35 | 3,610 | 13.85
651-700 | 18.60 | 1,742 | 16.20 | 3,593 | 14.55
701-750 | 19.55 | 1,740 | 17.00 | 3,601 | 15.30
751-800 | 20.50 | 1,737 | 17.80 | 3,607 | 16.05
801-850 | 21.40 | 1,739 | 18.60 | 3,603 | 16.75
851-900 | 22.35 | 1,737 | 19.40 | 3,598 | 17.45
Note: Over 900 miles, add US $1.60 for each additional 100 miles or fraction thereof, to 900-mile rate shown above.

17-47. Unaccompanied Air Baggage Linehaul Rate Table for West Germany

The following table will be used for the United Kingdom for delivery in/out of SIT, diversions, terminations, alternate ports, etc., involving unaccompanied air baggage household goods shipments. “Break points” indicate weight at which lower charge develops by use of lowest weight and applicable rate in next higher weight bracket.

Miles | Less than 2,000 lbs. incl. | Break point | 2,000 to 3,999 lbs. incl. | Break point | 4,000 lbs. and over
1-50 | 4.15 | 1,747 | 3.62 | 3,595 | 3.26
51-75 | 6.67 | 1,733 | 5.78 | 3,637 | 5.25
76-100 | 8.35 | 1,736 | 7.25 | 3,595 | 6.51
101-150 | 9.98 | 1,748 | 8.72 | 3,591 | 7.82
151-200 | 11.66 | 1,739 | 10.13 | 3,607 | 9.14
201-250 | 12.81 | 1,746 | 11.18 | 3,587 | 10.03
251-300 | 14.02 | 1,738 | 12.18 | 3,587 | 10.92
301-350 | 15.17 | 1,738 | 13.18 | 3,602 | 11.87
351-400 | 16.33 | 1,737 | 14.18 | 3,601 | 12.76
401-450 | 17.48 | 1,742 | 15.23 | 3,601 | 13.70
451-500 | 18.69 | 1,736 | 16.22 | 3,599 | 14.60
501-550 | 19.79 | 1,741 | 17.22 | 3,610 | 15.54
551-600 | 21.00 | 1,736 | 18.22 | 3,609 | 16.43
601-650 | 22.16 | 1,740 | 19.27 | 3,597 | 17.33
651-700 | 23.31 | 1,739 | 20.27 | 3,596 | 18.22
701-750 | 24.47 | 1,743 | 21.32 | 3,597 | 19.16
751-800 | 25.67 | 1,739 | 22.31 | 3,596 | 20.06
801-850 | 26.83 | 1,738 | 23.31 | 3,604 | 21.00
851-900 | 27.98 | 1,738 | 24.31 | 3,603 | 21.89
901-950 | 29.14 | 1,741 | 25.36 | 3,562 | 22.58
951-1000 | 30.29 | 1,741 | 26.36 | 3,602 | 23.73
1001-1100 | 31.45 | 1,740 | 27.35 | 3,601 | 24.62
1101-1200 | 35.02 | 1,737 | 30.40 | 3,600 | 27.35
1201-1300 | 37.28 | 1,741 | 32.45 | 3,599 | 29.19
1301-1400 | 39.64 | 1,738 | 34.44 | 3,604 | 31.03
1401-1500 | 42.00 | 1,738 | 36.49 | 3,603 | 32.87
1501-1600 | 44.26 | 1,742 | 38.54 | 3,603 | 34.70
Note: Over 1,600 miles, add US$2.10 for each additional 100 miles or fraction thereof, to 600-mile rate shown above.

17-48. Reserved for Future Use

17-49. Excess Valuation Charges

The relocating employee has the right to increase the value in excess of the base valuation established under the following provisions:

(1) Transportation: If a value greater than the base valuation of ___ (NOTE) times the net weight of the shipment in pounds is expressly declared, a Full Value Protection Service Shipment Charge of ___ (NOTE) will apply on the portion of the valuation declared in excess of shipments released value of____ (NOTE) times the weight. This excess valuation charge will be in addition to the SFR.

(2) Storage-in-Transit: If a value greater than ___ (NOTE) times the net weight of the shipment in pounds is expressly declared a Full Value Protection Service Storage Liability Charge of ___ (NOTE) will apply on that portion of the valuation declared in excess of shipments released at full value of (NOTE) times the weight. This excess valuation charge will apply only once regardless of the length of time that a shipment is in SIT, but may be applied each time the shipment is placed in storage-in-transit.

Note: For applicable charges and value amount, refer to the RFO.

[FR Doc. 01-30880 Filed 12-20-01; 8:45 am]

BILLING CODE 6820-24-P